DEPARTMENT OF HEALTH AND HUMAN SERVICES

Centers for Medicare & Medicaid Services

42 CFR Part 418

[CMS-1286-P]

RIN 0938-AN89

Medicare Program; Proposed Hospice Wage Index for Fiscal Year 2006

AGENCY: Centers for Medicare & Medicaid Services (CMS), HHS.

ACTION: Proposed rule.

SUMMARY: This proposed rule would set forth the hospice wage index for fiscal year 2006 and identifies the revised labor market and metropolitan statistical areas. This proposed rule would also codify provisions of sections 408 and 946 of the Medicare Prescription Drug, Improvement, and Modernization Act of 2003.

DATES: To be assured consideration, comments must be received at one of the addresses provided below, no later than 5 p.m. on June 28, 2005.

ADDRESSES: In commenting, please refer to file code CMS-1286-P. Because of staff and resource limitations, we cannot accept comments by facsimile (FAX) transmission.

You may submit comments in one of three ways (no duplicates, please):

1. Electronically. You may submit electronic comments on specific issues in this regulation to http://www.cms.hhs.gov/regulations/ecomments. (Attachments should be in Microsoft Word, WordPerfect, or Excel; however, we prefer Microsoft Word.)

2. By mail. You may mail written comments (one original and two copies) to the following address ONLY: Centers for Medicare & Medicaid Services, Department of Health and Human Services, Attention: CMS-1286-P, P.O. Box 8012, Baltimore, MD 21244-8012.

Please allow sufficient time for mailed comments to be received before the close of the comment period.

3. By hand or courier. If you prefer, you may deliver (by hand or courier) your written comments (one original and two copies) before the close of the comment period to one of the following addresses. If you intend to deliver your comments to the Baltimore address, please call telephone number (410) 786-9994 in advance to schedule your arrival with one of our staff members.

Room 445-G, Hubert H. Humphrey Building, 200 Independence Avenue, SW., Washington, DC 20201; or 7500 Security Boulevard, Baltimore, MD 21244-1850.

(Because access to the interior of the HHH Building is not readily available to persons without Federal Government identification, commenters are encouraged to leave their comments in the CMS drop slots located in the main lobby of the building. A stamp-in clock is available for persons wishing to retain a proof of filing by stamping in and retaining an extra copy of the comments being filed.)

Comments mailed to the addresses indicated as appropriate for hand or courier delivery may be delayed and received after the comment period.

Submission of comments on paperwork requirements. You may submit comments on this document's paperwork requirements by mailing your comments to the addresses provided at the end of the “Collection of Information Requirements” section in this document.

For information on viewing public comments, see the beginning of the SUPPLEMENTARY INFORMATION section.

FOR FURTHER INFORMATION CONTACT: Terri Deutsch, (410) 786-9462.

SUPPLEMENTARY INFORMATION: Submitting Comments: We welcome comments from the public on all issues set forth in this rule to assist us in fully considering issues and developing policies. You can assist us by referencing the file code CMS-1286-P and the specific “issue identifier” that precedes the section on which you choose to comment.

Inspection of Public Comments: All comments received before the close of the comment period are available for viewing by the public, including any personally identifiable or confidential business information that is included in a comment. CMS posts all electronic comments received before the close of the comment period on its public website as soon as possible after they have been received. Hard copy comments received timely will be available for public inspection as they are received, generally beginning approximately 3 weeks after publication of a document, at the headquarters of the Centers for Medicare & Medicaid Services, 7500 Security Boulevard, Baltimore, Maryland 21244, Monday through Friday of each week from 8:30 a.m. to 4 p.m. To schedule an appointment to view public comments, phone 1-800-743-3951.

I. Background

A. General

1. Hospice Care

Hospice care is an approach to treatment that recognizes that the impending death of an individual warrants a change in the focus from curative care to palliative care for relief of pain and for symptom management. The goal of hospice care is to help terminally ill individuals continue life with minimal disruption to normal activities while remaining primarily in the home environment. A hospice uses an interdisciplinary approach to deliver medical, social, psychological, emotional, and spiritual services through use of a broad spectrum of professional and other caregivers, with the goal of making the individual as physically and emotionally comfortable as possible. Counseling services and inpatient respite services are available to the family of the hospice patient. Hospice programs consider both the patient and the family as a unit of care.

Section 1861(dd) of the Social Security Act (the Act) provides for coverage of hospice care for terminally ill Medicare beneficiaries who elect to receive care from a participating hospice. Section 1824(i) of the Act provides payment for Medicare-participating hospices.

2. Medicare Payment for Hospice Care

Our regulations at 42 CFR part 418 establish eligibility requirements, payment standards and procedures, define covered services, and delineate the conditions a hospice must meet to be approved for participation in the Medicare program. Part 418 subpart G provides for payment in one of four prospectively-determined rate categories (routine home care, continuous home care, inpatient respite care, and general inpatient care) to hospices based on each day a qualified Medicare beneficiary is under a hospice election.

B. Hospice Wage Index

The hospice wage index is used to adjust payment rates for hospice agencies under the Medicare program to reflect local differences in area wage levels. The original hospice wage index was based on the 1981 Bureau of Labor Statistics hospital data and had not been updated since 1983. In 1994, because of disparity in wages from one geographical location to another, a committee was formulated to negotiate a wage index methodology that could be accepted by the industry and the government. This committee, functioning under a process established by the Negotiated Rulemaking Act of 1990, was comprised of national hospice associations; rural, urban, large, and small hospices; multisite hospices; consumer groups; and a government representative. On April 13, 1995, the Hospice Wage Index Negotiated Rulemaking Committee signed an agreement for the methodology to be used for updating the hospice wage index.

1. Updates to the Hospice Wage Index

In the August 8, 1997 Federal Register (62 FR 42860), we published a final rule implementing a new methodology for calculating the hospice wage index based on the recommendations of the negotiated rulemaking committee. The committee statement was included in the appendix of that final rule (62 FR 42883). The provisions of the final rule specified that the revised hospice wage index was to be— (1) calculated using the most current available hospital wage data; and (2) phased in over a 3-year transition period. For the first year of the transition period, October 1, 1997 through September 30, 1998, a blended index was calculated by adding two-thirds of the 1983 index value for an area to one-third of the revised wage index value for that area. During the second year of the transition period, October 1, 1998 through September 30, 1999, the calculation was similar, except that the blend was one-third of the 1983 index value and two-thirds of the revised wage index value for that area. The revised wage index was fully implemented during the third year of the transition period, October 1, 1999 through September 30, 2000.

The annual update to the hospice wage index is published in the Federal Register and is based on the most current available hospital wage data, as well as any changes by the Office of Management and Budget (OMB) to the definitions of Metropolitan Statistical Areas (MSAs). Raw wage index values (inpatient hospital pre-floor and pre-reclassified wage index values) (as described in the August 8, 1997 hospice wage index final rule (62 FR 42860)) are subject to either a budget neutrality adjustment or application of the wage index floor. Raw wage index values of 0.8 or greater are adjusted by the budget neutrality adjustment factor. Budget neutrality means that, in a given year, estimated aggregate payments for Medicare hospice services using the updated wage index values will equal estimated payments that would have been made for these services if the 1983 wage index values had remained in effect. To achieve this budget neutrality, the raw wage index is multiplied by a budget neutrality adjustment factor. The budget neutrality adjustment factor is computed and applied annually. The budget neutrality adjustment factor is calculated by comparing what we would have paid using current rates and the 1983 wage index to what would be paid using current rates and new wage index.

Raw wage index values below 0.8 are adjusted by the greater of: (1) The hospice budget neutrality adjustment factor; or (2) the hospice wage index floor (a 15 percent increase) subject to a maximum wage index value of 0.8.

C. Hospice Provisions of the Medicare Prescription Drug, Improvement, and Modernization Act of 2003

On December 8, 2003, the Congress enacted the Medicare Prescription Drug, Improvement, and Modernization Act (MMA) of 2003 (Pub. L. 108-173). This legislation provided for the following provisions affecting hospice services:

• Section 408, Recognition of Attending Nurse Practitioners as Attending Physicians to Serve Hospice Patients.

• Section 512, Coverage of Hospice Consultation Services.

• Section 946, Authorizing Use of Arrangements to Provide Core Hospice Services in Certain Circumstances.

Section 408 of the MMA amended sections 1861(dd)(3)(B) and 1814(a)(7) of the Act to add nurse practitioners (NPs) to the definition of an attending physician for beneficiaries who have elected the hospice benefit. In other words, if a beneficiary's primary care provider before the determination of the terminal illness and election of the hospice benefit is an NP, the NP can remain as the attending physician, if the beneficiary chooses, after a hospice election. If the beneficiary does not have an attending physician or NP at the time of the terminal diagnosis, the beneficiary may choose to designate either a physician or an NP as his or her attending physician when electing the hospice benefit. Section 408 of the MMA was implemented through an administrative issuance (Change Request (CR) 3226, Transmittals 22 and 304, September 24, 2004).

Section 512 of the MMA provides for a one-time evaluation and consultation to Medicare beneficiaries who have been determined to have a 6-month prognosis if the disease runs its normal course, and who require the expertise of the medical director or physician employed by a hospice in order to be able to make end-of-life decisions. This provision was implemented in the CY 2005 Physician Fee Schedule final rule published in the November 15, 2004 Federal Register (69 FR 66335) and is incorporated in our regulations at § 418.205 and § 418.304(d).

Section 946(a) of the MMA allows a hospice program “in extraordinary, exigent, or other non-routine circumstances, such as unanticipated period of high patient loads, staffing shortages due to illness or other events, or temporary travel of a patient outside a hospice program's service area, * * * “ to enter into arrangements with another hospice program to provide services to beneficiaries. Section 946(b) of the MMA provides that “in the case of hospice care provided by a hospice program under arrangement under section 1861(dd)(5)(D) made by another hospice program, the hospice program that made the arrangements shall bill and be paid for the hospice care.” In section II.B.2 of this proposed rule, we discuss our proposal to revise the regulations to implement payment for hospice services made under arrangements. We will address the implementation of section 946(a) of the MMA in a future rulemaking document.

II. Provisions of the Proposed Rule

A. Hospice Wage Index for FY 2006

1. Revised OMB Definition for Geographical Statistical Areas

As required by § 418.306(c), each hospice's labor market is established using the MSA definitions issued by OMB. In the September 4, 1996 hospice wage index proposed rule (61 FR 46579), we explained that the MSA definitions were issued by OMB on December 28, 1992, based on the 1990 census, and updated by OMB based on the decennial census. In accordance with our regulations, changes to the MSA definitions are announced in a Federal Register notice.

In the August 27, 2004 Federal Register (69 FR 52710), we published a notice with respect to the hospice wage index for FY 2005. In that notice, we acknowledged that on June 6, 2003, OMB issued OMB Bulletin No. 03-04 announcing revised definitions for MSAs, new definitions for Micropolitan Statistical Areas and Combined Statistical Areas, and guidance on using the statistical definitions. (A copy of the Bulletin may be obtained at the following Internet address: http://www.whitehouse.gov/omb/bulletins/b03-04.html.) In addition, we noted that we would not address the new OMB definitions because the wage data used to calculate the FY 2005 hospice wage index (FY 2004 hospital wage data) did not reflect revisions based on the new definitions. We indicated that the new OMB definitions would be addressed in the FY 2006 wage index update.

a. Background

In general, OMB defines an urban area as a Metropolitan Statistical Area (MSA) or New England County Metropolitan Area (NECMA). A rural area is defined as any area outside of the urban area. Any area not included in an MSA is considered to be nonurban and receives the statewide rural rate.

Under the hospital inpatient prospective payment system (IPPS), the wage index is calculated and assigned to hospitals on the basis of the labor market area in which the hospital is located or geographically reclassified under sections 1886(d)(8) and (d)(10) of the Act. In accordance with our regulations for hospice payment, we also use MSAs to define labor market areas, but the application differs from IPPS. Section 1814(i)(2)(D) of the Act requires Medicare to pay for hospice services based on the geographic location where the service is furnished. The wage index value used is based upon the location of the beneficiary's home for routine home care and continuous home care and the location of the hospice agency for general inpatient and respite care.

In this proposed rule, we will address the new OMB definitions and their application to the hospice wage index. Since our regulations require the use of the IPPS wage data as the basis for determining the hospice wage index, we are providing the following summary of the revised geographical statistical areas adopted in the FY 2005 IPPS final rule. (For a more detailed discussion of the changes in the hospital wage index based on the new OMB definitions see the FY 2005 IPPS proposed and final rules published May 18, 2004 (69 FR 28196) and August 11, 2004 (69 FR 48916).)

b. Current Labor Market Areas Based on MSAs

As discussed in the FY 2005 IPPS final rule, “the [hospital] wage index is calculated and assigned to hospitals on the basis of the labor market area in which the hospital is located.” In addition, the IPPS final rule (69 FR 49026) defined hospital labor markets as follows:

We currently define hospital labor market areas based on the definitions of Metropolitan Statistical Areas (MSAs), Primary MSAs (PMSAs), and New England County Metropolitan Areas (NECMAs) issued by OMB. OMB also designates Consolidated MSAs (CMSAs). A CMSA is a metropolitan area with a population of one million or more, comprising two or more PMSAs (identified by their separate economic and social character). For purposes of the hospital wage index, we use the PMSAs rather than CMSAs because they allow a more precise breakdown of labor costs. If a metropolitan area is not designated as part of a PMSA, we use the applicable MSA.

These different designations use counties as the building blocks upon which they are based. Therefore, hospitals are assigned to either an MSA, PMSA, or NECMA based on whether the county in which the hospital is located is part of that area. For purposes of the IPPS wage index, we combine all of the counties in a State outside a designated MSA, PMSA, or NECMA together to calculate a statewide rural wage index.

c. Core-Based Statistical Areas

In the December 27, 2000 Federal Register (65 FR 82228 through 82238), OMB announced its new standards and in that notice, OMB defined a Core-Based Statistical Area (CBSA), beginning in 2003, as “a geographic entity associated with at least one core of 10,000 or more population, plus adjacent territory that has a high degree of social and economic integration with the core as measured by commuting ties.” The standards designate and define two categories of CBSAs: MSAs and Micropolitan Statistical Areas (65 FR 82235).

According to OMB, MSAs are based on urbanized areas of 50,000 or more population, and Micropolitan Statistical Areas (referred to in further discussion as Micropolitan Areas) are based on urban clusters of at least 10,000 population but less than 50,000 population. Counties that do not fall within CBSA (either MSA or Micropolitan Areas) are deemed “Outside CBSAs.” In the past, OMB defined MSAs around areas with a minimum core population of 50,000, and smaller areas were “Outside MSAs.”

In its June 6, 2003 bulletin, OMB announced the new CBSAs, comprised of MSAs and the new Micropolitan Areas based on Census 2000 data. The new CBSA designations recognize 49 new (urban) MSAs and 565 new Micropolitan Areas, and revised the composition of many of the existing (urban) MSAs. There are 1,090 counties in MSAs under these new CBSA designations compared with 848 counties in the previous MSAs. Of these 1,090 counties, 737 are in the same MSA as they were before the changes, 65 are in different MSAs, and 288 were not previously designated to any MSA. There are 674 counties in Micropolitan Areas. Of these, 41 were previously in an MSA, while 633 were not previously designated to an MSA.

d. Revised Labor Market Areas

As discussed in the FY 2005 IPPS final rule (69 FR 49027), alternatives to the use of MSAs for the purpose of establishing labor market areas for the Medicare wage index were examined. In the May 27, 1994, IPPS proposed rule (59 FR 27724), the latest research concerning possible future refinements to the labor market areas was presented. Public comments received on the May 27, 1994 proposed rule were described in the June 2, 1995 proposed rule (60 FR 29219). In that rule, it was noted that there was no consensus among commenters on the choice for new labor market areas. Consequently, MSAs have continued to be used to define labor market areas for purposes of the wage index by many Medicare payment systems as noted in previous discussion.

(1) New England County Metropolitan Areas

NECMAs are currently used to define labor markets areas in New England, “* * * because these are county-based designations rather than the 1990 MSA definitions for New England which used minor civil divisions such as cities and towns.” Under the CBSA definition, “OMB has defined the MSAs and Micropolitan Areas in New England on the basis of counties. OMB also established New England City and Town Areas, which are similar to the previous New England MSAs.” Therefore, to maintain consistency in the definition of labor market areas between New England and the rest of the country, IPPS decided to use the New England MSAs under the new CBSA definition.

(2) Metropolitan Divisions

Under OMB's new CBSA designations, a Metropolitan Division is a county or group of counties within a CBSA that contains a core population of at least 2.5 million, representing an employment center, plus adjacent counties associated with the main county or counties through commuting lines. For the hospital wage index the PMSAs are used rather than CMSA to define labor market areas “because they comprise a smaller geographic area with potentially varying labor costs due to different local economies.”

(3) Micropolitan Areas

The IPPS final rule noted the following regarding the use of Micropolitan Areas to define labor markets (69 FR 49029):

One of the major issues with respect to the new definitions is whether to use Micropolitan Areas to define labor market areas for the purpose of the IPPS wage index. Because the new Micropolitan Areas are essentially a third area definition made up mostly of currently rural areas, but also some or all of current MSAs, how these areas are treated will have significant impacts on the calculation and application of the wage index. Treating Micropolitan Areas as separate and distinct labor market areas would affect both the wage indexes of the hospitals in the Micropolitan Areas and the hospitals in the labor market areas where those hospitals are currently located (both positively and negatively).

Because we currently use MSAs to define urban labor market areas and we group all the hospitals in counties within each State that are not assigned to an MSA together into a statewide rural labor market area, we have used the terms “urban” and “rural” wage indexes in the past for ease of reference. However, the introduction of Micropolitan Areas complicates this terminology because these areas include so many hospitals that are currently included in the statewide rural labor market areas. In order to facilitate the discussion below, we use the term “rural” hospitals to describe hospitals in counties that are not assigned to either an MSA or a Micropolitan Area. This should not be taken to indicate that hospitals in Micropolitan Areas are no longer “rural” hospitals. In fact, we proposed that hospitals in Micropolitan Areas are included in the statewide rural labor market areas, for the reasons outlined below.

2. Annual Update to the Hospice Wage Index

(If you choose to comment on issues in this section, please include the caption “Annual Update to the Hospice Wage Index” at the beginning of your comments)

a. Background

Section 418.306(c) requires that we issue annually in the Federal Register, hospice wage index based on our most current available hospital wage data, including any changes to the definitions of MSAs.

Section 4441(a) of the Balanced Budget Act of 1997 (BBA) amended section 1814(i)(1)(C)(ii) of the Act to establish updates to hospice rates for FYs 1998 through 2002. Hospice rates were to be updated by a factor equal to the hospital market basket index, minus 1 percentage point. However, neither the BBA nor subsequent legislation specified the hospital market basket adjustment to be used to compute payment for FY 2006. Therefore, payment rates for FY 2006 will be updated according to section 1814(i)(1)(C)(ii)(VII) of the Act, which specifies that the update to the payment rates after FY 2002 will be the hospital market basket percentage increase for the fiscal year. This rate update is implemented via administrative issuance to be published July 2005 to provide adequate time to implement system change requirements and is not part of this proposed rule.

The hospice wage index presented in this proposed rule would be effective October 1, 2005 through September 30, 2006. We note that we are not proposing any modifications to the hospice wage index methodology. In accordance with the our regulations and the agreement signed with other members of the Hospice Wage Index Negotiated Rulemaking Committee, we will continue to use the most current hospital data available to adjust for area wage differences. For this proposed rule, the FY 2005 hospital wage index was the most current hospital wage data available when the FY 2006 wage index values were calculated. We continue to use the pre-reclassified and prefloor hospital area wage index data. Payment rates for each of the four levels of care (routine home care, continuous home care, respite care, and general inpatient care) are adjusted annually based upon the hospital market basket for that year and are promulgated administratively to allow for sufficient time for system changes and provider notification. Due to the need to ensure appropriate time for implementing changes, we have not incorporated these payment rates into this proposed rule.

The payment rates are divided into the labor and nonlabor portions. The appropriate wage index value is applied to the labor portion of the hospice rate based on the geographic area in which the beneficiary resides when receiving routine home care or continuous home care. The appropriate wage index value is applied to the labor portion of the hospice rate based on the geographic area of the hospice agency for beneficiaries receiving general inpatient or respite level of care.

We use the previous fiscal year's hospital wage index data to calculate the hospice wage index values. For FY 2006 proposed hospice wage index, we use the FY 2005 hospital prefloor and pre-reclassified hospital wage data. This means that the hospital wage data used for the hospice wage index is not adjusted to take into account the geographic reclassification of hospitals in accordance with sections 1886(d)(8)(B) and 1886 (D)(10) of the Act. All wage index values for FY 2006 would be adjusted by either by the proposed FY 2006 budget neutrality adjustment factor, 1.063479, or the wage index floor adjustment. This means, that for wage index values 0.8 or greater, the value is multiplied by the budget neutrality adjustment factor. For wage index values that are below 0.8, either the budget neutrality adjustment factor or the wage index floor, not to exceed 0.8, is applied. In other words, the floor adjustment is the greater of the raw wage index value multiplied by the proposed budget neutrality adjustment factor (1.063479 for FY 2006) or the raw wage index value for that area is multiplied by 15 percent subject to a maximum value of 0.8. Budget neutrality means that, in a given year, estimated aggregate payments for Medicare hospice services using the updated wage index will equal estimated payments that would have been made for the same services if the wage index adopted for hospices in 1983 had remained in effect. (For a detailed discussion of the methodology used to compute the hospice wage index see the September 4, 1996 proposed rule (61 FR 46579) and the August 8, 1997 final rule (62 FR 42860)). The proposed FY 2006 hospice wage indexes for urban and rural areas are listed in Tables A and B of the Addendum.

b. Implementation of the Revised Labor Market Designations

(If you choose to comment on issues in this section, please include the caption “Implementation of Revised Labor Market Designations” at the beginning of your comments)

For the hospice payment system, § 418.306(c) requires that the hospice wage index be “based on the most current available CMS hospital wage index, including any changes to the definitions of Metropolitan Statistical Areas.” We continue to believe MSAs are a reasonable and appropriate proxy for developing geographic areas for purposes of adjusting for wage differences in hospice. We also note that MSAs are used to define labor market areas for purposes of the wage index for many of the other Medicare payment systems (for example, long term care hospital (LTCH) prospective payment system (PPS), inpatient rehabilitation facility (IRF) PPS, home health agency (HHA) PPS, skilled nursing facility (SNF) PPS, Outpatient PPS and inpatient psychiatric facility (IPF) PPS.

First, historically, Medicare prospective payment systems have used metropolitan area (MA) definitions developed by OMB. For example, in adopting the MSA designation for the IPPS area labor adjustment, the Secretary stated:

[i]n administering a national payment system, we must have a national classification system built on clear, objective standards. Otherwise the program becomes increasingly difficult to administer because the distinction between rural and urban hospitals is blurred. We believe that the MSA system is the only one that currently meets the requirements for use as a classification system in a national payment program. The MSA classification system is a statistical standard developed for use by Federal agencies in the production, analysis, and publication of data on metropolitan areas. The standards have been developed with the aim of producing definitions that will be consistent as possible for all MSAs nationwide.” (49 FR 27426).

In addition, in numerous instances, the Congress has recognized that the areas developed by OMB may be used for differentiating among geographic areas for Medicare payment purposes. For example, in the IPPS statutory section, section 1886(d)(2)(D) of the Act, the Congress defines an “urban area” as “an area within a Metropolitan Statistical Area (as defined by the Office of Management and Budget) or within such similar area as the Secretary has recognized.” Similarly, in the sections of the statute governing the guidelines to be used by the Medicare Geographic Classification Review Board for purposes of reclassification, sections 1886(d)(10)(A) and (D)(i)(II) of the Act, the Congress directed the Secretary to create guidelines for “determining whether the county in which the hospital is located should be treated as being part of a particular [MSA].” Thus, the Congress has accepted and ratified the use of MSAs as an inherently rational manner of dividing up labor-market areas for purposes of Medicare payments.

The process used by OMB to develop the MSAs creates geographic areas that are based upon characteristics we believe also generally reflect the characteristics of unified labor market areas. For example, the CBSAs reflect a core population plus an adjacent territory that reflects a high degree of social and economic integration. This integration is measured by commuting ties, thus demonstrating that these areas may draw workers from the same general areas. In addition, the most recent CBSAs reflect the most up to date information. OMB reviews its MA definitions preceding each decennial census to reflect recent population changes, and the CBSAs are based on the Census 2000 data. Finally, in the context of the inpatient prospective payment system, we have reviewed alternative methods for determining geographic areas for purposes of the wage index, and in each case, have determined to remain with the OMB designations rather than replace these designations with alternatives.

As stated previously, § 418.306(c) requires the hospice wage index to reflect changes to the definitions of MSA. Therefore, we are proposing to adopt the revised labor market area designations based on OMB's CBSA designations.

For the proposed FY 2006 hospice wage index, we would adopt the CBSA designations as finalized in the FY 2005 IPPS. We believe that OMB's CBSA designations, based on Census 2000 data reflect the most recent available geographic classifications (MA definitions). We are not proposing to change at this time, the methodology derived as a result of the negotiated rulemaking committee. We believe that there are factors which require evaluation to determine if the hospice methodology supports the cost of providing hospice services and if the methodology requires modification.

As discussed in the IPPS final rule (69 FR 49032), when the IPPS adopted the revised labor market areas based on OMB's new CBSA designations on October 1, 2004, IPPS established a transition to the new designations to mitigate the resulting adverse impact on certain hospitals. Section 1814(i)(1)(A) of the Act requires hospice payment to be based on “costs which are reasonable and related to the cost of providing hospice care or which are based on such other tests of reasonableness the Secretary may prescribe in regulations * * *.” Our regulations at § 418.306(c) require us to issue annually in the Federal Register “ a hospice wage index based on the most current available CMS hospital data wage data, including any changes to the definitions of Metropolitan Statistical Areas.” This language would not seem to permit us to establish a transition to the new CBSA designations. In addition, unlike IPPS and other payment systems where each entity uses a single MSA (CBSA), hospice agencies may use various wage indices to compute their payments based upon the location of the beneficiary for routine and continuous home care or the MSA (CBSA) for the location of the agency for respite and general inpatient care. The methodology for applying the hospice floor (15 percent) to wage index values below 0.8 is used to leverage areas where there are significantly low wage index values. Moreover, we do not believe that in the aggregate, hospice agencies would be impacted negatively by the new CBSA designations. The existing methodology of computing the hospice wage index, the annual calculation of the hospice payment rates based upon the market basket index, and the variability of CBSAs that may be attributed to different hospice agencies are sufficient to mitigate adverse effects on individual hospice agencies. While we understand that there are CBSAs that decrease based upon the new definitions, there are those that are positively affected. For example, many counties that have been included in the rural definitions under the MSA designations are now designated as urban areas under the CBSA will generally receive an increase in their wage index. We believe that adjustments made to CBSAs because of negative impact would necessitate adjustment to CBSAs that are positively impacted. Variability and changes in wage indices both positively and negatively have occurred under the MSA designations and occur as a result of geographic differences. As a result, we propose to adopt the CBSA definitions and resulting wage indices without transitions. The impact of the CBSA designations is discussed in section V of this proposed rule.

In adopting the CBSA designations, we identified that there were no IPPS hospitals and thus no hospital wage index data on which to base the calculation of the FY 2006 hospice wage index for rural Massachusetts. Because there is no reasonable proxy for more recent rural data within Massachusetts, we are proposing to use the prefloor, preclassified hospital wage index data for FY 2005 and apply the FY 2006 proposed budget neutrality factor of 1.063479. In the event that future rural areas do not have hospital wage index data to derive a hospice wage index, we propose to use a comparable methodology to derive a wage index. Similarly, if there urban areas without hospital wage index data, we propose to use all of the urban areas within the State as a reasonable proxy. We are soliciting comment on these approaches to calculating the wage index value for areas without hospital wage data for FY 2006 and subsequent years.

To facilitate an understanding of the policies related to the proposed changes in the hospice wage index discussed in section II.A of this proposed rule, we are providing the following tables in the Addendum to this proposed rule:

• Table A—Proposed Hospice Wage Index for Urban Areas by CBSA.

• Table B—Proposed Hospice Wage Index for Rural Areas by CBSA.

• Table C—Comparison of Hospice Wage Index for Urban Areas by MSA and CBSA. This table lists the counties by MSA designation and the wage index if we had retained the use of MSAs. It also presents the CBSA designation for these counties and the corresponding wage index using the CBSA designations. The MSA designations include those counties that were classified as rural and indicated the State rural MSA code and the corresponding CBSA for these counties which under the CBSA designation are now urban. We note that some counties that are classified as rural under the MSA designation would become rural under the new CBSA designation and vice versa.

• Table D—Comparison of the Hospice Wage Index for Rural Areas by MSA and CBSA. This table compares the State rural MSA designations and their corresponding wage indices to the CBSA designations and their respective wage indices.

• Table E—Rural Counties Converting to Urban Counties by State. This table presents the rural counties that under the CBSA designations convert to urban counties. The list includes the county name, State county code, MSA designation, MSA name, CBSA name, and CBSA designation. Please note that these conversions are based on the OMB designations.

• Table F—Crosswalk of Counties by State from MSA to CBSA. This table crosswalks all counties in each State from MSA to CBSA and includes the State, State county code, MSA designation, MSA name, CBSA designation, and CBSA name. These tables will assist providers in identifying their location and their catchment area(s) by their previous designations and their CBSA designation as well as the wage indices for those areas based upon the previous MSA designations as well as the CBSA designations.

3. Labeling Error in the Hospice Wage Index

We have discovered an error in the labeling of the wage index tables that we have been publishing in the annual hospice wage index update. That labeling error is the listing of Stanly County, North Carolina as one of the areas under MSA 1520 when, in fact, we consider Stanly County, NC to be a rural area in North Carolina. Stanly County wage data have always been correctly treated as rural in the actual creation of the hospice wage index values, and it has only been the listing of Stanly County under MSA 1520 that was in error. Consequently, we are correcting our labeling error from past notices for the hospice and have removed Stanly County from the list of areas that fall under the MSA 1520 wage index. Since this is strictly a ministerial correction that does not affect the actual computation of the wage index values, hospice providers in and beneficiaries who reside in Stanly County and receive routine home and continuous home care in Stanly County will continue to fall under, and use, the wage index for rural North Carolina.

B. Proposed Changes To Implement Hospice-Related Provisions of the MMA

(If you choose to comment on issues in this section, please include the caption “MMA Provisions” at the beginning of your comments)

In section I.C of this proposed rule, we note that section 408 of the MMA was effective upon enactment and initially implemented through administrative issuances. This proposed rule would incorporate the provisions in regulation.

1. Coverage of Nurse Practitioner as Attending Physician in Hospice (Section 408 of the MMA)

Section 408 of the MMA amended sections 1861(dd)(3)(B) and 1814(a)(7) of the Act to add nurse practitioners (NPs) to the definition of an attending physician, for beneficiaries who have elected the hospice benefit. In other words, if a beneficiary's primary care provider is an NP, before the determination of the terminal illness and election of the hospice benefit, the NP can remain as the attending physician, if chosen by the beneficiary. If the beneficiary does not have an attending physician or NP, the beneficiary must be provided with an option of either a physician or an NP (if available and if allowed by State law) to serve as the attending physician. An NP is defined as a registered nurse who performs such services as he or she is legally authorized to perform (in the State in which the services are performed) in accordance with State law (or State regulatory mechanism provided by State law) and who meets the training, education, and experience requirements as the Secretary may prescribe.

As discussed in Change Request 3226 (Transmittals 22 and 304, September 24, 2004), beginning December 8, 2003, Medicare pays for medically reasonable and necessary services provided by NPs to Medicare beneficiaries who have elected the hospice benefit and who have selected a nurse practitioner as their attending physician. Nurse practitioners are paid 85 percent of the fee schedule amount for their services as attending physicians. Services for the terminal and related conditions provided by an NP—

• Serving as the attending physician that are medical in nature must be reasonable and necessary and must be services that, in the absence of an NP, would be performed by a physician; and

• May not be separately billed if the—

++ Services would not be reasonable and necessary if provided by an attending physician;

++ NP is not the patient's attending physician; or

++ Services would be performed by a registered or licensed nurse in the absence of a physician or nurse practitioner.

Since NPs are not physicians, as defined in 1861(r)(1) of the Act, they may not act as medical directors or physicians of the hospice or certify the beneficiary's terminal illness and hospices may not contract for their attending physician services as described in 1861(dd)(2)(B)(i)(III) of the Act. All of these provisions apply to NPs without regard to whether they are hospice employees.

We are proposing to revise § 418.3, 418.22(c)(1)(ii), and § 418.304 to implement the provisions of section 408 of the MMA.

2. Payment for Authorizing Use of Arrangements To Provide Hospice Service Under Certain Circumstances (Section 946 of the MMA)

Section 946(a) of the MMA amended section 1861(dd)(5) of the Act by adding the following: “(D) In extraordinary, exigent, or other non-routine circumstances, such as unanticipated periods of high patient loads, staffing shortages due to illness or other events, or temporary travel of a patient outside a hospice program's service area, a hospice program may enter into arrangements with another hospice program for the provision by that other program of services described in paragraph (2)(A)(ii)(I).” Section 946(a) of the MMA is discussed in this proposed rule to assist the reader in understanding how hospices will be reimbursed for these types of arrangements. We will issue more specific regulations regarding section 946(a) of the MMA in future rulemaking.

Section 946(b) of the MMA amended section 1814(i) of the Act to add the following: “(5) In the case of hospice care provided by a hospice program under arrangements under section 1861(dd)(5)(D) made by another hospice program, the hospice program that made the arrangements shall bill and be paid for the hospice care.” This means that the hospice that establishes the contractual arrangement with the hospice that will be providing services to the beneficiary, continues to bill for and receive payment during the hospice election.

Section 4442 of the BBA amended section 1814(i)(2) of the Act, effective for services furnished on or after October 1, 1997, to require hospice agencies to submit claims for payment for hospice services furnished in an individual's home on the basis of the geographic location at which the service is furnished. Therefore, the methodology for applying the wage index to the labor portion of the payment rates remains the same. This means that the wage index for routine and continuous home care would reflect the place where the service is provided, which may be outside of the hospice program's service area during periods of temporary travel. We do not propose in this rule to define “temporary travel” since this would depend upon individual needs and abilities determined by the interdisciplinary group, the beneficiary, and his or her family. The wage index for general inpatient care would reflect the MSA for the hospice agency that retains management responsibility. Payment will continue to be made to the hospice agency for which the beneficiary has made the election. We are proposing to revise § 418.302(d) to implement this provision.

III. Collection of Information Requirements

Under the Paperwork Reduction Act of 1995, we are required to provide 30-day notice in the Federal Register and solicit public comment before a collection of information requirement is submitted to the Office of Management and Budget (OMB) for review and approval. In order to fairly evaluate whether an information collection should be approved by OMB, section 3506(c)(2)(A) of the Paperwork Reduction Act of 1995 requires that we solicit comment on the following issues:

• The need for the information collection and its usefulness in carrying out the proper functions of our agency.

• The accuracy of our estimate of the information collection burden.

• The quality, utility, and clarity of the information to be collected.

• Recommendations to minimize the information collection burden on the affected public, including automated collection techniques.

Section 418.22(c)(1) requires for the initial 90-day period, the hospice must obtain written certification statements (and oral certification statements if required under paragraph (a)(3) of this section) from the individual's attending physician, if the individual has an attending physician, that meets the definition of physician specified in § 410.20 of this subchapter.

While this requirement is subject to the PRA it is currently approved by OMB under control number 0938-0302, “ICRs in Hospice Care Regulation and Supporting Regulations”, with a current expiration date of September 30, 2006.

IV. Response to Comments

Because of the large number of public comments we normally receive on Federal Register documents, we are not able to acknowledge or respond to them individually. We will consider all comments we receive by the date and time specified in the DATES section of this preamble, and, when we proceed with a subsequent document, we will respond to the comments in the preamble to that document.

V. Regulatory Impact Analysis

(If you choose to comment on issues in this section, please include the caption “Impact Analysis” at the beginning of your comments)

A. Overall Impact

We have examined the impacts of this proposed rule as required by Executive Order 12866 (September 1993, Regulatory Planning and Review), the Regulatory Flexibility Act (RFA) (September 19, 1980, Pub. L. 96-354), section 1102(b) of the Act, the Unfunded Mandates Reform Act of 1995 (Pub. L. 104-4), and Executive Order 13132. We estimated the impact on hospices, as a result of the proposed changes to the FY 2006 hospice wage index. As discussed previously, the methodology for computing the wage index was determined through a negotiated rulemaking committee and implemented in the August 8, 1997 final rule (62 FR 42860). This proposed rule updates the hospice wage index in accordance with our regulation and that methodology, incorporating the adoption of the CBSA designations used in the hospital wage index data. Table I reflects the proposed hospice wage index impact using the CBSA designations. Table II indicates the proposed wage index impact using the hospice wage indices under the MSA designations as well as the CBSA designations.

In addition, section 1102(b) of the Act requires us to prepare a regulatory impact analysis if a rule may have a significant impact on the operations of a substantial number of small rural hospitals. This analysis must conform to the provisions of section 603 of the RFA. For purposes of section 1102(b) of the Act, we define a small rural hospital as a hospital that is located outside an MSA and has fewer than 100 beds. We have determined that this proposed rule would not have a significant impact on the operations of a substantial number of small rural hospitals.

Section 202 of the Unfunded Mandates Reform Act of 1995 also requires that agencies assess anticipated costs and benefits before issuing any rule that may result in expenditure in any 1 year by State, local, and tribal governments, in the aggregate, or by the private sector, of $110 million or more. This proposed rule would have no substantial effect on State, local, or tribal governments or on the private sector.

Executive Order 13132 establishes certain requirements that an agency must meet when it promulgates a proposed rule (and subsequent final rule) that imposes substantial direct requirement costs on State and local governments, preempts State law, or otherwise has Federalism implications. We have reviewed this proposed rule under the threshold criteria of Executive Order 13132, Federalism, and have determined that it would not have an impact on the rights, roles, and responsibilities of State, local, or tribal governments.

In accordance with the provisions of Executive Order 12866, this regulation was reviewed by the Office of Management and Budget.

1. Hospice Size

The impact of hospice wage index changes have been analyzed according to type of hospice, geographic location, type of ownership, hospice base, and hospice size. Hospice size was determined by the number of routine home care days (RHC). Since routine home care days account for over 70 percent of the services provided by a hospice, we used RHC days as a proxy for the size of the hospice agency. In the past, we had, designated the size by four categories: (1) 0 to 1,754 RHC days representing small agencies; (2) 1,754 to 4,373 RHC days or (3) 4,373 to 9,681 RHC days representing medium-sized agencies; and (4) 9,681 RHC days or more representing large agencies.

To determine the statistical distribution of RHC days, based upon the total number of hospice agencies and their respective RHC days using FY 2003 claims processed through March 2004, were used. In determining the statistical distribution, we deleted data for four hospice agencies with RHC days that greatly exceeded the total number of RHC days of other agencies. However, these data have been included in the impact analysis since we recognize that the skewness existed in the “large” agency size distribution using four size categories and does not change with the use of three size categories.

Based upon this analysis, we are using only three size designations to present the impact analyses. We believe that these three designations better describe the size of the hospice. The three categories are: Small agencies having 0 to 3,499 RHC days; medium agencies having 3,500 to 19,999 RHC days; and large agencies having 20,000 or more RHC days.

2. Impact on Hospices

Our discussions for this proposed rule will focus on the impact of adopting the CBSA designations. Table I indicates the impact of using the proposed CBSA designations. Table II provides a comparison between impact using the MSA and CBSA designations. As discussed above, we use the latest claims file available to us to develop the impact table when we issue the annual yearly wage index update. For the purposes of this proposed rule, we used the 2003 claims that were processed through June 2004 since this was the latest file available. Thus the projections or anticipated payments indicated in Table I do not represent the expenditures that we anticipate for FY 2006. We anticipate that the final rule will more accurately project payment for FY 2006. For the purposes of this proposed rule, we compared estimated payments using the FY 1983 hospice wage index to estimated payments using the FY 2006 wage index and determined the proposed hospice wage index to be budget neutral. Budget neutrality means that, in a given year, estimated aggregate payments for Medicare hospice services using the proposed FY 2006 wage index would equal estimated aggregate payments that would have been made for the same services if the 1983 wage index had remained in effect. Budget neutrality to 1983 does not imply that estimated payments would not increase since the budget neutrality applies only to the wage index portion and not the total payment rate, which accommodates inflation.

Executive Order 12866 (as amended by Executive Order 13258, which merely reassigns responsibility of duties) directs agencies to assess all costs and benefits of available regulatory alternatives and, if regulation is necessary, to select regulatory approaches that maximize net benefits (including potential economic, environmental, public health and safety effects, distributive impacts, and equity). A regulatory impact analysis (RIA) must be prepared for major rules with economically significant effects ($100 million or more in any 1 year). We have determined that this proposed rule is not an economically significant rule under this Executive Order.

The RFA requires agencies to analyze options for regulatory relief of small businesses. For purposes of the RFA, small entities include small businesses, nonprofit organizations, and government agencies. Most hospices and most other providers and suppliers are small entities, either by nonprofit status or by having revenues of $6 million to $29 million in any 1 year (for details, see the Small Business Administration's regulation at 65 FR 69432, that sets forth size standards for health care industries). For purposes of the RFA, most hospices are small entities. As indicated in Table I below, there are 2,435 hospices. Approximately 70 percent of Medicare certified hospices are identified as voluntary, government, or other agencies and, therefore, are considered small entities. Because the National Hospice and Palliative Care Organization estimates that approximately 79 percent of hospice patients are Medicare beneficiaries, we have not considered other sources of revenue in this analysis. Furthermore, the wage index methodology was previously determined by consensus, through a negotiated rulemaking committee that included representatives of national hospice associations; rural, urban, large, and small hospices; multisite hospices; and consumer groups. Based on all of the options considered, the committee agreed on the methodology described in the committee statement, and it was adopted into regulation in the August 8, 1997 final rule. In developing the process for updating the wage index in the 1997 final rule, we considered the impact of this methodology on small entities and attempted to mitigate any potential negative effects.

As stated previously, the following discussions are limited to demonstrating trends rather than projected dollars if the subsequent final rule to this proposed rule were implemented for FY 2006. We used the CBSA designations and wage indices as well as the data from FY 2003 claims processed through June 2004 in developing the impact analysis. We will recalculate the impacts for the final rule using the FY 2004 claims file. We will discuss the estimated payments for FY 2006 at that time. Since the impact tables are intended to reflect the implementation of the CBSA in contrast with the current MSA designations, the introduction of the wage indices is the only variable used in the computation. It is important to note that the payment rates used reflect the FY 2005 rates. The FY 2006 payment rates will be adjusted to reflect the full FY 2006 hospital market basket, as required by section 1814(i)(1)(C) (ii)(VII) of the Act. As previously noted, we publish these rates through administrative issuances. As discussed in section II.A.1.a. of this proposed rule, hospice agencies may various wage indices to compute their payments based on the geographic location of the beneficiary for routine and continuous home care or the MSA (CBSA) or the location of the hospice agency for respite and general inpatient care. Therefore, we analyze the impact on hospices using the following parameters: geographic location; hospice size; type of ownership; and hospice base).

Our analysis demonstrates that, under this proposed rule, rural hospices would experience an increase in payment that is greater than that of urban hospices. Rural hospices are anticipated to experience a modest increase of 0.8 percent and urban hospices a slight decrease of 0.2 percent. However, the impact overall is anticipated to remain unchanged if the CBSA designations are adopted. This flat trend is also evident when contrasting the findings with projections using the MSA designations. However, the projections using the MSA designations remain flat for urban areas and decrease slightly by 0.1 percent for rural areas.

Of the urban hospices, we anticipate that most of the regions would experience decreases ranging from a 1.4 for the urban New England region to 0.1 decrease for the South Atlantic. A slight increase is anticipated for the West North Central, West South Central, and Pacific urban regions of 0.1, 0.2, and 0.1, respectively. In contrast, the rural regions are expected to receive an increase for all regions ranging from a substantial increase of 21.7 percent for rural Puerto Rico to a 1 percent increase for East North Central. We believe that that aberration for Puerto Rico can be attributed to the increase in the hospital wage indices in the region as well as the large number of rural counties under the MSA designations in Puerto Rico that have been designated as urban counties under the CBSA designations. Rural New England and West North Central regions are expected to remain flat. Only one rural region, the Mid-Atlantic, is anticipated to experience a decrease of 1.5 percent. The anticipated increase for the rural regions using the MSA designations is in contrast, more modest with increases ranging from 0.1 to 0.3 and decreases anticipated for the rural South Atlantic, East North Central, East South Central, and Middle Atlantic of 0.2, 0.3, 0.6, and 0.7, respectively.

As discussed previously, we have designated three hospice sizes based on routine home care days. Under the Medicare hospice benefit, hospices can provide four different levels of care days. The majority of the days provided by a hospice are routine home care days. Therefore, the number of routine home care days can be used as a proxy for the size of the hospice, that is, the more days of care provided, the larger the hospice. Using routine home care days as a proxy for size, our analysis indicates that the impact of the wage index update on small hospices (those that provide up to 3,499 days of routine home care) will experience a 0.1 percent increase in both the CBSA and MSA projections. The impact remains virtually the same for both the CBSA and MSA designations for all three sizes. As indicated above, a 0.1 percent increase is anticipated for small agencies and remains unchanged for large agencies. There is a scant decrease of 0.1 percent for medium sized agencies (with 3,500 to 19,999 RHC days) using the CBSA designations while it remains unchanged for MSA designations. The lack of variability by agency size indicates that this proposed rule would have no impact on a small number of small entities. Rural Puerto Rico with 6 hospice agencies and 184,000 routine care days, representing the smallest number of hospices and second lowest routine home care days in the rural region, is anticipated to experience a substantial increase of 21.7 percent while rural South Atlantic with 138 hospices and 1,394,000 routine home care days, which represents the highest number of routine home days, will have an increase of 0.6 percent. The rural Mid-Atlantic region with 39 hospices and 280,000 routine home care days is anticipated to decrease by 1.5 percent. Rural New England with 27 hospices representing the second lowest number of agencies with 112,000 routine home care days, and representing the lowest number of rural days, is anticipated to remain unchanged.

Urban Puerto Rico region with 30 hospice agencies with 428,000 routine home care days, representing the lowest number of urban agencies and routine home care days, is anticipated to experience a decrease of 0.5 percent using the CBSA designations in contrast to a 0.2 percent increase using the MSA designation. Urban East North Central with 244 hospice agencies representing the largest number of urban hospice agencies with 5,275,000 routine home care days is anticipated to experience a decrease of 0.3 percent using the CBSA designation and would remain unchanged using the MSA designation. Urban West South Central with the largest number of routine home care days of 5,765,000 is anticipated to experience a 0.2 percent increase using the CBSA designations and 0.4 percent increase using the MSA designations. Based upon these comparisons, the urban regions would expect a slightly larger increase in payment using the MSA designations while the rural areas are anticipated to experience a substantially larger increase using the CBSA designations. However, as indicated above, in the aggregate, hospice agencies overall are anticipated to remain unchanged using either the CBSA or MSA designations.

By type of ownership, proprietary hospice agencies are anticipated to increase by 0.2 percent while voluntary agencies with the largest number of agencies and routine home care days of 1,309 and 23,696,000, respectively, are anticipated to decrease by 0.2 percent and government by 0.3. Since we are unable to determine the ownership type for the unknown category, we are unable to determine the impact of the anticipated decrease of 1.1 percent. By MSA designation, in contrast, voluntary and proprietary hospice agencies are anticipated to remain unchanged with government agencies anticipated to decrease by 0.1 percent.

Freestanding hospice agencies with the largest number of agencies of 1,188 and routine home care days of 29,277,000 are anticipated to remain unchanged when using MSA as well as CBSA designations. Home health-based hospice agencies are anticipated to remain unchanged with the MSA designations but are anticipated to increase by 0.2 percent with CBSA designation. Hospital-based hospice agencies are anticipated to decrease slightly with both MSA and CBSA designations at 0.1 and 0.3 respectively. SNF-based hospice agencies with the lowest number of agencies and routine home care days of 15 and 174,000, respectively, are also anticipated to experience a decrease with both MSA and CBSA designations of 0.6 and 0.9, respectively.

As discussed above, the overall impact for hospice agencies remain unchanged using the CBSA designations with a slight decrease in urban and an increase in rural hospice agencies. While there are more decreases in urban hospice agencies, there is overall increase in the rural agencies. Hospice size remains virtually unchanged when comparing MSA to CBSA designations. Type of ownership and hospice base appear similar between the two designations. As a result, there is no compelling reason to maintain the use of the MSA designations as opposed to the CBSA designations based upon overall hospice agency impact.

3. Anticipated Effects

We have compared estimated payments using the FY 1983 hospice wage index to estimated payments using the proposed FY 2006 wage index and determined the current hospice wage index to be budget neutral. This impact analysis compares hospice payments using the FY 2005 hospice wage index to the estimated payments using the proposed FY 2006 wage index. The data used in developing the quantitative analysis for this proposed rule were obtained from the June 2004 update of the national claims history file of all FY 2003 claims processed through June 2004. We deleted bills from hospices that have since closed. As discussed above, for the purposes of this proposed rule, this file is adequate to demonstrate the impact of using the MSA and proposed CBSA designations and is not intended to project the anticipated expenditures for FY 2006. We will be using an updated file for the final rule which will more accurately indicate the expected expenditures for FY 2006.

Table I demonstrates the results of our analysis. In column 2 of Table I, we indicate the number of routine home care days that were included in our analysis, although the analysis was performed on all types of hospice care. Column 3 indicates payments that were made using the FY 2005 wage index. Column 4 is based on claims (for hospices in business during that time period) and estimates payments (with the caveat as discussed above) to be made to hospices using proposed CBSA designations and FY 2006 wage index. The final column, which compares columns 3 and 4, shows the percent change in estimated hospice payments made based on the category of the hospice.

Table I categorizes hospices by various geographic and provider characteristics. The first row displays the results of the impact analysis for all Medicare-certified hospices. The second and third rows of the table categorize hospices according to their geographic location (urban and rural). Our analysis indicted that there are 1,494 hospices located in urban areas and 941 hospices located in rural areas. The next two groupings in the table indicate the number of hospices by census region, also broken down by urban and rural hospices. The sixth grouping shows the impact on hospices based on the size of the hospice's program. We determined that the majority of hospice payments are made at the routine home care rate. Therefore, we based the size of each individual hospice's program on the number of routine home care days provided in 2004. The next grouping shows the impact on hospices by type of ownership. The final grouping shows the impact on hospices defined by whether they are provider-based or freestanding.

Table II demonstrates the estimated payments using the CBSA and MSA designations. The groupings as well as columns 1 and 2 are the same as in Table I. Columns 3 and 4 represent the estimated payments using the CBSA and MSA designations, respectively. Column 5 represents the percentage change in the estimated payments using CBSA designations compared with the estimated payments using the MSA designations.

Our analysis shows that the majority of hospices are in urban areas and provide the vast majority of routine home care days. However, rural hospices are anticipated to receive a larger percent increase in payment of 0.8 percent in contrast to a decrease of 0.2 percent for urban hospices if CBSA designations were used in the proposed FY 2006 wage index. However, overall, there is no anticipated change using the CBSA designations.

Since the impact tables are intended to reflect the implementation of the CBSA as opposed to the current MSA designations, the introduction of the wage indices is the only variable used in the computation. It is important to note that the payment rates used reflect the FY2005 rates. The FY 2006 payment rates would be adjusted to reflect the full FY 2006 hospital market basket, as required by section 1814(i)(1)(C)(ii)(VII) of the Act. We publish these rates through administrative issuances.

Table I.—Impact of Hospice Wage Index Changes Based on Use of CBSA Designations
| Number of hospices (1) | Number of routine home care days in thousands (2) | Payments using FY 2005 wage index in thousands (3) | Estimated payments using FY 2006 wage index in thousands (CBSA designations) (4) | Percent change in hospice payments (CBSA designations) (5)
By Geographic Location:
All Hospices | 2,435 | 43,232 | 6,086,726 | 6,084,194 | 0.0
Urban Hospices | 1,494 | 35,877 | 5,225,240 | 5,215,515 | −0.2
Rural Hospices | 941 | 7,355 | 861,486 | 868,680 | 0.8
By Region—Urban:
New England | 93 | 1,051 | 179,129 | 176,671 | −1.4
Middle Atlantic | 173 | 3,573 | 551,587 | 549,856 | −0.3
South Atlantic | 209 | 7,442 | 1,164,758 | 1,163,315 | −0.1
East North Central | 244 | 5,275 | 765,379 | 762,940 | −0.3
East South Central | 109 | 2,644 | 346,632 | 345,627 | −0.3
West North Central | 109 | 2,442 | 316,698 | 316,938 | 0.1
West South Central | 228 | 5,765 | 740,895 | 742,569 | 0.2
Mountain | 107 | 2,821 | 439,997 | 437,091 | −0.7
Pacific | 192 | 4,436 | 683,956 | 684,476 | 0.1
Puerto Rico | 30 | 428 | 36,208 | 36,031 | −0.5
By Region—Rural:
New England | 27 | 112 | 14,835 | 14,832 | 0.0
Middle Atlantic | 39 | 280 | 29,000 | 28,572 | −1.5
South Atlantic | 138 | 1,394 | 170,695 | 171,752 | 0.6
East North Central | 142 | 940 | 113,436 | 113,541 | 0.1
East South Central | 114 | 1,571 | 179,805 | 180,434 | 0.3
West North Central | 184 | 889 | 105,953 | 105,995 | 0.0
West South Central | 126 | 1,096 | 119,455 | 121,527 | 1.7
Mountain | 106 | 534 | 65,696 | 65,872 | 0.3
Pacific | 59 | 355 | 47,512 | 47,772 | 0.5
Puerto Rico | 6 | 184 | 15,098 | 18,381 | 21.7
Routine Home Care Days:
0-3499 DAYS (Small) | 629 | 997 | 125,214 | 125,330 | 0.1
3500-19,999 DAYS (Medium) | 1,192 | 11,623 | 1,531,060 | 1,529,182 | −0.1
20,000+ DAYS (Large) | 614 | 30,612 | 4,430,452 | 4,429,683 | 0.0
Type Of Ownership:
Voluntary | 1,309 | 23,696 | 3,417,506 | 3,411,195 | −0.2
Proprietary | 840 | 17,843 | 2,444,369 | 2,449,666 | 0.2
Government | 185 | 874 | 116,914 | 116,593 | −0.3
Unknown | 101 | 819 | 107,937 | 106,741 | −1.1
Hospice Base:
Freestanding | 1,188 | 29,277 | 4,137,979 | 4,136,404 | 0.0
Home Health Agency | 623 | 7,802 | 1,107,707 | 1,110,134 | 0.2
Hospital | 550 | 5,470 | 751,268 | 749,156 | −0.3
Skilled Nursing Facility | 15 | 174 | 28,536 | 28,273 | −0.9
Unknown | 59 | 509 | 61,237 | 60,227 | −1.6
Note: For purposes of comparing the proposed CBSA designations with the current MSA designations, hospice listings are based on the MSA designations.
FY 2005 payment rates were used for estimated payments for FY 2006. FY 2006 payment rates will be adjusted to reflect the full hospital market basket.

Table II.—Comparison of Impact of the Hospice Wage Index Using CBSA and MSA Designations
| Number of hospices (1) | Number of routine home care days (in thousands) (2) | Estimated Payments using FY 2006 wage index and CBSA designations (in thousands) (4) | Estimated payments using FY 2006 wage index and MSA designations (in thousands) (6) | Percent change in hospice payments (CBSA vs. MSA designations) (7)
By Geographic Location:
All Hospices | 2,435 | 43,232 | 6,084,194 | 6,086,314 | 0.0
Urban Hospices | 1,494 | 35,877 | 5,215,515 | 5,224,948 | −0.2
Rural Hospices | 941 | 7,355 | 868,680 | 860,366 | 1.0
By Region—Urban:
New England | 93 | 1,051 | 176,671 | 178,262 | −0.9
Middle Atlantic | 173 | 3,573 | 549,856 | 548,915 | 0.2
South Atlantic | 209 | 7,442 | 1,163,315 | 1,165,203 | −0.2
East North Central | 244 | 5,275 | 762,940 | 765,293 | −0.3
East South Central | 109 | 2,644 | 345,627 | 346,797 | −0.3
West North Central | 109 | 2,442 | 316,938 | 317,338 | −0.1
West South Central | 228 | 5,765 | 742,569 | 744,193 | −0.2
Mountain | 107 | 2,821 | 437,091 | 437,836 | −0.2
Pacific | 192 | 4,436 | 684,476 | 684,819 | −0.1
Puerto Rico | 30 | 428 | 36,031 | 36,292 | −0.7
By Region—Rural:
New England | 27 | 112 | 14,832 | 14,846 | −0.1
Middle Atlantic | 39 | 280 | 28,572 | 28,811 | −0.8
South Atlantic | 138 | 1,394 | 171,752 | 170,429 | 0.8
East North Central | 142 | 940 | 113,541 | 113,151 | 0.3
East South Central | 114 | 1,571 | 180,434 | 178,743 | 0.9
West North Central | 184 | 889 | 105,995 | 106,186 | −0.2
West South Central | 126 | 1,096 | 121,527 | 119,706 | 1.5
Mountain | 106 | 534 | 65,872 | 65,695 | 0.3
Pacific | 59 | 355 | 47,772 | 47,661 | 0.2
Puerto Rico | 6 | 184 | 18,381 | 15,140 | 17.6
Routine Home Care Days:
0-3499 DAYS (Small) | 629 | 997 | 125,330 | 125,398 | −0.1
3500-19,999 DAYS (Medium) | 1,192 | 11,623 | 1,529,182 | 1,531,330 | −0.1
20,000+ DAYS (Large) | 614 | 30,612 | 4,429,683 | 4,428,586 | 0.0
Type of Ownership
Voluntary | 1,309 | 23,696 | 3,411,195 | 3,415,970 | −0.1
Proprietary | 840 | 17,843 | 2,449,666 | 2,445,117 | 0.2
Government | 185 | 874 | 116,593 | 116,753 | −0.1
Unknown | 101 | 819 | 106,741 | 107,476 | −0.7
Hospice Base:
Freestanding | 1,188 | 29,277 | 4,136,404 | 4,137,689 | 0.0
Home Health Agency | 623 | 7,802 | 1,110,134 | 1,108,210 | 0.2
Hospital | 550 | 5,470 | 749,156 | 750,172 | −0.1
Skilled Nursing Facility | 15 | 174 | 28,273 | 28,351 | −0.3
Unknown | 59 | 509 | 60,227 | 60,892 | −1.1
Note: For purposes of comparing the proposed CBSA designations with the current MSA designations, hospice listings are based on the MSA designations.
FY 2005 payment rates were used for estimated payments for FY 2006. FY 2006 payment rates will be adjusted to reflect the full hospital market basket.

List of Subjects for 42 CFR Part 418

Health facilities, Hospice care, Medicare, Reporting and recordkeeping requirements.

For the reasons set forth in the preamble, the Centers for Medicare & Medicaid Services would amend 42 CFR part 418 as set forth below:

PART 418—HOSPICE CARE

1. The authority citation for part 418 continues to read as follows:

Authority: Secs. 1102 and 1871 of the Social Security Act (42 U.S.C. 1302 and 1395hh).

2. Section 418.3 is amended by revising the definition of Attending physician to read as follows:

§ 418.3 Definitions.

* * * * *

Attending physician means a—(1)(i) Doctor of medicine or osteopathy legally authorized to practice medicine and surgery by the State in which he or she performs an action; or

(ii) Nurse practitioner who meets the training, education, and experience requirements as the Secretary may prescribe; and

(2) Is identified by the individual, at the time he or she elects to receive hospice care, as having the most significant role in the determination and delivery of the individual's medical care.

* * * * *

3. Section 418.22 is amended by—

A. Republishing the heading of paragraph (c) and paragraph (c)(1).

B. Revising paragraph (c)(1)(ii).

The republication and revisions read as follows:

§ 418.22 Certification of terminal illness.

* * * * *

(c) Sources of certification. (1) For the initial 90-day period, the hospice must obtain written certification statements (and oral certification statements if required under paragraph (a)(3) of this section) from—

(i) * * *

(ii) The individual's attending physician, if the individual has an attending physician. The attending physician must meet the definition of physician specified in § 410.20 of this subchapter.

* * * * *

4. Section 418.302 is amended by revising paragraph (d) to read as follows:

§ 418.302 Payment procedures for hospice care.

* * * * *

(d)(1) The intermediary reimburses the hospice its appropriate payment amount for each day for which an eligible Medicare beneficiary is under the hospice's care.

(2) Effective December 8, 2003, if a hospice makes arrangements with another hospice to provide services under the circumstances specified in section 1861(dd)(5)(D) of the Act, the intermediary reimburses the hospice for which the beneficiary has made an election as described in paragraph (d)(1) of this section.

* * * * *

5. Section 418.304 is amended by—

A. Revising the section heading.

B. Revising the introductory text of paragraph (a).

C. Adding a new paragraph (e).

The revisions and additions read as follows:

§ 418.304 Payment for physician and nurse practitioner services.

(a) The following services performed by hospice physicians and nurse practitioners are included in the rates described in § 418.302:

* * * * *

(e)(1) Effective December 8, 2003, Medicare pays for attending physician services provided by nurse practitioners to Medicare beneficiaries who have elected the hospice benefit and who have selected a nurse practitioner as their attending physician. This applies to nurse practitioners without regard to whether they are hospice employees.

(2) Nurse practitioners may bill and receive payment for services only if the—

(i) Nurse practitioner is the beneficiary's attending physician as defined in § 418.3;

(ii) Services are medically reasonable and necessary; and

(iii) Services are performed by a physician in the absence of the nurse practitioner; and

(iv) Services are not related to the certification of terminal illness specified in § 418.22.

(3) Payment for nurse practitioner services are made at 85 percent of the physician fee schedule amount.

(Catalog of Federal Domestic Assistance Program No. 93.773, Medicare—Hospital Insurance; and Program No. 93.774, Medicare—Supplementary Medical Insurance Program)

Dated: April 7, 2005.
Mark B. McClellan,
Administrator, Centers for Medicare & Medicaid Services.
Approved: April 15, 2005.
Michael O. Leavitt,
Secretary.

Addendum

Table A.—Hospice Wage index for Urban Areas by CBSA
CBSA code number | Urban area (Constituent counties or county equivalents) ¹ | Wage index ²
10180 | Abilene, TX | 0.8348
| Callahan County, TX
| Jones County, TX
| Taylor County, TX
10380 | Aguadilla-Isabela-San Sebastian, PR | 0.4922
| Aguada Municipio, PR
| Aguadilla Municipio, PR
| Anasco Municipio, PR
| Isabela Municipio, PR
| Lares Municipio, PR
| Moca Muncipio, PR
| Rincón Municipio, PR
| San Sebastián Municipio, PR
10420 | Akron, OH | 0.9630
| Portage County, OH
| Summit County, OH
10500 | Albany, GA | 1.1981
| Baker County, GA
| Dougherty County, GA
| Lee County, GA
| Terrell County, GA
| Worth County, GA
10580 | Albany-Schenectady-Troy, NY | 0.9199
| Albany County, NY
| Rensselaer County, NY
| Saratoga County, NY
| Schenectady County, NY
| Schoharie County, NY
10740 | Albuquerque, NM | 1.1151
| Bernalillo County, NM
| Sandoval County, NM
| Torrance County, NM
| Valencia County, NM
10780 | Alexandria, LA | 0.8690
| Grant Parrish
| Rapides Parish, LA
10900 | Allentown-Bethlehem-Easton, PA-NJ | 1.0104
| Warren County, NJ
| Carbon County, PA
| Lehigh County, PA
| Northampton County, PA
11020 | Altoona, PA | 0.8999
| Blair County, PA
11100 | Amarillo, TX | 0.9761
| Armstrong County, TX
| Carson County, TX
| Potter County, TX
| Randall County, TX
11180 | Ames, IA | 1.0081
| Story County, IA
11260 | Anchorage, AK | 1.2937
| Anchorage Municipality, AK
| Matanuska-Susitna Borough, AK
11300 | Anderson, IN | 0.9266
| Madison County, IN
11340 | Anderson, SC | 0.9220
| Anderson County, SC
11460 | Ann Arbor, MI | 1.1722
| Washtenaw County, MI
11500 | Anniston-Oxford, AL | 0.8381
| Calhoun County, AL
11540 | Appleton, WI | 0.9711
| Calumet County, WI
| Outagamie County, WI
11700 | Asheville, NC | 0.9774
| Buncombe County, NC
| Haywood County, NC
| Henderson County, NC
| Madison County, NC
12020 | Athens-Clarke County, GA | 1.0850
| Clarke County, GA
| Madison County, GA
| Oconee County, GA
| Oglethorpe County, GA
12060 | Atlanta-Sandy Springs-Marietta, GA | 1.0604
| Barrow County, GA
| Bartow County, GA
| Butts County
| Carroll County, GA
| Cherokee County, GA
| Clayton County, GA
| Cobb County, GA
| Coweta County, GA
| Dawson County, GA
| DeKalb County, GA
| Douglas County, GA
| Fayette County, GA
| Forsyth County, GA
| Fulton County, GA
| Gwinnett County, GA
| Haralson County, GA
| Heard County, GA
| Henry County, GA
| Jasper County, GA
| Lamar County, GA
| Meriwether County, GA
| Newton County, GA
| Paulding County, GA
| Pickens County, GA
| Pike County, GA
| Rockdale County, GA
| Spalding County, GA
| Walton County, GA
12100 | Atlantic City, NJ | 1.1625
| Atlantic County, NJ
12220 | Auburn-Opelika, AL | 0.8736
| Lee County, AL
12260 | Augusta-Richmond County, GA-SC | 0.9735
| Burke County, GA
| Columbia County, GA
| McDuffie County, GA
| Richmond County, GA
| Aiken County, SC
| Edgefield County, SC
12420 | Austin-Round Rock, TX | 1.0204
| Bastrop County, TX
| Caldwell County, TX
| Hays County, TX
| Travis County, TX
| Williamson County, TX
12540 | Bakersfield, CA | 1.0673
| Kern County, CA
12580 | Baltimore-Towson, MD | 1.0536
| Anne Arundel County, MD
| Baltimore City, MD
| Baltimore County, MD
| Carroll County, MD
| Harford County, MD
| Howard County, MD
| Queen Anne's County, MD
12620 | Bangor, ME | 1.0587
| Penobscot County, ME
12700 | Barnstable Town, MA | 1.3118
| Barnstable County, MA
12940 | Baton Rouge, LA | 0.8847
| Ascension Parish, LA
| East Baton Rouge Parish, LA
| East Feliciana Parish, LA
| Iberville Parish, LA
| Livingston Parish, LA
| Pointe Coupee Parish, LA
| St. Helena Parish, LA
| West Baton Rouge Parish, LA
| West Feliciana Parish, LA
12980 | Battle Creek, MI | 0.9961
| Calhoun County, MI
13020 | Bay City, MI | 1.0182
| Bay County, MI
13140 | Beaumont-Port Arthur, TX | 0.9163
| Hardin County, TX
| Jefferson County, TX
| Orange County, TX
13380 | Bellingham, WA | 1.2381
| Whatcom County, WA
13460 | Bend, OR | 1.1276
| Deschutes County, OR
13644 | Bethesda-Frederick-Gaithersburg, MD | 1.1651
| Frederick County, MD
| Montgomery County, MD
13740 | Billings, MT | 0.9530
| Carbon County, MT
| Yellowstone County, MT
13780 | Binghamton, NY | 0.8983
| Broome County, NY
| Tioga County, NY
13820 | Birmingham-Hoover, AL | 0.9738
| Bibb County, AL
| Blount County, AL
| Chilton County, AL
| Jefferson County, AL
| St. Clair County, AL
| Shelby County, AL
13900 | Bismarck, ND | 0.8000
| Burleigh County, ND
| Morton County, ND
13980 | Blacksburg-Christiansburg-Radford, VA | 0.8456
| Giles County, VA
| Montgomery County, VA
| Pulaski County, VA
| Radford City, VA
14020 | Bloomington, IN | 0.9132
| Greene County, IN
| Monroe County, IN
| Owen County, IN
14060 | Bloomington-Normal, IL | 0.9689
| McLean County, IL
14260 | Boise City, ID | 0.9946
| Ada County, ID
| Boise County, ID
| Canyon County, ID
| Gem County, ID
| Owyhee, County, ID
14484 | Boston-Quincy, MA | 1.2518
| Norfolk County, MA
| Plymouth County, MA
| Suffolk County, MA
14500 | Boulder, CO | 1.0684
| Boulder County, CO
14540 | Bowling Green, KY | 0.8657
| Edmonson County, KY
| Warren County, KY
14740 | Bremerton-Silverdale, WA | 1.1288
| Kitsap County, WA
14860 | Bridgeport-Stamford-Norwalk, CT | 1.3650
| Fairfield County, CT
15180 | Brownsville-Harlingen, TX | 1.0768
| Cameron County, TX
15260 | Brunswick, GA | 1.2690
| Brantley County, GA
| Glynn County, GA
| McIntosh County, GA
15380 | Buffalo-Niagara Falls, NY | 0.9932
| Erie County, NY
| Niagara County, NY
15500 | Burlington, NC | 0.9536
| Alamance County, NC
15540 | Burlington-South Burlington, VT | 0.9914
| Chittenden County, VT
| Franklin County, VT
| Grand Isle County, VT
15764 | Cambridge-Newton-Framingham, MA | 1.1899
| Middlesex County, MA
15804 | Camden, NJ | 1.1353
| Burlington County, NJ
| Camden County, NJ
| Gloucester County, NJ
15940 | Canton-Massillon, OH | 0.9460
| Carroll County, OH
| Stark County, OH
15980 | Cape Coral-Fort Myers, FL | 0.9966
| Lee County, FL
16180 | Carson City, NV | 1.1009
| Carson City, NV
16220 | Casper, WY | 0.9830
| Natrona County, WY
16300 | Cedar Rapids, IA | 0.9545
| Benton County, IA
| Jones County, IA
| Linn County, IA
16580 | Champaign-Urbana, IL | 1.0132
| Champaign County, IL
| Ford County, IL
| Piatt County, IL
16620 | Charleston, WV | 0.9439
| Boone County, WV
| Clay County, WV
| Kanawha County, WV
| Lincoln County, WV
| Putnam County, WV
16700 | Charleston-North Charleston, SC | 1.0018
| Berkeley County, SC
| Charleston County, SC
| Dorchester County, SC
16740 | Charlotte-Gastonia-Concord, NC-SC | 1.0361
| Anson County, NC
| Cabarrus County, NC
| Gaston County, NC
| Mecklenburg County, NC
| Union County, NC
| York County, SC
16820 | Charlottesville, VA | 1.0947
| Albemarle County, VA
| Fluvanna County, VA
| Greene County, VA
| Nelson County, VA
| Charlottesville City, VA
16860 | Chattanooga, TN-GA | 0.9791
| Catoosa County, GA
| Dade County, GA
| Walker County, GA
| Hamilton County, TN
| Marion County, TN
| Sequatchie County, TN
16940 | Cheyenne, WY | 0.9550
| Laramie County, WY
16974 | Chicago-Naperville-Joliet, IL | 1.1558
| Cook County, IL
| DeKalb County, IL
| Du Page County, IL
| Grundy County, IL
| Kane County, IL
| Kendall County, IL
| McHenry County, IL
| Will County, IL
17020 | Chico-Paradise, CA | 1.1211
| Butte County, CA
17140 | Cincinnati-Middletown, OH-KY-IN | 1.0120
| Dearborn County, IN
| Franklin County, IN
| Ohio County, IN
| Boone County, KY
| Bracken County, KY
| Campbell County, KY
| Gallatin County , KY
| Grant County, KY
| Kenton County, KY
| Pendleton County, KY
| Brown County, OH
| Butler County, OH
| Clermont County, OH
| Hamilton County, OH
| Warren County, OH
17300 | Clarksville, TN-KY | 0.8531
| Christian County, KY
| Trigg County, KY
| Montgomery County, TN
| Stewart County, TN
17420 | Cleveland, TN | 0.8342
| Bradley County, TN
| Polk County, TN
17460 | Cleveland-Elyria-Mentor, OH | 1.0263
| Cuyahoga County, OH
| Geauga County, OH
| Lake County, OH
| Lorain County, OH
| Medina County, OH
17660 | Coeur d'Alene, ID | 0.9932
| Kootenai County, ID
17780 | College Station-Bryan, TX | 0.9830
| Brazos County, TX
| Burleson County, TX
| Robertson County, TX
17820 | Colorado Springs, CO | 1.0414
| El Paso County, CO
| Teller County, CO
17860 | Columbia, MO | 0.8929
| Boone County, MO
| Howard County, MO
17900 | Columbia, SC | 0.9988
| Calhoun County, SC
| Fairfield County, SC
| Kershaw County, SC
| Lexington County, SC
| Richland County, SC
| Saluda County, SC
17980 | Columbus, GA-AL | 0.9242
| Russell County, AL
| Chattahoochee County, GA
| Harris County, GA
| Marion County, GA
| Muscogee County, GA
18020 | Columbus, IN | 0.9984
| Bartholomew County, IN
18140 | Columbus, OH | 1.0355
| Delaware County, OH
| Fairfield County, OH
| Franklin County, OH
| Licking County, OH
| Madison County, OH
| Morrow County, OH
| Pickaway County, OH
| Union County, OH
18580 | Corpus Christi, TX | 0.9196
| Aransas, TX
| Nueces County, TX
| San Patricio County, TX
18700 | Corvallis, Oregon | 1.1214
| Benton County, OR
19060 | Cumberland, MD-WV | 0.9212
| Allegany County, MD
| Mineral County, WV
19124 | Dallas-Plano-Irving TX | 1.0713
| Collin County, TX
| Dallas County, TX
| Delta County, TX
| Denton County, TX
| Ellis County, TX
| Hunt County, TX
| Kaufman County, TX
| Rockwall County, TX
19140 | Dalton, GA | 1.0165
| Murray County, GA
| Whitfield County, GA
19180 | Danville, IL | 0.8925
| Vermilion, County, IL
19260 | Danville, VA | 0.9192
| Danville City, VA
| Pittsylvania County, VA
19340 | Davenport-Moline-Rock Island, IA-IL | 0.9330
| Henry County, IL
| Mercer County, IL
| Rock Island County, IL
| Scott County, IA
19380 | Dayton, OH | 0.9894
| Greene County, OH
| Miami County, OH
| Montgomery County, OH
| Preble County, OH
19460 | Decatur, AL | 0.9459
| Lawrence County, AL
| Morgan County, AL
19500 | Decatur, IL | 0.8638
| Macon County, IL
19660 | Deltona-Daytona Beach-Ormond Beach, FL | 0.9463
| Volusia County, FL
19740 | Denver-Aurora, CO | 1.1596
| Adams County, CO
| Arapahoe County, CO
| Broomfield County, CO
| Clear Creek County, CO
| Denver County, CO
| Douglas County, CO
| Elbert County, CO
| Jefferson County, CO
| Park County, CO
19780 | Des Moines, IA | 0.9854
| Dallas County, IA
| Guthrie County, IA
| Madison County, IA
| Polk County, IA
| Warren County, IA
19804 | Detroit-Livonia-Dearborn, MI | 1.1006
| Wayne County, MI
20020 | Dothan, AL | 0.8015
| Geneva County, AL
| Henry County, AL
| Houston County, AL
20100 | Dover, DE | 1.0449
| Kent County, DE
20220 | Dubuque, IA | 0.9303
| Dubuque County, IA
20260 | Duluth, MN-WI | 1.0996
| Carlton County, MN
| St. Louis County, MN
| Douglas County, WI
20500 | Durham, NC | 1.1021
| Chatham County, NC
| Durham County, NC
| Orange County, NC
| Person County, NC
20740 | Eau Claire, WI | 0.9719
| Chippewa County, WI
| Eau Claire County, WI
20764 | Edison, NJ | 1.1843
| Middlesex County, NJ
| Monmouth County, NJ
| Ocean County, NJ
| Somerset County, NJ
20940 | El Centro, CA | 0.9418
| Imperial County, CA
21060 | Elizabethtown, KY | 0.9235
| Hardin County, KY
| Larue County, KY
21140 | Elkhart-Goshen, IN | 0.9867
| Elkhart County, IN
21300 | Elmira, NY | 0.8981
| Chemung County, NY
21340 | El Paso, TX | 0.9764
| El Paso County, TX
21500 | Erie, PA | 0.9251
| Erie County, PA
21604 | Essex County, MA | 1.1339
| Essex County, MA
21660 | Eugene-Springfield, OR | 1.1635
| Lane County, OR
21780 | Evansville, IN-KY | 0.8903
| Gibson County, IN
| Posey County, IN
| Vanderburgh County, IN
| Warrick County, IN
| Henderson County, KY
| Webster County, KY
21820 | Fairbanks, AK | 1.1854
| Fairbanks North Star Borough, AK
21940 | Fajardo, PR | 0.4530
| Ceiba Municipio, PR
| Fajardo Municipio, PR
| Luquillo Municipio, PR
22020 | Fargo, ND-MN | 0.9693
| Clay County, MN
| Cass County, ND
22140 | Farmington, NM | 0.8560
| San Juan County, NM
22180 | Fayetteville, NC | 0.9957
| Cumberland County, NC
| Hoke County, NC
22220 | Fayetteville-Springdale-Rogers, AR-MO | 0.9184
| Benton County, AR
| Madison County, AR
| Washington County, AR
| McDonald County, MO
22380 | Flagstaff, AZ | 1.1472
| Coconino County, AZ
22420 | Flint, MI | 1.1888
| Genesee County, MI
22500 | Florence, SC | 0.9394
| Darlington County, SC
| Florence County, SC
22520 | Florence-Muscle Shoals, AL | 0.8383
| Colbert County, AL
| Lauderdale County, AL
22540 | Fond du Lac, WI | 1.0525
| Fond du Lac County, WI
22660 | Fort Collins-Loveland, CO | 1.0867
| Larimer County, CO
22744 | Ft. Lauderdale-Pompano Beach-Deerfield Beach, FL | 1.0810
| Broward County, FL
22900 | Fort Smith, AR-OK | 0.8809
| Crawford County, AR
| Franklin County, AR
| Sebastian County, AR
| Le Flore County, OK
| Sequoyah County, OK
23020 | Fort Walton Beach-Crestview-Destin, FL | 0.9344
| Okaloosa County, FL
23060 | Fort Wayne, IN | 1.0430
| Allen County, IN
| Wells County, IN
| Whitley County, IN
23104 | Forth Worth-Arlington, TX | 1.0073
| Johnson County, TX
| Parker County, TX
| Tarrant County, TX
| Wise County, TX
23420 | Fresno, CA | 1.1205
| Fresno County, CA
23460 | Gadsden, AL | 0.8560
| Etowah County, AL
23540 | Gainesville, FL | 1.0059
| Alachua County, FL
| Gilchrist County, FL
23580 | Gainesville, GA | 1.0164
| Hall County, GA
23844 | Gary, IN | 0.9901
| Jasper County, IN
| Lake County, IN
| Newton County, IN
| Porter County, IN
24020 | Glens Falls, NY | 0.9004
| Warren County, NY
| Washington County, NY
24140 | Goldsboro, NC | 0.9335
| Wayne County, NC
24220 | Grand Forks, ND-MN | 0.9668
| Grand Forks County, ND
| Polk County, MN
24300 | Grand Junction, CO | 1.0528
| Mesa County, CO
24340 | Grand Rapids-Wyoming, MI | 1.0018
| Barry County, MI
| Ionia County, MI
| Kent County, MI
| Newaygo County, MI
24500 | Great Falls, MT | 0.9369
| Cascade County, MT
24540 | Greeley, CO | 1.0043
| Weld County, CO
24580 | Green Bay, WI | 1.0199
| Brown County, WI
| Kewaunee County, WI
| Oconto County, WI
24660 | Greensboro-High Point, NC | 0.9773
| Guilford County, NC
| Randolph County, NC
| Rockingham County, NC
24780 | Greenville, NC | 0.9766
| Green County, NC
| Pitt County, NC
24860 | Greenville, SC | 1.0164
| Greenville County, SC
| Laurens County, SC
| Pickens County, SC
25020 | Guayama, PR | 0.4606
| Arroyo Municipio, PR
| Guayama Municipio, PR
| Patillas Municipio, PR
25060 | Gulfport-Biloxi, MS | 0.9518
| Hancock County, MS
| Harrison County, MS
| Stone County, MS
25180 | Hagerstown-Martinsburg, MD-WV | 1.0332
| Washington County, MD
| Berkeley County, WV
| Morgan County, WV
25260 | Hanford-Corcoran, CA | 0.9886
| Kings County, CA
25420 | Harrisburg—Carlisle, PA | 0.9953
| Cumberland County, PA
| Dauphin County, PA
| Perry County, PA
25500 | Harrisonburg, VA | 0.9864
| Rockingham County, VA
| Harrisonburg City, VA
25540 | Hartford-West Hartford-East Hartford, CT | 1.1756
| Hartford County, CT
| Middlesex County, CT
| Tolland County, CT
25620 | Hattiesburg, MS | 0.8000
| Forrest County, MS
| Lamar County, MS
| Perry County, MS
25860 | Hickory-Morganton-Lenoir, NC | 1.0105
| Alexander County, NC
| Burke County, NC
| Caldwell County, NC
| Catawba County, NC
25980 | Hinesville-Fort Stewart, GA | 0.8205
| Liberty County, GA
| Long County, GA
26100 | Holland-Grand Haven, MI | 0.9984
| Ottawa County, MI
26180 | Honolulu, HI | 1.1712
| Honolulu County, HI
26300 | Hot Springs, AR | 0.9836
| Garland County, AR
26380 | Houma-Bayou Cane-Thibodaux, LA | 0.8211
| Lafourche Parish, LA
| Terrebonne Parish, LA
26420 | Houston-Baytown-Sugar Land, TX | 1.0606
| Austin County, TX
| Brazoria County, TX
| Chambers County, TX
| Fort Bend County, TX
| Galveston County, TX
| Harris County, TX
| Liberty County, TX
| Montgomery County, TX
| San Jacinto County, TX
| Waller County, TX
26580 | Huntington-Ashland, WV-KY-OH | 1.0171
| Boyd County, KY
| Greenup County, KY
| Lawrence County, OH
| Cabell County, WV
| Wayne County, WV
26620 | Huntsville, AL | 0.9413
| Limestone County, AL
| Madison County, AL
26820 | Idaho Falls, ID | 0.9634
| Bonneville County, ID
| Jefferson County, ID
26900 | Indianapolis, IN | 1.0755
| Boone County, IN
| Brown County, IN
| Hamilton County, IN
| Hancock County, IN
| Hendricks County, IN
| Johnson County, IN
| Marion County, IN
| Morgan County, IN
| Putnam County, IN
| Shelby County, IN
26980 | Iowa City, IA | 1.0267
| Johnson County, IA
| Washington County, IA
27060 | Ithaca, NY | 1.0198
| Tompkins County, NY
27100 | Jackson, MI | 0.9727
| Jackson County, MI
27140 | Jackson, MS | 0.8817
| Copiah County, MS
| Hinds County, MS
| Madison County, MS
| Rankin County, MS
| Simpson County, MS
27180 | Jackson, TN | 0.9465
| Chester County, TN
| Madison County, TN
27260 | Jacksonville, FL | 1.0142
| Baker County, FL
| Clay County, FL
| Duval County, FL
| Nassau County, FL
| St. Johns County, FL
27340 | Jacksonville, NC | 0.8934
| Onslow County, NC
27500 | Janesville, WI | 1.0191
| Rock County, WI
27620 | Jefferson City, MO | 0.8867
| Callaway County, MO
| Cole County, MO
| Moniteau County, MO
| Osage County, MO
27740 | Johnson City, TN | 0.8663
| Carter County, TN
| Unicoi County, TN
| Washington County, TN
27780 | Johnstown, PA | 0.8912
| Cambria County, PA
27860 | Jonesboro, AR | 0.8661
| Craighead County, AR
| Poinsett County, AR
27900 | Joplin, MO | 0.9275
| Jasper County, MO
| Newton County, MO
28020 | Kalamazoo-Portage, MI | 1.1354
| Kalamazoo County, MI
| Van Buren County, MI
28100 | Kankakee-Bradley, IL | 1.1276
| Kankakee County, IL
28140 | Kansas City, KS-MO | 1.0240
| Franklin County, KS
| Johnson County, KS
| Leavenworth County, KS
| Linn County, KS
| Miami County, KS
| Wyandotte County, KS
| Bates County, MO
| Caldwell County, MO
| Cass County, MO
| Clay County, MO
| Clinton County, MO
| Jackson County, MO
| Lafayette County, MO
| Platte County, MO
| Ray County, MO
28420 | Kennewick-Richland-Pasco, WA | 1.1188
| Benton County, WA
| Franklin County, WA
28660 | Killeen-Temple-Fort Hood, TX | 0.9829
| Bell County, TX
| Coryell County, TX
| Lampasas County, TX
28700 | Kingsport-Bristol, TN-VA | 0.8763
| Hawkins County, TN
| Sullivan County, TN
| Bristol City, VA
| Scott County, VA
| Washington County, VA
28740 | Kingston, NY | 0.9571
| Ulster County, NY
28940 | Knoxville, TN | 0.9091
| Anderson County, TN
| Blount County, TN
| Knox County, TN
| Loudon County, TN
| Union County, TN
29020 | Kokomo, IN | 0.9556
| Howard County, IN
| Tipton County, IN
29100 | La Crosse, WI-MN | 0.9879
| Houston County, MN
| La Crosse County, WI
29140 | Lafayette, IN | 0.9643
| Benton County, IN
| Carroll County, IN
| Tippecanoe, IN
29180 | Lafayette, LA | 0.8833
| Lafayette County, LA
| St. Martin County, LA
29340 | Lake Charles, LA | 0.8439
| Calcasieu Parish, LA
| Cameron Parish
29404 | Lake County-Kenosha County, IL-WI | 1.0998
| Lake County, IL
| Kenosha County, WI
29460 | Lakeland, FL | 0.9497
| Polk County, FL
29540 | Lancaster, PA | 1.0510
| Lancaster County, PA
29620 | Lansing-East Lansing, MI | 1.0271
| Clinton County, MI
| Eaton County, MI
| Ingham County, MI
29700 | Laredo, TX | 0.9302
| Webb County, TX
29740 | Las Cruces, NM | 0.9342
| Dona Ana County, NM
29820 | Las Vegas-Paradise, NV | 1.2100
| Clarke County, NV
29940 | Lawrence, KS | 0.9193
| Douglas County, KS
30020 | Lawton, OK | 0.8733
| Comanche County, OK
30140 | Lebanon, PA | 0.9114
| Lebanon County, PA
30300 | Lewiston, ID-WA | 0.9905
| Nez Perce County, ID
| Asotin County, WA
30340 | Lewiston-Auburn, ME | 1.0169
| Androscoggin County, ME
30460 | Lexington-Fayette, KY | 0.9953
| Bourbon County, KY
| Clark County, KY
| Fayette County, KY
| Jessamine County, KY
| Scott County, KY
| Woodford County, KY
30620 | Lima, OH | 0.9922
| Allen County, OH
30700 | Lincoln, NE | 1.0856
| Lancaster County, NE
30780 | Little Rock-North Little Rock, AR | 0.9386
| Faulkner County, AR
| Grant County, AR
| Lonoke County, AR
| Perry County, AR
| Pulaski County, AR
| Saline County, AR
30860 | Logan, UT-ID | 0.9671
| Franklin County, ID
| Cache County, UT
30980 | Longview, TX | 0.9360
| Gregg County, TX
| Rusk County, TX
| Upshur County, TX
31020 | Longview, WA | 1.0873
| Cowlitz County, WA
31084 | Los Angeles-Long Beach-Glendale-Santa Ana, CA | 1.2477
| Los Angeles County, CA
31140 | Louisville, KY-IN | 0.9701
| Clark County, IN
| Floyd County, IN
| Harrison County, IN
| Washington County, IN
| Bullitt County, KY
| Henry County, KY
| Jefferson County, KY
| Meade County, KY
| Nelson County, KY
| Oldham County, KY
| Shelby County, KY
| Spencer County, KY
| Trimble County, KY
31180 | Lubbock, TX | 0.9334
| Crosby County, TX
| Lubbock County, TX
31340 | Lynchburg, VA | 0.9589
| Amherst County, VA
| Appomattox County, VA
| Bedford County, VA
| Campbell County, VA
| Bedford City, VA
| Lynchburg City, VA
31420 | Macon, GA | 1.0515
| Bibb County, GA
| Crawford County, GA
| Jones County, GA
| Monroe County, GA
| Twiggs County, GA
31460 | Madera, CA | 0.9062
| Madera County, CA
31540 | Madison, WI | 1.0960
| Columbia County, WI
| Dane County, WI
| Iowa County, WI
31700 | Manchester-Nashua, NH | 1.1318
| Hillsborough County, NI
31900 | Mansfield, OH | 0.9772
| Richland County, OH
32420 | Mayagũez, PR | 0.5167
| Hormigueros Municipio, PR
| Mayagũez, PR
32580 | McAllen-Edinburg-Pharr, TX | 0.9148
| Hidalgo County, TX
32780 | Medford, OR | 1.1203
| Jackson County, OR
32820 | Memphis, TN-AR-MS | 0.9802
| Crittenden County, AR
| DeSoto County, MS
| Marshall County, MS
| Tate County, MS
| Tunica, County, MS
| Fayette County, TN
| Shelby County, TN
| Tipton County, TN
32900 | Merced, CA | 1.1246
| Merced County, CA
33124 | Miami-Miami Beach-Kendall, FL | 1.0497
| Miami-Dade County, FL
33140 | Michigan City-La Porte, IN | 0.9924
| La Porte County, IN
33260 | Midland TX | 0.9980
| Midland County, TX
33340 | Milwaukee-Waukesha-West Allis, WI | 1.0716
| Milwaukee County, WI
| Ozaukee County, WI
| Washington County, WI
| Waukesha County, WI
33460 | Minneapolis-St. Paul-Bloomington, MN-WI | 1.1768
| Anoka County, MN
| Carver County, MN
| Chisago County, MN
| Dakota County, MN
| Hennepin County, MN
| Isanti County, MN
| Ramsey County, MN
| Scott County, MN
| Sherburne County, MN
| Washington County, MN
| Wright County, MN
| Pierce County, WI
| St. Croix County, WI
33540 | Missoula, MT | 1.0229
| Missoula County, MT
33660 | Mobile, AL | 0.8503
| Mobile County, AL
33700 | Modesto, CA | 1.2726
| Stanislaus County, CA
33740 | Monroe, LA | 0.8405
| Ouachita Parish, LA
| Union Parish, LA
33780 | Monroe, MI | 1.0109
| Monroe County, MI
33860 | Montgomery, AL | 0.8827
| Autauga County, AL
| Elmore County, AL
| Lowndes County, AL
| Montgomery County, AL
34060 | Morgantown, WV | 0.9284
| Monongalia County, WV
| Preston County, WV
34100 | Morristown, TN | 0.8285
| Grainger County, TN
| Hamblen County, TN
| Jefferson County, TN
34580 | Mount Vernon-Anacortes, WA | 1.1247
| Skagit County, WA
34620 | Muncie, IN | 0.9125
| Delaware County, IN
34740 | Muskegon-Norton Shores, MI | 1.0359
| Muskegon County, MI
34820 | Myrtle Beach-Conway-North Myrtle Beach, SC | 0.9595
| Horry County, SC
34900 | Napa, CA | 1.3326
| Napa County, CA
34940 | Naples-Marco Island, FL | 1.1228
| Collier County, FL
34980 | Nashville-Davidson-Murfreesboro, TN | 1.0726
| Cannon County, TN
| Cheatham County, TN
| Davidson County, TN
| Dickson County, TN
| Hickman County, TN
| Macon County, TN
| Robertson County, TN
| Rutherford County, TN
| Sumner County, TN
| Trousdale County, TN
| Williamson County, TN
| Wilson County, TN
35004 | Nassau-Suffolk, NY | 1.3726
| Nassau County, NY
| Suffolk County, NY
35084 | Newark-Union, NJ-PA | 1.2429
| Essex County, NJ
| Hunterdon County, NJ
| Morris County, NJ
| Sussex County, NJ
| Union County, NJ
| Pike County, PA
35300 | New Haven-Milford, CT | 1.2556
| New Haven County, CT
35380 | New Orleans-Metairie-Kenner, LA | 0.9681
| Jefferson Parish, LA
| Orleans Parish, LA
| Plaquemines Parish, LA
| St. Bernard Parish, LA
| St. Charles Parish, LA
| St. John The Baptist Parish, LA
| St. Tammany Parish, LA
35644 | New York-Wayne-White Plains, NY-NJ | 1.4156
| Bergen County, NJ
| Hudson County, NJ
| Passaic County, NJ
| Bronx County, NY
| Kings County, NY
| New York County, NY
| Putnam County, NY
| Queens County, NY
| Richmond County, NY
| Rockland County, NY
| Westchester County, NY
35660 | Niles-Benton Harbor, MI | 0.9409
| Berrien County, MI
35980 | Norwich-New London Ct | 1.2332
| New London County, CT
36084 | Oakland-Fremont-Hayward, CA | 1.6186
| Alameda County, CA
| Contra Costa County, CA
36100 | Ocala, FL | 0.9734
| Marion County, FL
36140 | Ocean City, NJ | 1.1496
| Cape May County, NJ
36220 | Odessa, TX | 1.0420
| Ector County, TX
36260 | Ogden-Clearfield, UT | 0.9801
| Davis County, UT
| Morgan County, UT
| Weber County, UT
36420 | Oklahoma City, OK | 0.9552
| Canadian County, OK
| Cleveland County, OK
| Grady County, OK
| Lincoln County, OK
| Logan County, OK
| McClain County, OK
| Oklahoma County, OK
36500 | Olympia, WA | 1.1705
| Thurston County, WA
36540 | Omaha-Council Bluffs, NE-IA | 1.0373
| Harrison County, IA
| Mills County, IA
| Pottawattamie County, IA
| Cass County, NE
| Douglas County, NE
| Sarpy County, NE
| Saunders County, NE
| Washington County, NE
36740 | Orlando, FL | 1.0360
| Lake County, FL
| Orange County, FL
| Osceola County, FL
| Seminole County, FL
36780 | Oshkosh-Neenah, WI | 0.9677
| Winnebago County, WI
36980 | Owensboro, KY | 0.8969
| Daviess County, KY
| Hancock County, KY
| McLean County, KY
37100 | Oxnard-Thousand Oaks-Ventura, CA | 1.1810
| Ventura County, CA
37340 | Palm Bay-Melbourne-Titusville, FL | 1.0244
| Brevard County, FL
37460 | Panama City-Lynn Haven, FL | 0.8640
| Bay County, FL
37620 | Parkersburg-Marietta, WV-OH | 0.8814
| Washington County, OH
| Pleasants County, WV
| Wirt County, WV
| Wood County, WV
37700 | Pascagoula, MS | 0.8480
| George County, MS
| Jackson County, MS
37860 | Pensacola-Ferry Pass-Brent, FL | 0.8833
| Escambia County, FL
| Santa Rosa County, FL
37900 | Peoria, IL | 0.9450
| Marshall County, IL
| Peoria County, IL
| Stark County, IL
| Tazewell County, IL
| Woodford County, IL
37964 | Philadelphia, PA | 1.1555
| Bucks County, PA
| Chester County, PA
| Delaware County, PA
| Montgomery County, PA
| Philadelphia County, PA
38060 | Phoenix-Mesa-Scottsdale, AZ | 1.0616
| Maricopa County, AZ
| Pinal County, AZ
38220 | Pine Bluff, AR | 0.9224
| Cleveland County, AR
| Jefferson County, AR
| Lincoln County, AR
38300 | Pittsburgh, PA | 0.9291
| Allegheny County, PA
| Armstrong County, PA
| Beaver County, PA
| Butler County, PA
| Fayette County, PA
| Washington County, PA
| Westmoreland County, PA
38340 | Pittsfield, MA | 1.1102
| Berkshire County, MA
38540 | Pocatello, ID | 1.0210
| Bannock County, ID
| Power County, ID
38660 | Ponce, PR | 0.5757
| Juana Diaz Municipio, PR
| Ponce Municipio, PR
| Villalba Municipio, PR
38860 | Portland-South Portland-Biddeford, ME | 1.0754
| Cumberland County, ME
| Sagadahoc County, ME
| York County, ME
38900 | Portland-Vancouver-Beaverton, OR-WA | 1.2127
| Clackamas County, OR
| Columbia County, OR
| Multnomah County, OR
| Washington County, OR
| Yamhill County, OR
| Clark County, WA
| Skamania County, WA
38940 | Port St. Lucie-Fort Pierce, FL | 1.0684
| Martin County, FL
| St. Lucie County, FL
39100 | Poughkeepsie-Newburgh-Middletown, NY | 1.2084
| Duchess County, NY
| Orange County, NY
39140 | Prescott, AZ | 1.0520
| Yavapai County, AZ
39300 | Providence-New Bedford-Fall River, RI-MA | 1.1623
| Bristol County, MA
| Bristol County, RI
| Kent County, RI
| Newport County, RI
| Providence County, RI
| Washington County, RI
39340 | Provo-Orem, UT | 1.0197
| Juab County, UT
| Utah County, UT
39380 | Pueblo, CO | 0.9308
| Pueblo County, CO
39460 | Punta Gorda, FL | 1.0040
| Charlotte County, FL
39540 | Racine, WI | 0.9619
| Racine County, WI
39580 | Raleigh-Cary, NC | 1.0695
| Franklin County, NC
| Johnston County, NC
| Wake County, NC
39660 | Rapid City, SD | 0.9478
| Meade County, SD
| Pennington County, SD
39740 | Reading, PA | 0.9800
| Berks County, PA
39820 | Redding, CA | 1.2586
| Shasta County, CA
39900 | Reno-Sparks, NV | 1.1120
| Storey County, NV
| Washoe County, NV
40060 | Richmond, VA | 0.9994
| Amelia County, VA
| Caroline County, VA
| Charles City County, VA
| Chesterfield County, VA
| Cumberland County, VA
| Dinwiddie County, VA
| Goochland County, VA
| Hanover County, VA
| Henrico County, VA
| King and Queen County, VA
| King William County, VA
| Louisa County, VA
| New Kent County, VA
| Powhatan County, VA
| Prince George County, VA
| Sussex County, VA
| Colonial Heights City, VA
| Hopewell City, VA
| Petersburg City, VA
| Richmond City, VA
40140 | Riverside-San Bernardino-Ontario, CA | 1.1666
| Riverside County, CA
| San Bernardino County, CA
40220 | Roanoke, VA | 0.8949
| Botetourt County, VA
| Craig County, VA
| Franklin County, VA
| Roanoke County, VA
| Roanoke City, VA
| Salem City, VA
40340 | Rochester, MN | 1.2234
| Dodge County, MN
| Olmsted County, MN
| Wabasha County, MN
40380 | Rochester, NY | 0.9870
| Livingston County, NY
| Monroe County, NY
| Ontario County, NY
| Orleans County, NY
| Wayne County, NY
40420 | Rockford, IL | 1.0237
| Boone County, IL
| Winnebago County, IL
40484 | Rockingham County, NH | 1.0870
| Rockingham County, NH
| Stafford County, NH
40580 | Rocky Mount, NC | 0.9569
| Edgecombe County, NC
| Nash County, NC
40660 | Rome, Georgia | 0.9442
| Floyd County, GA
40900 | Sacramento-Arden-Arcade-Roseville, CA | 1.2443
| El Dorado County, CA
| Placer County, CA
| Sacramento County, CA
| Yolo County, CA
40980 | Saginaw-Saginaw Township North, MI | 1.0437
| Saginaw County, MI
41060 | St. Cloud, MN | 1.0863
| Benton County, MN
| Stearns County, MN
41100 | St. George, UT | 1.0058
| Washington County, UT
41140 | St. Joseph, MO-KS | 1.0649
| Doniphan County, KS
| Andrew County, MO
| Buchanan County, MO
| DeKalb County, MO
41180 | St. Louis, MO-IL | 0.9652
| Bond County, IL
| Calhoun County, IL
| Clinton County, IL
| Jersey County, IL
| Macoupin County, IL
| Madison County, IL
| Monroe County, IL
| St. Clair County, IL
| Crawford County, MO
| Franklin County, MO
| Jefferson County, MO
| Lincoln County, MO
| St. Charles County, MO
| St. Louis County, MO
| St. Louis City, MO
| Warren County, MO
| Washington County, MO
41420 | Salem, OR | 1.1226
| Marion County, OR
| Polk County, OR
41500 | Salinas, CA | 1.4700
| Monterey County, CA
41540 | Salisbury, MD | 0.9702
| Somerset County, MD
| Wicomico County, MD
41620 | Salt Lake City, UT | 1.0168
| Salt Lake County, UT
| Summit County, UT
| Tooele County, UT
41660 | San Angelo, TX | 0.8685
| Irion County, TX
| Tom Green County, TX
41700 | San Antonio, TX | 0.9575
| Atascosa County, TX
| Bandera County, TX
| Bexar County, TX
| Comal County, TX
| Guadalupe County, TX
| Kendall County, TX
| Medina County, TX
| Wilson County, TX
41740 | San Diego-Carlsbad-San Marcos, CA | 1.1982
| San Diego County, CA
41780 | Sandusky, OH | 0.9589
| Erie County, OH
41884 | San Francisco-San Mateo-Redwood City, CA | 1.5646
| Marin County, CA
| San Francisco County, CA
| San Mateo County, CA
41900 | San Germán-Cabo Rojo, PR | 0.6026
| Cabo Rojo Municipio, PR
| Lajas Municipio, PR
| Sabana Grande Municipio, PR
| San Germán-Cabo Rojo Municipio, PR
41940 | San Jose-Sunnyvale-Santa Clara, CA | 1.5657
| San Benito County, CA
| Santa Clara County, CA
41980 | San Juan-Caguas-Guaynabo, PR | 0.5342
| Aguas Buenas Municipio, PR
| Aibonito Municipio, PR
| Arecibo Municipio, PR
| Barceloneta Municipio, PR
| Barranquitas Municipio, PR
| Bayamón Municipio, PR
| Caguas Municipio, PR
| Camuy Municipio, PR
| Canóvanas Municipio, PR
| Carolina Municipio, PR
| Cataňo Municipio, PR
| Cayey, Municipio PR
| Ciales Municipio, PR
| Cidra Municipio, PR
| Comerio Municipio, PR
| Corozal Municipio, PR
| Dorado Municipio, PR
| Florida Municipio, PR
| Guaynabo Municipio, PR
| Gurabo Municipiobo, PR
| Hatillo Municipio, PR
| Humacao Municipio, PR
| Juncos Municipio, PR
| Las Piedras Municipio, PR
| Loiza Municipio, PR
| Manatí Municipio, PR
| Maunabo Municipio, PR
| Morovis Municipio, PR
| Naguabo Municipio, PR
| Naranjito Municipio, PR
| Orocovis Municipio, PR
| Quebradillas Municipio, PR
| Rio Grande Municipio, PR
| San Juan Municipio, PR
| San Lorenzo Municipio, PR
| Toa Alta Municipio, PR
| Toa Baja Municipio, PR
| Trujillo Alto Municipio, PR
| Vega Alta Municipio, PR
| Vega Baja Municipio, PR
| Yabucoa Municipio, PR
42020 | San Luis Obispo-Paso Robles, CA | 1.1824
| San Luis Obispo County, CA
42044 | Santa Ana-Anaheim-Irvine, CA | 1.2348
| Orange County, CA
42060 | Santa Barbara-Santa Maria-Goleta, CA | 1.1455
| Santa Barbara County, CA
42100 | Santa Cruz-Watsonville, CA | 1.5717
| Santa Cruz County, CA
42140 | Santa Fe, NM | 1.1601
| Santa Fe County, NM
42220 | Santa Rosa-Petaluma, CA | 1.3784
| Sonoma County, CA
42260 | Sarasota-Bradenton-Venice, FL | 1.0240
| Manatee County, FL
| Sarasota County, FL
42340 | Savannah, GA | 1.0061
| Bryan County, GA
| Chatham County, GA
| Effingham County, GA
42540 | Scranton—Wilkes-Barre, PA | 0.9085
| Lackawanna County, PA
| Luzerne County, PA
| Wyoming County, PA
42644 | Seattle-Bellevue-Everett, WA | 1.2222
| King County, WA
| Snohomish County, WA
43100 | Sheboygan, WI | 0.9516
| Sheboygan County, WI
43300 | Sherman-Denison, TX | 1.0227
| Grayson County, TX
43340 | Shreveport-Bossier City, LA | 0.9712
| Bossier Parish, LA
| Caddo Parish, LA
| De Soto Parish, LA
43580 | Sioux City, IA-NE-SD | 0.9646
| Woodbury County, IA
| Dakota County, NE
| Dixon County, NE
| Union County, SD
43620 | Sioux Falls, SD | 1.0040
| Lincoln County, SD
| McCook County, SD
| Minnehaha County, SD
| Turner County, SD
43780 | South Bend-Mishawaka, IN-MI | 1.0047
| St. Joseph County, IN
| Cass County, MI
43900 | Spartanburg, SC | 1.0123
| Spartanburg, SC
44060 | Spokane, WA | 1.1337
| Spokane County, WA
44100 | Springfield, IL | 0.9293
| Menard County, IL
| Sangamon County, IL
44140 | Springfield, MA | 1.0822
| Franklin County, MA
| Hampden County, MA
| Hampshire County, MA
44180 | Springfield, MO | 0.9100
| Christian County, MO
| Dallas County, MO
| Greene County, MO
| Polk County, MO
| Webster County, MO
44220 | Springfield, OH | 0.9303
| Clark County, OH
44300 | State College, PA | 0.8998
| Centre County, PA
44700 | Stockton, CA | 1.1235
| San Joaquin County, CA
44940 | Sumter, SC | 0.9061
| Sumter County, SC
45060 | Syracuse, NY | 1.0069
| Madison County, NY
| Onondaga County, NY
| Oswego County, NY
45104 | Tacoma, WA | 1.1781
| Pierce County, WA
45220 | Tallahassee, FL | 0.9204
| Gadsden County, FL
| Jefferson County, FL
| Leon County, FL
| Wakulla County, FL
45300 | Tampa-St. Petersburg-Clearwater, FL | 0.9597
| Hernando County, FL
| Hillsborough County, FL
| Pasco County, FL
| Pinellas County, FL
45460 | Terre Haute, IN | 0.9058
| Clay County, IN
| Sullivan County, IN
| Vermillion County, IN
| Vigo County, IN
45500 | Texarkana, AR-Texarkana, TX | 0.8947
| Miller County, AR
| Bowie County, TX
45780 | Toledo, OH | 1.0129
| Fulton County, OH
| Lucas County, OH
| Ottawa County, OH
| Wood County, OH
45820 | Topeka, KS | 0.9469
| Jackson County, KS
| Jefferson County, KS
| Osage County, KS
| Shawnee County, KS
| Wabaunsee County, KS
45940 | Trenton-Ewing, NJ | 1.0928
| Mercer County, NJ
46060 | Tucson, AZ | 0.9493
| Pima County, AZ
46140 | Tulsa, OK | 0.9242
| Creek County, OK
| Okmulgee County, OK
| Osage County, OK
| Pawnee County, OK
| Rogers County, OK
| Tulsa County, OK
| Wagoner County, OK
46220 | Tuscaloosa, AL | 0.8865
| Greene County, AL
| Hale County, AL
| Tuscaloosa County, AL
46340 | Tyler, TX | 1.0105
| Smith County, TX
46540 | Utica-Rome, NY | 0.8822
| Herkimer County, NY
| Oneida County, NY
46660 | Valdosta, GA | 0.8870
| Brooks County, GA
| Echols County, GA
| Lanier County, GA
| Lowndes County, GA
46700 | Vallejo-Fairfield, CA | 1.5185
| Solano County, CA
46940 | Vero Beach, FL | 1.0079
| Indian River County, FL
47020 | Victoria, TX | 0.9008
| Calhoun County, TX
| Goliad County, TX
| Victoria County, TX
47220 | Vineland-Millville-Bridgeton, NJ | 1.1244
| Cumberland County, NJ
47260 | Virginia Beach-Norfolk-Newport News, VA-NC | 0.9459
| Currituck County, NC
| Gloucester County, VA
| Isle of Wight County, VA
| James City County, VA
| Mathews County, VA
| Surry County, VA
| York County, VA
| Chesapeake City, VA
| Hampton City, VA
| Newport News City, VA
| Norfolk City, VA
| Poquoson City, VA
| Portsmouth City, VA
| Suffolk City, VA
| Virginia Beach City, VA
| Williamsburg City, VA
47300 | Visalia-Tulare-Porterville, CA | 1.0608
| Tulare County, CA
47380 | Waco, TX | 0.8663
| McLennan County, TX
47580 | Warner Robins, GA | 0.9028
| Houston County, GA
47644 | Warren-Farmington Hills-Troy, MI | 1.0754
| Lapeer County, MI
| Livingston County, MI
| Macomb County, MI
| Oakland County, MI
| St. Clair County, MI
47894 | Washington-Arlington-Alexandria, DC-VA | 1.1723
| District of Columbia, DC
| Calvert County, MD
| Charles County, MD
| Prince George's County, MD
| Alexandria City, VA
| Arlington County, VA
| Clarke County, VA
| Fairfax City, VA
| Fairfax County, VA
| Falls Church City, VA
| Fauquier County, VA
| Fredericksburg City, VA
| Loudoun County, VA
| Manassas City, VA
| Manassas Park City, VA
| Prince William County, VA
| Spotsylvania County, VA
| Stafford County, VA
| Warren County, VA
| Jefferson County, WV
47940 | Waterloo-Cedar Falls, IA | 0.9181
| Black Hawk County, IA
| Bremer County, IA
| Grundy County, IA
48140 | Wausau, WI | 1.0177
| Marathon County, WI
48260 | Weirton-Steubenville, WV-OH | 0.8806
| Jefferson County, OH
| Brooke County, WV
| Hancock County, WV
48300 | Wenatchee, WA | 1.0025
| Chelan County, WA
| Douglas County, WA
48424 | West Palm Beach-Boca Raton-Boynton Beach, FL | 1.1020
| Palm Beach County, FL
48540 | Wheeling, WV-OH | 0.8000
| Belmont County, OH
| Marshall County, WV
| Ohio County, WV
48620 | Wichita, KS | 1.0057
| Butler County, KS
| Harvey County, KS
| Sedgwick County, KS
| Sumner County, KS
48660 | Wichita Falls, TX | 0.8861
| Archer County, TX
| Clay County, TX
| Wichita County, TX
48700 | Williamsport, PA | 0.9024
| Lycoming County, PA
48864 | Wilmington, DE-MD-NJ | 1.1750
| New Castle County, DE
| Cecil County, MD
| Salem County, NJ
48900 | Wilmington, NC | 0.9823
| Brunswick County, NC
| New Hanover County, NC
| Pender County, NC
49020 | Winchester, VA-WV | 1.1162
| Frederick County, VA
| Winchester City, VA
| Hampshire County, WV
49180 | Winston-Salem, NC | 0.9998
| Davie County, NC
| Forsyth County, NC
| Stokes County, NC
| Yadkin County, NC
49340 | Worcester, MA | 1.1694
| Worcester County, MA
49420 | Yakima, WA | 1.0977
| Yakima County, WA
49500 | Yauco, PR | 0.5167
| Guánica Municipio, PR
| Guayanilla Municipio, PR
| Peňuelas Municipio, PR
| Yauco Municipio, PR
49620 | York-Hanover, PA | 0.9731
| York County, PA
49660 | Youngstown-Warren-Boardman, OH-PA | 0.9823
| Mahoning County, OH
| Trumbull County, OH
| Mercer County, PA
49700 | Yuba City, CA | 1.1021
| Sutter County, CA
| Yuba County, CA
49740 | Yuma, AZ | 0.9434
| Yuma County, AZ
¹ This column lists each CBSA area name and each county or county equivalent, in the CBSA area. Counties not listed in this Table are considered to be rural areas. Wage Index values for these areas are found in Table B.
² Wage index values are based on FY 2000 hospital cost report data before reclassification. This wage index is further adjusted. Wage index values greater than 0.8 are subject to a budget neutrality adjustment calculated by multiplying the hospital wage index value for a given area by the proposed budget neutrality factor of 1.063479. Wage index values below 0.8 are adjusted to be the greater of a 15-percent increase, subject to a maximum wage index value of 0.8, or a budget neutrality adjustment calculated by multiplying the hospital wage index value for a given area by the budget neutrality factor. We have completed all of these adjustments and included them in the wage index values reflected in this table.

Table B.—Hospice Wage Index for Rural Areas by CBSA
CBSA code number | Nonurban area | Wage index ³
01 | Alabama | 0.8112
02 | Alaska | 1.2492
03 | Arizona | 0.9503
04 | Arkansas | 0.8000
05 | California | 1.1192
06 | Colorado | 0.9963
07 | Connecticut | 1.2673
08 | Delaware | 1.0106
10 | Florida | 0.9118
11 | Georgia | 0.8224
12 | Hawaii | 1.1190
13 | Idaho | 0.8749
14 | Illinois | 0.8868
15 | Indiana | 0.9202
16 | Iowa | 0.9013
17 | Kansas | 0.8592
18 | Kentucky | 0.8247
19 | Louisiana | 0.8000
20 | Maine | 0.9613
21 | Maryland | 0.9805
22 | Massachusetts ⁵ | 1.0865
23 | Michigan | 0.9344
24 | Minnesota | 0.9922
25 | Mississippi | 0.8120
26 | Missouri | 0.8255
27 | Montana | 0.9253
28 | Nebraska | 0.9609
29 | Nevada | 0.9869
30 | New Hampshire | 1.0571
31 | New Jersey ⁴ |
32 | New Mexico | 0.9231
33 | New York | 0.8668
34 | North Carolina | 0.9107
35 | North Dakota | 0.8235
36 | Ohio | 0.9245
37 | Oklahoma | 0.8174
38 | Oregon | 1.0543
39 | Pennsylvania | 0.8838
40 | Puerto Rico | 0.8000
41 | Rhode Island ⁴ |
42 | South Carolina | 0.9234
43 | South Dakota | 0.8931
44 | Tennessee | 0.8369
45 | Texas | 0.8472
46 | Utah | 0.8813
47 | Vermont | 0.9970
48 | Virgin Islands | 0.8000
49 | Virginia | 0.8560
50 | Washington | 1.0967
51 | West Virginia | 0.8364
52 | Wisconsin | 1.0095
53 | Wyoming | 0.9765
65 | Guam | 1.0221
³ Wage index values are based on FY 2000 hospital cost report data before reclassification. This wage index is further adjusted. Wage index values greater than 0.8 are subject to a budget neutrality adjustment calculated by multiplying the hospital wage index value for a given area by the proposed budget neutrality factor of 1.063479. Wage index values below 0.8 are adjusted to be the greater of a 15-percent increase, subject to a maximum wage index value of 0.8, or a budget neutrality adjustment calculated by multiplying the hospital wage index value for a given area by the budget neutrality factor. We have completed all of these adjustments and included them in the wage index values reflected in this table.
⁴ All counties within the State are classified as urban. Massachusetts has areas designated as rural, however, no short-term, acute care hospitals are located in the area(s) for FY 2006. Because more recent data is not available for those areas, we are using last year's wage index value.
⁵ Based on CBSA designations Massachusetts has areas designated as rural. However, no IPPS hospitals are located in those rural area(s) for FY 2006. Because more recent data is not available for those areas, we are using the FY 2005 prefloor, preclassified hospital wage index value, for rural Massachusetts multiplied by the proposed FY 2006 budget neutrality factor of 1.063479.

Table C.—Hospice Wage Index for Urban Areas by MSA and CBSA
MSA code number | Wage index ² | MSA urban area designations (Constituent counties or county equivalents) ¹ | CBSA code number | Wage index ²
0040 | 0.8525 | Abilene, TX | 10180 | 0.8348
|  | Taylor, TX
0060 | 0.4938 | Aguadilla, PR | 10380 | 0.4922
|  | Aguada, PR
|  | Aguadilla, PR
|  | Moca, PR
0080 | 0.9638 | Akron, OH | 10420 | 0.9630
|  | Portage, OH
|  | Summit, OH
0120 | 1.1992 | Albany, GA | 10500 | 1.1981
|  | Dougherty, GA
|  | Lee, GA
0160 | 0.9122 | Albany-Schenectady-Troy, NY | 10580 | 0.9199
|  | Albany, NY
|  | Rensselaer, NY
|  | Saratoga, NY
|  | Schenectady, NY
|  | Schoharie, NY
0160 | 0.9122 | Albany-Schenectady-Troy, NY | 10580 | 0.9199
|  | Montgomery, NY | Rural | 0.8668
0200 | 1.1161 | Albuquerque, NM | 10740 | 1.1151
|  | Bernalillo, NM
|  | Sandoval, NM
|  | Valencia, NM
0220 | 0.8697 | Alexandria, LA | 10780 | 0.8690
|  | Rapides, LA
0240 | 1.0150 | Allentown-Bethlehem-Easton, PA | 10900 | 1.0104
|  | Carbon, PA
|  | Lehigh, PA
|  | Northampton, PA
0280 | 0.9007 | Altoona, PA | 11020 | 0.8999
|  | Blair, PA
0320 | 0.9769 | Amarillo, TX | 11100 | 0.9761
|  | Potter, TX
|  | Randall, TX
0380 | 1.2889 | Anchorage, AK | 11260 | 1.2937
|  | Anchorage, AK
0440 | 1.1513 | Ann Arbor, MI
|  | Lenawee, MI | Rural | 0.9344
|  | Livingston, MI | 47644 | 1.0754
0440 | 1.1513 | Ann Arbor, MI | 11460 | 1.1722
|  | Washtenaw, MI
0450 | 0.8389 | Anniston, AL | 11500 | 0.8381
|  | Calhoun, AL
0460 | 0.9702 | Oshkosh-Neenah, WI | 36780 | 0.9677
|  | Winnebago, WI
0460 | 0.9702 | Appleton, WI | 11540 | 0.9711
|  | Calumet, WI
|  | Outagamie, WI
0470 | 0.4321 | Arecibo, PR | 41980 | 0.5342
|  | Arecibo, PR
|  | Camuy, PR
|  | Hatillo, PR
0480 | 1.0113 | Asheville, NC | 11700 | 0.9774
|  | Buncombe, NC
|  | Madison, NC
0500 | 1.0859 | Athens, GA | 12020 | 1.0850
|  | Clarke, GA
|  | Madison, GA
|  | Oconee, GA
0520 | 1.0613 | Atlanta, GA | 12060 | 1.0604
|  | Barrow, GA
|  | Bartow, GA
|  | Carroll, GA
|  | Cherokee, GA
|  | Clayton, GA
|  | Cobb, GA
|  | Coweta, GA
|  | DeKalb, GA
|  | Douglas, GA
|  | Fayette, GA
|  | Forsyth, GA
|  | Fulton, GA
|  | Gwinnett, GA
|  | Henry, GA
|  | Newton, GA
|  | Paulding, GA
|  | Pickens, GA
|  | Rockdale, GA
|  | Spalding, GA
|  | Walton, GA
0560 | 1.1610 | Cape May, NJ | 36140 | 1.1496
|  | Cape May, NJ
0560 | 1.1610 | Atlantic, NJ | 12100 | 1.1625
|  | Atlantic, NJ
0580 | 0.8744 | Aubrn-Opelika, AL | 12220 | 0.8736
|  | Lee, AL
0600 | 0.9801 | Augusta-Aiken, GA-SC | 12260 | 0.9735
|  | Columbia, GA
|  | McDuffie, GA
|  | Richmond, GA
|  | Aiken, SC
|  | Edgefield, SC
0640 | 1.0213 | Austin-San Marcos, TX | 12420 | 1.0204
|  | Bastrop, TX
|  | Caldwell, TX
|  | Hays, TX
|  | Travis, TX
|  | Williamson, TX
0680 | 1.0683 | Bakersfield, CA | 12540 | 1.0673
|  | Kern, CA
0720 | 1.0545 | Baltimore, MD | 12580 | 1.0536
|  | Anne Arundel, MD
|  | Baltimore, MD
|  | Baltimore City, MD
|  | Carroll, MD
|  | Harford, MD
|  | Howard, MD
|  | Queen Anne's, MD
0733 | 1.0596 | Bangor, ME | 12620 | 1.0587
|  | Penobscot, ME
0743 | 1.3130 | Barnstable-Yarmouth, MA | 12700 | 1.3118
|  | Barnstable, MA
0760 | 0.8892 | Baton Rouge, LA | 12940 | 0.8847
|  | Ascension, LA
|  | East Baton Rouge, LA
|  | Livingston, LA
|  | West Baton Rouge, LA
0840 | 0.9171 | Beaumont-Port Arthur, TX | 13140 | 0.9163
|  | Hardin, TX
|  | Jefferson, TX
|  | Orange, TX
0860 | 1.2392 | Bellingham, WA | 13380 | 1.2381
|  | Whatcom, WA
0870 | 0.9417 | Benton Harbor, MI | 35660 | 0.9409
|  | Berrien, MI
0875 | 1.2738 | Bergen-Passaic, NJ | 35644 | 1.4156
|  | Bergen, NJ
|  | Passaic, NJ
0880 | 0.9538 | Billings, MT | 13740 | 0.9530
|  | Yellowstone, MT
0920 | 0.9206 | Biloxi-Gulfport, MS | 25060 | 0.9518
|  | Hancock, MS
|  | Harrison, MS
0920 | 0.9206 | Pascagoula, MS | 37700 | 0.8480
|  | Jackson, MS
0960 | 0.8991 | Binghamton, NY | 13780 | 0.8983
|  | Broome, NY
|  | Tioga, NY
1000 | 0.9791 | Birmingham, AL | 13820 | 0.9738
|  | Blount, AL
|  | Jefferson, AL
|  | St. Clair, AL
|  | Shelby, AL
1010 | 0.8000 | Bismarck, ND | 13900 | 0.8000
|  | Burleigh, ND
|  | Morton, ND
1020 | 0.9140 | Bloomington, IN | 14020 | 0.9132
|  | Monroe, IN
1040 | 0.9698 | Bloomington-Normal, IL | 14060 | 0.9689
|  | McLean, IL
1080 | 0.9955 | Boise City, ID | 14260 | 0.9946
|  | Ada, ID
|  | Canyon, ID
1123 | 1.2017 | Boston, MA | 14484 | 1.2518
|  | Norfolk, MA
|  | Plymouth, MA
|  | Suffolk, MA
1123 | 1.2017 | Worcester-Lawrence-Lowell-Brockton, MA-NH
|  | Bristol, MA
|  | Essex, MA | 39300 | 1.1623
|  | Middlesex, MA | 21604 | 1.1339
|  | Worcester, MA | 15764 | 1.1899
|  | Hillsborough, NH | 49340 | 1.1694
|  | Merrimack, NH | 31700 | 1.1318
|  | Rockingham, NH | 31700 | 1.1318
|  | Strafford, NH | 31700 | 1.1318
|  |  | 40484 | 1.0870
1125 | 1.0693 | Boulder, CO | 14500 | 1.0684
|  | Boulder, CO
1125 | 1.0693 | Longmont, CO | 14500 | 1.0684
|  | Boulder, CO
1145 | 0.9073 | Brazoria, TX | 26420 | 1.0606
|  | Brazoria, TX
1150 | 1.1298 | Bremerton, WA | 14740 | 1.1288
|  | Kitsap, WA
1240 | 1.0777 | Brownsville-Harlingeno, TX | 15180 | 1.0768
|  | Cameron, TX
1240 | 1.0777 | San Benito, TX | 15180 | 1.0768
|  | Cameron, TX
1260 | 0.9839 | Bryan-College Station, TX | 17780 | 0.9830
|  | Brazos, TX
1280 | 0.9941 | Buffalo-Niagara Falls, NY | 15380 | 0.9932
|  | Erie, NY
|  | Niagara, NY
1303 | 0.9923 | Burlington, VT | 15540 | 0.9914
|  | Chittenden, VT
|  | Franklin, VT
|  | Grand Isle, VT
1310 | 0.4670 | Caguas, PR | 41980 | 0.5342
|  | Caguas, PR
|  | Cayey, PR
|  | Cidra, PR
|  | Gurabo, PR
|  | San Lorenzo, PR
1320 | 0.9468 | Canton-Massillon, OH | 15940 | 0.9460
|  | Carroll, OH
|  | Stark, OH
1350 | 0.9839 | Casper, WY | 16220 | 0.9830
|  | Natrona, WY
1360 | 0.9553 | Cedar Rapids, IA | 16300 | 0.9545
|  | Linn, IA
1400 | 1.0141 | Champaign-Urbana, IL | 16580 | 1.0132
|  | Champaign, IL
1440 | 1.0027 | Charleston-North Charleston, SC | 16700 | 1.0018
|  | Berkeley, SC
|  | Charleston, SC
|  | Dorchester, SC
1480 | 0.9448 | Charleston, WV | 16620 | 0.9439
|  | Kanawha, WV
|  | Putnam, WV
1520 | 1.0337 | Charlotte-Gastonia-Rock Hill, NC-SC
|  | Cabarrus, NC
|  | Gaston, NC | 16740 | 1.0361
|  | Mecklenburg, NC
|  | Union, NC
|  | York, SC
1520 | 1.0337 | Charlotte-Gastonia-Rock Hill, NC-SC
|  | Lincoln, NC
|  | Rowan, NC | 34 | 0.9107
1540 | 1.0957 | Charlottesville, VA | 16820 | 1.0947
|  | Albemarle, VA
|  | Charlottesville City, VA
|  | Fluvanna, VA
|  | Greene, VA
1560 | 0.9800 | Chattanooga, TN-GA | 16860 | 0.9791
|  | Catoosa, GA
|  | Dade, GA
|  | Walker, GA
|  | Hamilton, TN
|  | Marion, TN
1580 | 0.9559 | Cheyenne, WY | 16940 | 0.9550
|  | Laramie, WY
1600 | 1.1550 | Chicago, IL | 16974 | 1.1558
|  | Cook, IL
|  | DeKalb, IL
|  | Du Page, IL
|  | Grundy, IL
|  | Kane, IL
|  | Kendall, IL
|  | McHenry, IL
|  | Will, IL
1600 | 1.1550 | Chicago, IL | 29404 | 1.0998
|  | Lake, IL
1620 | 1.1221 | Chico-Paradise, CA | 17020 | 1.1211
|  | Butte, CA
1640 | 1.0213 | Cincinnati, OH-KY-IN | 17140 | 1.0120
|  | Brown, OH
|  | Clermont, OH
|  | Hamilton, OH
|  | Warren, OH
|  | Boone, KY
|  | Campbell, KY
|  | Gallatin, KY
|  | Grant, KY
|  | Kenton, KY
|  | Pendleton, KY
|  | Dearborn, IN
|  | Ohio, IN
1660 | 0.8539 | Clarksville, TN-KY | 17300 | 0.8531
|  | Christian, KY
|  | Montgomery, TN
|  | Hopkinsville
1680 | 1.0246 | Cleveland-Elyria, OH | 17460 | 1.0263
|  | Cuyahoga, OH
|  | Geauga, OH
|  | Lake, OH
|  | Lorain, OH
|  | Medina, OH
1680 | 1.0246 | Elyria, OH | 36 | 0.9245
|  | Ashtabula, OH
1720 | 1.0423 | Colorado Springs, CO | 17820 | 1.0414
|  | El Paso, CO
1740 | 0.8937 | Columbia, MO | 17860 | 0.8929
|  | Boone, MO
1760 | 1.0059 | Columbia, SC | 17900 | 0.9988
|  | Lexington, SC
|  | Richland, SC
1800 | 0.9250 | Columbus, GA-AL | 17980 | 0.9242
|  | Chattahochee, GA
|  | Harris, GA
|  | Muscogee, GA
|  | Russell, AL
1840 | 1.0381 | Columbus, OH | 18140 | 1.0355
|  | Delaware, OH
|  | Fairfield, OH
|  | Franklin, OH
|  | Licking, OH
|  | Madison, OH
|  | Pickaway, OH
1880 | 0.9204 | Corpus Christi, TX | 18580 | 0.9196
|  | Nueces, TX
|  | San Patricio, TX
1890 | 1.1224 | Corvallis, Oregon | 18700 | 1.1214
|  | Benton, OR
1900 | 0.9220 | Cumberland, MD-WV | 19060 | 0.9212
|  | Allegany, MD
|  | Mineral, WV
1920 | 1.0702 | Dallas, TX | 19124 | 1.0713
|  | Collin, TX
|  | Dallas, TX
|  | Denton, TX
|  | Ellis, TX
|  | Hunt, TX
|  | Kaufman, TX
|  | Rockwall, TX
1920 | 1.0702 | Dallas, TX
|  | Henderson, TX | 45 | 0.8472
1950 | 0.9200 | Danville, VA | 19260 | 0.9192
|  | Danville City, VA
|  | Pittsylvania, VA
1960 | 0.9338 | Davenport-Moline-Rock Island, IA-IL | 19340 | 0.9330
|  | Scott, IA
|  | Henry, IL
|  | Rock Island, IL
2000 | 0.9826 | Dayton, OH | 19380 | 0.9894
|  | Greene, OH
|  | Miami, OH
|  | Montgomery, OH
2000 | 0.9826 | Dayton-Springfield, OH | 44220 | 0.9303
|  | Clark, OH
2020 | 0.9473 | Daytona Beach, FL
|  | Flagler, FL | 10 | 0.9118
|  | Volusia, FL | 19660 | 0.9463
2030 | 0.9467 | Decatur, AL | 19460 | 0.9459
|  | Lawrence, AL
|  | Morgan, AL
2040 | 0.8645 | Decatur, IL | 19500 | 0.8638
|  | Macon, IL
2080 | 1.1607 | Denver, CO | 19740 | 1.1596
|  | Adams, CO
|  | Arapahoe, CO
|  | Denver, CO
|  | Douglas, CO
|  | Jefferson, CO
2120 | 0.9863 | Des Moines, IA | 19780 | 0.9854
|  | Dallas, IA
|  | Polk, IA
|  | Warren, IA
2160 | 1.0886 | Detroit, MI | 19804 | 1.1006
|  | Wayne, MI
2160 | 1.0886 | Detroit, MI | 47644 | 1.0754
|  | Lapeer, MI
|  | Macomb, MI
|  | Oakland, MI
|  | St. Clair, MI
2160 | 1.0886 | Detroit, MI | 33780 | 1.0109
|  | Monroe, MI
2180 | 0.8085 | Dothan, AL | 20020 | 0.8015
|  | Houston, AL
2180 | 0.8085 | Dothan, AL | 20020 | 0.8015
|  | Dale, AL
2190 | 1.0458 | Dover, DE | 20100 | 1.0449
|  | Kent, DE
2200 | 0.9312 | Dubuque, IA | 20220 | 0.9303
|  | Dubuque, IA
2240 | 1.1023 | Dulut, MN-WI | 20260 | 1.0996
|  | St. Louis, MN
|  | Douglas, WI
2240 | 1.1023 | Superior, MN-WI | 20260 | 1.0996
|  | St. Louis, MN
|  | Douglas, WI
2281 | 1.2408 | Dutchess County, NY | 39100 | 1.2084
|  | Dutchess, NY
2290 | 0.9728 | Eau Claire, WI | 20740 | 0.9719
|  | Chippewa, WI
|  | Eau Claire, WI
2320 | 0.9773 | El Paso, TX | 21340 | 0.9764
|  | El Paso, TX
2330 | 0.9876 | Elkhart-Goshen, IN | 21140 | 0.9867
|  | Elkhart, IN
2335 | 0.8989 | Elmira, NY | 21300 | 0.8981
|  | Chemung, NY
2340 | 0.9581 | Enid, OK | 37 | 0.8174
|  | Garfield, OK
2360 | 0.9260 | Erie, PA | 21500 | 0.9251
|  | Erie, PA
2400 | 1.1645 | Eugene-Springfield, OR | 21660 | 1.1634
|  | Lane, OR
2440 | 0.8936 | Evansville, IN-KY | 21780 | 0.8903
|  | Posey, IN
|  | Vanderburgh, IN
|  | Warrick, IN
|  | Henderson, KY
2440 | 0.8936 | Henderson, IN-KY | 21780 | 0.8903
|  | Posey, IN
|  | Vanderburgh, IN
|  | Warrick, IN
|  | Henderson, KY
2520 | 0.9701 | Fargo, ND-MN | 22020 | 0.9693
|  | Clay, MN
|  | Cass, ND
2520 | 0.9701 | Moorhead, ND-MN | 22020 | 0.9693
|  | Clay, MN
|  | Cass, ND
2560 | 0.9966 | Fayetteville, NC | 22180 | 0.9957
|  | Cumberland, NC
2580 | 0.9192 | Fayetteville-Springdale-Rogers, AR | 22220 | 0.9184
|  | Benton, AR
|  | Washington, AR
2620 | 1.1295 | Flagstaff, AZ | 22380 | 1.1472
|  | Coconino, AZ
2620 | 1.1295 | Flagstaff, UT
|  | Kane, UT | 46 | 0.8813
2640 | 1.1898 | Flint, MI | 22420 | 1.1888
|  | Genesee, MI
2650 | 0.8391 | Florence, AL | 22520 | 0.8383
|  | Colbert, AL
|  | Lauderdale, AL
2655 | 0.9537 | Florence, SC | 22500 | 0.9394
|  | Florence, SC
2670 | 1.0876 | Fort Collins-Loveland, CO | 22660 | 1.0867
|  | Larimer, CO
2680 | 1.0820 | Ft. Lauderdale, FL | 22744 | 1.0810
|  | Broward, FL
2700 | 0.9975 | Fort Myers-Cape Coral, FL | 15980 | 0.9966
|  | Lee, FL
2710 | 1.0693 | Fort Pierce-Port St. Lucie, FL | 38940 | 1.0684
|  | Martin, FL
|  | St. Lucie, FL
2720 | 0.8838 | Fort Smith, AR-OK | 22900 | 0.8809
|  | Crawford, AR
|  | Sebastian, AR
|  | Sequoyah, OK
2750 | 0.9352 | Fort Walton Beach, FL | 23020 | 0.9344
|  | Okaloosa, FL
2760 | 1.0364 | Allen, IN | 23060 | 1.0430
|  | Wells, IN
|  | Whitley, IN
2760 | 1.0364 | Fort Wayne, IN | 15 | 0.9202
|  | Adams, IN
|  | De Kalb, IN
|  | Huntington, IN
2800 | 1.0133 | Forth Worth-Arlington, TX | 23104 | 1.0073
|  | Johnson, TX
|  | Parker, TX
|  | Tarrant, TX
2800 | 1.0133 | Hood, TX | 45 | 0.8472
2840 | 1.1078 | Fresno, CA | 23420 | 1.1205
|  | Fresno, CA
2840 | 1.1078 | Madera, CA | 31460 | 0.9062
2880 | 0.8568 | Gadsden, AL | 23460 | 0.8560
|  | Etowah, AL
2900 | 1.0068 | Gainesville, FL | 23540 | 1.0059
|  | Alachua, FL
2920 | 1.0009 | Galveston-Texas City, TX | 26420 | 1.0606
|  | Galveston, TX
2960 | 0.9944 | Gary, IN | 23844 | 0.9901
|  | Lake, IN
|  | Porter, IN
2975 | 0.9013 | Glens Falls, NY | 24020 | 0.9004
|  | Warren, NY
|  | Washington, NY
2980 | 0.9344 | Goldsboro, NC | 24140 | 0.9335
|  | Wayne, NC
2985 | 0.9677 | Grand Forks, ND-MN | 24220 | 0.9668
|  | Grand Forks, ND
|  | Polk, MN
2995 | 1.0538 | Grand Junction, CO | 24300 | 1.0528
|  | Mesa, CO
3000 | 1.0132 | Grand Rapids-Muskegon-Holland, MI
|  | Allegan, MI
|  | Kent, MI | 23 | 0.9344
|  | Muskegon, MI | 24340 | 1.0018
|  | Ottawa, MI | 34740 | 1.0359
|  |  | 26100 | 0.9984
3040 | 0.9378 | Great Falls, MT | 24500 | 0.9369
|  | Cascade, MT
3060 | 1.0053 | Greeley, CO | 24540 | 1.0043
|  | Weld, CO
3080 | 1.0204 | Green Bay, WI | 24580 | 1.0199
|  | Brown, WI
3120 | 0.9912 | Greensboro-Winston-Salem-High Point, NC
|  | Alamance, NC
|  | Davidson, NC | 15500 | 0.9536
|  | Davie, NC | 34 | 0.9107
|  | Forsyth, NC | 49180 | 0.9998
|  | Guilford, NC | 49180 | 0.9998
|  | Randolph, NC | 24660 | 0.9773
|  | Stokes, NC | 24660 | 0.9773
|  | Yadkin, NC | 49180 | 0.9998
|  |  | 49180 | 0.9998
3150 | 0.9775 | Greenville, NC | 24780 | 0.9766
|  | Pitt, NC
3160 | 1.0006 | Greenville-Spartanburg-Anderson, SC
|  | Anderson, SC
|  | Cherokee, SC | 11340 | 0.9220
|  | Greenville, SC | 42 | 0.9234
|  | Pickens, SC | 24860 | 1.0164
|  | Spartanburg, SC | 24860 | 1.0164
|  |  | 43900 | 1.0123
3180 | 1.0580 | Hagerstown, MD | 25180 | 1.0332
|  | Washington, MD
3200 | 0.9650 | Hamilton-Middletown, OH | 17140 | 1.0120
|  | Butler, OH
3240 | 0.9884 | Harrisburg-Carlisle, PA | 25420 | 0.9953
|  | Cumberland, PA
|  | Dauphin, PA
|  | Perry, PA
3240 | 0.9884 | Lebanon, PA | 30140 | 0.9114
|  | Lebanon, PA
3283 | 1.1766 | Hartford, CT | 25540 | 1.1756
|  | Hartford, CT
|  | Litchfield, CT
|  | Middlesex, CT
|  | Tolland, CT
3285 | 0.8000 | Hattiesburg, MS | 25620 | 0.8000
|  | Forrest, MS
|  | Lamar, MS
3290 | 1.0114 | Hickory-Morganton-Lenoir, NC | 25860 | 1.0105
|  | Alexander, NC
|  | Burke, NC
|  | Caldwell, NC
|  | Catawba, NC
3320 | 1.1723 | Honolulu, HI | 26180 | 1.1712
|  | Honolulu, HI
3350 | 0.8219 | Houma, LA | 26380 | 0.8211
|  | Lafourche, LA
|  | Terrebonne, LA
3360 | 1.0769 | Houston, TX | 26420 | 1.0606
|  | Chambers, TX
|  | Fort Bend, TX
|  | Harris, TX
|  | Liberty, TX
|  | Montgomery, TX
|  | Waller, TX
3400 | 1.0180 | Huntington-Ashland, WV-KY-OH | 26580 | 1.0171
|  | Boyd, KY
|  | Greenup, KY
|  | Lawrence, OH
|  | Cabell, WV
|  | Wayne, WV
3400 | 1.0180 | Carter, KY | 18 | 0.8247
3440 | 0.9421 | Huntsville, AL | 26620 | 0.9413
|  | Limestone, AL
|  | Madison, AL
3480 | 1.0686 | Indianapolis, IN | 26900 | 1.0755
|  | Boone, IN
|  | Hamilton, IN
|  | Hancock, IN
|  | Hendricks, IN
|  | Johnson, IN
|  | Marion, IN
|  | Morgan, IN
|  | Shelby, IN
3480 | 1.0686 | Indianapolis, IN | 11300 | 0.9266
|  | Madison, IN
3500 | 1.0276 | Iowa City, IA | 26980 | 1.0267
|  | Johnson, IA
3520 | 0.9735 | Jackson, MI | 27100 | 0.9727
|  | Jackson, MI
3560 | 0.8948 | Jackson, MS | 27140 | 0.8817
|  | Hinds, MS
|  | Madison, MS
|  | Rankin, MS
3580 | 0.9473 | Jackson, TN | 27180 | 0.9465
|  | Madison, TN
|  | Chester, TN
3600 | 1.0163 | Jacksonville, FL | 27260 | 1.0142
|  | Clay, FL
|  | Duval, FL
|  | Nassau, FL
|  | St. Johns, FL
3605 | 0.8942 | Jacksonville, NC | 27340 | 0.8934
|  | Onslow, NC
3610 | 0.8078 | Jamestown, NY | 33 | 0.8668
|  | Chautauqua, NY
3620 | 1.0200 | Janesville-Beloit, WI | 27500 | 1.0191
|  | Rock, WI
3640 | 1.1627 | Jersey City, NJ | 35644 | 1.4156
|  | Hudson, NJ
3660 | 0.8730 | Johnson City-Kingsport-Bristol, TN-VA | 34980 | 1.0726
|  | Carter, TN
3660 | 0.8730 | Kingsport-Bristol, TN-VA | 28700 | 0.8763
|  | Hawkins, TN
|  | Sullivan, TN
|  | Bristol City, VA
|  | Scott, VA
|  | Washington, VA
3660 | 0.8730 | Johnson City, TN | 27740 | 0.8663
|  | Unicoi, TN
|  | Washington, TN
3680 | 0.8494 | Johnstown, PA
|  | Cambria, PA | 27780 | 0.8912
|  | Somerset, PA | 39 | 0.8838
3700 | 0.8669 | Jonesboro, AR
|  | Craighead, AR | 27860 | 0.8661
3710 | 0.9283 | Joplin, MO | 27900 | 0.9275
|  | Jasper, MO
|  | Newton, MO
3720 | 1.1017 | Kalamazoo-Battlecreek, MI
|  | Calhoun, MI | 12980 | 0.9961
|  | Kalamazoo, MI | 28020 | 1.1354
|  | Van Buren, MI | 28020 | 1.1354
3740 | 1.1286 | Kankakee, IL | 28100 | 1.1276
|  | Kankakee, IL
3760 | 1.0262 | Kansas City, KS-MO | 28140 | 1.0240
|  | Johnson, KS
|  | Leavenworth, KS
|  | Miami, KS
|  | Wyandotte, KS
|  | Cass, MO
|  | Clay, MO
|  | Clinton, MO
|  | Jackson, MO
|  | Lafayette, MO
|  | Platte, MO
|  | Ray, MO
3800 | 1.0402 | Kenosha, WI | 29404 | 1.0998
|  | Kenosha, WI
3810 | 0.9838 | Killeen-Temple, TX | 28660 | 0.9829
|  | Bell, TX
|  | Coryell, TX
3840 | 0.9056 | Knoxville, TN | 28940 | 0.9091
|  | Anderson, TN
|  | Blount, TN
|  | Knox, TN
|  | Loudon, TN
|  | Union, TN
3840 | 0.9056 | Sevier, TN | 44 | 0.8369
3850 | 0.9565 | Kokomo, IN | 29020 | 0.9556
|  | Howard, IN
|  | Tipton, IN
3870 | 0.9888 | La Crosse, WI-MN | 29100 | 0.9879
|  | Houston, MN
|  | La Crosse, WI
3880 | 0.8627 | Lafayette, LA | 19 | 0.8000
|  | Acadia, LA
|  | St. Landry, LA
3880 | 0.8627 | Lafayette, LA | 29180 | 0.8833
|  | Lafayette, LA
|  | St. Martin, LA
3920 | 0.9651 | Lafayette, IN
|  | Clinton, IN | 15 | 0.9202
|  | Tippecanoe, IN | 29140 | 0.9643
3960 | 0.8486 | Lake Charles, LA | 29340 | 0.8439
|  | Calcasieu, LA
3980 | 0.9505 | Lakeland-Winter Haven, FL | 29460 | 0.9497
|  | Polk, FL
4000 | 1.0520 | Lancaster, PA | 29540 | 1.0510
|  | Lancaster, PA
4040 | 1.0280 | Lansing-East Lansing, MI | 29620 | 1.0271
|  | Clinton, MI
|  | Eaton, MI
|  | Ingham, MI
4080 | 0.9311 | Laredo, TX | 29700 | 0.9302
|  | Webb, TX
4100 | 0.9350 | Las Cruces, NM | 29740 | 0.9342
|  | Dona Ana, NM
4120 | 1.1838 | Las Vegas, NV-AZ
|  | Mohave, AZ | 03 | 0.9503
|  | Clarke, NV | 29820 | 1.2100
|  | Nye, NV | 29 | 0.9869
4150 | 0.9201 | Lawrence, KS | 29940 | 0.9193
|  | Douglas, KS
4200 | 0.8741 | Lawton, OK | 30020 | 0.8733
|  | Comanche, OK
4243 | 1.0178 | Lewiston-Auburn, ME | 30340 | 1.0169
|  | Androscoggin, ME
4280 | 0.9813 | Lexington, KY | 30460 | 0.9953
|  | Bourbon, KY
|  | Clark, KY
|  | Fayette, KY
|  | Jessamine, KY
|  | Scott, KY
|  | Woodford, KY
4280 | 0.9813 | Madison, KY | 18 | 0.8247
4320 | 0.9855 | Lima, OH
|  | Allen, OH | 30620 | 0.9922
|  | Auglaize, OH | 36 | 0.9245
4360 | 1.0866 | Lincoln, NE | 30700 | 1.0856
|  | Lancaster, NE
4400 | 0.9395 | Little Rock-North Little Rock, AR | 30780 | 0.9386
|  | Faulkner, AR
|  | Lonoke, AR
|  | Pulaski, AR
|  | Saline, AR
4420 | 0.9302 | Longview-Marshall, TX | 30980 | 0.9360
|  | Gregg, TX
|  | Upshur, TX
4420 | 0.9302 | Harrison, TX | 45 | 0.9245
4480 | 1.2488 | Los Angeles-Long Beach, CA | 1.2477
|  | Los Angeles, CA | 31084
4520 | 0.9752 | Louisville, KY-IN | 31140 | 0.9701
|  | Clark, IN
|  | Floyd, IN
|  | Harrison, IN
|  | Bullitt, KY
|  | Jefferson, KY
|  | Oldham, KY
4520 | 0.9752 | Louisville, KY-IN | 19340 | 0.9330
|  | Scott, IN
4600 | 0.9343 | Lubbock, TX | 31180 | 0.9334
|  | Lubbock, TX
4640 | 0.9598 | Lynchburg, VA | 31340 | 0.9589
|  | Amherst, VA
|  | Bedford, VA
|  | Bedford City, VA
|  | Campbell, VA
|  | Lynchburg City, VA
4680 | 1.0214 | Macon, GA | 31420 | 1.0515
|  | Bibb, GA
|  | Jones, GA
|  | Twiggs, GA
4680 | 1.0214 | Macon, GA
|  | Houston, GA | 47580 | 0.9028
|  | Peach, GA | 11 | 0.8224
4720 | 1.1065 | Madison, WI | 31540 | 1.0960
|  | Dane, WI
4800 | 0.9692 | Mansfield, OH
|  | Crawford, OH | 36 | 0.9245
|  | Richland, OH | 31900 | 0.9772
4840 | 0.5484 | Mayaguez, PR | 41900 | 0.6026
|  | Anasco, PR
|  | Cabo Rojo, PR
|  | Sabana Grande, PR
|  | San German, PR
4840 | 0.5484 | Mayaguez, PR | 32420 | 0.5167
|  | Hormigueros, PR
|  | Mayaguez, PR
4880 | 0.9156 | McAllen-Edinburg-Mission, TX | 32580 | 0.9148
|  | Hidalgo, TX
4890 | 1.1213 | Medford-Ashland, OR | 32780 | 1.1203
|  | Jackson, OR
4900 | 1.0254 | Melbourne-Titusville-Palm Bay, FL | 37340 | 1.0244
|  | Brevard, Fl
4920 | 0.9829 | Memphis, TN-AR-MS | 32820 | 0.9802
|  | Crittenden, AR
|  | DeSoto, MS
|  | Fayette, TN
|  | Shelby, TN
|  | Tipton, TN
4940 | 1.1256 | Merced, CA | 32900 | 1.1246
|  | Merced, CA
5000 | 1.0506 | Miami, FL | 33124 | 1.0497
|  | Dade, FL
5015 | 1.2092 | Hunterdon, NJ | 35084 | 1.2429
|  | Hunterdon, NJ
5015 | 1.2092 | Middlesex-Somerset, NJ | 20764 | 1.1843
|  | Middlesex, NJ
|  | Somerset, NJ
5080 | 1.0725 | Milwaukee-Waukesha, WI | 33340 | 1.0716
|  | Milwaukee, WI
|  | Ozaukee, WI
|  | Washington, WI
|  | Waukesha, WI
5120 | 1.1779 | Minneapolis-St. Paul, MN-WI | 33460 | 1.1768
|  | Anoka, MN
|  | Carver, MN
|  | Chisago, MN
|  | Dakota, MN
|  | Hennepin, MN
|  | Isanti, MN
|  | Ramsey, MN
|  | Scott, MN
|  | Sherbune, MN
|  | Washington, MN
|  | Wright, MN
|  | Pierce, WI
|  | St. Croix, WI
5140 | 1.0238 | Missoula, MT | 33540 | 1.0229
|  | Missoula, MT
5160 | 0.8443 | Mobile, AL
|  | Baldwin, AL | 01 | 0.8112
|  | Mobile, AL | 33660 | 0.8503
5170 | 1.2737 | Modesto, CA | 33700 | 1.2726
|  | Stanislaus, CA
5190 | 1.1590 | Monmouth-Ocean, NJ | 20764 | 1.1843
|  | Monmouth, NJ
|  | Ocean, NJ
5200 | 0.8423 | Monroe, LA | 33740 | 0.8405
|  | Ouachita, LA
5240 | 0.8835 | Montgomery, AL | 33860 | 0.8827
|  | Autauga, AL
|  | Elmore, AL
|  | Montgomery, AL
5280 | 0.9133 | Muncie, IN | 34620 | 0.9125
|  | Delaware, IN
5330 | 0.9603 | Myrtle Beach, SC | 34820 | 0.9595
|  | Horry, SC
5345 | 1.1238 | Naples, FL | 34940 | 1.1228
|  | Collier, FL
5360 | 1.0759 | Nashville, TN | 34980 | 1.0726
|  | Cheatham, TN
|  | Davidson, TN
|  | Dickson, TN
|  | Robertson, TN
|  | Rutherford TN
|  | Sumner, TN
|  | Williamson, TN
|  | Wilson, TN
5380 | 1.3739 | Nassau-Suffolk, NY | 35004 | 1.3726
|  | Nassau, NY
|  | Suffolk, NY
5483 | 1.3044 | New Haven-Bridgeport-Stamford-Waterbury-Danbury, CT
|  | Fairfield, CT
|  | New Haven, CT | 14860 | 1.3650
|  |  | 35300 | 1.2556
5523 | 1.2343 | New London-Norwich, CT | 35980 | 1.2332
|  | New London, CT
5560 | 0.9690 | New Orleans, LA | 35380 | 0.9681
|  | Jefferson, LA
|  | Orleans, LA
|  | Plaquemines, LA
|  | St. Bernard, LA
|  | St. Charles, LA
|  | St. John The Baptist, LA
|  | St. Tammany, LA
5560 | 0.9690 | St. James, LA | 19 | 0.8000
5600 | 1.4461 | New York, NY | 35644 | 1.4156
|  | Bronx, NY
|  | Kings, NY
|  | New York, NY
|  | Putnam, NY
|  | Queens, NY
|  | Richmond, NY
|  | Rockland, NY
|  | Westchester, NY
5640 | 1.2374 | Newark, NJ | 35084 | 1.2429
|  | Essex, NJ
|  | Morris, NJ
|  | Sussex, NJ
|  | Union, NJ
5640 | 1.2374 | Newark, NJ | 10900 | 1.0104
|  | Warren, NJ
5660 | 1.1890 | Newburgh, NY-PA
|  | Orange, NY | 39100 | 1.2084
|  | Pike, PA | 35084 | 1.2429
5720 | 0.9467 | Norfolk-Virginia Beach-Newport News, VA-NC | 47260 | 0.9459
|  | Currituck, NC
|  | Chesapeake City, VA
|  | Gloucester, VA
|  | Hampton City, VA
|  | James City, VA
|  | Isle of Wight, VA
|  | Mathews, VA
|  | Newport News City, VA
|  | Norfolk City, VA
|  | Poquoson City, VA
|  | Portsmouth City, VA
|  | Suffolk City, VA
|  | Virginia Beach City VA
|  | Williamsburg City, VA
|  | York, VA
5775 | 1.6201 | Oakland, CA | 36084 | 1.6186
|  | Alameda, CA
|  | Contra Costa, CA
5790 | 0.9743 | Ocala, FL | 36100 | 0.9734
|  | Marion, FL
5800 | 1.0253 | Odessa-Midland, TX
|  | Ector, TX | 36220 | 1.0420
|  | Midland, TX | 33260 | 0.9980
5880 | 0.9544 | Oklahoma City, OK | 36420 | 0.9552
|  | Canadian, OK
|  | Cleveland, OK
|  | Logan, OK
|  | McClain, OK
|  | Oklahoma, OK
5880 | 0.9544 | Pottawatomie, OK | 37 | 0.8174
5910 | 1.1715 | Olympia, WA | 36500 | 1.1705
|  | Thurston, WA
5920 | 1.0382 | Omaha, NE-IA | 36540 | 1.0373
|  | Pottawattamie, IA
|  | Cass, NE
|  | Douglas, NE
|  | Sarpy, NE
|  | Washington, NE
5945 | 1.2359 | Orange County, CA | 42044 | 1.2348
|  | Orange, CA
5960 | 1.0370 | Orlando, FL | 36740 | 1.0360
|  | Lake, FL
|  | Orange, FL
|  | Osceola, FL
|  | Seminole, FL
5990 | 0.8977 | Owensboro, KY | 36980 | 0.8969
|  | Daviess, KY
6015 | 0.8647 | Panama City, FL | 37460 | 0.8640
|  | Bay, FL
6020 | 0.8822 | Parkersburg-Marietta, WV-OH | 37620 | 0.8814
|  | Washington, OH
|  | Wood, WV
6080 | 0.8841 | Pensacola, FL | 37860 | 0.8833
|  | Escambia, FL
|  | Santa Rosa, FL
6120 | 0.9459 | Peoria-Pekin, IL | 37900 | 0.9450
|  | Peoria, IL
|  | Tazewell, IL
|  | Woodford, IL
6160 | 1.1521 | Philadelphia, NJ | 15804 | 1.1353
|  | Burlington, NJ
|  | Camden, NJ
|  | Gloucester, NJ
|  | Salem, NJ
6160 | 1.1521 | Philadelphia, PA | 37964 | 1.1555
|  | Bucks, PA
|  | Chester, PA
|  | Delaware, PA
|  | Montgomery, PA
|  | Philadelphia, PA
6200 | 1.0625 | Phoenix-Mesa, AZ | 38060 | 1.0616
|  | Maricopa, AZ
|  | Pinal, AZ
6240 | 0.9232 | Pine Bluff, AR | 38220 | 0.9224
|  | Jefferson, AR
6280 | 0.9320 | Pittsburgh, PA | 38300 | 0.9291
|  | Allegheny, PA
|  | Beaver, PA
|  | Butler, PA
|  | Fayette, PA
|  | Washington, PA
|  | Westmoreland, PA
6323 | 1.1112 | Pittsfield, MA | 38340 | 1.1102
|  | Berkshire, MA
6340 | 1.0220 | Pocatello, ID | 38540 | 1.0210
|  | Bannock, ID
6360 | 0.5697 | Ponce, PR | 49500 | 0.5167
|  | Guayanilla, PR
|  | Juana Diaz, PR
|  | Penuelas, PR
|  | Yauco, PR
6360 | 0.5697 | Ponce, PR | 38660 | 0.5757
|  | Ponce, PR
|  | Villalba, PR
6403 | 1.0764 | Portland, ME | 38860 | 1.0754
|  | Cumberland, ME
|  | Sagadahoc, ME
|  | York, ME
6440 | 1.2138 | Portland-Vancouver, OR-WA | 38900 | 1.2127
|  | Clackamas, OR
|  | Columbia, OR
|  | Multnomah, OR
|  | Washington, OR
|  | Yamhill, OR
|  | Clark, WA
6483 | 1.1774 | Providence-Warwick-Pawtucket, RI | 39300 | 1.1623
|  | Bristol, RI
|  | Kent, RI
|  | Newport, RI
|  | Providence, RI
|  | Washington, RI
6520 | 1.0232 | Provo-Orem, UT | 39340 | 1.0197
|  | Utah, UT
6560 | 0.9316 | Pueblo, CO | 39380 | 0.9308
|  | Pueblo, CO
6580 | 1.0049 | Punta Gorda, FL | 39460 | 1.0040
|  | Charlotte, FL
6600 | 0.9628 | Racine, WI | 39540 | 0.9619
|  | Racine, WI
6640 | 1.0919 | Durham-Chapel Hill, NC | 20500 | 1.1021
|  | Chatham, NC
|  | Durham, NC
|  | Orange, NC
6640 | 1.0919 | Raleigh, NC | 39580 | 1.0695
|  | Franklin, NC
|  | Johnston, NC
|  | Wake, NC
6660 | 0.9486 | Rapid City, SD | 39660 | 0.9478
|  | Pennington, SD
6680 | 0.9809 | Reading, PA | 39740 | 0.9800
|  | Berks, PA
6690 | 1.2598 | Redding, CA | 39820 | 1.2586
|  | Shasta, CA
6720 | 1.1130 | Reno, NV | 39900 | 1.1120
|  | Washoe, NV
6740 | 1.1198 | Richland-Kennewick-Pasco, WA Benton, WA | 28420 | 1.1188
|  | Franklin, WA
6760 | 1.0002 | Richmond-Petersburg, VA | 40060 | 0.9994
|  | Charles City County, VA
|  | Chesterfield, VA
|  | Colonial Heights City, VA
|  | Dinwiddie, VA
|  | Goochland, VA
|  | Hanover, VA
|  | Henrico, VA
|  | Hopewell City, VA
|  | New Kent, VA
|  | Petersburg City, VA
|  | Powhatan, VA
|  | Prince George, VA
|  | Richmond City, VA
6780 | 1.1677 | Riverside-San Bernardino, CA | 40140 | 1.1666
|  | Riverside, CA
|  | San Bernardino, CA
6800 | 0.8971 | Roanoke, VA | 40220 | 0.8949
|  | Botetourt, VA
|  | Roanoke, VA
|  | Roanoke City, VA
|  | Salem City, VA
6820 | 1.2245 | Rochester, MN | 40340 | 1.2234
|  | Olmsted, MN
6840 | 0.9789 | Rochester, NY | 40380 | 0.9870
|  | Livingston, NY
|  | Monroe, NY
|  | Ontario, NY
|  | Orleans, NY
|  | Wayne, NY
6840 | 0.9789 | Genesee, NY | 33 | 0.8668
6880 | 1.0246 | Rockford, IL | 40420 | 1.0237
|  | Boone, IL
|  | Winnebago, IL
6880 | 1.0246 | Ogle, IL | 14 | 0.8868
6895 | 0.9578 | Rocky Mount, NC | 40580 | 0.9569
|  | Edgecombe, NC
|  | Nash, NC
6920 | 1.2611 | Sacramento, CA | 40900 | 1.2443
|  | El Dorado, CA
|  | Placer, CA
|  | Sacramento, CA
6960 | 1.0321 | Saginaw-Bay City-Midland, MI
|  | Bay, MI
|  | Midland, MI | 13020 | 1.0182
|  | Saginaw, MI | 23 | 0.9344
|  |  | 40980 | 1.0437
6980 | 1.0873 | St. Cloud, MN | 41060 | 1.0863
|  | Benton, MN
|  | Stearns, MN
7000 | 1.0658 | St. Joseph, MO | 41140 | 1.0649
|  | Andrew, MO
|  | Buchanan, MO
7040 | 0.9666 | St. Louis, MO-IL | 41180 | 0.9652
|  | Franklin, MO
|  | Jefferson, MO
|  | Lincoln, MO
|  | St. Charles, MO
|  | St. Louis, MO
|  | St. Louis City, MO
|  | Warren, MO
|  | Clinton, IL
|  | Jersey, IL
|  | Madison, IL
|  | Monroe, IL
|  | St. Clair, IL
7080 | 1.1236 | Salem, OR | 41420 | 1.1226
|  | Marion, OR
|  | Polk, OR
7120 | 1.4714 | Salinas, CA
|  | Monterey, CA | 41500 | 1.4700
7160 | 1.0098 | Ogden, UT | 36260 | 0.9801
|  | Davis, UT
|  | Weber, UT
7160 | 1.0098 | Salt Lake City, UT | 41620 | 1.0168
|  | Salt Lake, UT
7200 | 0.8693 | San Angelo, TX | 41660 | 0.8685
|  | Tom Green, TX
7240 | 0.9604 | San Antonio, TX | 41700 | 0.9575
|  | Bexar, TX
|  | Comal, TX
|  | Guadalupe, TX
|  | Wilson, TX
7320 | 1.1993 | San Diego, CA | 41740 | 1.1982
|  | San Diego, CA
7360 | 1.5660 | San Francisco, CA | 41884 | 1.5646
|  | Marin, CA
|  | San Francisco, CA
|  | San Mateo, CA
7400 | 1.5694 | San Jose, CA | 41940 | 1.5657
|  | Santa Clara, CA
7440 | 0.5522 | San Juan-Bayamon, PR | 41980 | 0.5342
|  | Aguas Buenas, PR
|  | Barceloneta, PR
|  | Bayamon, PR
|  | Canovanas, PR
|  | Carolina, PR
|  | Catano, PR
|  | Comerio, PR
|  | Corozal, PR
|  | Dorado, PR
|  | Florida, PR
|  | Guaynabo, PR
|  | Humacao, PR
|  | Juncos, PR
|  | Los Piedras, PR
|  | Loiza, PR
|  | Manati, PR
|  | Morovis, PR
|  | Naguabo, PR
|  | Naranjito, PR
|  | Rio Grande, PR
|  | San Juan, PR
|  | Toa Alta, PR
|  | Toa Baja, PR
|  | Trujillo Alto, PR
|  | Vega Alta, PR
|  | Vega Baja, PR
|  | Yabucoa, PR
7440 | 0.5522 | San Juan-Bayamon, PR | 21940 | 0.4530
|  | Ceiba, PR
|  | Fajardo, PR
|  | Luguillo, PR
7460 | 1.1834 | San Luis Obispo-Atascadero-Paso Robles, CA | 42020 | 1.1824
|  | San Luis Obispo, CA
7480 | 1.1465 | Santa Barbara-Santa Maria-Lompoc, CA | 42060 | 1.1455
|  | Santa Barbara, CA
7485 | 1.5731 | Santa Cruz-Watsonville, CA | 42100 | 1.5717
|  | Santa Cruz, CA
7490 | 1.1272 | Santa Fe, NM
|  | Los Alamos, NM | 32 | 0.9231
|  | Santa Fe, NM | 42140 | 1.1601
7500 | 1.3796 | Santa Rosa, CA | 42220 | 1.3784
|  | Sonoma, CA
7510 | 1.0249 | Sarasota-Bradenton, FL | 42260 | 1.0240
|  | Manatee, FL
|  | Sarasota, FL
7520 | 1.0070 | Savannah, GA | 42340 | 1.0061
|  | Bryan, GA
|  | Chatham, GA
|  | Effingham, GA
7560 | 0.9071 | Scranton—Wilkes-Barre—Hazleton, PA | 42540 | 0.9085
|  | Lackawanna, PA
|  | Luzerne, PA
|  | Wyoming, PA
7560 | 0.9071 | Columbia, PA | 39 | 0.8838
7600 | 1.2219 | Seattle-Bellevue-Everett, WA | 42644 | 1.2222
|  | King, WA
|  | Snohomish, WA
7600 | 1.2219 | Island, WA | 50 | 1.0967
7610 | 0.8389 | Sharon, PA | 49660 | 0.9823
|  | Mercer, PA
7620 | 0.9525 | Sheboygan, WI | 43100 | 0.9516
|  | Sheboygan, WI
7640 | 1.0237 | Sherman-Denison, TX | 43300 | 1.0227
|  | Grayson, TX
7680 | 0.9698 | Shreveport-Bossier City, LA | 43340 | 0.9712
|  | Bossier, LA
|  | Caddo, LA
7680 | 0.9698 | Webster, LA | 19 | 0.8000
7720 | 0.9680 | Sioux City, IA-NE | 43580 | 0.9646
|  | Woodbury, IA
|  | Dakota, NE
7760 | 1.0049 | Sioux Falls, SD | 43620 | 1.0040
|  | Lincoln, SD
|  | Minnehaha, SD
7800 | 1.0056 | South Bend, IN | 43780 | 1.0047
|  | St. Joseph, IN
7840 | 1.1347 | Spokane, WA | 44060 | 1.1337
|  | Spokane, WA
7880 | 0.9301 | Springfield, IL | 44100 | 0.9293
|  | Menard, IL
|  | Sangamon, IL
7920 | 0.9151 | Springfield, MO | 44180 | 0.9100
|  | Christian, MO
|  | Greene, MO
|  | Webster, MO
8003 | 1.0828 | Springfield, MA | 44140 | 1.0822
|  | Hampden, MA
|  | Hampshire, MA
8050 | 0.9006 | State College, PA | 44300 | 0.8998
|  | Centre, PA
8080 | 0.8814 | Steubenville-Weirton, OH-WV | 48260 | 0.8806
|  | Brooke, WV
|  | Hancock, WV
|  | Jefferson, OH
8120 | 1.1245 | Stockton-Lodi, CA | 44700 | 1.1235
|  | San Joaquin, CA
8140 | 0.9069 | Sumter, SC | 44940 | 0.9061
|  | Sumter, SC
8160 | 0.9999 | Syracuse, NY | 45060 | 1.0069
|  | Madison, NY
|  | Onondaga, NY
|  | Oswego, NY
8160 | 0.9999 | Cayuga, NY | 33 | 0.8668
8200 | 1.1792 | Tacoma, WA | 45104 | 1.1781
|  | Pierce, WA
8240 | 0.9213 | Tallahassee, FL | 45220 | 0.9204
|  | Gadsden, FL
|  | Leon, FL
8280 | 0.9605 | Tampa-St. Petersburg-Clearwater, FL | 45300 | 0.9597
|  | Hernando, FL
|  | Hillsborough, FL
|  | Pasco, FL
|  | Pinellas, FL
8320 | 0.9135 | Terre Haute, IN | 45460 | 0.9058
|  | Clay, IN
|  | Vermillion, IN
|  | Vigo, IN
8360 | 0.8955 | Texarkana, AR-Texarkana, TX | 45500 | 0.8947
|  | Miller, AR
|  | Bowie, TX
8400 | 1.0138 | Toledo, OH | 45780 | 1.0129
|  | Fulton, OH
|  | Lucas, OH
|  | Wood, OH
8440 | 0.9478 | Topeka, KS | 45820 | 0.9469
|  | Shawnee, KS
8480 | 1.0938 | Trenton, NJ | 45940 | 1.0928
|  | Mercer, NJ
8520 | 0.9501 | Tucson, AZ | 46060 | 0.9493
|  | Pima, AZ
8560 | 0.9291 | Tulsa, OK | 46140 | 0.9242
|  | Creek, OK
|  | Osage, OK
|  | Rogers, OK
|  | Tulsa, OK
|  | Wagoner, OK
8600 | 0.8984 | Tuscaloosa, AL | 46220 | 0.8865
|  | Tuscaloosa, AL
8640 | 1.0114 | Tyler, TX | 46340 | 1.0105
|  | Smith, TX
8680 | 0.8829 | Utica-Rome, NY | 46540 | 0.8822
|  | Herkimer, NY
|  | Oneida, NY
8720 | 1.4388 | Vallejo-Fairfield-Napa, CA
|  | Napa, CA | 34900 | 1.3326
|  | Solano, CA | 46700 | 1.5185
8735 | 1.1821 | Ventura, CA | 37100 | 1.1810
|  | Ventura, CA
8750 | 0.9015 | Victoria, TX | 47020 | 0.9008
|  | Victoria, TX
8760 | 1.1254 | Vineland-Millville-Bridgeton, NJ | 47220 | 1.1244
|  | Cumberland, NJ
8780 | 1.0591 | Visalia-Tulare-Porterville, CA | 47300 | 1.0608
|  | Tulare, CA
8800 | 0.8671 | Waco, TX | 47380 | 0.8663
|  | McLennan, TX
8840 | 1.1678 | Washington, DC-MD-VA-WV | 47894 | 1.1723
|  | District of Columbia, DC
|  | Calvert, MD
|  | Charles, MD
|  | Prince Georges, MD
|  | Alexandria City, VA
|  | Arlington, VA
|  | Clarke, VA
|  | Fairfax, VA
|  | Fairfax City, VA
|  | Falls Church City, VA
|  | Fauquier, VA
|  | Fredericksburg City, VA
|  | Loudoun, VA
|  | Manassas City, VA
|  | Manassas Park City, VA
|  | Prince William, VA
|  | Spotsylvania, VA
|  | Stafford, VA
|  | Warren, VA
|  | Jefferson, WV
8840 | 1.1678 | Washington, DC-MD-VA-WV | 13644 | 1.1651
|  | Frederick, MD
|  | Montgomery, MD
8840 | 1.1678 | Culpeper, VA | 49 | 0.8560
|  | King George, VA
8840 | 1.1678 | Washington, DC-MD-VA-WV | 25180 | 1.0332
|  | Berkeley, WV
8920 | 0.9189 | Waterloo-Cedar Falls, IA | 47940 | 0.9181
|  | Black Hawk, IA
8940 | 1.0187 | Wausau, WI | 48140 | 1.0177
|  | Marathon, WI
8960 | 1.1030 | West Palm Beach-Boca Raton, FL | 48424 | 1.1020
|  | Palm Beach, FL
9000 | 0.8000 | Wheeling, WV-OH | 48540 | 0.8000
|  | Belmont, OH
|  | Marshall, WV
|  | Ohio, WV
9040 | 1.0097 | Wichita, KS | 48620 | 1.0057
|  | Butler, KS
|  | Harvey, KS
|  | Sedgwick, KS
9080 | 0.8936 | Wichita Falls, TX | 48660 | 0.8861
|  | Archer, TX
|  | Wichita, TX
9140 | 0.9032 | Williamsport, PA | 48700 | 0.9024
|  | Lycoming, PA
9160 | 1.1838 | Wilmington-Newark, DE-MD | 48864 | 1.1750
|  | New Castle, DE
|  | Cecil, MD
9200 | 0.9832 | Wilmington, NC | 48900 | 0.9823
|  | Brunswick, NC
|  | New Hanover, NC
9260 | 1.0987 | Yakima, WA | 49420 | 1.0977
|  | Yakima, WA
9270 | 0.9982 | Yolo, CA | 40900 | 1.2443
|  | Yolo, CA
9280 | 0.9740 | York, PA | 49620 | 0.9731
|  | York, PA
9320 | 1.0130 | Youngstown-Warren, OH | 49660 | 0.9823
|  | Mahoning, OH
|  | Trumbull, OH
9320 | 1.0130 | Columbiana, OH | 36 | 0.9245
9340 | 1.1031 | Yuba City, CA | 49700 | 1.1021
|  | Sutter, CA
|  | Yuba, CA
9360 | 0.9443 | Yuma, AZ | 49740 | 0.9434
|  | Yuma, AZ
01 | 0.8129 | Bibb, AL | 13820 | 0.9738
|  | Chilton, AL
|  | Walker, AL
01 | 0.8129 | Geneva, AL | 20020 | 0.8015
|  | Henry, AL
01 | 0.8129 | Greene, AL | 46220 | 0.8865
|  | Hale, AL
01 | 0.8129 | Lowndes, AL | 33860 | 0.8827
02 | 1.2387 | Fairbanks North Star AK | 21820 | 1.1854
|  | Matanuska-Susitna, AK | 11260 | 1.2937
03 | 0.9729 | Yavapai, AZ | 39140 | 1.0520
04 | 0.8199 | Cleveland, AR | 38220 | 0.9224
|  | Franklin, AR | 22900 | 0.8809
|  | Garland, AR | 26300 | 0.9836
|  | Grant, AR | 30780 | 0.9386
|  | Lincoln, AR | 38220 | 0.9224
|  | Madison, AR | 22220 | 0.9184
|  | Perry, AR | 30780 | 0.9386
|  | Poinsett, AR | 27860 | 0.8661
05 | 1.0960 | Imperial, CA | 20940 | 0.9418
|  | Kings, CA | 25260 | 0.9886
|  | San Benito, CA | 41940 | 1.5657
06 | 0.9972 | Clear, Creek, CO | 19740 | 1.1596
|  | Elbert, CO
|  | Gilpin, CO
|  | Park, CO
06 | 0.9972 | Teller, CO | 17820 | 1.0414
10 | 0.9283 | Baker, FL | 27260 | 1.0142
|  | Gilchrist, FL | 23540 | 1.0059
|  | Indian River, FL | 46940 | 1.0079
10 | 0.9283 | Jefferson, FL | 45220 | 0.9204
|  | Wakulla, FL
11 | 0.8778 | Brooks, GA | 46660 | 0.8870
|  | Echols, GA
|  | Lanier, GA
|  | Lowndes, GA
11 | 0.8778 | Hall, GA | 23580 | 1.0164
|  | Marion, GA | 17980 | 0.9242
|  | Oglethorpe, GA | 12020 | 1.0850
11 | 0.8778 | Long, GA | 25980 | 0.8205
|  | Liberty, GA
11 | 0.8778 | Murray, GA | 19140 | 1.0165
|  | Whitfield, GA
11 | 0.8778 | Baker, GA | 10500 | 1.1981
|  | Terrell, GA
|  | Worth, GA
11 | 0.8778 | Crawford, GA | 31420 | 1.0515
|  | Monroe, GA
11 | 0.8778 | Brantley, GA | 15260 | 1.2690
|  | Glynn, GA
|  | MCIntosh, GA
11 | 0.8778 | Butts, GA | 12060 | 1.0604
|  | Dawson, GA
|  | Haralson, GA
|  | Heard, GA
|  | Jasper, GA
|  | Lamar, GA
|  | Meriwether, GA
|  | Pike, GA
11 | 0.8778 | Burke, GA | 12260 | 0.9735
|  | Floyd, GA |  | 0.9442
|  |  | 40660
13 | 0.9395 | Boise, ID | 14260 | 0.9946
|  | Gem, ID
|  | Owyhee, ID
13 | 0.9395 | Bonneville, ID | 26820 | 0.9634
|  | Jefferson, ID
13 | 0.9395 | Franklin, ID | 30860 | 0.9671
|  | Kootenai, ID | 17660 | 0.9932
|  | Nez Perce, ID | 30300 | 0.9905
|  | Power, ID | 38540 | 1.0210
14 | 0.8877 | Bond, IL | 41180 | 0.9652
|  | Calhoun, IL
|  | Macoupin, IL
14 | 0.8877 | Ford, IL | 16580 | 1.0132
|  | Platt
14 | 0.8877 | Marshall, IL | 37900 | 0.9450
|  | Stark, IL | 37900
14 | 0.8877 | Mercer | 19340 | 0.9330
|  | Vermilion, IL | 19180 | 0.8925
15 | 0.9299 | Bartholomew, IN | 18020 | 0.9984
|  | Franklin, IN | 17140 | 1.0120
|  | Gibson, IN | 21780 | 0.8903
|  | La Porte, IN | 33140 | 0.9924
|  | Sullivan, IN | 45460 | 0.9058
|  | Washington, IN | 31140 | 0.9701
15 | 0.9299 | Brown, IN | 26900 | 1.0755
|  | Putnam, IN
15 | 0.9299 | Benton, IN | 29140 | 0.9643
|  | Carroll, IN
15 | 0.9299 | Greene, IN | 14020 | 0.9132
|  | Owen, IN
15 | 0.9299 | Jasper, IN | 23844 | 0.9901
|  | Newton, IN
16 | 0.9101 | Benton, IA | 16300 | 0.9545
|  | Jones, IA
16 | 0.9101 | Bremer, IA | 47940 | 0.9181
|  | Grundy, IA
16 | 0.9101 | Guthrie, IA | 19780 | 0.9854
|  | Madison, IA
16 | 0.9101 | Harrison, IA | 36540 | 1.0373
|  | Mills, IA
16 | 0.9101 | Story, IA | 11180 | 1.0081
|  | Washington, IA | 26980 | 1.0267
17 | 0.8608 | Doniphan, KS | 41140 | 1.0649
|  | Sumner, KS | 48620 | 1.0057
17 | 0.8608 | Franklin, KS | 28140 | 1.0240
|  | Linn, KS
17 | 0.8608 | Jackson, KS | 45820 | 0.9469
|  | Jefferson, KS
|  | Osage, KS
|  | Wabaunsee, KS
18 | 0.8349 | Bracken, KY | 17140 | 1.0120
|  | Trigg, KY | 17300 | 0.8531
|  | Webster, KY | 21780 | 0.8903
18 | 0.8349 | Edmonson, KY | 14540 | 0.8657
|  | Warren, KY
18 | 0.8349 | Hancock, KY | 36980 | 0.8969
|  | Mc Lean, KY
18 | 0.8349 | Hardin, KY | 21060 | 0.9235
|  | Larue, KY
18 | 0.8349 | Henry, KY | 31140 | 0.9701
|  | Meade, KY
|  | Nelson, KY
|  | Shelby, KY
|  | Spencer, KY
|  | Trimble, KY
19 | 0.8000 | Cameron, LA | 29340 | 0.8439
|  | DE Soto, LA | 43340 | 0.9712
|  | Grant, LA | 10780 | 0.8690
|  | Union, LA | 33740 | 0.8405
19 | 0.8000 | East Feliciana, LA | 12940 | 0.8847
|  | Iberville, LA
|  | Pointe Coupee, LA
|  | St. Helena, LA
|  | West Feliciana, LA
21 | 0.9770 | Somerset, MD | 41540 | 0.9702
|  | Wicomico
22 | 1.0874 | Franklin, MA | 44140 | 1.0822
23 | 0.9303 | Barry, MI | 24340 | 1.0018
|  | Ionia, MI
|  | Newaygo, MI
23 | 0.9303 | Cass, MI | 43780 | 1.0047
24 | 0.9941 | Carlton, MN | 20260 | 1.0996
24 | 0.9941 | Dodge, MN | 40340 | 1.2234
|  | Wabasha, MN
25 | 0.8072 | Copiah, MS | 27140 | 0.8817
|  | Simpson, MS
25 | 0.8072 | George, MS | 37700 | 0.8480
|  | Perry, MS | 25620 | 0.8000
|  | Stone, MS | 25060 | 0.9518
25 | 0.8072 | Marshall, MS | 32820 | 0.9802
|  | Tate, MS
|  | Tunica, MS
26 | 0.8333 | Bates, MO | 28140 | 1.0240
|  | Caldwell, MO
26 | 0.8333 | Callaway, MO | 27620 | 0.8867
|  | Cole, MO
|  | Moniteau, MO
|  | Osage, MO
26 | 0.8333 | Crawford, Mo | 41180 | 0.9652
|  | Washington, MO
26 | 0.8333 | Dallas, MO | 44180 | 0.9100
|  | Polk, MO
26 | 0.8333 | DeKalb, MO | 41140 | 1.0649
|  | Howard, MO | 17860 | 0.8929
|  | McDonald, MO | 22220 | 0.9184
27 | 0.9262 | Carbon, MT | 13740 | 0.9530
28 | 0.9617 | Dixon, NE | 43580 | 0.9646
|  | Saunders, NE | 36540 | 1.0373
|  | Seward, NE | 30700 | 1.0856
29 | 1.0466 | Storey, NV | 39900 | 1.1120
|  | Carson City, NV | 16180 | 1.1009
32 | 0.9079 | San Juan, NM | 22140 | 0.8560
|  | Torrance, NM | 10740 | 1.1151
33 | 0.8944 | Tompkins, NY | 27060 | 1.0198
|  | Ulster, NY | 28740 | 0.9571
34 | 0.9048 | Anson, NC | 16740 | 1.0361
|  | Greene, NC | 24780 | 0.9766
|  | Hoke, NC | 22180 | 0.9957
|  | Pender, NC | 48900 | 0.9823
|  | Person, NC | 20500 | 1.1021
|  | Rockingham, NC | 24660 | 0.9773
34 | 0.9048 | Haywood, NC | 11700 | 0.9774
|  | Henderson, NC
36 | 0.9323 | Erie, OH | 41780 | 0.9589
|  | Ottawa, OH | 45780 | 1.0129
|  | Preble, OH | 19380 | 0.9894
36 | 0.9323 | Morrow, OH | 18140 | 1.0355
|  | Union, OH
37 | 0.8023 | Grady, OK | 36420 | 0.9552
|  | Lincoln, OK
37 | 0.8023 | Le Flore, OK | 22900 | 0.8809
37 | 0.8023 | Okmulgee, OK | 46140 | 0.9242
|  | Pawnee, OK
38 | 1.0697 | Deschutes, OR | 13460 | 1.1276
39 | 0.8886 | Armstrong, PA | 38300 | 0.9291
40 | 0.4654 | Albonito, PR | 41980 | 0.5342
|  | Barranquitas, PR
|  | Ciales, PR
|  | Maunabo, PR
|  | Orocovis, PR
|  | Quebradillas, PR
40 | 0.4654 | Arroyo, PR | 25020 | 0.4606
|  | Guayama, PR
|  | Patillas, PR
40 | 0.4654 | Guanica, PR | 49500 | 0.5167
|  | Lajas, PR | 41900 | 0.6026
40 | 0.4654 | Isabela, PR | 10380 | 0.4922
|  | Lares, PR
|  | Rincon, PR
|  | San Sebastian, PR
42 | 0.9197 | Calhoun, SC | 17900 | 0.9988
|  | Fairfield, SC
|  | Kershaw, SC
|  | Saluda, SC
42 | 0.9197 | Darlington, SC | 22500 | 0.9394
|  | Laurens, SC | 24860 | 1.0164
43 | 0.8934 | Mc Cook, SD | 43620 | 1.0040
|  | Turner, SD
43 | 0.8934 | Meade, SD | 39660 | 0.9478
|  | Union, SD | 43580 | 0.9646
44 | 0.8383 | Bradley, TN | 17420 | 0.8342
|  | Polk, TN | 1.0726
44 | 0.8383 | Cannon, TN | 34980 | 1.0726
|  | Hickman, TN
|  | Macon, TN
|  | Smith, TN
|  | Trousdale, TN
44 | 0.8383 | Grainger, TN | 34100 | 0.8285
|  | Hamblen, TN
|  | Jefferson, TN
44 | 0.8383 | Sequatchie, TN | 16860 | 0.9791
|  | Stewart, TN | 17300 | 0.8531
45 | 0.8420 | Aransas, TX | 18580 | 0.9196
|  | Calhoun, TX | 47020 | 0.9008
|  | Clay, TX | 48660 | 0.8861
|  | Crosby, TX | 31180 | 0.9334
|  | Delta, TX | 19124 | 1.0713
|  | Goliad, TX | 47020 | 0.9008
|  | Irion, TX | 41660 | 0.8685
|  | Lampasas, TX | 28660 | 0.9829
|  | Rusk, TX | 30980 | 0.9360
|  | Wise, TX | 23104 | 1.0073
45 | 0.8420 | Armstrong, TX | 11100 | 0.9761
|  | Carson, TX
45 | 0.8420 | Callahan, TX | 10180 | 0.8348
|  | Jones, TX
45 | 0.8420 | Atascosa, TX | 41700 | 0.9575
|  | Bandera, TX
|  | Kendall, TX
|  | Medina, TX
45 | 0.8420 | Austin, TX | 26420 | 1.0606
|  | San Jacinto, TX
45 | 0.8420 | Burleson, TX | 17780 | 0.9830
|  | Robertson, TX
46 | 0.9413 | Cache, UT | 30860 | 0.9671
|  | Juab, UT | 39340 | 1.0197
|  | Morgan, UT | 36260 | 0.9801
|  | Washington, UT | 41100 | 1.0058
46 | 0.9413 | Summit, UT | 41620 | 1.0168
|  | Tooele, UT
49 | 0.9025 | Amelia, VA | 40060 | 0.9994
|  | Caroline, VA
|  | Cumberland, VA
|  | King and Queen, VA
|  | King William, VA
|  | Louisa, VA
|  | Sussex, VA
49 | 0.9025 | Appomattox, VA | 31340 | 0.9589
|  | Nelson, VA | 16820 | 1.0947
|  | Surry, VA | 47260 | 0.9459
49 | 0.9025 | Craig, VA | 40220 | 0.8949
|  | Franklin, VA
49 | 0.9025 | Frederick, VA | 49020 | 1.1162
|  | Winchester City, VA
49 | 0.9025 | Giles, VA | 13980 | 0.8456
|  | Montgomery, VA
|  | Pulaski, VA
|  | Radford City, VA
49 | 0.9025 | Rockingham, VA | 25500 | 0.9864
|  | Harrisonburg City, VA
50 | 1.0721 | Asotin, WA | 30300 | 0.9905
|  | Cowlitz, WA | 31020 | 1.0873
|  | Skagit, WA | 34580 | 1.1247
|  | Skamania, WA | 38900 | 1.2127
50 | 1.0721 | Chelan, WA | 48300 | 1.0025
|  | Douglas, WA
51 | 0.8604 | Boone, WV | 16620 | 0.9439
|  | Clay, WV
|  | Lincoln, WV
51 | 0.8604 | Hampshire, WV | 49020 | 1.1162
|  | Morgan, WV | 25180 | 1.0332
51 | 0.8604 | Monongalia, WV | 34060 | 0.9284
|  | Preston, WV
51 | 0.8604 | Pleasants, WV | 37620 | 0.8814
|  | Wirt, WV
52 | 1.0110 | Columbia, WI | 31540 | 1.0960
|  | Iowa, WI
52 | 1.0110 | Fund Du Lac | 22540 | 1.0525
52 | 1.0110 | Kewaunee, WI | 24580 | 1.0199
|  | Oconto, WI
¹ This column lists each MSA area name and each county or county equivalent, in the MSA area. Counties not listed in this Table are considered to be rural areas. Wage Index values for these areas are found in Table D.
² Wage index values are based on FY 2000 hospital cost report data before reclassification. This wage index is further adjusted. Wage index values greater than 0.8 are subject to a budget neutrality adjustment calculated by multiplying the hospital wage index value for a given area by a budget neutrality factor of 1.064435 for wage indices based on MSA designations and 1.063479 for wage indices based on CBSA designations. Wage index values below 0.8 are adjusted to be the greater of a 15-percent increase, subject to a maximum wage index value of 0.8, or a budget neutrality adjustment calculated by multiplying the hospital wage index value for a given area by the budget neutrality factor. We have completed all of these adjustments and included them in the wage index values reflected in this table.

Table D.—Comparison Wage Index for Rural Areas by MSA and CBSA
MSA code number | Wage index ³ MSA designation | Nonurban area | CBSA code number | Wage index ³ CBSA designation
9901 | 0.8129 | Alabama | 01 | 0.8112
9902 | 1.2387 | Alaska | 02 | 1.2492
9903 | 0.9729 | Arizona | 03 | 0.9503
9904 | 0.8199 | Arkansas | 04 | 0.8000
9905 | 1.0960 | California | 05 | 1.1192
9906 | 0.9972 | Colorado | 06 | 0.9963
9907 | 1.2685 | Connecticut | 07 | 1.2673
9908 | 1.0115 | Delaware | 08 | 1.0106
9910 | 0.9283 | Florida | 10 | 0.9118
9911 | 0.8778 | Georgia | 11 | 0.8224
9912 | 1.1200 | Hawaii | 12 | 1.1190
9913 | 0.9395 | Idaho | 13 | 0.8749
9914 | 0.8877 | Illinois | 14 | 0.8868
9915 | 0.9299 | Indiana | 15 | 0.9202
9916 | 0.9101 | Iowa | 16 | 0.9013
9917 | 0.8608 | Kansas | 17 | 0.8592
9918 | 0.8349 | Kentucky | 18 | 0.8247
9919 | 0.8000 | Louisiana | 19 | 0.8000
9920 | 0.9621 | Maine | 30 | 0.9613
9921 | 0.9770 | Maryland | 21 | 0.9805
9922 | 1.0874 | Massachusetts ⁵ | 22 | 1.0865
9923 | 0.9303 | Michigan | 23 | 0.9344
9924 | 0.9941 | Minnesota | 24 | 0.9922
9925 | 0.8072 | Mississippi | 25 | 0.8120
9926 | 0.8333 | Missouri | 26 | 0.8255
9927 | 0.9262 | Montana | 27 | 0.9253
9928 | 0.9617 | Nebraska | 28 | 0.9609
9929 | TBD | Nevada | 29 | 0.9869
9930 | 1.0580 | New Hampshire | 30 | 1.0571
9931 |  | New Jersey ⁴ |  |
9932 | 0.9079 | New Mexico | 32 | 0.9231
9933 | 0.8944 | New York | 33 | 0.8668
9934 | 0.9048 | North Carolina | 34 | 0.9107
9935 | 0.8242 | North Dakota | 35 | 0.8235
9936 | 0.9323 | Ohio | 36 | 0.9245
9937 | 0.8023 | Oklahoma | 37 | 0.8174
9938 | 1.0697 | Oregon | 38 | 1.0543
9939 | 0.8886 | Pennsylvania | 39 | 0.8838
9940 | 0.4654 | Puerto Rico | 40 | 0.8000
9941 |  | Rhode Island ⁴ |  |
9942 | 0.9197 | South Carolina | 42 | 0.9234
9943 | 0.8934 | South Dakota | 43 | 0.8931
9944 | 0.8383 | Tennessee | 44 | 0.8369
9945 | 0.8420 | Texas | 45 | 0.8472
9946 | 0.9413 | Utah | 46 | 0.8813
9947 | 0.9979 | Vermont | 47 | 0.9970
9948 | 0.8000 | Virgin Islands | 48 | 0.8000
9949 | 0.9025 | Virginia | 49 | 0.8560
9950 | 1.0721 | Washington | 50 | 1.0967
9951 | 0.8604 | West Virginia | 51 | 0.8364
9952 | 1.0110 | Wisconsin | 52 | 1.0095
9953 | 0.9774 | Wyoming | 53 | 0.9765
9965 | 1.0230 | Guam | 54 | 1.0221
³ Wage index values are based on FY 2000 hospital cost report data before reclassification. This wage index is further adjusted. Wage index values greater than 0.8 are subject to a budget neutrality adjustment calculated by multiplying the hospital wage index value for a given area by a proposed budget neutrality factor of 1.064435 for wage indices based on MSA designations and 1.063479 for wage indices based on CBSA designations. Wage index values below 0.8 are adjusted to be the greater of a 15-percent increase, subject to a maximum wage index value of 0.8, or a budget neutrality adjustment calculated by multiplying the hospital wage index value for a given area by the budget neutrality factor. We have completed all of these adjustments and included them in the wage index values reflected in this table.
⁴ All counties within the State are classified as urban.
⁵ Based on CBSA designations Massachusetts has areas designated as rural. However, no IPPS hospitals are located in those rural area(s) for FY 2006. Because more recent data is not available for those areas, we are using the FY 2005 prefloor, preclassified hospital wage index value, for rural Massachusetts multiplied by the proposed FY 2006 budget neutrality factor of 1.063479.

Table E.—Rural Counties Converting to Urban Counties by State
County name | State county code | MSA code | MSA name | CBSA code | CBSA name
BIBB | 01030 | 01 | ALABAMA | 13820 | Birmingham-Hoover, AL
CHILTON | 01100 | 01 | ALABAMA | 13820 | Birmingham-Hoover, AL
GENEVA | 01300 | 01 | ALABAMA | 20020 | Dothan, AL
GREENE | 01310 | 01 | ALABAMA | 46220 | Tuscaloosa, AL
HALE | 01320 | 01 | ALABAMA | 46220 | Tuscaloosa, AL
HENRY | 01330 | 01 | ALABAMA | 20020 | Dothan, AL
LOWNDES | 01420 | 01 | ALABAMA | 33860 | Montgomery, AL
WALKER | 01630 | 01 | ALABAMA | 13820 | Birmingham-Hoover, AL
FAIRBANKS NORTH STAR | 02090 | 02 | ALASKA | 21820 | Fairbanks, AK
MATANUSKA-SUSITNA | 02170 | 02 | ALASKA | 11260 | Anchorage, AK
YAVAPAI | 03120 | 03 | ARIZONA | 39140 | Prescott, AZ
CLEVELAND | 04120 | 04 | ARKANSAS | 38220 | Pine Bluff, AR
FRANKLIN | 04230 | 04 | ARKANSAS | 22900 | Fort Smith, AR-OK
GARLAND | 04250 | 04 | ARKANSAS | 26300 | Hot Springs, AR
GRANT | 04260 | 04 | ARKANSAS | 30780 | Little Rock-North Little Rock, AR
LINCOLN | 04390 | 04 | ARKANSAS | 38220 | Pine Bluff, AR
MADISON | 04430 | 04 | ARKANSAS | 2220 | Fayetteville-Springdale-Rogers, AR-MO
PERRY | 04520 | 04 | ARKANSAS | 30780 | Little Rock-North Little Rock, AR
POINSETT | 04550 | 04 | ARKANSAS | 27860 | Jonesboro, AR
IMPERIAL | 05120 | 05 | CALIFORNIA | 20940 | El Centro, CA
KINGS | 05150 | 05 | CALIFORNIA | 25260 | Hanford-Corcoran, CA
SAN BENITO | 05450 | 05 | CALIFORNIA | 41940 | San Jose-Sunnyvale-Santa Clara, CA
CLEAR CREEK | 06090 | 06 | COLORADO | 19740 | Denver-Aurora, CO
ELBERT | 06190 | 06 | COLORADO | 19740 | Denver-Aurora, CO
GILPIN | 06230 | 06 | COLORADO | 19740 | Denver-Aurora, CO
PARK | 06460 | 06 | COLORADO | 19740 | Denver-Aurora, CO
TELLER | 06590 | 06 | COLORADO | 17820 | Colorado Springs, CO
BAKER | 10010 | 10 | FLORIDA | 27260 | Jacksonville, FL
GILCHRIST | 10200 | 10 | FLORIDA | 23540 | Gainesville, FL
INDIAN RIVER | 10300 | 10 | FLORIDA | 46940 | Vero Beach, FL
JEFFERSON | 10320 | 10 | FLORIDA | 45220 | Tallahassee, FL
WAKULLA | 10640 | 10 | FLORIDA | 45220 | Tallahassee, FL
BAKER | 11020 | 11 | GEORGIA | 10500 | Albany, GA
BRANTLEY | 11110 | 11 | GEORGIA | 15260 | Brunswick, GA
BROOKS | 11120 | 11 | GEORGIA | 46660 | Valdosta, GA
BURKE | 11150 | 11 | GEORGIA | 12260 | Augusta-Richmond County, GA-SC
BUTTS | 11160 | 11 | GEORGIA | 12060 | Atlanta-Sandy Springs-Marietta, GA
CRAWFORD | 11330 | 11 | GEORGIA | 31420 | Macon, GA
DAWSON | 11350 | 11 | GEORGIA | 12060 | Atlanta-Sandy Springs-Marietta, GA
ECHOLS | 11420 | 11 | GEORGIA | 46660 | Valdosta, GA
FLOYD | 11460 | 11 | GEORGIA | 40660 | Rome, GA
GLYNN | 11490 | 11 | GEORGIA | 15260 | Brunswick, GA
HALL | 11550 | 11 | GEORGIA | 23580 | Gainesville, GA
HARALSON | 11570 | 11 | GEORGIA | 12060 | Atlanta-Sandy Springs-Marietta, GA
HEARD | 11590 | 11 | GEORGIA | 12060 | Atlanta-Sandy Springs-Marietta, GA
JASPER | 11611 | 11 | GEORGIA | 12060 | Atlanta-Sandy Springs-Marietta, GA
LAMAR | 11651 | 11 | GEORGIA | 12060 | Atlanta-Sandy Springs-Marietta, GA
LANIER | 11652 | 11 | GEORGIA | 46660 | Valdosta, GA
LIBERTY | 11680 | 11 | GEORGIA | 25980 | Hinesville-Fort Stewart, GA
LONG | 11691 | 11 | GEORGIA | 25980 | Hinesville-Fort Stewart, GA
LOWNDES | 11700 | 11 | GEORGIA | 46660 | Valdosta, GA
MC INTOSH | 11703 | 11 | GEORGIA | 15260 | Brunswick, GA
MARION | 11730 | 11 | GEORGIA | 17980 | Columbus, GA-AL
MERIWETHER | 11740 | 11 | GEORGIA | 12060 | Atlanta-Sandy Springs-Marietta, GA
MONROE | 11760 | 11 | GEORGIA | 31420 | Macon, GA
MURRAY | 11772 | 11 | GEORGIA | 19140 | Dalton, GA
OGLETHORPE | 11801 | 11 | GEORGIA | 12020 | Athens-Clarke County, GA
PIKE | 11821 | 11 | GEORGIA | 12060 | Atlanta-Sandy Springs-Marietta, GA
TERRELL | 11885 | 11 | GEORGIA | 10500 | Albany, GA
WHITFIELD | 11970 | 11 | GEORGIA | 19140 | Dalton, GA
WORTH | 11980 | 11 | GEORGIA | 10500 | Albany, GA
BOISE | 13070 | 13 | IDAHO | 14260 | Boise City-Nampa, ID
BONNEVILLE | 13090 | 13 | IDAHO | 26820 | Idaho Falls, ID
FRANKLIN | 13200 | 13 | IDAHO | 30860 | Logan, UT-ID
GEM | 13220 | 13 | IDAHO | 14260 | Boise City-Nampa, ID
JEFFERSON | 13250 | 13 | IDAHO | 26820 | Idaho Falls, ID
KOOTENAI | 13270 | 13 | IDAHO | 17660 | Coeur d'Alene, ID
NEZ PERCE | 13340 | 13 | IDAHO | 30300 | Lewiston, ID-WA
OWYHEE | 13360 | 13 | IDAHO | 14260 | Boise City-Nampa, ID
POWER | 13380 | 13 | IDAHO | 38540 | Pocatello, ID
BOND | 14020 | 14 | ILLINOIS | 41180 | St. Louis, MO-IL
CALHOUN | 14060 | 14 | ILLINOIS | 41180 | St. Louis, MO-IL
FORD | 14350 | 14 | ILLINOIS | 16580 | Champaign-Urbana, IL
MACOUPIN | 14670 | 14 | ILLINOIS | 41180 | St. Louis, MO-IL
MARSHALL | 14700 | 14 | ILLINOIS | 37900 | Peoria, IL
MERCER | 14740 | 14 | ILLINOIS | 19340 | Davenport-Moline-Rock Island, IA-IL
PIATT | 14820 | 14 | ILLINOIS | 16580 | Champaign-Urbana, IL
STARK | 14960 | 14 | ILLINOIS | 37900 | Peoria, IL
VERMILION | 14982 | 14 | ILLINOIS | 19180 | Danville, IL
BARTHOLOMEW | 15020 | 15 | INDIANA | 18020 | Columbus, IN
BENTON | 15030 | 15 | INDIANA | 29140 | Lafayette, IN
BROWN | 15060 | 15 | INDIANA | 26900 | Indianapolis, IN
CARROLL | 15070 | 15 | INDIANA | 29140 | Lafayette, IN
FRANKLIN | 15230 | 15 | INDIANA | 17140 | Cincinnati-Middletown, OH-KY-IN
GIBSON | 15250 | 15 | INDIANA | 21780 | Evansville, IN-KY
GREENE | 15270 | 15 | INDIANA | 14020 | Bloomington, IN
JASPER | 15360 | 15 | INDIANA | 23844 | Gary, IN
LA PORTE | 15450 | 15 | INDIANA | 33140 | Michigan City-La Porte, IN
NEWTON | 15550 | 15 | INDIANA | 23844 | Gary, IN
OWEN | 15590 | 15 | INDIANA | 14020 | Bloomington, IN
PUTNAM | 15660 | 15 | INDIANA | 26900 | Indianapolis, IN
SULLIVAN | 15760 | 15 | INDIANA | 45460 | Terre Haute, IN
WASHINGTON | 15870 | 15 | INDIANA | 31140 | Louisville, KY-IN
BENTON | 16050 | 16 | IOWA | 16300 | Cedar Rapids, IA
BREMER | 16080 | 16 | IOWA | 47940 | Waterloo-Cedar Falls, IA
GRUNDY | 16370 | 16 | IOWA | 47940 | Waterloo-Cedar Falls, IA
GUTHRIE | 16380 | 16 | IOWA | 19780 | Des Moines, IA
HARRISON | 16420 | 16 | IOWA | 36540 | Omaha-Council Bluffs, NE-IA
JONES | 16520 | 16 | IOWA | 16300 | Cedar Rapids, IA
MADISON | 16600 | 16 | IOWA | 19780 | Des Moines, IA
MILLS | 16640 | 16 | IOWA | 36540 | Omaha-Council Bluffs, NE-IA
STORY | 16840 | 16 | IOWA | 11180 | Ames, IA
WASHINGTON | 16910 | 16 | IOWA | 26980 | Iowa City, IA
DONIPHAN | 17210 | 17 | KANSAS | 41140 | St. Joseph, MO-KS
FRANKLIN | 17290 | 17 | KANSAS | 28140 | Kansas City, MO-KS
JACKSON | 17420 | 17 | KANSAS | 45820 | Topeka, KS
JEFFERSON | 17430 | 17 | KANSAS | 45820 | Topeka, KS
LINN | 17530 | 17 | KANSAS | 28140 | Kansas City, MO-KS
OSAGE | 17690 | 17 | KANSAS | 45820 | Topeka, KS
SUMNER | 17950 | 17 | KANSAS | 48620 | Wichita, KS
WABAUNSEE | 17980 | 17 | KANSAS | 45820 | Topeka, KS
BRACKEN | 18110 | 18 | KENTUCKY | 17140 | Cincinnati-Middletown, OH-KY-IN
EDMONSON | 18291 | 18 | KENTUCKY | 14540 | Bowling Green, KY
HANCOCK | 18450 | 18 | KENTUCKY | 36980 | Owensboro, KY
HARDIN | 18460 | 18 | KENTUCKY | 21060 | Elizabethtown, KY
HENRY | 18510 | 18 | KENTUCKY | 31140 | Louisville, KY-IN
LARUE | 18610 | 18 | KENTUCKY | 21060 | Elizabethtown, KY
MC LEAN | 18740 | 18 | KENTUCKY | 36980 | Owensboro, KY
MEADE | 18801 | 18 | KENTUCKY | 31140 | Louisville, KY-IN
NELSON | 18890 | 18 | KENTUCKY | 31140 | Louisville, KY-IN
SHELBY | 18978 | 18 | KENTUCKY | 31140 | Louisville, KY-IN
SPENCER | 18980 | 18 | KENTUCKY | 31140 | Louisville, KY-IN
TRIGG | 18983 | 18 | KENTUCKY | 17300 | Clarksville, TN-KY
TRIMBLE | 18984 | 18 | KENTUCKY | 31140 | Louisville, KY-IN
WARREN | 18986 | 18 | KENTUCKY | 14540 | Bowling Green, KY
WEBSTER | 18989 | 18 | KENTUCKY | 21780 | Evansville, IN-KY
CAMERON | 19110 | 19 | LOUISIANA | 29340 | Lake Charles, LA
DE SOTO | 19150 | 19 | LOUISIANA | 43340 | Shreveport-Bossier City, LA
EAST FELICIANA | 19180 | 19 | LOUISIANA | 12940 | Baton Rouge, LA
GRANT | 19210 | 19 | LOUISIANA | 10780 | Alexandria, LA
IBERVILLE | 19230 | 19 | LOUISIANA | 12940 | Baton Rouge, LA
POINTE COUPEE | 19380 | 19 | LOUISIANA | 12940 | Baton Rouge, LA
ST. HELENA | 19450 | 19 | LOUISIANA | 12940 | Baton Rouge, LA
UNION | 19550 | 19 | LOUISIANA | 33740 | Monroe, LA
WEST FELICIANA | 19620 | 19 | LOUISIANA | 12940 | Baton Rouge, LA
SOMERSET | 21190 | 21 | MARYLAND | 41540 | Salisbury, MD
WICOMICO | 21220 | 21 | MARYLAND | 41540 | Salisbury, MD
FRANKLIN | 22060 | 22 | MASSACHUSETTS | 44140 | Springfield, MA
BARRY | 23070 | 23 | MICHIGAN | 24340 | Grand Rapids-Wyoming, MI
CASS | 23130 | 23 | MICHIGAN | 43780 | South Bend-Mishawaka, IN-MI
IONIA | 23330 | 23 | MICHIGAN | 24340 | Grand Rapids-Wyoming, MI
NEWAYGO | 23610 | 23 | MICHIGAN | 24340 | Grand Rapids-Wyoming, MI
CARLTON | 24080 | 24 | MINNESOTA | 20260 | Duluth, MN-WI
DODGE | 24190 | 24 | MINNESOTA | 40340 | Rochester, MN
WABASHA | 24780 | 24 | MINNESOTA | 40340 | Rochester, MN
COPIAH | 25140 | 25 | MISSISSIPPI | 27140 | Jackson, MS
GEORGE | 25190 | 25 | MISSISSIPPI | 37700 | Pascagoula, MS
MARSHALL | 25460 | 25 | MISSISSIPPI | 32820 | Memphis, TN-MS-AR
PERRY | 25550 | 25 | MISSISSIPPI | 25620 | Hattiesburg, MS
SIMPSON | 25630 | 25 | MISSISSIPPI | 27140 | Jackson, MS
STONE | 25650 | 25 | MISSISSIPPI | 25060 | Gulfport-Biloxi, MS
TATE | 25680 | 25 | MISSISSIPPI | 32820 | Memphis, TN-MS-AR
TUNICA | 25710 | 25 | MISSISSIPPI | 32820 | Memphis, TN-MS-AR
BATES | 26060 | 26 | MISSOURI | 28140 | Kansas City, MO-KS
CALDWELL | 26120 | 26 | MISSOURI | 28140 | Kansas City, MO-KS
CALLAWAY | 26130 | 26 | MISSOURI | 27620 | Jefferson City, MO
COLE | 26250 | 26 | MISSOURI | 27620 | Jefferson City, MO
CRAWFORD | 26270 | 26 | MISSOURI | 41180 | St. Louis, MO-IL
DALLAS | 26290 | 26 | MISSOURI | 44180 | Springfield, MO
DE KALB | 26310 | 26 | MISSOURI | 41140 | St. Joseph, MO-KS
HOWARD | 26440 | 26 | MISSOURI | 17860 | Columbia, MO
MC DONALD | 26590 | 26 | MISSOURI | 22220 | Fayetteville-Springdale-Rogers, AR-MO
MONITEAU | 26670 | 26 | MISSOURI | 27620 | Jefferson City, MO
OSAGE | 26750 | 26 | MISSOURI | 27620 | Jefferson City, MO
POLK | 26821 | 26 | MISSOURI | 44180 | Springfield, MO
WASHINGTON | 26992 | 26 | MISSOURI | 41180 | St. Louis, MO-IL
CARBON | 27040 | 27 | MONTANA | 13740 | Billings, MT
DIXON | 28250 | 28 | NEBRASKA | 43580 | Sioux City, IA-NE-SD
SAUNDERS | 28770 | 28 | NEBRASKA | 36540 | Omaha-Council Bluffs, NE-IA
SEWARD | 28790 | 28 | NEBRASKA | 30700 | Lincoln, NE
STOREY | 29140 | 29 | NEVADA | 39900 | Reno-Sparks, NV
CARSON CITY | 29120 | 29 | NEVADA | 16180 | Carson City, NV
SAN JUAN | 32220 | 32 | NEW MEXICO | 22140 | Farmington, NM
TORRANCE | 32280 | 32 | NEW MEXICO | 10740 | Albuquerque, NM
TOMPKINS | 33730 | 33 | NEW YORK | 27060 | Ithaca, NY
ULSTER | 33740 | 33 | NEW YORK | 28740 | Kingston, NY
ANSON | 34030 | 34 | NORTH CAROLINA | 16740 | Charlotte-Gastonia-Concord, NC-SC
GREENE | 34390 | 34 | NORTH CAROLINA | 24780 | Greenville, NC
HAYWOOD | 34430 | 34 | NORTH CAROLINA | 11700 | Asheville, NC
HENDERSON | 34440 | 34 | NORTH CAROLINA | 11700 | Asheville, NC
HOKE | 34460 | 34 | NORTH CAROLINA | 22180 | Fayetteville, NC
PENDER | 34700 | 34 | NORTH CAROLINA | 48900 | Wilmington, NC
PERSON | 34720 | 34 | NORTH CAROLINA | 20500 | Durham, NC
ROCKINGHAM | 34780 | 34 | NORTH CAROLINA | 24660 | Greensboro-High Point, NC
ERIE | 36220 | 36 | OHIO | 41780 | Sandusky, OH
MORROW | 36600 | 36 | OHIO | 18140 | Columbus, OH
OTTAWA | 36630 | 36 | OHIO | 45780 | Toledo, OH
PREBLE | 36690 | 36 | OHIO | 19380 | Dayton, OH
UNION | 36810 | 36 | OHIO | 18140 | Columbus, OH
GRADY | 37250 | 37 | OKLAHOMA | 36420 | Oklahoma City, OK
LE FLORE | 37390 | 37 | OKLAHOMA | 22900 | Fort Smith, AR-OK
LINCOLN | 37400 | 37 | OKLAHOMA | 36420 | Oklahoma City, OK
OKMULGEE | 37550 | 37 | OKLAHOMA | 46140 | Tulsa, OK
PAWNEE | 37580 | 37 | OKLAHOMA | 46140 | Tulsa, OK
DESCHUTES | 38080 | 38 | OREGON | 13460 | Bend, OR
ARMSTRONG | 39070 | 39 | PENNSYLVANIA | 38300 | Pittsburgh, PA
CALHOUN | 42080 | 42 | SOUTH CAROLINA | 17900 | Columbia, SC
DARLINGTON | 42150 | 42 | SOUTH CAROLINA | 22500 | Florence, SC
FAIRFIELD | 42190 | 42 | SOUTH CAROLINA | 17900 | Columbia, SC
KERSHAW | 42270 | 42 | SOUTH CAROLINA | 17900 | Columbia, SC
LAURENS | 42290 | 42 | SOUTH CAROLINA | 24860 | Greenville, SC
SALUDA | 42400 | 42 | SOUTH CAROLINA | 17900 | Columbia, SC
MC COOK | 43430 | 43 | SOUTH DAKOTA | 43620 | Sioux Falls, SD
MEADE | 43460 | 43 | SOUTH DAKOTA | 39660 | Rapid City, SD
TURNER | 43620 | 43 | SOUTH DAKOTA | 43620 | Sioux Falls, SD
UNION | 43630 | 43 | SOUTH DAKOTA | 43580 | Sioux City, IA-NE-SD
BRADLEY | 44050 | 44 | TENNESSEE | 17420 | Cleveland, TN
CANNON | 44070 | 44 | TENNESSEE | 34980 | Nashville-Davidson—Murfreesboro, TN
GRAINGER | 44280 | 44 | TENNESSEE | 34100 | Morristown, TN
HAMBLEN | 44310 | 44 | TENNESSEE | 34100 | Morristown, TN
HICKMAN | 44400 | 44 | TENNESSEE | 34980 | Nashville-Davidson—Murfreesboro, TN
JEFFERSON | 44440 | 44 | TENNESSEE | 34100 | Morristown, TN
MACON | 44550 | 44 | TENNESSEE | 34980 | Nashville-Davidson—Murfreesboro, TN
POLK | 44690 | 44 | TENNESSEE | 17420 | Cleveland, TN
SEQUATCHIE | 44760 | 44 | TENNESSEE | 16860 | Chattanooga, TN-GA
SMITH | 44790 | 44 | TENNESSEE | 34980 | Nashville-Davidson—Murfreesboro, TN
STEWART | 44800 | 44 | TENNESSEE | 17300 | Clarksville, TN-KY
TROUSDALE | 44840 | 44 | TENNESSEE | 34980 | Nashville-Davidson—Murfreesboro, TN
ARANSAS | 45030 | 45 | TEXAS | 18580 | Corpus Christi, TX
ARMSTRONG | 45050 | 45 | TEXAS | 11100 | Amarillo, TX
ATASCOSA | 45060 | 45 | TEXAS | 41700 | San Antonio, TX
AUSTIN | 45070 | 45 | TEXAS | 26420 | Houston-Baytown-Sugar Land, TX
BANDERA | 45090 | 45 | TEXAS | 41700 | San Antonio, TX
BURLESON | 45221 | 45 | TEXAS | 17780 | College Station-Bryan, TX
CALHOUN | 45224 | 45 | TEXAS | 47020 | Victoria, TX
CALLAHAN | 45230 | 45 | TEXAS | 10180 | Abilene, TX
CARSON | 45251 | 45 | TEXAS | 11100 | Amarillo, TX
CLAY | 45291 | 45 | TEXAS | 48660 | Wichita Falls, TX
CROSBY | 45362 | 45 | TEXAS | 31180 | Lubbock, TX
DELTA | 45400 | 45 | TEXAS | 19124 | Dallas-Plano-Irving, TX
GOLIAD | 45561 | 45 | TEXAS | 47020 | Victoria, TX
IRION | 45672 | 45 | TEXAS | 41660 | San Angelo, TX
JONES | 45721 | 45 | TEXAS | 10180 | Abilene, TX
KENDALL | 45731 | 45 | TEXAS | 41700 | San Antonio, TX
LAMPASAS | 45752 | 45 | TEXAS | 28660 | Killeen-Temple-Fort Hood, TX
MEDINA | 45792 | 45 | TEXAS | 41700 | San Antonio, TX
ROBERTSON | 45878 | 45 | TEXAS | 17780 | College Station-Bryan, TX
RUSK | 45881 | 45 | TEXAS | 30980 | Longview, TX
SAN JACINTO | 45884 | 45 | TEXAS | 26420 | Houston-Baytown-Sugar Land, TX
WISE | 45973 | 45 | TEXAS | 23104 | Fort Worth-Arlington, TX
CACHE | 46020 | 46 | UTAH | 30860 | Logan, UT-ID
JUAB | 46110 | 46 | UTAH | 39340 | Provo-Orem, UT
MORGAN | 46140 | 46 | UTAH | 36260 | Ogden-Clearfield, UT
SUMMIT | 46210 | 46 | UTAH | 41620 | Salt Lake City, UT
TOOELE | 46220 | 46 | UTAH | 41620 | Salt Lake City, UT
WASHINGTON | 46260 | 46 | UTAH | 41100 | St. George, UT
AMELIA | 49030 | 49 | VIRGINIA | 40060 | Richmond, VA
APPOMATTOX | 49050 | 49 | VIRGINIA | 31340 | Lynchburg, VA
CAROLINE | 49160 | 49 | VIRGINIA | 40060 | Richmond, VA
CRAIG | 49220 | 49 | VIRGINIA | 40220 | Roanoke, VA
CUMBERLAND | 49240 | 49 | VIRGINIA | 40060 | Richmond, VA
FRANKLIN | 49330 | 49 | VIRGINIA | 40220 | Roanoke, VA
FREDERICK | 49340 | 49 | VIRGINIA | 49020 | Winchester, VA-WV
GILES | 49350 | 49 | VIRGINIA | 13980 | Blacksburg-Christiansburg-Radford, VA
KING AND QUEEN | 49480 | 49 | VIRGINIA | 40060 | Richmond, VA
KING WILLIAM | 49500 | 49 | VIRGINIA | 40060 | Richmond, VA
LOUISA | 49540 | 49 | VIRGINIA | 40060 | Richmond, VA
MONTGOMERY | 49600 | 49 | VIRGINIA | 13980 | Blacksburg-Christiansburg-Radford, VA
NELSON | 49620 | 49 | VIRGINIA | 16820 | Charlottesville, VA
PULASKI | 49770 | 49 | VIRGINIA | 13980 | Blacksburg-Christiansburg-Radford, VA
ROCKINGHAM | 49820 | 49 | VIRGINIA | 25500 | Harrisonburg, VA
SURRY | 49900 | 49 | VIRGINIA | 47260 | Virginia Beach-Norfolk-Newport News, VA
SUSSEX | 49910 | 49 | VIRGINIA | 40060 | Richmond, VA
HARRISONBURG CITY | 49421 | 49 | VIRGINIA | 25500 | Harrisonburg, VA
RADFORD CITY | 49771 | 49 | VIRGINIA | 13980 | Blacksburg-Christiansburg-Radford, VA
WINCHESTER CITY | 49962 | 49 | VIRGINIA | 49020 | Winchester, VA-WV
ASOTIN | 50010 | 50 | WASHINGTON | 30300 | Lewiston, ID-WA
CHELAN | 50030 | 50 | WASHINGTON | 48300 | Wenatchee, WA
COWLITZ | 50070 | 50 | WASHINGTON | 31020 | Longview, WA
DOUGLAS | 50080 | 50 | WASHINGTON | 48300 | Wenatchee, WA
SKAGIT | 50280 | 50 | WASHINGTON | 34580 | Mount Vernon-Anacortes, WA a
SKAMANIA | 50290 | 50 | WASHINGTON | 38900 | Portland-Vancouver-Beaverton, OR-WA
BOONE | 51020 | 51 | WEST VIRGINIA | 16620 | Charleston, WV
CLAY | 51070 | 51 | WEST VIRGINIA | 16620 | Charleston, WV
HAMPSHIRE | 51130 | 51 | WEST VIRGINIA | 49020 | Winchester, VA-WV
LINCOLN | 51210 | 51 | WEST VIRGINIA | 16620 | Charleston, WV
MONONGALIA | 51300 | 51 | WEST VIRGINIA | 34060 | Morgantown, WV
MORGAN | 51320 | 51 | WEST VIRGINIA | 25180 | Hagerstown-Martinsburg, MD-WV
PLEASANTS | 51360 | 51 | WEST VIRGINIA | 37620 | Parkersburg-Marietta, WV-OH
PRESTON | 51380 | 51 | WEST VIRGINIA | 34060 | Morgantown, WV
WIRT | 51520 | 51 | WEST VIRGINIA | 37620 | Parkersburg-Marietta, WV-OH
COLUMBIA | 52100 | 52 | WISCONSIN | 31540 | Madison, WI
FOND DU LAC | 52190 | 52 | WISCONSIN | 22540 | Fond du Lac, WI
IOWA | 52240 | 52 | WISCONSIN | 31540 | Madison, WI
KEWAUNEE | 52300 | 52 | WISCONSIN | 24580 | Green Bay, WI
OCONTO | 52410 | 52 | WISCONSIN | 24580 | Green Bay, WI
AIBONITO | 40050 | 40 | PUERTO RICO | 41980 | San Juan-Caguas-Guaynabo, PR
ARROYO | 40080 | 40 | PUERTO RICO | 25020 | Guayama, PR
BARRANQUITAS | 40100 | 40 | PUERTO RICO | 41980 | San Juan-Caguas-Guaynabo, PR
CIALES | 40190 | 40 | PUERTO RICO | 41980 | San Juan-Caguas-Guaynabo, PR
GUANICA | 40270 | 40 | PUERTO RICO | 49500 | Yauco, PR
GUAYAMA | 40280 | 40 | PUERTO RICO | 25020 | Guayama, PR
ISABELA | 40350 | 40 | PUERTO RICO | 10380 | Aguadilla-Isabela-San Sebastian, PR
LAJAS | 40390 | 40 | PUERTO RICO | 41900 | San German-Cabo Rojo, PR
LARES | 40400 | 40 | PUERTO RICO | 10380 | Aguadilla-Isabela-San Sebastian, PR
MAUNABO | 40470 | 40 | PUERTO RICO | 41980 | San Juan-Caguas-Guaynabo, PR
OROCOVIS | 40530 | 40 | PUERTO RICO | 41980 | San Juan-Caguas-Guaynabo, PR
PATILLAS | 40540 | 40 | PUERTO RICO | 25020 | Guayama, PR
QUEBRADILLAS | 40570 | 40 | PUERTO RICO | 41980 | San Juan-Caguas-Guaynabo, PR
RINCON | 40580 | 40 | PUERTO RICO | 10380 | Aguadilla-Isabela-San Sebastian, PR
SAN SEBASTIAN | 40660 | 40 | PUERTO RICO | 10380 | Aguadilla-Isabela-San Sebastian, PR

Table F.—Crosswalk of Counties by State From MSA to CBSA
County name | State | State county code | MSA code | MSA name | CBSA code | CBSA name
AUTAUGA | AL | 01000 | 5240 | MONTGOMERY, AL | 33860 | Montgomery, AL
BALDWIN | AL | 01010 | 5160 | MOBILE, AL | *
BARBOUR | AL | 01020 | 01 | ALABAMA | *
BIBB | AL | 01030 | 01 | ALABAMA | 13820 | Birmingham-Hoover, AL
BLOUNT | AL | 01040 | 1000 | BIRMINGHAM, AL | 13820 | Birmingham-Hoover, AL
BULLOCK | AL | 01050 | 01 | ALABAMA | *
BUTLER | AL | 01060 | 01 | ALABAMA | *
CALHOUN | AL | 01070 | 0450 | ANNISTON, AL | 11500 | Anniston-Oxford, AL
CHAMBERS | AL | 01080 | 01 | ALABAMA | *
CHEROKEE | AL | 01090 | 01 | ALABAMA
CHILTON | AL | 01100 | 01 | ALABAMA | 13820 | Birmingham-Hoover, AL
CHOCTAW | AL | 01110 | 01 | ALABAMA | *
CLARKE | AL | 01120 | 01 | ALABAMA | *
CLAY | AL | 01130 | 01 | ALABAMA | *
CLEBURNE | AL | 01140 | 01 | ALABAMA | *
COFFEE | AL | 01150 | 01 | ALABAMA | *
COLBERT | AL | 01160 | 2650 | FLORENCE, AL | 22520 | Florence-Muscle Shoals, AL
CONECUH | AL | 01170 | 01 | ALABAMA | *
COOSA | AL | 01180 | 01 | ALABAMA | *
COVINGTON | AL | 01190 | 01 | ALABAMA | *
CRENSHAW | AL | 01200 | 01 | ALABAMA | *
CULLMAN | AL | 01210 | 01 | ALABAMA | *
DALE | AL | 01220 | 2180 | DOTHAN, AL | *
DALLAS | AL | 01230 | 01 | ALABAMA | *
DE KALB | AL | 01240 | 01 | ALABAMA | *
ELMORE | AL | 01250 | 5240 | MONTGOMERY, AL | 33860 | Montgomery, AL
ESCAMBIA | AL | 01260 | 01 | ALABAMA | *
ETOWAH | AL | 01270 | 2880 | GADSDEN, AL | 23460 | Gadsden, AL
FAYETTE | AL | 01280 | 01 | ALABAMA | *
FRANKLIN | AL | 01290 | 01 | ALABAMA | *
GENEVA | AL | 01300 | 01 | ALABAMA | 20020 | Dothan, AL
GREENE | AL | 01310 | 01 | ALABAMA | 46220 | Tuscaloosa, AL
HALE | AL | 01320 | 01 | ALABAMA | 46220 | Tuscaloosa, AL
HENRY | AL | 01330 | 01 | ALABAMA | 20020 | Dothan, AL
HOUSTON | AL | 01340 | 2180 | DOTHAN, AL | 20020 | Dothan, AL
JACKSON | AL | 01350 | 01 | ALABAMA | *
JEFFERSON | AL | 01360 | 1000 | BIRMINGHAM, AL | 13820 | Birmingham-Hoover, AL
LAMAR | AL | 01370 | 01 | ALABAMA | *
LAUDERDALE | AL | 01380 | 2650 | FLORENCE, AL | 22520 | Florence-Muscle Shoals, AL
LAWRENCE | AL | 01390 | 2030 | DECATUR, AL | 19460 | Decatur, AL
LEE | AL | 01400 | 0580 | AUBURN-OPELIKA, AL | 12220 | Auburn-Opelika, AL
LIMESTONE | AL | 01410 | 3440 | HUNTSVILLE, AL | 26620 | Huntsville, AL
LOWNDES | AL | 01420 | 01 | ALABAMA | 33860 | Montgomery, AL
MACON | AL | 01430 | 01 | ALABAMA | *
MADISON | AL | 01440 | 3440 | HUNTSVILLE, AL | 26620 | Huntsville, AL
MARENGO | AL | 01450 | 01 | ALABAMA | *
MARION | AL | 01460 | 01 | ALABAMA | *
MARSHALL | AL | 01470 | 01 | ALABAMA | *
MOBILE | AL | 01480 | 5160 | MOBILE, AL | 33660 | Mobile, AL
MONROE | AL | 01490 | 01 | ALABAMA | *
MONTGOMERY | AL | 01500 | 5240 | MONTGOMERY, AL | 33860 | Montgomery, AL
MORGAN | AL | 01510 | 2030 | DECATUR, AL | 19460 | Decatur, AL
PERRY | AL | 01520 | 01 | ALABAMA | *
PICKENS | AL | 01530 | 01 | ALABAMA | *
PIKE | AL | 01540 | 01 | ALABAMA | *
RANDOLPH | AL | 01550 | 01 | ALABAMA
RUSSELL | AL | 01560 | 1800 | COLUMBUS, GA-AL | 17980 | Columbus, GA-AL
ST. CLAIR | AL | 01570 | 1000 | BIRMINGHAM, AL | 13820 | Birmingham-Hoover, AL
SHELBY | AL | 01580 | 1000 | BIRMINGHAM, AL | 13820 | Birmingham-Hoover, AL
SUMTER | AL | 01590 | 01 | ALABAMA | *
TALLADEGA | AL | 01600 | 01 | ALABAMA | *
TALLAPOOSA | AL | 01610 | 01 | ALABAMA | *
TUSCALOOSA | AL | 01620 | 8600 | TUSCALOOSA, AL | 46220 | Tuscaloosa, AL
WALKER | AL | 01630 | 01 | ALABAMA | 13820 | Birmingham-Hoover, AL
WASHINGTON | AL | 01640 | 01 | ALABAMA | *
WILCOX | AL | 01650 | 01 | ALABAMA | *
WINSTON | AL | 01660 | 01 | ALABAMA | *
STATEWIDE | AL | 01999 | 01 | ALABAMA | *
ALEUTIANS EAST | AK | 02013 | 02 | ALASKA | *
ALEUTIANS WEST | AK | 02016 | 02 | ALASKA | *
ANCHORAGE | AK | 02020 | 0380 | ANCHORAGE,AK | 11260 | Anchorage, AK
ANGOON | AK | 02030 | 02 | ALASKA | *
BARROW-NORTH SLOPE | AK | 02040 | 02 | ALASKA | *
BETHEL | AK | 02050 | 02 | ALASKA | *
BRISTOL BAY BOROUGH | AK | 02060 | 02 | ALASKA | *
DENALI | AK | 02068 | 02 | ALASKA | *
DILLINGHAM | AK | 02070 | 02 | ALASKA | *
CORDOVA-MCCARTHY | AK | 02080 | 02 | ALASKA | *
FAIRBANKS NORTH STAR | AK | 02090 | 02 | ALASKA | 21820 | Fairbanks, AK
HAINES | AK | 02100 | 02 | ALASKA | *
JUNEAU | AK | 02110 | 02 | ALASKA | *
KENAI-COOK INLET | AK | 02120 | 02 | ALASKA | *
KENAI PENINSULA | AK | 02122 | 02 | ALASKA | *
KETCHIKAN GATEWAY | AK | 02130 | 02 | ALASKA | *
KOBUK | AK | 02140 | 02 | ALASKA | *
KODIAK ISLAND BOROUGH | AK | 02150 | 02 | ALASKA | *
KSUKOKWIN | AK | 02160 | 02 | ALASKA | *
LAKE AND PENINSULA | AK | 02164 | 02 | ALASKA | *
MATANUSKA-SUSITNA | AK | 02170 | 02 | ALASKA | 11260 | Anchorage, AK
NOME | AK | 02180 | 02 | ALASKA | *
NORTH SLOPE BOROUH | AK | 02185 | 02 | ALASKA | *
NORTHWEST ARTIC BOROUGH | AK | 02188 | 02 | ALASKA | *
OUTER KETCHIKAN | AK | 02190 | 02 | ALASKA | *
PR.OF WALES | AK | 02200 | 02 | ALASKA | *
PR.OF WALES-OUT.KETCHIKAN | AK | 02201 | 02 | ALASKA | *
SEWARD | AK | 02210 | 02 | ALASKA | *
SITKA BOROUGH | AK | 02220 | 02 | ALASKA | *
SKAGWAY-YAKUTAT | AK | 02230 | 02 | ALASKA | *
SKAGWAY-YAKUTAT-ANGOON | AK | 02231 | 02 | ALASKA | *
SKAGWAY-HOONAH-ANGOON | AK | 02232 | 02 | ALASKA | *
SOUTHEAST FAIRBANKS | AK | 02240 | 02 | ALASKA | *
UPPER YUKON | AK | 02250 | 02 | ALASKA | *
VALDEZ-CHITNA-WHITTIER | AK | 02260 | 02 | ALASKA | *
VALDEZ-CORDOVA | AK | 02261 | 02 | ALASKA | *
WADE HAMPTON | AK | 02270 | 02 | ALASKA | *
WRANGELL-PETERSBURG | AK | 02280 | 02 | ALASKA | *
YAKUTAT BOROUGH | AK | 02282 | 02 | ALASKA | *
YUKON-KOYUKUK | AK | 02290 | 02 | ALASKA | *
STATEWIDE | AK | 02999 | 02 | ALASKA | *
APACHE | AZ | 03000 | 03 | ARIZONA | *
COCHISE | AZ | 03010 | 03 | ARIZONA | *
COCONINO | AZ | 03020 | 2620 | FLAGSTAFF, ARIZONA-UTAH | 22380 | Flagstaff, AZ
GILA | AZ | 03030 | 03 | ARIZONA | *
GRAHAM | AZ | 03040 | 03 | ARIZONA | *
GREENLEE | AZ | 03050 | 03 | ARIZONA | *
LAPAZ | AZ | 03055 | 03 | ARIZONA | *
MARICOPA | AZ | 03060 | 6200 | PHOENIX-MESA, AZ | 38060 | Phoenix-Mesa-Scottsdale, AZ
MOHAVE | AZ | 03070 | 4120 | LAS VEGAS, NV-AZ | *
NAVAJO | AZ | 03080 | 03 | ARIZONA | *
PIMA | AZ | 03090 | 8520 | TUCSON, AZ | 46060 | Tucson, AZ
PINAL | AZ | 03100 | 6200 | PHOENIX-MESA, AZ | 38060 | Phoenix-Mesa-Scottsdale, AZ
SANTA CRUZ | AZ | 03110 | 03 | ARIZONA | *
YAVAPAI | AZ | 03120 | 03 | ARIZONA | 39140 | Prescott, AZ
YUMA | AZ | 03130 | 9360 | YUMA, AZ | 49740 | Yuma, AZ
STATEWIDE | AZ | 03999 | 03 | ARIZONA | *
ARKANSAS | AR | 04000 | 04 | ARKANSAS | *
ASHLEY | AR | 04010 | 04 | ARKANSAS | *
BAXTER | AR | 04020 | 04 | ARKANSAS | *
BENTON | AR | 04030 | 2580 | FAYETTEVILLE-SPRINGDALE-ROGERS, AR | 22220 | Fayetteville-Springdale-Rogers, AR-MO
BOONE | AR | 04040 | 04 | ARKANSAS | *
BRADLEY | AR | 04050 | 04 | ARKANSAS | *
CALHOUN | AR | 04060 | 04 | ARKANSAS | *
CARROLL | AR | 04070 | 04 | ARKANSAS | *
CHICOT | AR | 04080 | 04 | ARKANSAS | *
CLARK | AR | 04090 | 04 | ARKANSAS | *
CLAY | AR | 04100 | 04 | ARKANSAS | *
CLEBURNE | AR | 04110 | 04 | ARKANSAS | *
CLEVELAND | AR | 04120 | 04 | ARKANSAS | 38220 | Pine Bluff, AR
COLUMBIA | AR | 04130 | 04 | ARKANSAS | *
CONWAY | AR | 04140 | 04 | ARKANSAS | *
CRAIGHEAD | AR | 04150 | 3700 | JONESBORO, AR | 27860 | Jonesboro, AR
CRAWFORD | AR | 04160 | 2720 | FORT SMITH, AR-OK | 22900 | Fort Smith, AR-OK
CRITTENDEN | AR | 04170 | 4920 | MEMPHIS, TN-AR-MS | 32820 | Memphis, TN-MS-AR
CROSS | AR | 04180 | 04 | ARKANSAS | *
DALLAS | AR | 04190 | 04 | ARKANSAS | *
DESHA | AR | 04200 | 04 | ARKANSAS | *
DREW | AR | 04210 | 04 | ARKANSAS | *
FAULKNER | AR | 04220 | 4400 | LITTLE ROCK-NORTH LITTLE ROCK, AR | 30780 | Little Rock-North Little Rock, AR
FRANKLIN | AR | 04230 | 04 | ARKANSAS | 22900 | Fort Smith, AR-OK
FULTON | AR | 04240 | 04 | ARKANSAS
GARLAND | AR | 04250 | 04 | ARKANSAS | 26300 | Hot Springs, AR
GRANT | AR | 04260 | 04 | ARKANSAS | 30780 | Little Rock-North Little Rock, AR
GREENE | AR | 04270 | 04 | ARKANSAS | *
HEMPSTEAD | AR | 04280 | 04 | ARKANSAS | *
HOT SPRING | AR | 04290 | 04 | ARKANSAS | *
HOWARD | AR | 04300 | 04 | ARKANSAS | *
INDEPENDENCE | AR | 04310 | 04 | ARKANSAS | *
IZARD | AR | 04320 | 04 | ARKANSAS | *
JACKSON | AR | 04330 | 04 | ARKANSAS | *
JEFFERSON | AR | 04340 | 6240 | PINE BLUFF, AR | 38220 | Pine Bluff, AR
JOHNSON | AR | 04350 | 04 | ARKANSAS | *
LAFAYETTE | AR | 04360 | 04 | ARKANSAS | *
LAWRENCE | AR | 04370 | 04 | ARKANSAS | *
LEE | AR | 04380 | 04 | ARKANSAS | *
LINCOLN | AR | 04390 | 04 | ARKANSAS | 38220 | Pine Bluff, AR
LITTLE RIVER | AR | 04400 | 04 | ARKANSAS | *
LOGAN | AR | 04410 | 04 | ARKANSAS | *
LONOKE | AR | 04420 | 4400 | LITTLE ROCK-NORTH LITTLE ROCK, AR | 30780 | Little Rock-North Little Rock, AR
MADISON | AR | 04430 | 04 | ARKANSAS | 22220 | Fayetteville-Springdale-Rogers, AR-MO
MARION | AR | 04440 | 04 | ARKANSAS | *
MILLER | AR | 04450 | 8360 | TEXARKANA, TX-TEXARKANA, AR | 45500 | Texarkana, TX-Texarkana, AR
MISSISSIPPI | AR | 04460 | 04 | ARKANSAS | *
MONROE | AR | 04470 | 04 | ARKANSAS | *
MONTGOMERY | AR | 04480 | 04 | ARKANSAS | *
NEVADA | AR | 04490 | 04 | ARKANSAS | *
NEWTON | AR | 04500 | 04 | ARKANSAS | *
OUACHITA | AR | 04510 | 04 | ARKANSAS | *
PERRY | AR | 04520 | 04 | ARKANSAS | 30780 | Little Rock-North Little Rock, AR
PHILLIPS | AR | 04530 | 04 | ARKANSAS | *
PIKE | AR | 04540 | 04 | ARKANSAS | *
POINSETT | AR | 04550 | 04 | ARKANSAS | 27860 | Jonesboro, AR
POLK | AR | 04560 | 04 | ARKANSAS | *
POPE | AR | 04570 | 04 | ARKANSAS | *
PRAIRIE | AR | 04580 | 04 | ARKANSAS | *
PULASKI | AR | 04590 | 4400 | LITTLE ROCK-NORTH LITTLE ROCK, AR | 30780 | Little Rock-North Little Rock, AR
RANDOLPH | AR | 04600 | 04 | ARKANSAS | *
ST. FRANCIS | AR | 04610 | 04 | ARKANSAS | *
SALINE | AR | 04620 | 4400 | LITTLE ROCK-NORTH LITTLE ROCK, AR | 30780 | Little Rock-North Little Rock, AR
SCOTT | AR | 04630 | 04 | ARKANSAS | *
SEARCY | AR | 04640 | 04 | ARKANSAS | *
SEBASTIAN | AR | 04650 | 2720 | FORT SMITH, AR-OK | 22900 | Fort Smith, AR-OK
SEVIER | AR | 04660 | 04 | ARKANSAS | *
SHARP | AR | 04670 | 04 | ARKANSAS | *
STONE | AR | 04680 | 04 | ARKANSAS | *
UNION | AR | 04690 | 04 | ARKANSAS | *
VAN BUREN | AR | 04700 | 04 | ARKANSAS | *
WASHINGTON | AR | 04710 | 2580 | FAYETTEVILLE-SPRINGDALE-ROGERS, AR | 22220 | Fayetteville-Springdale-Rogers, AR-MO
WHITE | AR | 04720 | 04 | ARKANSAS | *
WOODRUFF | AR | 04730 | 04 | ARKANSAS | *
YELL | AR | 04740 | 04 | ARKANSAS | *
STATEWIDE | AR | 04999 | 04 | ARKANSAS | *
ALAMEDA | CA | 05000 | 5775 | OAKLAND, CA | 36084 | Oakland-Fremont-Hayward, CA
ALPINE | CA | 05010 | 05 | CALIFORNIA | *
AMADOR | CA | 05020 | 05 | CALIFORNIA | *
BUTTE | CA | 05030 | 1620 | CHICO-PARADISE, CA | 17020 | Chico, CA
CALAVERAS | CA | 05040 | 05 | CALIFORNIA | *
COLUSA | CA | 05050 | 05 | CALIFORNIA | *
CONTRA COSTA | CA | 05060 | 5775 | OAKLAND, CA | 36084 | Oakland-Fremont-Hayward, CA
DEL NORTE | CA | 05070 | 05 | CALIFORNIA | *
EL DORADO | CA | 05080 | 6920 | SACRAMENTO, CA | 40900 | Sacramento-Arden-Arcade-Roseville, CA
FRESNO | CA | 05090 | 2840 | FRESNO, CA | 23420 | Fresno, CA
GLENN | CA | 05100 | 05 | CALIFORNIA | *
HUMBOLDT | CA | 05110 | 05 | CALIFORNIA | *
IMPERIAL | CA | 05120 | 05 | CALIFORNIA | 20940 | El Centro, CA
INYO | CA | 05130 | 05 | CALIFORNIA | *
KERN | CA | 05140 | 0680 | BAKERSFIELD, CA | 12540 | Bakersfield, CA
KINGS | CA | 05150 | 05 | CALIFORNIA | 25260 | Hanford-Corcoran, CA
LAKE | CA | 05160 | 05 | CALIFORNIA | *
LASSEN | CA | 05170 | 05 | CALIFORNIA | *
LOS ANGELES | CA | 05200 | 4480 | LOS ANGELES-LONG BEACH, CA | 31084 | Los Angeles-Long Beach-Santa Ana, CA
LOS ANGELES | CA | 05210 | 4480 | LOS ANGELES-LONG BEACH, CA | 31084 | Los Angeles-Long Beach-Santa Ana, CA
MADERA | CA | 05300 | 2840 | FRESNO, CA | 31460 | Madera, CA
MARIN | CA | 05310 | 7360 | SAN FRANCISCO, CA | 41884 | San Francisco-San Mateo-Redwood City, CA
MARIPOSA | CA | 05320 | 05 | CALIFORNIA | *
MENDOCINO | CA | 05330 | 05 | CALIFORNIA | *
MERCED | CA | 05340 | 4940 | MERCED, CA | 32900 | Merced, CA
MODOC | CA | 05350 | 05 | CALIFORNIA | *
MONO | CA | 05360 | 05 | CALIFORNIA | *
MONTEREY | CA | 05370 | 7120 | SALINAS, CA | 41500 | Salinas, CA
NAPA | CA | 05380 | 8720 | VALLEJO-FAIRFIELD-NAPA, CA | 34900 | Napa, CA
NEVADA | CA | 05390 | 05 | CALIFORNIA | *
ORANGE | CA | 05400 | 5945 | ORANGE COUNTY, CA | 42044 | Santa Ana-Anaheim-Irvine, CA
PLACER | CA | 05410 | 6920 | SACRAMENTO, CA | 40900 | Sacramento—Arden-Arcade—Roseville, CA
PLUMAS | CA | 05420 | 05 | CALIFORNIA | *
RIVERSIDE | CA | 05430 | 6780 | RIVERSIDE-SAN BERNARDINO, CA | 40140 | Riverside-San Bernardino-Ontario, CA
SACRAMENTO | CA | 05440 | 6920 | SACRAMENTO, CA | 40900 | Sacramento—Arden-Arcade—Roseville, CA
SAN BENITO | CA | 05450 | 05 | CALIFORNIA | 41940 | San Jose-Sunnyvale-Santa Clara, CA
SAN BERNARDINO | CA | 05460 | 6780 | RIVERSIDE-SAN BERNARDINO, CA | 40140 | Riverside-San Bernardino-Ontario, CA
SAN DIEGO | CA | 05470 | 7320 | SAN DIEGO, CA | 41740 | San Diego-Carlsbad-San Marcos, CA
SAN FRANCISCO | CA | 05480 | 7360 | SAN FRANCISCO, CA | 41884 | San Francisco-San Mateo-Redwood City, CA
SAN JOAQUIN | CA | 05490 | 8120 | STOCKTON-LODI, CA | 44700 | Stockton, CA
SAN LUIS OBISPO | CA | 05500 | 7460 | SAN LUIS OBISPO-ATASCADERO-PASO ROBLES, CA | 42020 | San Luis Obispo-Paso Robles, CA
SAN MATEO | CA | 05510 | 7360 | SAN FRANCISCO, CA | 41884 | San Francisco-San Mateo-Redwood City, CA
SANTA BARBARA | CA | 05520 | 7480 | SANTA BARBARA-SANTA MARIA-LOMPOC, CA | 42060 | Santa Barbara-Santa Maria-Goleta, CA
SANTA CLARA | CA | 05530 | 7400 | SAN JOSE, CA | 41940 | San Jose-Sunnyvale-Santa Clara, CA
SANTA CRUZ | CA | 05540 | 7485 | SANTA CRUZ-WATSONVILLE, CA | 42100 | Santa Cruz-Watsonville, CA
SHASTA | CA | 05550 | 6690 | REDDING, CA | 39820 | Redding, CA
SIERRA | CA | 05560 | 05 | CALIFORNIA | *
SISKIYOU | CA | 05570 | 05 | CALIFORNIA | *
SOLANO | CA | 05580 | 8720 | VALLEJO-FAIRFIELD-NAPA, CA | 46700 | Vallejo-Fairfield, CA
SONOMA | CA | 05590 | 7500 | SANTA ROSA, CA | 42220 | Santa Rosa-Petaluma, CA
STANISLAUS | CA | 05600 | 5170 | MODESTO, CA | 33700 | Modesto, CA
SUTTER | CA | 05610 | 340 | YUBA CITY, CA | 49700 | Yuba City, CA
TEHAMA | CA | 05620 | 05 | CALIFORNIA | *
TRINITY | CA | 05630 | 05 | CALIFORNIA | *
TULARE | CA | 05640 | 8780 | VISALIA-TULARE-PORTERVILLE, CA | 47300 | Visalia-Porterville, CA
TUOLUMNE | CA | 05650 | 05 | CALIFORNIA | *
VENTURA | CA | 05660 | 8735 | VENTURA, CA | 37100 | Oxnard-Thousand Oaks-Ventura, CA
YOLO | CA | 05670 | 9270 | YOLO, CA | 40900 | Sacramento—Arden-Arcade—Roseville, CA
YUBA | CA | 05680 | 9340 | YUBA CITY, CA | 49700 | Yuba City, CA
STATEWIDE | CA | 05999 | 05 | CALIFORNIA | *
ADAMS | CO | 06000 | 2080 | DENVER, CO | 19740 | Denver-Aurora, CO
ALAMOSA | CO | 06010 | 06 | COLORADO | *
ARAPAHOE | CO | 06020 | 2080 | DENVER, CO | 19740 | Denver-Aurora, CO
ARCHULETA | CO | 06030 | 06 | COLORADO | *
BACA | CO | 06040 | 06 | COLORADO | *
BENT | CO | 06050 | 06 | COLORADO | *
BOULDER | CO | 06060 | 1125 | BOULDER-LONGMONT, CO | 14500 | Boulder, CO
CHAFFEE | CO | 06070 | 06 | COLORADO | *
CHEYENNE | CO | 06080 | 06 | COLORADO | *
CLEAR CREEK | CO | 06090 | 06 | COLORADO | 19740 | Denver-Aurora, CO
CONEJOS | CO | 06100 | 06 | COLORADO | *
COSTILLA | CO | 06110 | 06 | COLORADO | *
CROWLEY | CO | 06120 | 06 | COLORADO | *
CUSTER | CO | 06130 | 06 | COLORADO | *
DELTA | CO | 06140 | 06 | COLORADO | *
DENVER | CO | 06150 | 2080 | DENVER, CO | 19740 | Denver-Aurora, CO
DOLORES | CO | 06160 | 06 | COLORADO | *
DOUGLAS | CO | 06170 | 2080 | DENVER, CO | 19740 | Denver-Aurora, CO
EAGLE | CO | 06180 | 06 | COLORADO | *
ELBERT | CO | 06190 | 06 | COLORADO | 19740 | Denver-Aurora, CO
EL PASO | CO | 06200 | 1720 | COLORADO SPRINGS, CO | 17820 | Colorado Springs, CO
FREMONT | CO | 06210 | 06 | COLORADO | *
GARFIELD | CO | 06220 | 06 | COLORADO | *
GILPIN | CO | 06230 | 06 | COLORADO | 19740 | Denver-Aurora, CO
GRAND | CO | 06240 | 06 | COLORADO | *
GUNNISON | CO | 06250 | 06 | COLORADO | *
HINSDALE | CO | 06260 | 06 | COLORADO | *
HUERFANO | CO | 06270 | 06 | COLORADO | *
JACKSON | CO | 06280 | 06 | COLORADO | *
JEFFERSON | CO | 06290 | 2080 | DENVER, CO | 19740 | Denver-Aurora, CO
KIOWA | CO | 06300 | 06 | COLORADO | *
KIT CARSON | CO | 06310 | 06 | COLORADO | *
LAKE | CO | 06320 | 06 | COLORADO | *
LA PLATA | CO | 06330 | 06 | COLORADO | *
LARIMER | CO | 06340 | 2670 | FORT COLLINS-LOVELAND, CO | 22660 | Fort Collins-Loveland, CO
LAS ANIMAS | CO | 06350 | 06 | COLORADO | *
LINCOLN | CO | 06360 | 06 | COLORADO | *
LOGAN | CO | 06370 | 06 | COLORADO | *
MESA | CO | 06380 | 2995 | GRAND JUNCTION, CO | 24300 | Grand Junction, CO
MINERAL | CO | 06390 | 06 | COLORADO | *
MOFFAT | CO | 06400 | 06 | COLORADO | *
MONTEZUMA | CO | 06410 | 06 | COLORADO | *
MONTROSE | CO | 06420 | 06 | COLORADO | *
MORGAN | CO | 06430 | 06 | COLORADO | *
OTERO | CO | 06440 | 06 | COLORADO | *
OURAY | CO | 06450 | 06 | COLORADO | *
PARK | CO | 06460 | 06 | COLORADO | 19740 | Denver-Aurora, CO
PHILLIPS | CO | 06470 | 06 | COLORADO | *
PITKIN | CO | 06480 | 06 | COLORADO | *
PROWERS | CO | 06490 | 06 | COLORADO | *
PUEBLO | CO | 06500 | 6560 | PUEBLO, CO | 39380 | Pueblo, CO
RIO BLANCO | CO | 06510 | 06 | COLORADO | *
RIO GRANDE | CO | 06520 | 06 | COLORADO | *
ROUTT | CO | 06530 | 06 | COLORADO | *
SAGUACHE | CO | 06540 | 06 | COLORADO | *
SAN JUAN | CO | 06550 | 06 | COLORADO | *
SAN MIGUEL | CO | 06560 | 06 | COLORADO | *
SEDGWICK | CO | 06570 | 06 | COLORADO | *
SUMMIT | CO | 06580 | 06 | COLORADO | *
TELLER | CO | 06590 | 06 | COLORADO | 17820 | Colorado Springs, CO
WASHINGTON | CO | 06600 | 06 | COLORADO
WELD | CO | 06610 | 3060 | GREELEY, CO | 24540 | Greeley, CO
YUMA | CO | 06620 | 06 | COLORADO
BROOMFIELD | CO | 06630 | 2080 | DENVER, CO | 19740 | Denver-Aurora, CO
STATEWIDE | CO | 06999 | 06 | COLORADO | *
FAIRFIELD | CT | 07000 | 5483 | NEW HAVEN-BRIDGEPORT-STAMFORD-WATERBURY-DANBURY, CT | 14860 | Bridgeport-Stamford-Norwalk, CT
HARTFORD | CT | 07010 | 3283 | HARTFORD, CT | 25540 | Hartford-West Hartford-East Hartford, C
LITCHFIELD | CT | 07020 | 3283 | HARTFORD, CT | 25540 | Hartford-West Hartford-East Hartford, C
MIDDLESEX | CT | 07030 | 3283 | HARTFORD, CT | 25540 | Hartford-West Hartford-East Hartford, CT
EW HAVEN | CT | 07040 | 5483 | NEW HAVEN-BRIDGEPORT-STAMFORD-WATERBURY-DANBURY, CT | 35300 | New Haven-Milford, CT
NEW LONDON | CT | 07050 | 5523 | NEW LONDON-NORWICH, CT | 35980 | Norwich-New London, CT
TOLLAND | CT | 07060 | 3283 | HARTFORD, CT | 25540 | Hartford-West Hartford-East Hartford, C
WINDHAM | CT | 07070 | 07 | CONNECTICUT | *
STATEWIDE | CT | 07999 | 07 | CONNECTICUT | *
KENT | DE | 08000 | 2190 | DOVER, DE | 20100 | Dover, DE
NEW CASTLE | DE | 08010 | 9160 | WILMINGTON-NEWARK, DE-MD | 48864 | Wilmington, DE-MD-NJ
SUSSEX | DE | 08020 | 08 | DELAWARE | *
STATEWIDE | DE | 08999 | 08 | DELAWARE | *
THE DISTRICT | DC | 09000 | 8840 | WASHINGTON, DC-MD-VA-WV | 47894 | Washington-Arlington-Alexandria DC-VA
ALACHUA | FL | 10000 | 2900 | GAINESVILLE, FL | 23540 | Gainesville, FL
BAKER | FL | 10010 | 10 | FLORIDA | 27260 | Jacksonville, FL
BAY | FL | 10020 | 6015 | PANAMA CITY, FL | 37460 | Panama City-Lynn Haven, FL
BRADFORD | FL | 10030 | 10 | FLORIDA | *
BREVARD | FL | 10040 | 4900 | MELBOURNE-TITUSVILLE-PALM BAY, FL | 37340 | Palm Bay-Melbourne-Titusville, FL
BROWARD | FL | 10050 | 2680 | FORT LAUDERDALE, FL | 22744 | Ft Lauderdale-Pompano Beach-Deerfield
CALHOUN | FL | 10060 | 10 | FLORIDA | *
CHARLOTTE | FL | 10070 | 6580 | PUNTA GORDA, FL | 39460 | Punta Gorda, FL
CITRUS | FL | 10080 | 10 | FLORIDA | *
CLAY | FL | 10090 | 3600 | JACKSONVILLE, FL | 27260 | Jacksonville, FL
COLLIER | FL | 10100 | 5345 | NAPLES, FL | 34940 | Naples-Marco Island, FL
COLUMBIA | FL | 10110 | 10 | FLORIDA | *
MIAMI-DADE | FL | 10120 | 5000 | MIAMI, FL | 33124 | Miami-Miami Beach-Kendall, FL
DE SOTO | FL | 10130 | 10 | FLORIDA | *
DIXIE | FL | 10140 | 10 | FLORIDA | *
DUVAL | FL | 10150 | 3600 | JACKSONVILLE, FL | 27260 | Jacksonville, FL
ESCAMBIA | FL | 10160 | 6080 | PENSACOLA, FL | 37860 | Pensacola-Ferry Pass-Brent, FL
FLAGLER | FL | 10170 | 2020 | DAYTONA BEACH, FL | *
FRANKLIN | FL | 10180 | 10 | FLORIDA | *
GADSDEN | FL | 10190 | 8240 | TALLAHASSEE, FL | 45220 | Tallahassee, FL
GILCHRIST | FL | 10200 | 10 | FLORIDA | 23540 | Gainesville, FL
GLADES | FL | 10210 | 10 | FLORIDA | *
GULF | FL | 10220 | 10 | FLORIDA | *
HAMILTON | FL | 10230 | 10 | FLORIDA | *
HARDEE | FL | 10240 | 10 | FLORIDA | *
HENDRY | FL | 10250 | 10 | FLORIDA | *
HERNANDO | FL | 10260 | 8280 | TAMPA-ST. PETERSBURG-CLEARWATER, FL | 45300 | Tampa-St. Petersburg-Clearwater, FL
HIGHLANDS | FL | 10270 | 10 | FLORIDA | *
HILLSBOROUGH | FL | 10280 | 8280 | TAMPA-ST. PETERSBURG-CLEARWATER, FL | 45300 | Tampa-St. Petersburg-Clearwater, FL
HOLMES | FL | 10290 | 10 | FLORIDA | *
INDIAN RIVER | FL | 10300 | 10 | FLORIDA | 46940 | Vero Beach, FL
JACKSON | FL | 10310 | 10 | FLORIDA | *
JEFFERSON | FL | 10320 | 10 | FLORIDA | 45220 | Tallahassee, FL
LAFAYETTE | FL | 10330 | 10 | FLORIDA | *
LAKE | FL | 10340 | 5960 | ORLANDO, FL | 36740 | Orlando, FL
LEE | FL | 10350 | 2700 | FORT MYERS-CAPE CORAL, FL | 15980 | Cape Coral-Fort Myers, FL
LEON | FL | 10360 | 8240 | TALLAHASSEE, FL | 45220 | Tallahassee, FL
LEVY | FL | 10370 | 10 | FLORIDA | *
LIBERTY | FL | 10380 | 10 | FLORIDA | *
MADISON | FL | 10390 | 10 | FLORIDA | *
MANATEE | FL | 10400 | 7510 | SARASOTA-BRADENTON, FL | 42260 | Sarasota-Bradenton-Venice, FL
MARION | FL | 10410 | 5790 | OCALA, FL | 36100 | Ocala, FL
MARTIN | FL | 10420 | 2710 | FORT PIERCE-PORT ST. LUCIE, FL | 38940 | Port St. Lucie-Fort Pierce, FL
MONROE | FL | 10430 | 10 | FLORIDA | *
NASSAU | FL | 10440 | 3600 | JACKSONVILLE, FL | 27260 | Jacksonville, FL
OKALOOSA | FL | 10450 | 2750 | FORT WALTON BEACH, FL | 23020 | Fort Walton Beach-Crestview-Destin, FL
OKEECHOBEE | FL | 10460 | 10 | FLORIDA | *
ORANGE | FL | 10470 | 5960 | ORLANDO, FL | 36740 | Orlando, FL
OSCEOLA | FL | 10480 | 5960 | ORLANDO, FL | 36740 | Orlando, FL
PALM BEACH | FL | 10490 | 8960 | WEST PALM BEACH-BOCA RATON, FL | 48424 | West Palm Beach-Boca Raton-Boynton FL
PASCO | FL | 10500 | 8280 | TAMPA-ST. PETERSBURG-CLEARWATER, FL | 45300 | Tampa-St. Petersburg-Clearwater, FL
PINELLAS | FL | 10510 | 8280 | TAMPA-ST. PETERSBURG-CLEARWATER, FL | 45300 | Tampa-St. Petersburg-Clearwater, FL
POLK | FL | 10520 | 3980 | LAKELAND-WINTER HAVEN, FL | 29460 | Lakeland, FL
PUTNAM | FL | 10530 | 10 | FLORIDA
ST. JOHNS | FL | 10540 | 3600 | JACKSONVILLE, FL | 27260 | Jacksonville, FL
ST. LUCIE | FL | 10550 | 2710 | FORT PIERCE-PORT ST. LUCIE, FL | 38940 | Port St. Lucie-Fort Pierce, FL
SANTA ROSA | FL | 10560 | 6080 | PENSACOLA, FL | 37860 | Pensacola-Ferry Pass-Brent, FL
SARASOTA | FL | 10570 | 7510 | SARASOTA-BRADENTON, FL | 42260 | Sarasota-Bradenton-Venice, FL
SEMINOLE | FL | 10580 | 5960 | ORLANDO, FL | 36740 | Orlando, FL
SUMTER | FL | 10590 | 10 | FLORIDA | *
SUWANNEE | FL | 10600 | 10 | FLORIDA | *
TAYLOR | FL | 10610 | 10 | FLORIDA | *
UNION | FL | 10620 | 10 | FLORIDA | *
VOLUSIA | FL | 10630 | 2020 | DAYTONA BEACH, FL | 19660 | Deltona-Daytona Beach-Ormond Beach, FL
WAKULLA | FL | 10640 | 10 | FLORIDA | 45220 | Tallahassee, FL
WALTON | FL | 10650 | 10 | FLORIDA | *
WASHINGTON | FL | 10660 | 10 | FLORIDA | *
STATEWIDE | FL | 10999 | 10 | FLORIDA | *
APPLING | GA | 11000 | 11 | GEORGIA | *
ATKINSON | GA | 11010 | 11 | GEORGIA | *
BACON | GA | 11011 | 11 | GEORGIA | *
BAKER | GA | 11020 | 11 | GEORGIA | 10500 | Albany, GA
BALDWIN | GA | 11030 | 11 | GEORGIA | *
BANKS | GA | 11040 | 11 | GEORGIA | *
BARROW | GA | 11050 | 0520 | ATLANTA, GA | 12060 | Atlanta-Sandy Springs-Marietta, GA
BARTOW | GA | 11060 | 0520 | ATLANTA, GA | 12060 | Atlanta-Sandy Springs-Marietta, GA
BEN HILL | GA | 11070 | 11 | GEORGIA | *
BERRIEN | GA | 11080 | 11 | GEORGIA | *
BIBB | GA | 11090 | 4680 | MACON, GA | 31420 | Macon, GA
BLECKLEY | GA | 11100 | 11 | GEORGIA | *
BRANTLEY | GA | 11110 | 11 | GEORGIA | 15260 | Brunswick, GA
BROOKS | GA | 11120 | 11 | GEORGIA | 46660 | Valdosta, GA
BRYAN | GA | 11130 | 7520 | SAVANNAH, GA | 42340 | Savannah, GA
BULLOCH | GA | 11140 | 11 | GEORGIA | *
BURKE | GA | 11150 | 11 | GEORGIA | 12260 | Augusta-Richmond County, GA-SC
BUTTS | GA | 11160 | 11 | GEORGIA | 12060 | Atlanta-Sandy Springs-Marietta, GA
CALHOUN | GA | 11161 | 11 | GEORGIA | *
CAMDEN | GA | 11170 | 11 | GEORGIA | *
CANDLER | GA | 11180 | 11 | GEORGIA | *
CARROLL | GA | 11190 | 0520 | ATLANTA, GA | 12060 | Atlanta-Sandy Springs-Marietta, GA
CATOOSA | GA | 11200 | 1560 | CHATTANOOGA, TN-GA | 16860 | Chattanooga, TN-GA
CHARLTON | GA | 11210 | 11 | GEORGIA
CHATHAM | GA | 11220 | 7520 | SAVANNAH, GA | 42340 | Savannah, GA
CHATTAHOOCHEE | GA | 11230 | 1800 | COLUMBUS, GA-AL | 17980 | Columbus, GA-AL
CHATTOOGA | GA | 11240 | 11 | GEORGIA | *
CHEROKEE | GA | 11250 | 0520 | ATLANTA, GA | 12060 | Atlanta-Sandy Springs-Marietta, GA
CLARKE | GA | 11260 | 0500 | ATHENS, GA | 12020 | Athens-Clarke County, GA
CLAY | GA | 11270 | 11 | GEORGIA | *
CLAYTON | GA | 11280 | 0520 | ATLANTA, GA | 12060 | Atlanta-Sandy Springs-Marietta, GA
CLINCH | GA | 11281 | 11 | GEORGIA | *
COBB | GA | 11290 | 0520 | ATLANTA, GA | 12060 | Atlanta-Sandy Springs-Marietta, GA
COFFEE | GA | 11291 | 11 | GEORGIA | *
COLQUITT | GA | 11300 | 11 | GEORGIA | *
COLUMBIA | GA | 11310 | 0600 | AUGUSTA-AIKEN, GA-SC | 12260 | Augusta-Richmond County, GA-SC
COOK | GA | 11311 | 11 | GEORGIA | *
COWETA | GA | 11320 | 0520 | ATLANTA, GA | 12060 | Atlanta-Sandy Springs-Marietta, GA
CRAWFORD | GA | 11330 | 11 | GEORGIA | 31420 | Macon, GA
CRISP | GA | 11340 | 11 | GEORGIA | *
DADE | GA | 11341 | 1560 | CHATTANOOGA, TN-GA | 16860 | Chattanooga, TN-GA
DAWSON | GA | 11350 | 11 | GEORGIA | 12060 | Atlanta-Sandy Springs-Marietta, GA
DECATUR | GA | 11360 | 11 | GEORGIA | *
DE KALB | GA | 11370 | 0520 | ATLANTA, GA | 12060 | Atlanta-Sandy Springs-Marietta, GA
DODGE | GA | 11380 | 11 | GEORGIA | *
DOOLY | GA | 11381 | 11 | GEORGIA | *
DOUGHERTY | GA | 11390 | 0120 | ALBANY, GA | 10500 | Albany, GA
DOUGLAS | GA | 11400 | 0520 | ATLANTA, GA | 12060 | Atlanta-Sandy Springs-Marietta, GA
EARLY | GA | 11410 | 11 | GEORGIA | *
ECHOLS | GA | 11420 | 11 | GEORGIA | 46660 | Valdosta, GA
EFFINGHAM | GA | 11421 | 7520 | SAVANNAH, GA | 42340 | Savannah, GA
ELBERT | GA | 11430 | 11 | GEORGIA | *
EMANUEL | GA | 11440 | 11 | GEORGIA | *
EVANS | GA | 11441 | 11 | GEORGIA | *
FANNIN | GA | 11450 | 11 | GEORGIA | *
FAYETTE | GA | 11451 | 0520 | ATLANTA, GA | 12060 | Atlanta-Sandy Springs-Marietta, GA
FLOYD | GA | 11460 | 11 | GEORGIA | 40660 | Rome, GA
FORSYTH | GA | 11461 | 0520 | ATLANTA, GA | 12060 | Atlanta-Sandy Springs-Marietta, GA
FRANKLIN | GA | 11462 | 11 | GEORGIA | *
FULTON | GA | 11470 | 0520 | ATLANTA, GA | 12060 | Atlanta-Sandy Springs-Marietta, GA
GILMER | GA | 11471 | 11 | GEORGIA | *
GLASCOCK | GA | 11480 | 11 | GEORGIA | *
GLYNN | GA | 11490 | 11 | GEORGIA | 15260 | Brunswick, GA
GORDON | GA | 11500 | 11 | GEORGIA | *
GRADY | GA | 11510 | 11 | GEORGIA | *
GREENE | GA | 11520 | 11 | GEORGIA | *
GWINNETT | GA | 11530 | 0520 | ATLANTA, GA | 12060 | Atlanta-Sandy Springs-Marietta, GA
HABERSHAM | GA | 11540 | 11 | GEORGIA | *
HALL | GA | 11550 | 11 | GEORGIA | 23580 | Gainesville, GA
HANCOCK | GA | 11560 | 11 | GEORGIA | *
HARALSON | GA | 11570 | 11 | GEORGIA | 12060 | Atlanta-Sandy Springs-Marietta, GA
HARRIS | GA | 11580 | 1800 | COLUMBUS, GA-AL | 17980 | Columbus, GA-AL
HART | GA | 11581 | 11 | GEORGIA | *
HEARD | GA | 11590 | 11 | GEORGIA | 12060 | Atlanta-Sandy Springs-Marietta, GA
HENRY | GA | 11591 | 0520 | ATLANTA, GA | 12060 | Atlanta-Sandy Springs-Marietta, GA
HOUSTON | GA | 11600 | 4680 | MACON, GA | 47580 | Warner Robins, GA
IRWIN | GA | 11601 | 11 | GEORGIA | *
JACKSON | GA | 11610 | 11 | GEORGIA | *
JASPER | GA | 11611 | 11 | GEORGIA | 12060 | Atlanta-Sandy Springs-Marietta, GA
JEFF DAVIS | GA | 11612 | 11 | GEORGIA | *
JEFFERSON | GA | 11620 | 11 | GEORGIA | *
JENKINS | GA | 11630 | 11 | GEORGIA | *
JOHNSON | GA | 11640 | 11 | GEORGIA | *
JONES | GA | 11650 | 4680 | MACON, GA | 31420 | Macon, GA
LAMAR | GA | 11651 | 11 | GEORGIA | 12060 | Atlanta-Sandy Springs-Marietta, GA
LANIER | GA | 11652 | 11 | GEORGIA | 46660 | Valdosta, GA
LAURENS | GA | 11660 | 11 | GEORGIA | *
LEE | GA | 11670 | 0120 | ALBANY, GA | 10500 | Albany, GA
LIBERTY | GA | 11680 | 11 | GEORGIA | 25980 | Hinesville-Fort Stewart, GA
LINCOLN | GA | 11690 | 11 | GEORGIA
LONG | GA | 11691 | 11 | GEORGIA | 25980 | Hinesville-Fort Stewart, GA
LOWNDES | GA | 11700 | 11 | GEORGIA | 46660 | Valdosta, GA
LUMPKIN | GA | 11701 | 11 | GEORGIA | *
MC DUFFIE | GA | 11702 | 0600 | AUGUSTA-AIKEN, GA-SC | 12260 | Augusta-Richmond County, GA-SC
MC INTOSH | GA | 11703 | 11 | GEORGIA | 15260 | Brunswick, GA
MACON | GA | 11710 | 11 | GEORGIA | *
MADISON | GA | 11720 | 0500 | ATHENS, GA | 12020 | Athens-Clarke County, GA
MARION | GA | 11730 | 11 | GEORGIA | 17980 | Columbus, GA-AL
MERIWETHER | GA | 11740 | 11 | GEORGIA | 12060 | Atlanta-Sandy Springs-Marietta, GA
MILLER | GA | 11741 | 11 | GEORGIA | *
MITCHELL | GA | 11750 | 11 | GEORGIA | *
MONROE | GA | 11760 | 11 | GEORGIA | 31420 | Macon, GA
MONTGOMERY | GA | 11770 | 11 | GEORGIA | *
MORGAN | GA | 11771 | 11 | GEORGIA | *
MURRAY | GA | 11772 | 11 | GEORGIA | 19140 | Dalton, GA
MUSCOGEE | GA | 11780 | 1800 | COLUMBUS, GA-AL | 17980 | Columbus, GA-AL
NEWTON | GA | 11790 | 0520 | ATLANTA, GA | 12060 | Atlanta-Sandy Springs-Marietta, GA
OCONEE | GA | 11800 | 0500 | ATHENS, GA | 12020 | Athens-Clarke County, GA
OGLETHORPE | GA | 11801 | 11 | GEORGIA | 12020 | Athens-Clarke County, GA
PAULDING | GA | 11810 | 0520 | ATLANTA, GA | 12060 | Atlanta-Sandy Springs-Marietta, GA
PEACH | GA | 11811 | 4680 | MACON, GA | *
PICKENS | GA | 11812 | 0520 | ATLANTA, GA | 12060 | Atlanta-Sandy Springs-Marietta, GA
PIERCE | GA | 11820 | 11 | GEORGIA | *
PIKE | GA | 11821 | 11 | GEORGIA | 12060 | Atlanta-Sandy Springs-Marietta, GA
POLK | GA | 11830 | 11 | GEORGIA | *
PULASKI | GA | 11831 | 11 | GEORGIA | *
PUTNAM | GA | 11832 | 11 | GEORGIA | *
QUITMAN | GA | 11833 | 11 | GEORGIA | *
RABUN | GA | 11834 | 11 | GEORGIA | *
RANDOLPH | GA | 11835 | 11 | GEORGIA | *
RICHMOND | GA | 11840 | 0600 | AUGUSTA-AIKEN, GA-SC | 12260 | Augusta-Richmond County, GA-SC
ROCKDALE | GA | 11841 | 0520 | ATLANTA, GA | 12060 | Atlanta-Sandy Springs-Marietta, GA
SCHLEY | GA | 11842 | 11 | GEORGIA | *
SCREVEN | GA | 11850 | 11 | GEORGIA | *
SEMINOLE | GA | 11851 | 11 | GEORGIA | *
SPALDING | GA | 11860 | 0520 | ATLANTA, GA | 12060 | Atlanta-Sandy Springs-Marietta, GA
STEPHENS | GA | 11861 | 11 | GEORGIA | *
STEWART | GA | 11862 | 11 | GEORGIA | *
SUMTER | GA | 11870 | 11 | GEORGIA | *
TALBOT | GA | 11880 | 11 | GEORGIA | *
TALIAFERRO | GA | 11881 | 11 | GEORGIA | *
TATTNALL | GA | 11882 | 11 | GEORGIA | *
TAYLOR | GA | 11883 | 11 | GEORGIA | *
TELFAIR | GA | 11884 | 11 | GEORGIA | *
TERRELL | GA | 11885 | 11 | GEORGIA | 10500 | Albany, GA
THOMAS | GA | 11890 | 11 | GEORGIA | *
TIFT | GA | 11900 | 11 | GEORGIA | *
TOOMBS | GA | 11901 | 11 | GEORGIA | *
TOWNS | GA | 11902 | 11 | GEORGIA | *
TREUTLEN | GA | 11903 | 11 | GEORGIA | *
TROUP | GA | 11910 | 11 | GEORGIA | *
TURNER | GA | 11911 | 11 | GEORGIA | *
TWIGGS | GA | 11912 | 4680 | MACON, GA | 31420 | Macon, GA
UNION | GA | 11913 | 11 | GEORGIA | *
UPSON | GA | 11920 | 11 | GEORGIA | *
WALKER | GA | 11921 | 1560 | CHATTANOOGA, TN-GA | 16860 | Chattanooga, TN-GA
WALTON | GA | 11930 | 0520 | ATLANTA, GA | 12060 | Atlanta-Sandy Springs-Marietta, GA
WARE | GA | 11940 | 11 | GEORGIA | *
WARREN | GA | 11941 | 11 | GEORGIA | *
WASHINGTON | GA | 11950 | 11 | GEORGIA | *
WAYNE | GA | 11960 | 11 | GEORGIA | *
WEBSTER | GA | 11961 | 11 | GEORGIA | *
WHEELER | GA | 11962 | 11 | GEORGIA | *
WHITE | GA | 11963 | 11 | GEORGIA | *
WHITFIELD | GA | 11970 | 11 | GEORGIA | 19140 | Dalton, GA
WILCOX | GA | 11971 | 11 | GEORGIA | *
WILKES | GA | 11972 | 11 | GEORGIA | *
WILKINSON | GA | 11973 | 11 | GEORGIA | *
WORTH | GA | 11980 | 11 | GEORGIA | 10500 | Albany, GA
STATEWIDE | GA | 11999 | 11 | GEORGIA | *
KALAWAO | HI | 12005 | 12 | HAWAII | *
HAWAII | HI | 12010 | 12 | HAWAII | *
HONOLULU | HI | 12020 | 3320 | HONOLULU, HI | 26180 | Honolulu, HI
KAUAI | HI | 12040 | 12 | HAWAII | *
MAUI | HI | 12050 | 12 | HAWAII | *
STATEWIDE | HI | 12999 | 12 | HAWAII | *
ADA | ID | 13000 | 1080 | BOISE CITY, ID | 14260 | Boise City-Nampa, ID
ADAMS | ID | 13010 | 13 | IDAHO | *
BANNOCK | ID | 13020 | 6340 | POCATELLO, ID | 38540 | Pocatello, ID
BEAR LAKE | ID | 13030 | 13 | IDAHO | *
BENEWAH | ID | 13040 | 13 | IDAHO | *
BINGHAM | ID | 13050 | 13 | IDAHO | *
BLAINE | ID | 13060 | 13 | IDAHO | *
BOISE | ID | 13070 | 13 | IDAHO | 14260 | Boise City-Nampa, ID
BONNER | ID | 13080 | 13 | IDAHO | *
BONNEVILLE | ID | 13090 | 13 | IDAHO | 26820 | Idaho Falls, ID
BOUNDARY | ID | 13100 | 13 | IDAHO | *
BUTTE | ID | 13110 | 13 | IDAHO | *
CAMAS | ID | 13120 | 13 | IDAHO | *
CANYON | ID | 13130 | 1080 | BOISE CITY, ID | 14260 | Boise City-Nampa, ID
CARIBOU | ID | 13140 | 13 | IDAHO | *
CASSIA | ID | 13150 | 13 | IDAHO | *
CLARK | ID | 13160 | 13 | IDAHO | *
CLEARWATER | ID | 13170 | 13 | IDAHO | *
CUSTER | ID | 13180 | 13 | IDAHO | *
ELMORE | ID | 13190 | 13 | IDAHO | *
FRANKLIN | ID | 13200 | 13 | IDAHO | 30860 | Logan, UT-ID
FREMONT | ID | 13210 | 13 | IDAHO | *
GEM | ID | 13220 | 13 | IDAHO | 14260 | Boise City-Nampa, ID
GOODING | ID | 13230 | 13 | IDAHO | *
IDAHO | ID | 13240 | 13 | IDAHO | *
JEFFERSON | ID | 13250 | 13 | IDAHO | 26820 | Idaho Falls, ID
JEROME | ID | 13260 | 13 | IDAHO | *
KOOTENAI | ID | 13270 | 13 | IDAHO | 17660 | Coeur d'Alene, ID
LATAH | ID | 13280 | 13 | IDAHO | *
LEMHI | ID | 13290 | 13 | IDAHO | *
LEWIS | ID | 13300 | 13 | IDAHO | *
LINCOLN | ID | 13310 | 13 | IDAHO | *
MADISON | ID | 13320 | 13 | IDAHO | *
MINIDOKA | ID | 13330 | 13 | IDAHO | *
NEZ PERCE | ID | 13340 | 13 | IDAHO | 30300 | Lewiston, ID-WA
ONEIDA | ID | 13350 | 13 | IDAHO | *
OWYHEE | ID | 13360 | 13 | IDAHO | 14260 | Boise City-Nampa, ID
PAYETTE | ID | 13370 | 13 | IDAHO | *
POWER | ID | 13380 | 13 | IDAHO | 38540 | Pocatello, ID
SHOSHONE | ID | 13390 | 13 | IDAHO | *
TETON | ID | 13400 | 13 | IDAHO | *
TWIN FALLS | ID | 13410 | 13 | IDAHO | *
VALLEY | ID | 13420 | 13 | IDAHO | *
WASHINGTON | ID | 13430 | 13 | IDAHO | *
STATEWIDE | ID | 13999 | 13 | IDAHO | *
ADAMS | IL | 14000 | 14 | ILLINOIS | *
ALEXANDER | IL | 14010 | 14 | ILLINOIS | *
BOND | IL | 14020 | 14 | ILLINOIS | 41180 | St. Louis, MO-IL
BOONE | IL | 14030 | 6880 | ROCKFORD, IL | 40420 | Rockford, IL
BROWN | IL | 14040 | 14 | ILLINOIS | *
BUREAU | IL | 14050 | 14 | ILLINOIS | *
CALHOUN | IL | 14060 | 14 | ILLINOIS | 41180 | St. Louis, MO-IL
CARROLL | IL | 14070 | 14 | ILLINOIS | *
CASS | IL | 14080 | 14 | ILLINOIS | *
CHAMPAIGN | IL | 14090 | 1400 | CHAMPAIGN-URBANA, IL | 16580 | Champaign-Urbana, IL
CHRISTIAN | IL | 14100 | 14 | ILLINOIS | *
CLARK | IL | 14110 | 14 | ILLINOIS | *
CLAY | IL | 14120 | 14 | ILLINOIS | *
CLINTON | IL | 14130 | 7040 | ST. LOUIS, MO-IL | 41180 | St. Louis, MO-IL
COLES | IL | 14140 | 14 | ILLINOIS | *
COOK | IL | 14141 | 1600 | CHICAGO, IL | 16974 | Chicago-Naperville-Joliet, IL
CRAWFORD | IL | 14150 | 14 | ILLINOIS | *
CUMBERLAND | IL | 14160 | 14 | ILLINOIS | *
DE KALB | IL | 14170 | 1600 | CHICAGO, IL | 16974 | Chicago-Naperville-Joliet, IL
DE WITT | IL | 14180 | 14 | ILLINOIS | *
DOUGLAS | IL | 14190 | 14 | ILLINOIS | *
DU PAGE | IL | 14250 | 1600 | CHICAGO, IL | 16974 | Chicago-Naperville-Joliet, IL
EDGAR | IL | 14310 | 14 | ILLINOIS | *
EDWARDS | IL | 14320 | 14 | ILLINOIS | *
EFFINGHAM | IL | 14330 | 14 | ILLINOIS | *
FAYETTE | IL | 14340 | 14 | ILLINOIS | *
FORD | IL | 14350 | 14 | ILLINOIS | 16580 | Champaign-Urbana, IL
FRANKLIN | IL | 14360 | 14 | ILLINOIS | *
FULTON | IL | 14370 | 14 | ILLINOIS | *
GALLATIN | IL | 14380 | 14 | ILLINOIS | *
GREENE | IL | 14390 | 14 | ILLINOIS | *
GRUNDY | IL | 14400 | 1600 | CHICAGO, IL | 16974 | Chicago-Naperville-Joliet, IL
HAMILTON | IL | 14410 | 14 | ILLINOIS | *
HANCOCK | IL | 14420 | 14 | ILLINOIS | *
HARDIN | IL | 14421 | 14 | ILLINOIS | *
HENDERSON | IL | 14440 | 14 | ILLINOIS | *
HENRY | IL | 14450 | 1960 | DAVENPORT-ROCK ISLAND-MOLINE, IA-IL | 19340 | Davenport-Moline-Rock Island, IA-IL
IROQUOIS | IL | 14460 | 14 | ILLINOIS | *
JACKSON | IL | 14470 | 14 | ILLINOIS | *
JASPER | IL | 14480 | 14 | ILLINOIS | *
JEFFERSON | IL | 14490 | 14 | ILLINOIS | *
JERSEY | IL | 14500 | 7040 | ST. LOUIS, MO-IL | 41180 | St. Louis, MO-IL
JO DAVIESS | IL | 14510 | 14 | ILLINOIS | *
JOHNSON | IL | 14520 | 14 | ILLINOIS | *
KANE | IL | 14530 | 1600 | CHICAGO, IL | 16974 | Chicago-Naperville-Joliet, IL
KANKAKEE | IL | 14540 | 3740 | KANKAKEE, IL | 28100 | Kankakee-Bradley, IL
KENDALL | IL | 14550 | 1600 | CHICAGO, IL | 16974 | Chicago-Naperville-Joliet, IL
KNOX | IL | 14560 | 14 | ILLINOIS | *
LAKE | IL | 14570 | 1600 | CHICAGO, IL | 29404 | Lake County-Kenosha County, IL-WI
LA SALLE | IL | 14580 | 14 | ILLINOIS | *
LAWRENCE | IL | 14590 | 14 | ILLINOIS | *
LEE | IL | 14600 | 14 | ILLINOIS | *
LIVINGSTON | IL | 14610 | 14 | ILLINOIS | *
LOGAN | IL | 14620 | 14 | ILLINOIS | *
MC DONOUGH | IL | 14630 | 14 | ILLINOIS | *
MC HENRY | IL | 14640 | 1600 | CHICAGO, IL | 16974 | Chicago-Naperville-Joliet, IL
MC LEAN | IL | 14650 | 1040 | BLOOMINGTON-NORMAL, IL | 14060 | Bloomington-Normal, IL
MACON | IL | 14660 | 2040 | DECATUR, IL | 19500 | Decatur, IL
MACOUPIN | IL | 14670 | 14 | ILLINOIS | 41180 | St. Louis, MO-IL
MADISON | IL | 14680 | 7040 | ST. LOUIS, MO-IL | 41180 | St. Louis, MO-IL
MARION | IL | 14690 | 14 | ILLINOIS | *
MARSHALL | IL | 14700 | 14 | ILLINOIS | 37900 | Peoria, IL
MASON | IL | 14710 | 14 | ILLINOIS | *
MASSAC | IL | 14720 | 14 | ILLINOIS | *
MENARD | IL | 14730 | 7880 | SPRINGFIELD, IL | 44100 | Springfield, IL
MERCER | IL | 14740 | 14 | ILLINOIS | 19340 | Davenport-Moline-Rock Island, IA-IL
MONROE | IL | 14750 | 7040 | ST. LOUIS, MO-IL | 41180 | St. Louis, MO-IL
MONTGOMERY | IL | 14760 | 14 | ILLINOIS | *
MORGAN | IL | 14770 | 14 | ILLINOIS | *
MOULTRIE | IL | 14780 | 14 | ILLINOIS | *
OGLE | IL | 14790 | 6880 | ROCKFORD, IL | *
PEORIA | IL | 14800 | 6120 | PEORIA-PEKIN, IL | 37900 | Peoria, IL
PERRY | IL | 14810 | 14 | ILLINOIS | *
PIATT | IL | 14820 | 14 | ILLINOIS | 16580 | Champaign-Urbana, IL
PIKE | IL | 14830 | 14 | ILLINOIS | *
POPE | IL | 14831 | 14 | ILLINOIS | *
PULASKI | IL | 14850 | 14 | ILLINOIS | *
PUTNAM | IL | 14860 | 14 | ILLINOIS | *
RANDOLPH | IL | 14870 | 14 | ILLINOIS | *
RICHLAND | IL | 14880 | 14 | ILLINOIS | *
ROCK ISLAND | IL | 14890 | 1960 | DAVENPORT-ROCK ISLAND-MOLINE, IA-IL | 19340 | Davenport-Moline-Rock Island, IA-IL
ST. CLAIR | IL | 14900 | 7040 | ST. LOUIS, MO-IL | 41180 | St. Louis, MO-IL
SALINE | IL | 14910 | 14 | ILLINOIS | *
SANGAMON | IL | 14920 | 7880 | SPRINGFIELD, IL | 44100 | Springfield, IL
SCHUYLER | IL | 14921 | 14 | ILLINOIS | *
SCOTT | IL | 14940 | 14 | ILLINOIS | *
SHELBY | IL | 14950 | 14 | ILLINOIS | *
STARK | IL | 14960 | 14 | ILLINOIS | 37900 | Peoria, IL
STEPHENSON | IL | 14970 | 14 | ILLINOIS | *
TAZEWELL | IL | 14980 | 6120 | PEORIA-PEKIN, IL | 37900 | Peoria, IL
UNION | IL | 14981 | 14 | ILLINOIS | *
VERMILION | IL | 14982 | 14 | ILLINOIS | 19180 | Danville, IL
WABASH | IL | 14983 | 14 | ILLINOIS | *
WARREN | IL | 14984 | 14 | ILLINOIS | *
WASHINGTON | IL | 14985 | 14 | ILLINOIS | *
WAYNE | IL | 14986 | 14 | ILLINOIS | *
WHITE | IL | 14987 | 14 | ILLINOIS | *
WHITESIDE | IL | 14988 | 14 | ILLINOIS | *
WILL | IL | 14989 | 1600 | CHICAGO, IL | 16974 | Chicago-Naperville-Joliet, IL
WILLIAMSON | IL | 14990 | 14 | ILLINOIS | *
WINNEBAGO | IL | 14991 | 6880 | ROCKFORD, IL | 40420 | Rockford, IL
WOODFORD | IL | 14992 | 6120 | PEORIA-PEKIN, IL | 37900 | Peoria, IL
STATEWIDE | IL | 14999 | 14 | ILLINOIS | *
ADAMS | IN | 15000 | 2760 | FORT WAYNE, IN | *
ALLEN | IN | 15010 | 2760 | FORT WAYNE, IN | 23060 | Fort Wayne, IN
BARTHOLOMEW | IN | 15020 | 15 | INDIANA | 18020 | Columbus, IN
BENTON | IN | 15030 | 15 | INDIANA | 29140 | Lafayette, IN
BLACKFORD | IN | 15040 | 15 | INDIANA | *
BOONE | IN | 15050 | 3480 | INDIANAPOLIS, IN | 26900 | Indianapolis, IN
BROWN | IN | 15060 | 15 | INDIANA | 26900 | Indianapolis, IN
CARROLL | IN | 15070 | 15 | INDIANA | 29140 | Lafayette, IN
CASS | IN | 15080 | 15 | INDIANA | *
CLARK | IN | 15090 | 4520 | LOUISVILLE, KY-IN | 31140 | Louisville, KY-IN
CLAY | IN | 15100 | 8320 | TERRE HAUTE, IN | 45460 | Terre Haute, IN
CLINTON | IN | 15110 | 3920 | LAFAYETTE, IN | *
CRAWFORD | IN | 15120 | 15 | INDIANA | *
DAVIESS | IN | 15130 | 15 | INDIANA | *
DEARBORN | IN | 15140 | 1640 | CINCINNATI, OH-KY-IN | 17140 | Cincinnati-Middletown, OH-KY-IN
DECATUR | IN | 15150 | 15 | NDIANA | *
DE KALB | IN | 15160 | 2760 | FORT WAYNE, IN | *
DELAWARE | IN | 15170 | 5280 | MUNCIE, IN | 34620 | Muncie, IN
DUBOIS | IN | 15180 | 15 | INDIANA | *
ELKHART | IN | 15190 | 2330 | ELKHART-GOSHEN, IN | 21140 | Elkhart-Goshen, IN
FAYETTE | IN | 15200 | 15 | INDIANA | *
FLOYD | IN | 15210 | 4520 | LOUISVILLE, KY-IN | 31140 | Louisville, KY-IN
FOUNTAIN | IN | 15220 | 15 | INDIANA | *
FRANKLIN | IN | 15230 | 15 | INDIANA | 17140 | Cincinnati-Middletown, OH-KY-IN
FULTON | IN | 15240 | 15 | INDIANA | *
GIBSON | IN | 15250 | 15 | INDIANA | 21780 | Evansville, IN-KY
GRANT | IN | 15260 | 15 | INDIANA | *
GREENE | IN | 15270 | 15 | INDIANA | 14020 | Bloomington, IN
HAMILTON | IN | 15280 | 3480 | INDIANAPOLIS, IN | 26900 | Indianapolis, IN
HANCOCK | IN | 15290 | 3480 | INDIANAPOLIS, IN | 26900 | Indianapolis, IN
HARRISON | IN | 15300 | 4520 | LOUISVILLE, KY-IN | 31140 | Louisville, KY-IN
HENDRICKS | IN | 15310 | 3480 | INDIANAPOLIS, IN | 26900 | Indianapolis, IN
HENRY | IN | 15320 | 15 | INDIANA | *
HOWARD | IN | 15330 | 3850 | KOKOMO, IN | 29020 | Kokomo, IN
HUNTINGTON | IN | 15340 | 2760 | FORT WAYNE, IN | *
JACKSON | IN | 15350 | 15 | INDIANA | *
JASPER | IN | 15360 | 15 | INDIANA | 23844 | Gary, IN
JAY | IN | 15370 | 15 | INDIANA | *
JEFFERSON | IN | 15380 | 15 | INDIANA | *
JENNINGS | IN | 15390 | 15 | INDIANA | *
JOHNSON | IN | 15400 | 3480 | INDIANAPOLIS, IN | 26900 | Indianapolis, IN
KNOX | IN | 15410 | 15 | INDIANA | *
KOSCIUSKO | IN | 15420 | 15 | INDIANA | *
LAGRANGE | IN | 15430 | 15 | INDIANA | *
LAKE | IN | 15440 | 2960 | GARY, IN | 23844 | Gary, IN
LA PORTE | IN | 15450 | 15 | INDIANA | 33140 | Michigan City-La Porte, IN
LAWRENCE | IN | 15460 | 15 | INDIANA | *
MADISON | IN | 15470 | 3480 | INDIANAPOLIS, IN | 11300 | Anderson, IN
MARION | IN | 15480 | 3480 | INDIANAPOLIS, IN | 26900 | Indianapolis, IN
MARSHALL | IN | 15490 | 15 | INDIANA | *
MARTIN | IN | 15500 | 15 | INDIANA | *
MIAMI | IN | 15510 | 15 | INDIANA | *
MONROE | IN | 15520 | 1020 | BLOOMINGTON, IN | 14020 | Bloomington, IN
MONTGOMERY | IN | 15530 | 15 | INDIANA | *
MORGAN | IN | 15540 | 3480 | INDIANAPOLIS, IN | 26900 | Indianapolis, IN
NEWTON | IN | 15550 | 15 | INDIANA | 23844 | Gary, IN
NOBLE | IN | 15560 | 15 | INDIANA | *
OHIO | IN | 15570 | 1640 | CINCINNATI, OH-KY-IN | 17140 | Cincinnati-Middletown, OH-KY-IN
ORANGE | IN | 15580 | 15 | INDIANA | *
OWEN | IN | 15590 | 15 | INDIANA | 14020 | Bloomington, IN
PARKE | IN | 15600 | 15 | INDIANA | *
PERRY | IN | 15610 | 15 | INDIANA | *
PIKE | IN | 15620 | 15 | INDIANA | *
PORTER | IN | 15630 | 2960 | GARY, IN | 23844 | Gary, IN
POSEY | IN | 15640 | 2440 | EVANSVILLE-HENDERSON, IN-KY | 21780 | Evansville, IN-KY
PULASKI | IN | 15650 | 15 | INDIANA | *
PUTNAM | IN | 15660 | 15 | INDIANA | 26900 | Indianapolis, IN
RANDOLPH | IN | 15670 | 15 | INDIANA | *
RIPLEY | IN | 15680 | 15 | INDIANA | *
RUSH | IN | 15690 | 15 | INDIANA | *
ST. JOSEPH | IN | 15700 | 7800 | SOUTH BEND, IN | 43780 | South Bend-Mishawaka, IN-MI
SCOTT | IN | 15710 | 4520 | LOUISVILLE, KY-IN | *
SHELBY | IN | 15720 | 3480 | INDIANAPOLIS, IN | 26900 | Indianapolis, IN
SPENCER | IN | 15730 | 15 | INDIANA | *
STARKE | IN | 15740 | 15 | INDIANA | *
STEUBEN | IN | 15750 | 15 | INDIANA | *
SULLIVAN | IN | 15760 | 15 | INDIANA | 45460 | Terre Haute, IN
SWITZERLAND | IN | 15770 | 15 | INDIANA | *
TIPPECANOE | IN | 15780 | 3920 | LAFAYETTE, IN | 29140 | Lafayette, IN
TIPTON | IN | 15790 | 3850 | KOKOMO, IN | 29020 | Kokomo, IN
UNION | IN | 15800 | 15 | INDIANA | *
VANDERBURGH | IN | 15810 | 2440 | EVANSVILLE-HENDERSON, IN-KY | 21780 | Evansville, IN-KY
VERMILLION | IN | 15820 | 8320 | TERRE HAUTE, IN | 45460 | Terre Haute, IN
VIGO | IN | 15830 | 8320 | TERRE HAUTE, IN | 45460 | Terre Haute, IN
WABASH | IN | 15840 | 15 | INDIANA | *
WARREN | IN | 15850 | 15 | INDIANA | *
WARRICK | IN | 15860 | 2440 | EVANSVILLE-HENDERSON, IN-KY | 21780 | Evansville, IN-KY
WASHINGTON | IN | 15870 | 15 | INDIANA | 31140 | Louisville, KY-IN
WAYNE | IN | 15880 | 15 | INDIANA | *
WELLS | IN | 15890 | 2760 | FORT WAYNE, IN | 23060 | Fort Wayne, IN
WHITE | IN | 15900 | 15 | INDIANA | *
WHITLEY | IN | 15910 | 2760 | FORT WAYNE, IN | 23060 | Fort Wayne, IN
STATEWIDE | IN | 15999 | 15 | INDIANA | *
ADAIR | IA | 16000 | 16 | IOWA | *
ADAMS | IA | 16010 | 16 | IOWA | *
ALLAMAKEE | IA | 16020 | 16 | IOWA | *
APPANOOSE | IA | 16030 | 16 | IOWA | *
AUDUBON | IA | 16040 | 16 | IOWA | *
BENTON | IA | 16050 | 16 | IOWA | 16300 | Cedar Rapids, IA
BLACK HAWK | IA | 16060 | 8920 | WATERLOO-CEDAR FALLS, IA | 47940 | Waterloo-Cedar Falls, IA
BOONE | IA | 16070 | 16 | IOWA | *
BREMER | IA | 16080 | 16 | IOWA | 47940 | Waterloo-Cedar Falls, IA
BUCHANAN | IA | 16090 | 16 | IOWA | *
BUENA VISTA | IA | 16100 | 16 | IOWA | *
BUTLER | IA | 16110 | 16 | IOWA | *
CALHOUN | IA | 16120 | 16 | IOWA | *
CARROLL | IA | 16130 | 16 | IOWA | *
CASS | IA | 16140 | 16 | IOWA | *
CEDAR | IA | 16150 | 16 | IOWA | *
CERRO GORDO | IA | 16160 | 16 | IOWA | *
CHEROKEE | IA | 16170 | 16 | IOWA | *
CHICKASAW | IA | 16180 | 16 | IOWA | *
CLARKE | IA | 16190 | 16 | IOWA | *
CLAY | IA | 16200 | 16 | IOWA | *
CLAYTON | IA | 16210 | 16 | IOWA | *
CLINTON | IA | 16220 | 16 | IOWA | *
CRAWFORD | IA | 16230 | 16 | IOWA | *
DALLAS | IA | 16240 | 2120 | DES MOINES, IA | 19780 | Des Moines, IA
DAVIS | IA | 16250 | 16 | IOWA | *
DECATUR | IA | 16260 | 16 | IOWA | *
DELAWARE | IA | 16270 | 16 | IOWA | *
DES MOINES | IA | 16280 | 16 | IOWA | *
DICKINSON | IA | 16290 | 16 | IOWA | *
DUBUQUE | IA | 16300 | 2200 | DUBUQUE, IA | 20220 | Dubuque, IA
EMMET | IA | 16310 | 16 | IOWA | *
FAYETTE | IA | 16320 | 16 | IOWA | *
FLOYD | IA | 16330 | 16 | IOWA | *
FRANKLIN | IA | 16340 | 16 | IOWA | *
FREMONT | IA | 16350 | 16 | IOWA | *
GREENE | IA | 16360 | 16 | IOWA | *
GRUNDY | IA | 16370 | 16 | IOWA | 47940 | Waterloo-Cedar Falls, IA
GUTHRIE | IA | 16380 | 16 | IOWA | 19780 | Des Moines, IA
HAMILTON | IA | 16390 | 16 | IOWA | *
HANCOCK | IA | 16400 | 16 | IOWA | *
HARDIN | IA | 16410 | 16 | IOWA | *
HARRISON | IA | 16420 | 16 | IOWA | 36540 | Omaha-Council Bluffs, NE-IA
HENRY | IA | 16430 | 16 | IOWA | *
HOWARD | IA | 16440 | 16 | IOWA | *
HUMBOLDT | IA | 16450 | 16 | IOWA | *
IDA | IA | 16460 | 16 | IOWA | *
IOWA | IA | 16470 | 16 | IOWA | *
JACKSON | IA | 16480 | 16 | IOWA | *
JASPER | IA | 16490 | 16 | IOWA | *
JEFFERSON | IA | 16500 | 16 | IOWA | *
JOHNSON | IA | 16510 | 3500 | IOWA CITY, IA | 26980 | Iowa City, IA
JONES | IA | 16520 | 16 | IOWA | 16300 | Cedar Rapids, IA
KEOKUK | IA | 16530 | 16 | IOWA | *
KOSSUTH | IA | 16540 | 16 | IOWA | *
LEE | IA | 16550 | 16 | IOWA | *
LINN | IA | 16560 | 1360 | CEDAR RAPIDS, IA | 16300 | Cedar Rapids, IA
LOUISA | IA | 16570 | 16 | IOWA | *
LUCAS | IA | 16580 | 16 | IOWA | *
LYON | IA | 16590 | 16 | IOWA | *
MADISON | IA | 16600 | 16 | IOWA | 19780 | Des Moines, IA
MAHASKA | IA | 16610 | 16 | IOWA | *
MARION | IA | 16620 | 16 | IOWA | *
MARSHALL | IA | 16630 | 16 | IOWA | *
MILLS | IA | 16640 | 16 | IOWA | 36540 | Omaha-Council Bluffs, NE-IA
MITCHELL | IA | 16650 | 16 | IOWA | *
MONONA | IA | 16660 | 16 | IOWA | *
MONROE | IA | 16670 | 16 | IOWA | *
MONTGOMERY | IA | 16680 | 16 | IOWA | *
MUSCATINE | IA | 16690 | 16 | IOWA | *
OBRIEN | IA | 16700 | 16 | IOWA | *
OSCEOLA | IA | 16710 | 16 | IOWA | *
PAGE | IA | 16720 | 16 | IOWA | *
PALO ALTO | IA | 16730 | 16 | IOWA | *
PLYMOUTH | IA | 16740 | 16 | IOWA | *
POCAHONTAS | IA | 16750 | 16 | IOWA | *
POLK | IA | 16760 | 2120 | DES MOINES, IA | 19780 | Des Moines, IA
POTTAWATTAMIE | IA | 16770 | 5920 | OMAHA, NE-IA | 36540 | Omaha-Council Bluffs, NE-IA
POWESHIEK | IA | 16780 | 16 | IOWA | *
RINGGOLD | IA | 16790 | 16 | IOWA | *
SAC | IA | 16800 | 16 | IOWA | *
SCOTT | IA | 16810 | 1960 | DAVENPORT-ROCK ISLAND-MOLINE, IA-IL | 19340 | Davenport-Moline-Rock Island, IA-IL
SHELBY | IA | 16820 | 16 | IOWA | *
SIOUX | IA | 16830 | 16 | IOWA | *
STORY | IA | 16840 | 16 | IOWA | 11180 | Ames, IA
TAMA | IA | 16850 | 16 | IOWA | *
TAYLOR | IA | 16860 | 16 | IOWA | *
UNION | IA | 16870 | 16 | IOWA | *
VAN BUREN | IA | 16880 | 16 | IOWA | *
WAPELLO | IA | 16890 | 16 | IOWA | *
WARREN | IA | 16900 | 2120 | DES MOINES, IA | 19780 | Des Moines, IA
WASHINGTON | IA | 16910 | 16 | IOWA | 26980 | Iowa City, IA
WAYNE | IA | 16920 | 16 | IOWA | *
WEBSTER | IA | 16930 | 16 | IOWA | *
WINNEBAGO | IA | 16940 | 16 | IOWA | *
WINNESHIEK | IA | 16950 | 16 | IOWA | *
WOODBURY | IA | 16960 | 7720 | SIOUX CITY, IA-NE | 43580 | Sioux City, IA-NE-SD
WORTH | IA | 16970 | 16 | IOWA | *
WRIGHT | IA | 16980 | 16 | IOWA | *
STATEWIDE | IA | 16999 | 16 | IOWA | *
ALLEN | KS | 17000 | 17 | KANSAS | *
ANDERSON | KS | 17010 | 17 | KANSAS | *
ATCHISON | KS | 17020 | 17 | KANSAS | *
BARBER | KS | 17030 | 17 | KANSAS | *
BARTON | KS | 17040 | 17 | KANSAS | *
BOURBON | KS | 17050 | 17 | KANSAS | *
BROWN | KS | 17060 | 17 | KANSAS | *
BUTLER | KS | 17070 | 9040 | WICHITA, KS | 48620 | Wichita, KS
CHASE | KS | 17080 | 17 | KANSAS | *
CHAUTAUQUA | KS | 17090 | 17 | KANSAS | *
CHEROKEE | KS | 17100 | 17 | KANSAS | *
CHEYENNE | KS | 17110 | 17 | KANSAS | *
CLARK | KS | 17120 | 17 | KANSAS | *
CLAY | KS | 17130 | 17 | KANSAS | *
CLOUD | KS | 17140 | 17 | KANSAS | *
COFFEY | KS | 17150 | 17 | KANSAS | *
COMANCHE | KS | 17160 | 17 | KANSAS | *
COWLEY | KS | 17170 | 17 | KANSAS | *
CRAWFORD | KS | 17180 | 17 | KANSAS | *
DECATUR | KS | 17190 | 17 | KANSAS | *
DICKINSON | KS | 17200 | 17 | KANSAS | *
DONIPHAN | KS | 17210 | 17 | KANSAS | 41140 | St. Joseph, MO-KS
DOUGLAS | KS | 17220 | 4150 | LAWRENCE, KS | 29940 | Lawrence, KS
EDWARDS | KS | 17230 | 17 | KANSAS | *
ELK | KS | 17240 | 17 | KANSAS | *
ELLIS | KS | 17250 | 17 | KANSAS | *
ELLSWORTH | KS | 17260 | 17 | KANSAS | *
FINNEY | KS | 17270 | 17 | KANSAS | *
FORD | KS | 17280 | 17 | KANSAS | *
FRANKLIN | KS | 17290 | 17 | KANSAS | 28140 | Kansas City, MO-KS
GEARY | KS | 17300 | 17 | KANSAS | *
GOVE | KS | 17310 | 17 | KANSAS | *
GRAHAM | KS | 17320 | 17 | KANSAS | *
GRANT | KS | 17330 | 17 | KANSAS | *
GRAY | KS | 17340 | 17 | KANSAS | *
GREELEY | KS | 17350 | 17 | KANSAS | *
GREENWOOD | KS | 17360 | 17 | KANSAS | *
HAMILTON | KS | 17370 | 17 | KANSAS | *
HARPER | KS | 17380 | 17 | KANSAS | *
HARVEY | KS | 17390 | 9040 | WICHITA, KS | 48620 | Wichita, KS
HASKELL | KS | 17391 | 17 | KANSAS | *
HODGEMAN | KS | 17410 | 17 | KANSAS | *
JACKSON | KS | 17420 | 17 | KANSAS | 45820 | Topeka, KS
JEFFERSON | KS | 17430 | 17 | KANSAS | 45820 | Topeka, KS
JEWELL | KS | 17440 | 17 | KANSAS | *
JOHNSON | KS | 17450 | 3760 | KANSAS CITY, MO-KS | 28140 | Kansas City, MO-KS
KEARNY | KS | 17451 | 17 | KANSAS | *
KINGMAN | KS | 17470 | 17 | KANSAS | *
KIOWA | KS | 17480 | 17 | KANSAS | *
LABETTE | KS | 17490 | 17 | KANSAS | *
LANE | KS | 17500 | 17 | KANSAS | *
LEAVENWORTH | KS | 17510 | 3760 | KANSAS CITY, MO-KS | 28140 | Kansas City, MO-KS
LINCOLN | KS | 17520 | 17 | KANSAS | *
LINN | KS | 17530 | 17 | KANSAS | 28140 | Kansas City, MO-KS
LOGAN | KS | 17540 | 17 | KANSAS | *
LYON | KS | 17550 | 17 | KANSAS | *
MCPHERSON | KS | 17560 | 17 | KANSAS | *
MARION | KS | 17570 | 17 | KANSAS | *
MARSHALL | KS | 17580 | 17 | KANSAS | *
MEADE | KS | 17590 | 17 | KANSAS | *
MIAMI | KS | 17600 | 3760 | KANSAS CITY, MO-KS | 28140 | Kansas City, MO-KS
MITCHELL | KS | 17610 | 17 | KANSAS | *
MONTGOMERY | KS | 17620 | 17 | KANSAS | *
MORRIS | KS | 17630 | 17 | KANSAS | *
MORTON | KS | 17640 | 17 | KANSAS | *
NEMAHA | KS | 17650 | 17 | KANSAS | *
NEOSHO | KS | 17660 | 17 | KANSAS | *
NESS | KS | 17670 | 17 | KANSAS | *
NORTON | KS | 17680 | 17 | KANSAS | *
OSAGE | KS | 17690 | 17 | KANSAS | 45820 | Topeka, KS
OSBORNE | KS | 17700 | 17 | KANSAS | *
OTTAWA | KS | 17710 | 17 | KANSAS | *
PAWNEE | KS | 17720 | 17 | KANSAS | *
PHILLIPS | KS | 17730 | 17 | KANSAS | *
POTTAWATOMIE | KS | 17740 | 17 | KANSAS | *
PRATT | KS | 17750 | 17 | KANSAS | *
RAWLINS | KS | 17760 | 17 | KANSAS | *
RENO | KS | 17770 | 17 | KANSAS | *
REPUBLIC | KS | 17780 | 17 | KANSAS | *
RICE | KS | 17790 | 17 | KANSAS | *
RILEY | KS | 17800 | 17 | KANSAS | *
ROOKS | KS | 17810 | 17 | KANSAS | *
RUSH | KS | 17820 | 17 | KANSAS | *
RUSSELL | KS | 17830 | 17 | KANSAS | *
SALINE | KS | 17840 | 17 | KANSAS | *
SCOTT | KS | 17841 | 17 | KANSAS | *
SEDGWICK | KS | 17860 | 9040 | WICHITA, KS | 48620 | Wichita, KS
SEWARD | KS | 17870 | 17 | KANSAS | *
SHAWNEE | KS | 17880 | 8440 | TOPEKA, KS | 45820
SHERIDAN | KS | 17890 | 17 | KANSAS, KS | *
SHERMAN | KS | 17900 | 17 | KANSAS | *
SMITH | KS | 17910 | 17 | KANSAS | *
STAFFORD | KS | 17920 | 17 | KANSAS | *
STANTON | KS | 17921 | 17 | KANSAS | *
STEVENS | KS | 17940 | 17 | KANSAS | *
SUMNER | KS | 17950 | 17 | KANSAS | 48620 | Wichita, KS
THOMAS | KS | 17960 | 17 | KANSAS | *
TREGO | KS | 17970 | 17 | KANSAS | *
WABAUNSEE | KS | 17980 | 17 | KANSAS | 45820 | Topeka, KS
WALLACE | KS | 17981 | 17 | KANSAS | *
WASHINGTON | KS | 17982 | 17 | KANSAS | *
WICHITA | KS | 17983 | 17 | KANSAS | *
WILSON | KS | 17984 | 17 | KANSAS | *
WOODSON | KS | 17985 | 17 | KANSAS | *
WYANDOTTE | KS | 17986 | 3760 | KANSAS CITY, MO-KS | 28140 | Kansas City, MO-KS
STATEWIDE | KS | 17999 | 17 | KANSAS | *
ADAIR | KY | 18000 | 18 | KENTUCKY | *
ALLEN | KY | 18010 | 18 | KENTUCKY | *
ANDERSON | KY | 18020 | 18 | KENTUCKY | *
BALLARD | KY | 18030 | 18 | KENTUCKY | *
BARREN | KY | 18040 | 18 | KENTUCKY | *
BATH | KY | 18050 | 18 | KENTUCKY | *
BELL | KY | 18060 | 18 | KENTUCKY | *
BOONE | KY | 18070 | 1640 | CINCINNATI, OH-KY-IN | 17140 | Cincinnati-Middletown, OH-KY-IN
BOURBON | KY | 18080 | 4280 | LEXINGTON, KY | 30460 | Lexington-Fayette, KY
BOYD | KY | 18090 | 3400 | HUNTINGTON-ASHLAND, WV-KY-OH | 26580 | Huntington-Ashland, WV-KY-OH
BOYLE | KY | 18100 | 18 | KENTUCKY | *
BRACKEN | KY | 18110 | 18 | KENTUCKY | 17140 | Cincinnati-Middletown, OH-KY-IN
BREATHITT | KY | 18120 | 18 | KENTUCKY | *
BRECKINRIDGE | KY | 18130 | 18 | KENTUCKY | *
BULLITT | KY | 18140 | 4520 | LOUISVILLE, KY-IN | 31140 | Louisville, KY-IN
BUTLER | KY | 18150 | 18 | KENTUCKY | *
CALDWELL | KY | 18160 | 18 | KENTUCKY | *
CALLOWAY | KY | 18170 | 18 | KENTUCKY | *
CAMPBELL | KY | 18180 | 1640 | CINCINNATI, OH-KY-IN | 17140 | Cincinnati-Middletown, OH-KY-IN
CARLISLE | KY | 18190 | 18 | KENTUCKY | *
CARROLL | KY | 18191 | 18 | KENTUCKY | *
CARTER | KY | 18210 | 3400 | HUNTINGTON-ASHLAND, WV-KY-OH | *
CASEY | KY | 18220 | 18 | KENTUCKY | *
CHRISTIAN | KY | 18230 | 1660 | CLARKSVILLE-HOPKINSVILLE, TN-KY | 17300 | Clarksville, TN-KY
CLARK | KY | 18240 | 4280 | LEXINGTON, KY | 30460 | Lexington-Fayette, KY
CLAY | KY | 18250 | 18 | KENTUCKY | *
CLINTON | KY | 18260 | 18 | KENTUCKY | *
CRITTENDEN | KY | 18270 | 18 | KENTUCKY | *
CUMBERLAND | KY | 18271 | 18 | KENTUCKY | *
DAVIESS | KY | 18290 | 5990 | OWENSBORO, KY | 36980 | Owensboro, KY
EDMONSON | KY | 18291 | 18 | KENTUCKY | 14540 | Bowling Green, KY
ELLIOTT | KY | 18310 | 18 | KENTUCKY | *
ESTILL | KY | 18320 | 18 | KENTUCKY | *
FAYETTE | KY | 18330 | 4280 | LEXINGTON, KY | 30460 | Lexington-Fayette, KY
FLEMING | KY | 18340 | 18 | KENTUCKY | *
FLOYD | KY | 18350 | 18 | KENTUCKY | *
FRANKLIN | KY | 18360 | 18 | KENTUCKY | *
FULTON | KY | 18361 | 18 | KENTUCKY | *
GALLATIN | KY | 18362 | 1640 | CINCINNATI, OH-KY-IN | 17140 | Cincinnati-Middletown, OH-KY-IN
GARRARD | KY | 18390 | 18 | KENTUCKY | *
GRANT | KY | 18400 | 1640 | CINCINNATI, OH-KY-IN | 17140 | Cincinnati-Middletown, OH-KY-IN
GRAVES | KY | 18410 | 18 | KENTUCKY | *
GRAYSON | KY | 18420 | 18 | KENTUCKY | *
GREEN | KY | 18421 | 18 | KENTUCKY | *
GREENUP | KY | 18440 | 3400 | HUNTINGTON-ASHLAND, WV-KY-OH | 26580 | Huntington-Ashland, WV-KY-OH
HANCOCK | KY | 18450 | 18 | KENTUCKY | 36980 | Owensboro, KY
HARDIN | KY | 18460 | 18 | KENTUCKY | 21060 | Elizabethtown, KY
HARLAN | KY | 18470 | 18 | KENTUCKY | *
HARRISON | KY | 18480 | 18 | KENTUCKY | *
HART | KY | 18490 | 18 | KENTUCKY | *
HENDERSON | KY | 18500 | 2440 | EVANSVILLE-HENDERSON, IN-KY | 21780 | Evansville, IN-KY
HENRY | KY | 18510 | 18 | KENTUCKY | 31140 | Louisville, KY-IN
HICKMAN | KY | 18511 | 18 | KENTUCKY | *
HOPKINS | KY | 18530 | 18 | KENTUCKY | *
JACKSON | KY | 18540 | 18 | KENTUCKY | *
JEFFERSON | KY | 18550 | 4520 | LOUISVILLE, KY-IN | 31140 | Louisville, KY-IN
JESSAMINE | KY | 18560 | 4280 | LEXINGTON, KY | 30460 | Lexington-Fayette, KY
JOHNSON | KY | 18570 | 18 | KENTUCKY | *
KENTON | KY | 18580 | 1640 | CINCINNATI, OH-KY-IN | 17140 | Cincinnati-Middletown, OH-KY-IN
KNOTT | KY | 18590 | 18 | KENTUCKY | *
KNOX | KY | 18600 | 18 | KENTUCKY | *
LARUE | KY | 18610 | 18 | KENTUCKY | 21060 | Elizabethtown, KY
LAUREL | KY | 18620 | 18 | KENTUCKY | *
LAWRENCE | KY | 18630 | 18 | KENTUCKY | *
LEE | KY | 18640 | 18 | KENTUCKY | *
LESLIE | KY | 18650 | 18 | KENTUCKY | *
LETCHER | KY | 18660 | 18 | KENTUCKY | *
LEWIS | KY | 18670 | 18 | KENTUCKY | *
LINCOLN | KY | 18680 | 18 | KENTUCKY | *
LIVINGSTON | KY | 18690 | 18 | KENTUCKY | *
LOGAN | KY | 18700 | 18 | KENTUCKY | *
LYON | KY | 18710 | 18 | KENTUCKY | *
MC CRACKEN | KY | 18720 | 18 | KENTUCKY | *
MC CREARY | KY | 18730 | 18 | KENTUCKY | *
MC LEAN | KY | 18740 | 18 | KENTUCKY | 36980 | Owensboro, KY
MADISON | KY | 18750 | 4280 | LEXINGTON, KY | *
MAGOFFIN | KY | 18760 | 18 | KENTUCKY | *
MARION | KY | 18770 | 18 | KENTUCKY | *
MARSHALL | KY | 18780 | 18 | KENTUCKY | *
MARTIN | KY | 18790 | 18 | KENTUCKY | *
MASON | KY | 18800 | 18 | KENTUCKY | *
MEADE | KY | 18801 | 18 | KENTUCKY | 31140 | Louisville, KY-IN
MENIFEE | KY | 18802 | 18 | KENTUCKY | *
MERCER | KY | 18830 | 18 | KENTUCKY | *
METCALFE | KY | 18831 | 18 | KENTUCKY | *
MONROE | KY | 18850 | 18 | KENTUCKY | *
MONTGOMERY | KY | 18860 | 18 | KENTUCKY | *
MORGAN | KY | 18861 | 18 | KENTUCKY | *
MUHLENBERG | KY | 18880 | 18 | KENTUCKY | *
NELSON | KY | 18890 | 18 | KENTUCKY | 31140 | Louisville, KY-IN
NICHOLAS | KY | 18900 | 18 | KENTUCKY | *
OHIO | KY | 18910 | 18 | KENTUCKY | *
OLDHAM | KY | 18920 | 4520 | LOUISVILLE, KY-IN | 31140 | Louisville, KY-IN
OWEN | KY | 18930 | 18 | KENTUCKY | *
OWSLEY | KY | 18931 | 18 | KENTUCKY | *
PENDLETON | KY | 18932 | 1640 | CINCINNATI, OH-KY-IN | 17140 | Cincinnati-Middletown, OH-KY-IN
PERRY | KY | 18960 | 18 | KENTUCKY | *
PIKE | KY | 18970 | 18 | KENTUCKY | *
POWELL | KY | 18971 | 18 | KENTUCKY | *
PULASKI | KY | 18972 | 18 | KENTUCKY | *
ROBERTSON | KY | 18973 | 18 | KENTUCKY | *
ROCKCASTLE | KY | 18974 | 18 | KENTUCKY | *
ROWAN | KY | 18975 | 18 | KENTUCKY | *
RUSSELL | KY | 18976 | 18 | KENTUCKY | *
SCOTT | KY | 18977 | 4280 | LEXINGTON, KY | 30460 | Lexington-Fayette, KY
SHELBY | KY | 18978 | 18 | KENTUCKY | 31140 | Louisville, KY-IN
SIMPSON | KY | 18979 | 18 | KENTUCKY | *
SPENCER | KY | 18980 | 18 | KENTUCKY | 31140 | Louisville, KY-IN
TAYLOR | KY | 18981 | 18 | KENTUCKY | *
TODD | KY | 18982 | 18 | KENTUCKY | *
TRIGG | KY | 18983 | 18 | KENTUCKY | 17300 | Clarksville, TN-KY
TRIMBLE | KY | 18984 | 18 | KENTUCKY | 31140 | Louisville, KY-IN
UNION | KY | 18985 | 18 | KENTUCKY | *
WARREN | KY | 18986 | 18 | KENTUCKY | 14540 | Bowling Green, KY
WASHINGTON | KY | 18987 | 18 | KENTUCKY | *
WAYNE | KY | 18988 | 18 | KENTUCKY | *
WEBSTER | KY | 18989 | 18 | KENTUCKY | 21780 | Evansville, IN-KY
WHITLEY | KY | 18990 | 18 | KENTUCKY | *
WOLFE | KY | 18991 | 18 | KENTUCKY | *
WOODFORD | KY | 18992 | 4280 | LEXINGTON, KY | 30460 | Lexington-Fayette, KY
STATEWIDE | KY | 18999 | 18 | KENTUCKY | *
ACADIA | LA | 19000 | 3880 | LAFAYETTE, LA | *
ALLEN | LA | 19010 | 19 | LOUISIANA | *
ASCENSION | LA | 19020 | 0760 | BATON ROUGE, LA | 12940 | Baton Rouge, LA
ASSUMPTION | LA | 19030 | 19 | LOUISIANA | *
AVOYELLES | LA | 19040 | 19 | LOUISIANA | *
BEAUREGARD | LA | 19050 | 19 | LOUISIANA | *
BIENVILLE | LA | 19060 | 19 | LOUISIANA | *
BOSSIER | LA | 19070 | 7680 | SHREVEPORT-BOSSIER CITY, LA | 43340 | Shreveport-Bossier City, LA
CADDO | LA | 19080 | 7680 | SHREVEPORT-BOSSIER CITY, LA | 43340 | Shreveport-Bossier City, LA
CALCASIEU | LA | 19090 | 3960 | LAKE CHARLES, LA | 29340 | Lake Charles, LA
CALDWELL | LA | 19100 | 19 | LOUISIANA | *
CAMERON | LA | 19110 | 19 | LOUISIANA | 29340 | Lake Charles, LA
CATAHOULA | LA | 19120 | 19 | LOUISIANA | *
CLAIBORNE | LA | 19130 | 19 | LOUISIANA | *
CONCORDIA | LA | 19140 | 19 | LOUISIANA | *
DE SOTO | LA | 19150 | 19 | LOUISIANA | 43340 | Shreveport-Bossier City, LA
E. BATON ROUGE | LA | 19160 | 0760 | BATON ROUGE, LA | 12940 | Baton Rouge, LA
EAST CARROLL | LA | 19170 | 19 | LOUISIANA | *
EAST FELICIANA | LA | 19180 | 19 | LOUISIANA | 12940 | Baton Rouge, LA
EVANGELINE | LA | 19190 | 19 | LOUISIANA | *
FRANKLIN | LA | 19200 | 19 | LOUISIANA | *
GRANT | LA | 19210 | 19 | LOUISIANA | 10780 | Alexandria, LA
IBERIA | LA | 19220 | 19 | LOUISIANA | *
IBERVILLE | LA | 19230 | 19 | LOUISIANA | 12940 | Baton Rouge, LA
JACKSON | LA | 19240 | 19 | LOUISIANA | *
JEFFERSON | LA | 19250 | 5560 | NEW ORLEANS, LA | 35380
JEFFERSON DAVIS | LA | 19260 | 19 | LOUISIANA | *
LAFAYETTE | LA | 19270 | 3880 | LAFAYETTE, LA | 29180 | Lafayette, LA
LAFOURCHE | LA | 19280 | 3350 | HOUMA, LA | 26380
LINCOLN | LA | 19300 | 19 | LOUISIANA | *
LIVINGSTON | LA | 19310 | 0760 | BATON ROUGE, LA | 12940 | Baton Rouge, LA
MADISON | LA | 19320 | 19 | LOUISIANA | *
MOREHOUSE | LA | 19330 | 19 | LOUISIANA | *
NATCHITOCHES | LA | 19340 | 19 | LOUISIANA | *
ORLEANS | LA | 19350 | 5560 | NEW ORLEANS, LA | 35380 | New Orleans-Metairie-Kenner, LA
OUACHITA | LA | 19360 | 5200 | MONROE, LA | 33740 | Monroe, LA
PLAQUEMINES | LA | 19370 | 5560 | NEW ORLEANS, LA | 35380 | New Orleans-Metairie-Kenner, LA
POINTE COUPEE | LA | 19380 | 19 | LOUISIANA | 12940 | Baton Rouge, LA
RAPIDES | LA | 19390 | 0220 | ALEXANDRIA, LA | 10780 | Alexandria, LA
RED RIVER | LA | 19400 | 19 | LOUISIANA | *
RICHLAND | LA | 19410 | 19 | LOUISIANA | *
SABINE | LA | 19420 | 19 | LOUISIANA | *
ST. BERNARD | LA | 19430 | 5560 | NEW ORLEANS, LA | 35380 | New Orleans-Metairie-Kenner, LA
ST. CHARLES | LA | 19440 | 5560 | NEW ORLEANS, LA | 35380 | New Orleans-Metairie-Kenner, LA
ST. HELENA | LA | 19450 | 19 | LOUISIANA | 12940 | Baton Rouge, LA
ST. JAMES | LA | 19460 | 5560 | NEW ORLEANS, LA | *
ST. JOHN BAPTIST | LA | 19470 | 5560 | NEW ORLEANS, LA | 35380 | New Orleans-Metairie-Kenner, LA
ST. LANDRY | LA | 19480 | 3880 | LAFAYETTE, LA | *
ST. MARTIN | LA | 19490 | 3880 | LAFAYETTE, LA | 29180 | Lafayette, LA
ST. MARY | LA | 19500 | 19 | LOUISIANA | *
ST. TAMMANY | LA | 19510 | 5560 | NEW ORLEANS, LA | 35380 | New Orleans-Metairie-Kenner, LA
TANGIPAHOA | LA | 19520 | 19 | LOUISIANA | *
TENSAS | LA | 19530 | 19 | LOUISIANA | *
TERREBONNE | LA | 19540 | 3350 | HOUMA, LA | 26380 | Houma-Bayou Cane-Thibodaux, LA
UNION | LA | 19550 | 19 | LOUISIANA | 33740 | Monroe, LA
VERMILION | LA | 19560 | 19 | LOUISIANA | *
VERNON | LA | 19570 | 19 | LOUISIANA | *
WASHINGTON | LA | 19580 | 19 | LOUISIANA | *
WEBSTER | LA | 19590 | 7680 | SHREVEPORT-BOSSIER CITY, LA
W. BATON ROUGE | LA | 19600 | 0760 | BATON ROUGE, LA | 12940 | Baton Rouge, LA
WEST CARROLL | LA | 19610 | 19 | LOUISIANA
WEST FELICIANA | LA | 19620 | 19 | LOUISIANA | 12940 | Baton Rouge, LA
WINN | LA | 19630 | 19 | LOUISIANA | *
STATEWIDE | LA | 19999 | 19 | LOUISIANA | *
ANDROSCOGGIN | ME | 20000 | 4243 | LEWISTON-AUBURN, ME | 30340 | Lewiston-Auburn, ME
AROOSTOOK | ME | 20010 | 20 | MAINE | *
CUMBERLAND | ME | 20020 | 6403 | PORTLAND, ME | 38860 | Portland-South Portland-Biddeford, ME
FRANKLIN | ME | 20030 | 20 | MAINE | *
HANCOCK | ME | 20040 | 20 | MAINE | *
KENNEBEC | ME | 20050 | 20 | MAINE | *
KNOX | ME | 20060 | 20 | MAINE | *
LINCOLN | ME | 20070 | 20 | MAINE | *
OXFORD | ME | 20080 | 20 | MAINE | *
PENOBSCOT | ME | 20090 | 0733 | BANGOR, ME | 12620 | Bangor, ME
PISCATAQUIS | ME | 20100 | 20 | MAINE | *
SAGADAHOC | ME | 20110 | 6403 | PORTLAND, ME | 38860 | Portland-South Portland-Biddeford, ME
SOMERSET | ME | 20120 | 20 | MAINE | *
WALDO | ME | 20130 | 20 | MAINE | *
WASHINGTON | ME | 20140 | 20 | MAINE | *
YORK | ME | 20150 | 6403 | PORTLAND, ME | 38860 | Portland-South Portland-Biddeford, ME
STATEWIDE | ME | 20999 | 20 | MAINE | *
ALLEGANY | MD | 21000 | 1900 | CUMBERLAND, MD-WV | 19060 | Cumberland, MD-WV
ANNE ARUNDEL | MD | 21010 | 0720 | BALTIMORE, MD | 12580 | Baltimore-Towson, MD
BALTIMORE | MD | 21020 | 0720 | BALTIMORE, MD | 12580 | Baltimore-Towson, MD
BALTIMORE CITY | MD | 21030 | 0720 | BALTIMORE, MD | 12580 | Baltimore-Towson, MD
CALVERT | MD | 21040 | 8840 | WASHINGTON, DC-MD-VA-WV | 47894 | Washington-Arlington-Alexandria DC-VA
CAROLINE | MD | 21050 | 21 | MARYLAND | *
CARROLL | MD | 21060 | 0720 | BALTIMORE, MD | 12580 | Baltimore-Towson, MD
CECIL | MD | 21070 | 9160 | WILMINGTON-NEWARK, DE-MD | 48864 | Wilmington, DE-MD-NJ
CHARLES | MD | 21080 | 8840 | WASHINGTON, DC-MD-VA-WV | 47894 | Washington-Arlington-Alexandria DC-VA
DORCHESTER | MD | 21090 | 21 | MARYLAND | *
FREDERICK | MD | 21100 | 8840 | WASHINGTON, DC-MD-VA-WV | 13644 | Bethesda-Frederick-Gaithersburg, MD
GARRETT | MD | 21110 | 21 | MARYLAND | *
HARFORD | MD | 21120 | 0720 | BALTIMORE, MD | 12580 | Baltimore-Towson, MD
HOWARD | MD | 21130 | 0720 | BALTIMORE, MD | 12580 | Baltimore-Towson, MD
KENT | MD | 21140 | 21 | MARYLAND | *
MONTGOMERY | MD | 21150 | 8840 | WASHINGTON, DC-MD-VA-WV | 13644 | Bethesda-Frederick-Gaithersburg, MD
PRINCE GEORGES | MD | 21160 | 8840 | WASHINGTON, DC-MD-VA-WV | 47894 | Washington-Arlington-Alexandria DC-VA
QUEEN ANNE'S | MD | 21170 | 0720 | BALTIMORE, MD | 12580 | Baltimore-Towson, MD
ST. MARY'S | MD | 21180 | 21 | MARYLAND | *
SOMERSET | MD | 21190 | 21 | MARYLAND | 41540 | Salisbury, MD
TALBOT | MD | 21200 | 21 | MARYLAND | *
WASHINGTON | MD | 21210 | 3180 | HAGERSTOWN, MD | 25180 | Hagerstown-Martinsburg, MD-WV
WICOMICO | MD | 21220 | 21 | MARYLAND | 41540 | Salisbury, MD
WORCESTER | MD | 21230 | 21 | MARYLAND | *
STATEWIDE | MD | 21999 | 21 | MARYLAND | *
BARNSTABLE | MA | 22000 | 0743 | BARNSTABLE-YARMOUTH, MA | 12700 | Barnstable Town, MA
BERKSHIRE | MA | 22010 | 6323 | PITTSFIELD, MA | 38340 | Pittsfield, MA
BRISTOL | MA | 22020 | 1123 | BOSTON-WORCESTER-LAWRENCE-LOWELL-BROCKTON, MA | 39300 | Providence-New Bedford-Fall River, RI-M
DUKES | MA | 22030 | 22 | MASSACHUSETTS | *
ESSEX | MA | 22040 | 1123 | BOSTON-WORCESTER-LAWRENCE-LOWELL-BROCKTON, MA | 21604 | Essex County, MA
FRANKLIN | MA | 22060 | 22 | MASSACHUSETTS | 44140 | Springfield, MA
HAMPDEN | MA | 22070 | 8003 | SPRINGFIELD, MA | 44140 | Springfield, MA
HAMPSHIRE | MA | 22080 | 8003 | SPRINGFIELD, MA | 44140 | Springfield, MA
MIDDLESEX | MA | 22090 | 1123 | BOSTON-WORCESTER-LAWRENCE-LOWELL-BROCKTON, MA | 15764 | Cambridge-Newton-Framingham, MA
NANTUCKET | MA | 22120 | 22 | MASSACHUSETTS | *
NORFOLK | MA | 22130 | 1123 | BOSTON-WORCESTER-LAWRENCE-LOWELL-BROCKTON, MA | 14484 | Boston-Quincy, MA
PLYMOUTH | MA | 22150 | 1123 | BOSTON-WORCESTER-LAWRENCE-LOWELL-BROCKTON, MA | 14484 | Boston-Quincy, MA
SUFFOLK | MA | 22160 | 1123 | BOSTON-WORCESTER-LAWRENCE-LOWELL-BROCKTON, MA | 14484 | Boston-Quincy, MA
WORCESTER | MA | 22170 | 1123 | BOSTON-WORCESTER-LAWRENCE-LOWELL-BROCKTON, MA | 49340 | Worcester, MA
STATEWIDE | MA | 22999 | 22 | MASSACHUSETTS | *
ALCONA | MI | 23000 | 23 | MICHIGAN | *
ALGER | MI | 23010 | 23 | MICHIGAN | *
ALLEGAN | MI | 23020 | 3000 | GRAND RAPIDS-MUSKEGON-HOLLAND, MI | *
ALPENA | MI | 23030 | 23 | MICHIGAN | *
ANTRIM | MI | 23040 | 23 | MICHIGAN | *
ARENAC | MI | 23050 | 23 | MICHIGAN | *
BARAGA | MI | 23060 | 23 | MICHIGAN | *
BARRY | MI | 23070 | 23 | MICHIGAN | 24340 | Grand Rapids-Wyoming, MI
BAY | MI | 23080 | 6960 | SAGINAW-BAY CITY-MIDLAND, MI | 13020 | Bay City, MI
BENZIE | MI | 23090 | 23 | MICHIGAN | *
BERRIEN | MI | 23100 | 0870 | BENTON HARBOR, MI | 35660 | Niles-Benton Harbor, MI
BRANCH | MI | 23110 | 23 | MICHIGAN | *
CALHOUN | MI | 23120 | 3720 | KALAMAZOO-BATTLE CREEK, MI | 12980 | Battle Creek, MI
CASS | MI | 23130 | 23 | MICHIGAN | 43780 | South Bend-Mishawaka, IN-MI
CHARLEVOIX | MI | 23140 | 23 | MICHIGAN | *
CHEBOYGAN | MI | 23150 | 23 | MICHIGAN | *
CHIPPEWA | MI | 23160 | 23 | MICHIGAN | *
CLARE | MI | 23170 | 23 | MICHIGAN | *
CLINTON | MI | 23180 | 4040 | LANSING-EAST LANSING, MI | 29620 | Lansing-East Lansing, MI
CRAWFORD | MI | 23190 | 23 | MICHIGAN | *
DELTA | MI | 23200 | 23 | MICHIGAN | *
DICKINSON | MI | 23210 | 23 | MICHIGAN | *
EATON | MI | 23220 | 4040 | LANSING-EAST LANSING, MI | 29620 | Lansing-East Lansing, MI
EMMET | MI | 23230 | 23 | MICHIGAN | *
GENESEE | MI | 23240 | 2640 | FLINT, MI | 22420 | Flint, MI
GLADWIN | MI | 23250 | 23 | MICHIGAN | *
GOGEBIC | MI | 23260 | 23 | MICHIGAN | *
GRAND TRAVERSE | MI | 23270 | 23 | MICHIGAN | *
GRATIOT | MI | 23280 | 23 | MICHIGAN | *
HILLSDALE | MI | 23290 | 23 | MICHIGAN | *
HOUGHTON | MI | 23300 | 23 | MICHIGAN | *
HURON | MI | 23310 | 23 | MICHIGAN | *
INGHAM | MI | 23320 | 4040 | LANSING-EAST LANSING, MI | 29620 | Lansing-East Lansing, MI
IONIA | MI | 23330 | 23 | MICHIGAN | 24340 | Grand Rapids-Wyoming, MI
IOSCO | MI | 23340 | 23 | MICHIGAN | *
IRON | MI | 23350 | 23 | MICHIGAN | *
ISABELLA | MI | 23360 | 23 | MICHIGAN | *
JACKSON | MI | 23370 | 3520 | JACKSON, MI | 27100 | Jackson, MI
KALAMAZOO | MI | 23380 | 3720 | KALAMAZOO-BATTLE CREEK, MI | 28020 | Kalamazoo-Portage, MI
KALKASKA | MI | 23390 | 23 | MICHIGAN | *
KENT | MI | 23400 | 3000 | GRAND RAPIDS-MUSKEGON-HOLLAND, MI | 24340 | Grand Rapids-Wyoming, MI
KEWEENAW | MI | 23410 | 23 | MICHIGAN | *
LAKE | MI | 23420 | 23 | MICHIGAN | *
LAPEER | MI | 23430 | 2160 | DETROIT, MI | 47644
LEELANAU | MI | 23440 | 23 | MICHIGAN | *
LENAWEE | MI | 23450 | 0440 | ANN ARBOR, MI | *
LIVINGSTON | MI | 23460 | 0440 | ANN ARBOR, MI | 47644
LUCE | MI | 23470 | 23 | MICHIGAN | *
MACKINAC | MI | 23480 | 23 | MICHIGAN | *
MACOMB | MI | 23490 | 2160 | DETROIT, MI | 47644
MANISTEE | MI | 23500 | 23 | MICHIGAN | *
MARQUETTE | MI | 23510 | 23 | MICHIGAN | *
MASON | MI | 23520 | 23 | MICHIGAN | *
MECOSTA | MI | 23530 | 23 | MICHIGAN | *
MENOMINEE | MI | 23540 | 23 | MICHIGAN | *
MIDLAND | MI | 23550 | 6960 | SAGINAW-BAY CITY-MIDLAND, MI | *
MISSAUKEE | MI | 23560 | 23 | MICHIGAN | *
MONROE | MI | 23570 | 2160 | DETROIT, MI | 33780 | Monroe, MI
MONTCALM | MI | 23580 | 23 | MICHIGAN | *
MONTMORENCY | MI | 23590 | 23 | MICHIGAN | *
MUSKEGON | MI | 23600 | 3000 | GRAND RAPIDS-MUSKEGON-HOLLAND, MI | 34740
NEWAYGO | MI | 23610 | 23 | MICHIGAN | 24340 | Grand Rapids-Wyoming, MI
OAKLAND | MI | 23620 | 2160 | DETROIT, MI | 47644
OCEANA | MI | 23630 | 23 | MICHIGAN | *
OGEMAW | MI | 23640 | 23 | MICHIGAN | *
ONTONAGON | MI | 23650 | 23 | MICHIGAN | *
OSCEOLA | MI | 23660 | 23 | MICHIGAN | *
OSCODA | MI | 23670 | 23 | MICHIGAN | *
OTSEGO | MI | 23680 | 23 | MICHIGAN | *
OTTAWA | MI | 23690 | 3000 | GRAND RAPIDS-MUSKEGON-HOLLAND, MI | 26100 | Holland-Grand Haven, MI
PRESQUE ISLE | MI | 23700 | 23 | MICHIGAN | *
ROSCOMMON | MI | 23710 | 23 | MICHIGAN | *
SAGINAW | MI | 23720 | 6960 | SAGINAW-BAY CITY-MIDLAND, MI | 40980 | Saginaw-Saginaw Township North, MI
ST. CLAIR | MI | 23730 | 2160 | DETROIT, MI | 47644 | Warren-Farmington-Hills-Troy, MI
ST. JOSEPH | MI | 23740 | 23 | MICHIGAN | *
SANILAC | MI | 23750 | 23 | MICHIGAN | *
SCHOOLCRAFT | MI | 23760 | 23 | MICHIGAN | *
SHIAWASSEE | MI | 23770 | 23 | MICHIGAN | *
TUSCOLA | MI | 23780 | 23 | MICHIGAN | *
VAN BUREN | MI | 23790 | 3720 | KALAMAZOO-BATTLE CREEK, MI | 28020 | Kalamazoo-Portage, MI
WASHTENAW | MI | 23800 | 0440 | ANN ARBOR, MI | 11460 | Ann Arbor, MI
WAYNE | MI | 23810 | 2160 | DETROIT, MI | 19804 | Detroit-Livonia-Dearborn, MI
WEXFORD | MI | 23830 | 23 | MICHIGAN | *
STATEWIDE | MI | 23999 | 23 | MICHIGAN | *
AITKIN | MN | 24000 | 24 | MINNESOTA | *
ANOKA | MN | 24010 | 5120 | MINNEAPOLIS-ST. PAUL, MN-WI | 33460 | Minneapolis-St. Paul-Bloomington, MN-WI
BECKER | MN | 24020 | 24 | MINNESOTA | *
BELTRAMI | MN | 24030 | 24 | MINNESOTA | *
BENTON | MN | 24040 | 6980 | ST. CLOUD, MN | 41060 | St. Cloud, MN
BIG STONE | MN | 24050 | 24 | MINNESOTA | *
BLUE EARTH | MN | 24060 | 24 | MINNESOTA | *
BROWN | MN | 24070 | 24 | MINNESOTA | *
CARLTON | MN | 24080 | 24 | MINNESOTA | 20260 | Duluth, MN-WI
CARVER | MN | 24090 | 5120 | MINNEAPOLIS-ST. PAUL, MN-WI | 33460 | Minneapolis-St. Paul-Bloomington, MN-WI
CASS | MN | 24100 | 24 | MINNESOTA | *
CHIPPEWA | MN | 24110 | 24 | MINNESOTA | *
CHISAGO | MN | 24120 | 5120 | MINNEAPOLIS-ST. PAUL, MN-WI | 33460 | Minneapolis-St. Paul-Bloomington, MN-WI
CLAY | MN | 24130 | 2520 | FARGO-MOORHEAD, ND-MN | 22020 | Fargo, ND-MN
CLEARWATER | MN | 24140 | 24 | MINNESOTA | *
COOK | MN | 24150 | 24 | MINNESOTA | *
COTTONWOOD | MN | 24160 | 24 | MINNESOTA | *
CROW WING | MN | 24170 | 24 | MINNESOTA | *
DAKOTA | MN | 24180 | 5120 | MINNEAPOLIS-ST. PAUL, MN-WI | 33460 | Minneapolis-St. Paul-Bloomington, MN-WI
DODGE | MN | 24190 | 24 | MINNESOTA | 40340 | Rochester, MN
DOUGLAS | MN | 24200 | 24 | MINNESOTA | *
FARIBAULT | MN | 24210 | 24 | MINNESOTA | *
FILLMORE | MN | 24220 | 24 | MINNESOTA | *
FREEBORN | MN | 24230 | 24 | MINNESOTA | *
GOODHUE | MN | 24240 | 24 | MINNESOTA | *
GRANT | MN | 24250 | 24 | MINNESOTA | *
HENNEPIN | MN | 24260 | 5120 | MINNEAPOLIS-ST. PAUL, MN-WI | 33460 | Minneapolis-St. Paul-Bloomington, MN-WI
HOUSTON | MN | 24270 | 3870 | LA CROSSE, WI-MN | 29100 | La Crosse, WI-MN
HUBBARD | MN | 24280 | 24 | MINNESOTA | *
ISANTI | MN | 24290 | 5120 | MINNEAPOLIS-ST. PAUL, MN-WI | 33460 | Minneapolis-St. Paul-Bloomington, MN-WI
ITASCA | MN | 24300 | 24 | MINNESOTA | *
JACKSON | MN | 24310 | 24 | MINNESOTA | *
KANABEC | MN | 24320 | 24 | MINNESOTA | *
KANDIYOHI | MN | 24330 | 24 | MINNESOTA | *
KITTSON | MN | 24340 | 24 | MINNESOTA | *
KOOCHICHING | MN | 24350 | 24 | MINNESOTA | *
LAC QUI PARLE | MN | 24360 | 24 | MINNESOTA | *
LAKE | MN | 24370 | 24 | MINNESOTA | *
LAKE OF WOODS | MN | 24380 | 24 | MINNESOTA | *
LE SUEUR | MN | 24390 | 24 | MINNESOTA | *
LINCOLN | MN | 24400 | 24 | MINNESOTA | *
LYON | MN | 24410 | 24 | MINNESOTA | *
MC LEOD | MN | 24420 | 24 | MINNESOTA | *
MAHNOMEN | MN | 24430 | 24 | MINNESOTA | *
MARSHALL | MN | 24440 | 24 | MINNESOTA | *
MARTIN | MN | 24450 | 24 | MINNESOTA | *
MEEKER | MN | 24460 | 24 | MINNESOTA | *
MILLE LACS | MN | 24470 | 24 | MINNESOTA | *
MORRISON | MN | 24480 | 24 | MINNESOTA | *
MOWER | MN | 24490 | 24 | MINNESOTA | *
MURRAY | MN | 24500 | 24 | MINNESOTA | *
NICOLLET | MN | 24510 | 24 | MINNESOTA | *
NOBLES | MN | 24520 | 24 | MINNESOTA | *
NORMAN | MN | 24530 | 24 | MINNESOTA | *
OLMSTED | MN | 24540 | 6820 | ROCHESTER, MN | 40340 | Rochester, MN
OTTER TAIL | MN | 24550 | 24 | MINNESOTA | *
PENNINGTON | MN | 24560 | 24 | MINNESOTA | *
PINE | MN | 24570 | 24 | MINNESOTA | *
PIPESTONE | MN | 24580 | 24 | MINNESOTA | *
POLK | MN | 24590 | 2985 | GRAND FORKS, ND-MN | 24220 | Grand Forks, ND-MN
POPE | MN | 24600 | 24 | MINNESOTA | *
RAMSEY | MN | 24610 | 5120 | MINNEAPOLIS-ST. PAUL, MN-WI | 33460 | Minneapolis-St. Paul-Bloomington, MN-WI
RED LAKE | MN | 24620 | 24 | MINNESOTA | *
REDWOOD | MN | 24630 | 24 | MINNESOTA | *
RENVILLE | MN | 24640 | 24 | MINNESOTA | *
RICE | MN | 24650 | 24 | MINNESOTA | *
ROCK | MN | 24660 | 24 | MINNESOTA | *
ROSEAU | MN | 24670 | 24 | MINNESOTA | *
ST. LOUIS | MN | 24680 | 2240 | DULUTH-SUPERIOR, MN-WI | 20260 | Duluth, MN-WI
SCOTT | MN | 24690 | 5120 | MINNEAPOLIS-ST. PAUL, MN-WI | 33460 | Minneapolis-St. Paul-Bloomington, MN-WI
SHERBURNE | MN | 24700 | 5120 | MINNEAPOLIS-ST. PAUL, MN-WI | 33460 | Minneapolis-St. Paul-Bloomington, MN-WI
SIBLEY | MN | 24710 | 24 | MINNESOTA | *
STEARNS | MN | 24720 | 6980 | ST. CLOUD, MN | 41060 | St. Cloud, MN
STEELE | MN | 24730 | 24 | MINNESOTA | *
STEVENS | MN | 24740 | 24 | MINNESOTA | *
SWIFT | MN | 24750 | 24 | MINNESOTA | *
TODD | MN | 24760 | 24 | MINNESOTA | *
TRAVERSE | MN | 24770 | 24 | MINNESOTA | *
WABASHA | MN | 24780 | 24 | MINNESOTA | 40340 | Rochester, MN
WADENA | MN | 24790 | 24 | MINNESOTA | *
WASECA | MN | 24800 | 24 | MINNESOTA | *
WASHINGTON | MN | 24810 | 5120 | MINNEAPOLIS-ST. PAUL, MN-WI | 33460 | Minneapolis-St. Paul-Bloomington, MN-WI
WATONWAN | MN | 24820 | 24 | MINNESOTA | *
WILKIN | MN | 24830 | 24 | MINNESOTA | *
WINONA | MN | 24840 | 24 | MINNESOTA | *
WRIGHT | MN | 24850 | 5120 | MINNEAPOLIS-ST. PAUL, MN-WI | 33460 | Minneapolis-St. Paul-Bloomington, MN-WI
YELLOW MEDCINE | MN | 24860 | 24 | MINNESOTA | *
STATEWIDE | MN | 24999 | 24 | MINNESOTA | *
ADAMS | MS | 25000 | 25 | MISSISSIPPI | *
ALCORN | MS | 25010 | 25 | MISSISSIPPI | *
AMITE | MS | 25020 | 25 | MISSISSIPPI | *
ATTALA | MS | 25030 | 25 | MISSISSIPPI | *
BENTON | MS | 25040 | 25 | MISSISSIPPI | *
BOLIVAR | MS | 25050 | 25 | MISSISSIPPI | *
CALHOUN | MS | 25060 | 25 | MISSISSIPPI | *
CARROLL | MS | 25070 | 25 | MISSISSIPPI | *
CHICKASAW | MS | 25080 | 25 | MISSISSIPPI | *
CHOCTAW | MS | 25090 | 25 | MISSISSIPPI | *
CLAIBORNE | MS | 25100 | 25 | MISSISSIPPI | *
CLARKE | MS | 25110 | 25 | MISSISSIPPI | *
CLAY | MS | 25120 | 25 | MISSISSIPPI | *
COAHOMA | MS | 25130 | 25 | MISSISSIPPI | *
COPIAH | MS | 25140 | 25 | MISSISSIPPI | 27140 | Jackson, MS
COVINGTON | MS | 25150 | 25 | MISSISSIPPI | *
DE SOTO | MS | 25160 | 4920 | MEMPHIS, TN-AR-MS | 32820 | Memphis, TN-MS-AR
FORREST | MS | 25170 | 3285 | HATTIESBURG, MS | 25620 | Hattiesburg, MS
FRANKLIN | MS | 25180 | 25 | MISSISSIPPI | *
GEORGE | MS | 25190 | 25 | MISSISSIPPI | 37700 | Pascagoula, MS
GREENE | MS | 25200 | 25 | MISSISSIPPI | *
GRENADA | MS | 25210 | 25 | MISSISSIPPI | *
HANCOCK | MS | 25220 | 0920 | BILOXI-GULFPORT-PASCAGOULA, MS | 25060 | Gulfport-Biloxi, MS
HARRISON | MS | 25230 | 0920 | BILOXI-GULFPORT-PASCAGOULA, MS | 25060 | Gulfport-Biloxi, MS
HINDS | MS | 25240 | 3560 | JACKSON, MS | 27140 | Jackson, MS
HOLMES | MS | 25250 | 25 | MISSISSIPPI | *
HUMPHREYS | MS | 25260 | 25 | MISSISSIPPI | *
ISSAQUENA | MS | 25270 | 25 | MISSISSIPPI | *
ITAWAMBA | MS | 25280 | 25 | MISSISSIPPI | *
JACKSON | MS | 25290 | 0920 | BILOXI-GULFPORT-PASCAGOULA, MS | 37700 | Pascagoula, MS
JASPER | MS | 25300 | 25 | MISSISSIPPI | *
JEFFERSON | MS | 25310 | 25 | MISSISSIPPI | *
JEFFERSON DAVIS | MS | 25320 | 25 | MISSISSIPPI | *
JONES | MS | 25330 | 25 | MISSISSIPPI | *
KEMPER | MS | 25340 | 25 | MISSISSIPPI | *
LAFAYETTE | MS | 25350 | 25 | MISSISSIPPI | *
LAMAR | MS | 25360 | 3285 | HATTIESBURG, MS | 25620 | Hattiesburg, MS
LAUDERDALE | MS | 25370 | 25 | MISSISSIPPI | *
LAWRENCE | MS | 25380 | 25 | MISSISSIPPI | *
LEAKE | MS | 25390 | 25 | MISSISSIPPI | *
LEE | MS | 25400 | 25 | MISSISSIPPI | *
LEFLORE | MS | 25410 | 25 | MISSISSIPPI | *
LINCOLN | MS | 25420 | 25 | MISSISSIPPI | *
LOWNDES | MS | 25430 | 25 | MISSISSIPPI | *
MADISON | MS | 25440 | 3560 | JACKSON, MS | 27140 | Jackson, MS
MARION | MS | 25450 | 25 | MISSISSIPPI | *
MARSHALL | MS | 25460 | 25 | MISSISSIPPI | 32820 | Memphis, TN-MS-AR
MONROE | MS | 25470 | 25 | MISSISSIPPI | *
MONTGOMERY | MS | 25480 | 25 | MISSISSIPPI | *
NESHOBA | MS | 25490 | 25 | MISSISSIPPI | *
NEWTON | MS | 25500 | 25 | MISSISSIPPI | *
NOXUBEE | MS | 25510 | 25 | MISSISSIPPI | *
OKTIBBEHA | MS | 25520 | 25 | MISSISSIPPI | *
PANOLA | MS | 25530 | 25 | MISSISSIPPI | *
PEARL RIVER | MS | 25540 | 25 | MISSISSIPPI | *
PERRY | MS | 25550 | 25 | MISSISSIPPI | 25620 | Hattiesburg, MS
PIKE | MS | 25560 | 25 | MISSISSIPPI | *
PONTOTOC | MS | 25570 | 25 | MISSISSIPPI | *
PRENTISS | MS | 25580 | 25 | MISSISSIPPI | *
QUITMAN | MS | 25590 | 25 | MISSISSIPPI | *
RANKIN | MS | 25600 | 3560 | JACKSON, MS | 27140 | Jackson, MS
SCOTT | MS | 25610 | 25 | MISSISSIPPI | *
SHARKEY | MS | 25620 | 25 | MISSISSIPPI | *
SIMPSON | MS | 25630 | 25 | ISSISSIPPI | 27140 | Jackson, MS
SMITH | MS | 25640 | 25 | MISSISSIPPI | *
STONE | MS | 25650 | 25 | MISSISSIPPI | 25060 | Gulfport-Biloxi, MS
SUNFLOWER | MS | 25660 | 25 | MISSISSIPPI | *
TALLAHATCHIE | MS | 25670 | 25 | MISSISSIPPI | *
TATE | MS | 25680 | 25 | MISSISSIPPI | 32820 | Memphis, TN-MS-AR
TIPPAH | MS | 25690 | 25 | MISSISSIPPI | *
TISHOMINGO | MS | 25700 | 25 | MISSISSIPPI | *
TUNICA | MS | 25710 | 25 | MISSISSIPPI | 32820 | Memphis, TN-MS-AR
UNION | MS | 25720 | 25 | MISSISSIPPI | *
WALTHALL | MS | 25730 | 25 | MISSISSIPPI | *
WARREN | MS | 25740 | 25 | MISSISSIPPI | *
WASHINGTON | MS | 25750 | 25 | MISSISSIPPI | *
WAYNE | MS | 25760 | 25 | MISSISSIPPI | *
WEBSTER | MS | 25770 | 25 | MISSISSIPPI | *
WILKINSON | MS | 25780 | 25 | MISSISSIPPI | *
WINSTON | MS | 25790 | 25 | MISSISSIPPI | *
YALOBUSHA | MS | 25800 | 25 | MISSISSIPPI | *
YAZOO | MS | 25810 | 25 | MISSISSIPPI | *
STATEWIDE | MS | 25999 | 25 | MISSISSIPPI | *
ADAIR | MO | 26000 | 26 | MISSOURI | *
ANDREW | MO | 26010 | 7000 | ST. JOSEPH, MO | 41140 | St. Joseph, MO-KS
ATCHISON | MO | 26020 | 26 | MISSOURI | *
AUDRAIN | MO | 26030 | 26 | MISSOURI | *
BARRY | MO | 26040 | 26 | MISSOURI | *
BARTON | MO | 26050 | 26 | MISSOURI | *
BATES | MO | 26060 | 26 | MISSOURI | 28140 | Kansas City, MO-KS
BENTON | MO | 26070 | 26 | MISSOURI | *
BOLLINGER | MO | 26080 | 26 | MISSOURI | *
BOONE | MO | 26090 | 1740 | COLUMBIA, MO | 17860 | Columbia, MO
BUCHANAN | MO | 26100 | 7000 | ST. JOSEPH, MO | 41140 | St. Joseph, MO-KS
BUTLER | MO | 26110 | 26 | MISSOURI | *
CALDWELL | MO | 26120 | 26 | MISSOURI | 28140 | Kansas City, MO-KS
CALLAWAY | MO | 26130 | 26 | MISSOURI | 27620 | Jefferson City, MO
CAMDEN | MO | 26140 | 26 | MISSOURI | *
CAPE GIRARDEAU | MO | 26150 | 26 | MISSOURI | *
CARROLL | MO | 26160 | 26 | MISSOURI | *
CARTER | MO | 26170 | 26 | MISSOURI | *
CASS | MO | 26180 | 3760 | KANSAS CITY, MO-KS | 28140 | Kansas City, MO-KS
CEDAR | MO | 26190 | 26 | MISSOURI | *
CHARITON | MO | 26200 | 26 | MISSOURI | *
CHRISTIAN | MO | 26210 | 7920 | SPRINGFIELD, MO | 44180 | Springfield, MO
CLARK | MO | 26220 | 26 | MISSOURI | *
CLAY | MO | 26230 | 3760 | KANSAS CITY, MO-KS | 28140 | Kansas City, MO-KS
CLINTON | MO | 26240 | 3760 | KANSAS CITY, MO-KS | 28140 | Kansas City, MO-KS
COLE | MO | 26250 | 26 | MISSOURI | 27620 | Jefferson City, MO
COOPER | MO | 26260 | 26 | MISSOURI | *
CRAWFORD | MO | 26270 | 26 | MISSOURI | 41180 | St. Louis, MO-IL
DADE | MO | 26280 | 26 | MISSOURI | *
DALLAS | MO | 26290 | 26 | MISSOURI | 44180 | Springfield, MO
DAVIESS | MO | 26300 | 26 | MISSOURI | *
DE KALB | MO | 26310 | 26 | MISSOURI | 41140 | St. Joseph, MO-KS
DENT | MO | 26320 | 26 | MISSOURI | *
DOUGLAS | MO | 26330 | 26 | MISSOURI | *
DUNKLIN | MO | 26340 | 26 | MISSOURI | *
FRANKLIN | MO | 26350 | 7040 | ST. LOUIS, MO-IL | 41180 | St. Louis, MO-IL
GASCONADE | MO | 26360 | 26 | MISSOURI | *
GENTRY | MO | 26370 | 26 | MISSOURI | *
GREENE | MO | 26380 | 7920 | SPRINGFIELD, MO | 44180 | Springfield, MO
GRUNDY | MO | 26390 | 26 | MISSOURI | *
HARRISON | MO | 26400 | 26 | MISSOURI | *
HENRY | MO | 26410 | 26 | MISSOURI | *
HICKORY | MO | 26411 | 26 | MISSOURI | *
HOLT | MO | 26412 | 26 | MISSOURI | *
HOWARD | MO | 26440 | 26 | MISSOURI | 17860 | Columbia, MO
HOWELL | MO | 26450 | 26 | MISSOURI | *
IRON | MO | 26460 | 26 | MISSOURI | *
JACKSON | MO | 26470 | 3760 | KANSAS CITY, MO-KS | 28140 | Kansas City, MO-KS
JASPER | MO | 26480 | 3710 | JOPLIN, MO | 27900 | Joplin, MO
JEFFERSON | MO | 26490 | 7040 | ST. LOUIS, MO-IL | 41180 | St. Louis, MO-IL
JOHNSON | MO | 26500 | 26 | MISSOURI | *
KNOX | MO | 26510 | 26 | MISSOURI | *
LACLEDE | MO | 26520 | 26 | MISSOURI | *
LAFAYETTE | MO | 26530 | 3760 | KANSAS CITY, MO-KS | 28140 | Kansas City, MO-KS
LAWRENCE | MO | 26540 | 26 | MISSOURI | *
LEWIS | MO | 26541 | 26 | MISSOURI | *
LINCOLN | MO | 26560 | 7040 | ST. LOUIS, MO-IL | 41180 | St. Louis, MO-IL
LINN | MO | 26570 | 26 | MISSOURI | *
LIVINGSTON | MO | 26580 | 26 | MISSOURI | *
MC DONALD | MO | 26590 | 26 | MISSOURI | 22220
MACON | MO | 26600 | 26 | MISSOURI | *
MADISON | MO | 26601 | 26 | MISSOURI | *
MARIES | MO | 26620 | 26 | MISSOURI | *
MARION | MO | 26630 | 26 | MISSOURI | *
MERCER | MO | 26631 | 26 | MISSOURI | *
MILLER | MO | 26650 | 26 | MISSOURI | *
MISSISSIPPI | MO | 26660 | 26 | MISSOURI | *
MONITEAU | MO | 26670 | 26 | MISSOURI | 27620 | Jefferson City, MO
MONROE | MO | 26680 | 26 | MISSOURI | *
MONTGOMERY | MO | 26690 | 26 | MISSOURI | *
MORGAN | MO | 26700 | 26 | MISSOURI | *
NEW MADRID | MO | 26710 | 26 | MISSOURI | *
NEWTON | MO | 26720 | 3710 | JOPLIN, MO | 27900 | Joplin, MO
NODAWAY | MO | 26730 | 26 | MISSOURI | *
OREGON | MO | 26740 | 26 | MISSOURI | *
OSAGE | MO | 26750 | 26 | MISSOURI | 27620 | Jefferson City, MO
OZARK | MO | 26751 | 26 | MISSOURI | *
PEMISCOT | MO | 26770 | 26 | MISSOURI | *
PERRY | MO | 26780 | 26 | MISSOURI | *
PETTIS | MO | 26790 | 26 | MISSOURI | *
PHELPS | MO | 26800 | 26 | MISSOURI | *
PIKE | MO | 26810 | 26 | MISSOURI | *
PLATTE | MO | 26820 | 3760 | KANSAS CITY, MO-KS | 28140 | Kansas City, MO-KS
POLK | MO | 26821 | 26 | MISSOURI | 44180 | Springfield, MO
PULASKI | MO | 26840 | 26 | MISSOURI | *
PUTNAM | MO | 26850 | 26 | MISSOURI | *
RALLS | MO | 26860 | 26 | MISSOURI | *
RANDOLPH | MO | 26870 | 26 | MISSOURI | *
RAY | MO | 26880 | 3760 | KANSAS CITY, MO-KS | 28140 | Kansas City, MO-KS
REYNOLDS | MO | 26881 | 26 | MISSOURI | *
RIPLEY | MO | 26900 | 26 | MISSOURI | *
ST. CHARLES | MO | 26910 | 7040 | ST. LOUIS, MO-IL | 41180 | St. Louis, MO-IL
ST. CLAIR | MO | 26911 | 26 | MISSOURI | *
ST. FRANCOIS | MO | 26930 | 26 | MISSOURI | *
ST. LOUIS | MO | 26940 | 7040 | ST. LOUIS, MO-IL | 41180 | St. Louis, MO-IL
ST. LOUIS CITY | MO | 26950 | 7040 | ST. LOUIS, MO-IL | 41180 | St. Louis, MO-IL
STE. GENEVIEVE | MO | 26960 | 26 | MISSOURI | *
SALINE | MO | 26970 | 26 | MISSOURI | *
SCHUYLER | MO | 26980 | 26 | MISSOURI | *
SCOTLAND | MO | 26981 | 26 | MISSOURI | *
SCOTT | MO | 26982 | 26 | MISSOURI | *
SHANNON | MO | 26983 | 26 | MISSOURI | *
SHELBY | MO | 26984 | 26 | MISSOURI | *
STODDARD | MO | 26985 | 26 | MISSOURI | *
STONE | MO | 26986 | 26 | MISSOURI | *
SULLIVAN | MO | 26987 | 26 | MISSOURI | *
TANEY | MO | 26988 | 26 | MISSOURI | *
TEXAS | MO | 26989 | 26 | MISSOURI | *
VERNON | MO | 26990 | 26 | MISSOURI | *
WARREN | MO | 26991 | 7040 | ST. LOUIS, MO-IL | 41180 | St. Louis, MO-IL
WASHINGTON | MO | 26992 | 26 | MISSOURI | 41180 | St. Louis, MO-IL
WAYNE | MO | 26993 | 26 | MISSOURI | *
WEBSTER | MO | 26994 | 7920 | SPRINGFIELD, MO | 44180 | Springfield, MO
WORTH | MO | 26995 | 26 | MISSOURI | *
WRIGHT | MO | 26996 | 26 | MISSOURI | *
STATEWIDE | MO | 26999 | 26 | MISSOURI | *
BEAVERHEAD | MT | 27000 | 27 | MONTANA | *
BIG HORN | MT | 27010 | 27 | MONTANA | *
BLAINE | MT | 27020 | 27 | MONTANA | *
BROADWATER | MT | 27030 | 27 | MONTANA | *
CARBON | MT | 27040 | 27 | MONTANA | 13740 | Billings, MT
CARTER | MT | 27050 | 27 | MONTANA | *
CASCADE | MT | 27060 | 3040 | GREAT FALLS, MT | 24500 | Great Falls, MT
CHOUTEAU | MT | 27070 | 27 | MONTANA | *
CUSTER | MT | 27080 | 27 | MONTANA | *
DANIELS | MT | 27090 | 27 | MONTANA | *
DAWSON | MT | 27100 | 27 | MONTANA | *
DEER LODGE | MT | 27110 | 27 | MONTANA | *
YELLOWSTONE NATIONAL PARK | MT | 27113 | 27 | MONTANA | *
FALLON | MT | 27120 | 27 | MONTANA | *
FERGUS | MT | 27130 | 27 | MONTANA | *
FLATHEAD | MT | 27140 | 27 | MONTANA | *
GALLATIN | MT | 27150 | 27 | MONTANA | *
GARFIELD | MT | 27160 | 27 | MONTANA | *
GLACIER | MT | 27170 | 27 | MONTANA | *
GOLDEN VALLEY | MT | 27180 | 27 | MONTANA | *
GRANITE | MT | 27190 | 27 | MONTANA | *
HILL | MT | 27200 | 27 | MONTANA | *
JEFFERSON | MT | 27210 | 27 | MONTANA | *
JUDITH BASIN | MT | 27220 | 27 | MONTANA | *
LAKE | MT | 27230 | 27 | MONTANA | *
LEWIS AND CLARK | MT | 27240 | 27 | MONTANA | *
LIBERTY | MT | 27250 | 27 | MONTANA | *
LINCOLN | MT | 27260 | 27 | MONTANA | *
MCCONE | MT | 27270 | 27 | MONTANA | *
MADISON | MT | 27280 | 27 | MONTANA | *
MEAGHER | MT | 27290 | 27 | MONTANA | *
MINERAL | MT | 27300 | 27 | MONTANA | *
MISSOULA | MT | 27310 | 5140 | MISSOULA, MT | 33540 | Missoula, MT
MUSSELSHELL | MT | 27320 | 27 | MONTANA | *
PARK | MT | 27330 | 27 | MONTANA | *
PETROLEUM | MT | 27340 | 27 | MONTANA | *
PHILLIPS | MT | 27350 | 27 | MONTANA | *
PONDERA | MT | 27360 | 27 | MONTANA | *
POWDER RIVER | MT | 27370 | 27 | MONTANA | *
POWELL | MT | 27380 | 27 | MONTANA | *
PRAIRIE | MT | 27390 | 27 | MONTANA | *
RAVALLI | MT | 27400 | 27 | MONTANA | *
RICHLAND | MT | 27410 | 27 | MONTANA | *
ROOSEVELT | MT | 27420 | 27 | MONTANA | *
ROSEBUD | MT | 27430 | 27 | MONTANA | *
SANDERS | MT | 27440 | 27 | MONTANA | *
SHERIDAN | MT | 27450 | 27 | MONTANA | *
SILVER BOW | MT | 27460 | 27 | MONTANA | *
STILLWATER | MT | 27470 | 27 | MONTANA | *
SWEET GRASS | MT | 27480 | 27 | MONTANA | *
TETON | MT | 27490 | 27 | MONTANA | *
TOOLE | MT | 27500 | 27 | MONTANA | *
TREASURE | MT | 27510 | 27 | MONTANA | *
VALLEY | MT | 27520 | 27 | MONTANA | *
WHEATLAND | MT | 27530 | 27 | MONTANA | *
WIBAUX | MT | 27540 | 27 | MONTANA | *
YELLOWSTONE | MT | 27550 | 0880 | BILLINGS, MT | 13740 | Billings, MT
STATEWIDE | MT | 27999 | 27 | MONTANA | *
ADAMS | NE | 28000 | 28 | NEBRASKA | *
ANTELOPE | NE | 28010 | 28 | NEBRASKA | *
ARTHUR | NE | 28020 | 28 | NEBRASKA | *
BANNER | NE | 28030 | 28 | NEBRASKA | *
BLAINE | NE | 28040 | 28 | NEBRASKA | *
BOONE | NE | 28050 | 28 | NEBRASKA | *
BOX BUTTE | NE | 28060 | 28 | NEBRASKA | *
BOYD | NE | 28070 | 28 | NEBRASKA | *
BROWN | NE | 28080 | 28 | NEBRASKA | *
BUFFALO | NE | 28090 | 28 | NEBRASKA | *
BURT | NE | 28100 | 28 | NEBRASKA | *
BUTLER | NE | 28110 | 28 | NEBRASKA | *
CASS | NE | 28120 | 5920 | OMAHA, NE-IA | 36540 | Omaha-Council Bluffs, NE-IA
CEDAR | NE | 28130 | 28 | NEBRASKA | *
CHASE | NE | 28140 | 28 | NEBRASKA | *
CHERRY | NE | 28150 | 28 | NEBRASKA | *
CHEYENNE | NE | 28160 | 28 | NEBRASKA | *
CLAY | NE | 28170 | 28 | NEBRASKA | *
COLFAX | NE | 28180 | 28 | NEBRASKA | *
CUMING | NE | 28190 | 28 | NEBRASKA | *
CUSTER | NE | 28200 | 28 | NEBRASKA | *
DAKOTA | NE | 28210 | 7720 | SIOUX CITY, IA-NE | 43580 | Sioux City, IA-NE-SD
DAWES | NE | 28220 | 28 | NEBRASKA | *
DAWSON | NE | 28230 | 28 | NEBRASKA | *
DEUEL | NE | 28240 | 28 | NEBRASKA | *
DIXON | NE | 28250 | 28 | NEBRASKA | 43580 | Sioux City, IA-NE-SD
DODGE | NE | 28260 | 28 | NEBRASKA
DOUGLAS | NE | 28270 | 5920 | OMAHA, NE-IA | 36540 | Omaha-Council Bluffs, NE-IA
DUNDY | NE | 28280 | 28 | NEBRASKA | *
FILLMORE | NE | 28290 | 28 | NEBRASKA | *
FRANKLIN | NE | 28300 | 28 | NEBRASKA | *
FRONTIER | NE | 28310 | 28 | NEBRASKA | *
FURNAS | NE | 28320 | 28 | NEBRASKA | *
GAGE | NE | 28330 | 28 | NEBRASKA | *
GARDEN | NE | 28340 | 28 | NEBRASKA | *
GARFIELD | NE | 28350 | 28 | NEBRASKA | *
GOSPER | NE | 28360 | 28 | NEBRASKA | *
GRANT | NE | 28370 | 28 | NEBRASKA | *
GREELEY | NE | 28380 | 28 | NEBRASKA | *
HALL | NE | 28390 | 28 | NEBRASKA | *
HAMILTON | NE | 28400 | 28 | NEBRASKA | *
HARLAN | NE | 28410 | 28 | NEBRASKA | *
HAYES | NE | 28420 | 28 | NEBRASKA | *
HITCHCOCK | NE | 28430 | 28 | NEBRASKA | *
HOLT | NE | 28440 | 28 | NEBRASKA | *
HOOKER | NE | 28450 | 28 | NEBRASKA | *
HOWARD | NE | 28460 | 28 | NEBRASKA | *
JEFFERSON | NE | 28470 | 28 | NEBRASKA | *
JOHNSON | NE | 28480 | 28 | NEBRASKA | *
KEARNEY | NE | 28490 | 28 | NEBRASKA | *
KEITH | NE | 28500 | 28 | NEBRASKA | *
KEYA PAHA | NE | 28510 | 28 | NEBRASKA | *
KIMBALL | NE | 28520 | 28 | NEBRASKA | *
KNOX | NE | 28530 | 28 | NEBRASKA | *
LANCASTER | NE | 28540 | 4360 | LINCOLN, NE | 30700 | Lincoln, NE
LINCOLN | NE | 28550 | 28 | NEBRASKA | *
LOGAN | NE | 28560 | 28 | NEBRASKA | *
LOUP | NE | 28570 | 28 | NEBRASKA | *
MC PHERSON | NE | 28580 | 28 | NEBRASKA | *
MADISON | NE | 28590 | 28 | NEBRASKA | *
MERRICK | NE | 28600 | 28 | NEBRASKA | *
MORRILL | NE | 28610 | 28 | NEBRASKA | *
NANCE | NE | 28620 | 28 | NEBRASKA | *
NEMAHA | NE | 28630 | 28 | NEBRASKA | *
NUCKOLLS | NE | 28640 | 28 | NEBRASKA | *
OTOE | NE | 28650 | 28 | NEBRASKA | *
PAWNEE | NE | 28660 | 28 | NEBRASKA | *
PERKINS | NE | 28670 | 28 | NEBRASKA | *
PHELPS | NE | 28680 | 28 | NEBRASKA | *
PIERCE | NE | 28690 | 28 | NEBRASKA | *
PLATTE | NE | 28700 | 28 | NEBRASKA | *
POLK | NE | 28710 | 28 | NEBRASKA | *
RED WILLOW | NE | 28720 | 28 | NEBRASKA | *
RICHARDSON | NE | 28730 | 28 | NEBRASKA | *
ROCK | NE | 28740 | 28 | NEBRASKA | *
SALINE | NE | 28750 | 28 | NEBRASKA | *
SARPY | NE | 28760 | 5920 | OMAHA, NE-IA | 36540 | Omaha-Council Bluffs, NE-IA
SAUNDERS | NE | 28770 | 28 | NEBRASKA | 36540 | Omaha-Council Bluffs, NE-IA
SCOTT BLUFF | NE | 28780 | 28 | NEBRASKA | *
SEWARD | NE | 28790 | 28 | NEBRASKA | 30700 | Lincoln, NE
SHERIDAN | NE | 28800 | 28 | NEBRASKA | *
SHERMAN | NE | 28810 | 28 | NEBRASKA | *
SIOUX | NE | 28820 | 28 | NEBRASKA | *
STANTON | NE | 28830 | 28 | NEBRASKA | *
THAYER | NE | 28840 | 28 | NEBRASKA | *
THOMAS | NE | 28850 | 28 | NEBRASKA | *
THURSTON | NE | 28860 | 28 | NEBRASKA | *
VALLEY | NE | 28870 | 28 | NEBRASKA | *
WASHINGTON | NE | 28880 | 5920 | OMAHA, NE-IA | 36540 | Omaha-Council Bluffs, NE-IA
WAYNE | NE | 28890 | 28 | NEBRASKA | *
WEBSTER | NE | 28900 | 28 | NEBRASKA | *
WHEELER | NE | 28910 | 28 | NEBRASKA | *
YORK | NE | 28920 | 28 | NEBRASKA | *
STATEWIDE | NE | 28999 | 28 | NEBRASKA | *
CHURCHILL | NV | 29000 | 29 | NEVADA | *
CLARK | NV | 29010 | 4120 | LAS VEGAS, NV-AZ | 29820 | Las Vegas-Paradise, NV
DOUGLAS | NV | 29020 | 29 | NEVADA | *
ELKO | NV | 29030 | 29 | NEVADA | *
ESMERALDA | NV | 29040 | 29 | NEVADA | *
EUREKA | NV | 29050 | 29 | NEVADA | *
HUMBOLDT | NV | 29060 | 29 | NEVADA | *
LANDER | NV | 29070 | 29 | NEVADA | *
LINCOLN | NV | 29080 | 29 | NEVADA | *
LYON | NV | 29090 | 29 | NEVADA | *
MINERAL | NV | 29100 | 29 | NEVADA | *
NYE | NV | 29110 | 4120 | LAS VEGAS, NV-AZ | *
CARSON CITY | NV | 29120 | 29 | NEVADA | 16180 | Carson City, NV
PERSHING | NV | 29130 | 29 | NEVADA | *
STOREY | NV | 29140 | 29 | NEVADA | 39900 | Reno-Sparks, NV
WASHOE | NV | 29150 | 6720 | RENO, NV | 39900 | Reno-Sparks, NV
WHITE PINE | NV | 29160 | 29 | NEVADA | *
STATEWIDE | NV | 29999 | 29 | NEVADA | *
BELKNAP | NH | 30000 | 30 | NEW HAMPSHIRE | *
CARROLL | NH | 30010 | 30 | NEW HAMPSHIRE | *
CHESHIRE | NH | 30020 | 30 | NEW HAMPSHIRE | *
COOS | NH | 30030 | 30 | NEW HAMPSHIRE | *
GRAFTON | NH | 30040 | 30 | NEW HAMPSHIRE | *
HILLSBOROUGH | NH | 30050 | 1123 | BOSTON-WORCESTER-LAWRENCE-LOWELL-BROCKTON, MA | 31700 | Manchester-Nashua, NH
MERRIMACK | NH | 30060 | 1123 | BOSTON-WORCESTER-LAWRENCE-LOWELL-BROCKTON, MA-NH | 31700 | Manchester-Nashua, NH
ROCKINGHAM | NH | 30070 | 1123 | BOSTON-WORCESTER-LAWRENCE-LOWELL-BROCKTON, MA | 40484 | Rockingham County, NH
STRAFFORD | NH | 30080 | 1123 | BOSTON-WORCESTER-LAWRENCE-LOWELL-BROCKTON, MA | 40484 | Rockingham County, NH
SULLIVAN | NH | 30090 | 30 | NEW HAMPSHIRE | *
STATEWIDE | NH | 30999 | 30 | NEW HAMPSHIRE | *
ATLANTIC | NJ | 31000 | 0560 | ATLANTIC-CAPE MAY, NJ | 12100 | Atlantic City, NJ
BERGEN | NJ | 31100 | 0875 | BERGEN-PASSAIC, NJ | 35644 | New York-Wayne-White Plains, NY-NJ
BURLINGTON | NJ | 31150 | 6160 | PHILADELPHIA, PA-NJ | 15804 | Camden, NJ
CAMDEN | NJ | 31160 | 6160 | PHILADELPHIA, PA-NJ | 15804 | Camden, NJ
CAPE MAY | NJ | 31180 | 0560 | ATLANTIC-CAPE MAY, NJ | 36140 | Ocean City, NJ
CUMBERLAND | NJ | 31190 | 8760 | VINELAND-MILLVILLE-BRIDGETON, NJ | 47220 | Vineland-Millville-Bridgeton, NJ
ESSEX | NJ | 31200 | 5640 | NEWARK, NJ | 35084 | Newark-Union, NJ-PA
GLOUCESTER | NJ | 31220 | 6160 | PHILADELPHIA, PA-NJ | 15804 | Camden, NJ
HUDSON | NJ | 31230 | 3640 | JERSEY CITY, NJ | 35644 | New York-Wayne-White Plains, NY-NJ
HUNTERDON | NJ | 31250 | 5015 | MIDDLESEX-SOMERSET-HUNTERDON, NJ | 35084 | Newark-Union, NJ-PA
MERCER | NJ | 31260 | 8480 | TRENTON, NJ | 45940 | Trenton-Ewing, NJ
MIDDLESEX | NJ | 31270 | 5015 | MIDDLESEX-SOMERSET-HUNTERDON, NJ | 20764 | Edison, NJ
MONMOUTH | NJ | 31290 | 5190 | MONMOUTH-OCEAN, NJ | 20764 | Edison, NJ
MORRIS | NJ | 31300 | 5640 | NEWARK, NJ | 35084 | Newark-Union, NJ-PA
OCEAN | NJ | 31310 | 5190 | MONMOUTH-OCEAN, NJ | 20764 | Edison, NJ
PASSAIC | NJ | 31320 | 0875 | BERGEN-PASSAIC, NJ | 35644 | New York-Wayne-White Plains, NY-NJ
SALEM | NJ | 31340 | 6160 | PHILADELPHIA, PA-NJ | 48864 | Wilmington, DE-MD-NJ
SOMERSET | NJ | 31350 | 5015 | MIDDLESEX-SOMERSET-HUNTERDON, NJ | 20764 | Edison, NJ
SUSSEX | NJ | 31360 | 5640 | NEWARK, NJ | 35084 | Newark-Union, NJ-PA
UNION | NJ | 31370 | 5640 | NEWARK, NJ | 35084 | Newark-Union, NJ-PA
WARREN | NJ | 31390 | 5640 | NEWARK, NJ | 10900 | Allentown-Bethlehem-Easton, PA-NJ
STATEWIDE | NJ | 31999 | 31
BERNALILLO | NM | 32000 | 0200 | ALBUQUERQUE, NM | 10740 | Albuquerque, NM
CATRON | NM | 32010 | 32 | NEW MEXICO | *
CHAVES | NM | 32020 | 32 | NEW MEXICO | *
CIBOLA | NM | 32025 | 32 | NEW MEXICO | *
COLFAX | NM | 32030 | 32 | NEW MEXICO | *
CURRY | NM | 32040 | 32 | NEW MEXICO | *
DE BACA | NM | 32050 | 32 | NEW MEXICO | *
DONA ANA | NM | 32060 | 4100 | LAS CRUCES, NM | 29740 | Las Cruces, NM
EDDY | NM | 32070 | 32 | NEW MEXICO | *
GRANT | NM | 32080 | 32 | NEW MEXICO | *
GUADALUPE | NM | 32090 | 32 | NEW MEXICO | *
HARDING | NM | 32100 | 32 | NEW MEXICO | *
HIDALGO | NM | 32110 | 32 | NEW MEXICO | *
LEA | NM | 32120 | 32 | NEW MEXICO | *
LINCOLN | NM | 32130 | 32 | NEW MEXICO | *
LOS ALAMOS | NM | 32131 | 7490 | SANTA FE, NM | *
LUNA | NM | 32140 | 32 | NEW MEXICO | *
MCKINLEY | NM | 32150 | 32 | NEW MEXICO | *
MORA | NM | 32160 | 32 | NEW MEXICO | *
OTERO | NM | 32170 | 32 | NEW MEXICO | *
QUAY | NM | 32180 | 32 | NEW MEXICO | *
RIO ARRIBA | NM | 32190 | 32 | NEW MEXICO | *
ROOSEVELT | NM | 32200 | 32 | NEW MEXICO | *
SANDOVAL | NM | 32210 | 0200 | ALBUQUERQUE, NM | 10740 | Albuquerque, NM
SAN JUAN | NM | 32220 | 32 | NEW MEXICO | 22140 | Farmington, NM
SAN MIGUEL | NM | 32230 | 32 | NEW MEXICO | *
SANTA FE | NM | 32240 | 7490 | SANTA FE, NM | 42140 | Santa Fe, NM
SIERRA | NM | 32250 | 32 | NEW MEXICO | *
SOCORRO | NM | 32260 | 32 | NEW MEXICO | *
TAOS | NM | 32270 | 32 | NEW MEXICO | *
TORRANCE | NM | 32280 | 32 | NEW MEXICO | 10740 | Albuquerque, NM
UNION | NM | 32290 | 32 | NEW MEXICO | *
VALENCIA | NM | 32300 | 0200 | ALBUQUERQUE, NM | 10740 | Albuquerque, NM
STATEWIDE | NM | 32999 | 32 | NEW MEXICO | *
ALBANY | NY | 33000 | 0160 | ALBANY-SCHENECTADY-TROY, NY | 10580 | Albany-Schenectady-Troy, NY
ALLEGANY | NY | 33010 | 33 | NEW YORK | *
BRONX | NY | 33020 | 5600 | NEW YORK-NEWARK, NY-NJ-PA | 35644 | New York-Wayne-White Plains, NY-NJ
BROOME | NY | 33030 | 0960 | BINGHAMTON, NY | 13780 | Binghamton, NY
CATTARAUGUS | NY | 33040 | 33 | NEW YORK | *
CAYUGA | NY | 33050 | 8160 | SYRACUSE, NY | *
CHAUTAUQUA | NY | 33060 | 3610 | JAMESTOWN, NY | *
CHEMUNG | NY | 33070 | 2335 | ELMIRA, NY | 21300 | Elmira, NY
CHENANGO | NY | 33080 | 33 | NEW YORK | *
CLINTON | NY | 33090 | 33 | NEW YORK | *
COLUMBIA | NY | 33200 | 33 | NEW YORK | *
CORTLAND | NY | 33210 | 33 | NEW YORK | *
DELAWARE | NY | 33220 | 33 | NEW YORK | *
DUTCHESS | NY | 33230 | 2281 | DUTCHESS COUNTY, NY | 39100 | Poughkeepsie-Newburgh-Middletown, NY
ERIE | NY | 33240 | 1280 | BUFFALO-NIAGARA FALLS, NY | 15380 | Buffalo-Niagara Falls, NY
ESSEX | NY | 33260 | 33 | NEW YORK | *
FRANKLIN | NY | 33270 | 33 | NEW YORK | *
FULTON | NY | 33280 | 33 | NEW YORK | *
GENESEE | NY | 33290 | 6840 | ROCHESTER, NY | *
GREENE | NY | 33300 | 33 | NEW YORK | *
HAMILTON | NY | 33310 | 33 | NEW YORK | *
HERKIMER | NY | 33320 | 8680 | UTICA-ROME, NY | 46540 | Utica-Rome, NY
JEFFERSON | NY | 33330 | 33 | NEW YORK | *
KINGS | NY | 33331 | 5600 | NEW YORK-NEWARK, NY-NJ-PA | 35644 | New York-Wayne-White Plains, NY-NJ
LEWIS | NY | 33340 | 33 | NEW YORK | *
LIVINGSTON | NY | 33350 | 6840 | ROCHESTER, NY | 40380 | Rochester, NY
MADISON | NY | 33360 | 8160 | SYRACUSE, NY | 45060 | Syracuse, NY
MONROE | NY | 33370 | 6840 | ROCHESTER, NY | 40380 | Rochester, NY
MONTGOMERY | NY | 33380 | 0160 | ALBANY-SCHENECTADY-TROY, NY | *
NASSAU | NY | 33400 | 5380 | NASSAU-SUFFOLK, NY | 35004 | Nassau-Suffolk, NY
NEW YORK | NY | 33420 | 5600 | NEW YORK-NEWARK, NY-NJ-PA | 35644 | New York-Wayne-White Plains, NY-NJ
NIAGARA | NY | 33500 | 1280 | BUFFALO-NIAGARA FALLS, NY | 15380 | Buffalo-Niagara Falls, NY
ONEIDA | NY | 33510 | 8680 | UTICA-ROME, NY | 46540 | Utica-Rome, NY
ONONDAGA | NY | 33520 | 8160 | SYRACUSE, NY | 45060 | Syracuse, NY
ONTARIO | NY | 33530 | 6840 | ROCHESTER, NY | 40380 | Rochester, NY
ORANGE | NY | 33540 | 5660 | NEWBURGH, NY-PA | 39100 | Poughkeepsie-Newburgh-Middletown, NY
ORLEANS | NY | 33550 | 6840 | ROCHESTER, NY | 40380 | Rochester, NY
OSWEGO | NY | 33560 | 8160 | SYRACUSE, NY | 45060 | Syracuse, NY
OTSEGO | NY | 33570 | 33 | NEW YORK | *
PUTNAM | NY | 33580 | 5600 | NEW YORK-NEWARK, NY-NJ-PA | 35644 | New York-Wayne-White Plains, NY-NJ
QUEENS | NY | 33590 | 5600 | NEW YORK-NEWARK, NY-NJ-PA | 35644 | New York-Wayne-White Plains, NY-NJ
RENSSELAER | NY | 33600 | 0160 | ALBANY-SCHENECTADY-TROY, NY | 10580 | Albany-Schenectady-Troy, NY
RICHMOND | NY | 33610 | 5600 | NEW YORK-NEWARK, NY-NJ-PA | 35644 | New York-Wayne-White Plains, NY-NJ
ROCKLAND | NY | 33620 | 5600 | NEW YORK-NEWARK, NY-NJ-PA | 35644 | New York-Wayne-White Plains, NY-NJ
ST. LAWRENCE | NY | 33630 | 33 | NEW YORK | *
SARATOGA | NY | 33640 | 0160 | ALBANY-SCHENECTADY-TROY, NY | 10580 | Albany-Schenectady-Troy, NY
SCHENECTADY | NY | 33650 | 0160 | ALBANY-SCHENECTADY-TROY, NY | 10580 | Albany-Schenectady-Troy, NY
SCHOHARIE | NY | 33660 | 0160 | ALBANY-SCHENECTADY-TROY, NY | 10580 | Albany-Schenectady-Troy, NY
SCHUYLER | NY | 33670 | 33 | NEW YORK | *
SENECA | NY | 33680 | 33 | NEW YORK | *
STEUBEN | NY | 33690 | 33 | NEW YORK | *
SUFFOLK | NY | 33700 | 5380 | NASSAU-SUFFOLK, NY | 35004 | Nassau-Suffolk, NY
SULLIVAN | NY | 33710 | 33 | NEW YORK | *
TIOGA | NY | 33720 | 0960 | BINGHAMTON, NY | 13780 | Binghamton, NY
TOMPKINS | NY | 33730 | 33 | NEW YORK | 27060 | Ithaca, NY
LSTER | NY | 33740 | 33 | NEW YORK | 28740 | Kingston, NY
WARREN | NY | 33750 | 2975 | GLENS FALLS, NY | 24020 | Glens Falls, NY
WASHINGTON | NY | 33760 | 2975 | GLENS FALLS, NY | 24020 | Glens Falls, NY
WAYNE | NY | 33770 | 6840 | ROCHESTER, NY | 40380 | Rochester, NY
WESTCHESTER | NY | 33800 | 5600 | NEW YORK-NEWARK, NY-NJ-PA | 35644 | New York-Wayne-White Plains, NY-NJ
WYOMING | NY | 33900 | 33 | NEW YORK | *
YATES | NY | 33910 | 33 | NEW YORK | *
STATEWIDE | NY | 33999 | 33 | NEW YORK | *
ALAMANCE | NC | 34000 | 3120 | GREENSBORO—WINSTON-SALEM—HIGH POINT, NC | 15500 | Burlington, NC
ALEXANDER | NC | 34010 | 3290 | HICKORY-MORGANTON-LENOIR, NC | 25860 | Hickory-Lenoir-Morganton, NC
ALLEGHANY | NC | 34020 | 34 | NORTH CAROLINA | *
ANSON | NC | 34030 | 34 | NORTH CAROLINA | 16740 | Charlotte-Gastonia-Concord, NC-SC
ASHE | NC | 34040 | 34 | NORTH CAROLINA | *
AVERY | NC | 34050 | 34 | NORTH CAROLINA | *
BEAUFORT | NC | 34060 | 34 | NORTH CAROLINA | *
BERTIE | NC | 34070 | 34 | NORTH CAROLINA | *
BLADEN | NC | 34080 | 34 | NORTH CAROLINA | *
BRUNSWICK | NC | 34090 | 9200 | WILMINGTON, NC | 48900 | Wilmington, NC
BUNCOMBE | NC | 34100 | 0480 | ASHEVILLE, NC | 11700 | Asheville, NC
BURKE | NC | 34110 | 3290 | HICKORY-MORGANTON-LENOIR, NC | 25860 | Hickory-Lenoir-Morganton, NC
CABARRUS | NC | 34120 | 1520 | CHARLOTTE-GASTONIA-ROCK HILL, NC-SC | 16740 | Charlotte-Gastonia-Concord, NC-SC
CALDWELL | NC | 34130 | 3290 | HICKORY-MORGANTON-LENOIR, NC | 25860 | Hickory-Lenoir-Morganton, NC
CAMDEN | NC | 34140 | 34 | NORTH CAROLINA | *
CARTERET | NC | 34150 | 34 | NORTH CAROLINA | *
CASWELL | NC | 34160 | 34 | NORTH CAROLINA | *
CATAWBA | NC | 34170 | 3290 | HICKORY-MORGANTON-LENOIR, NC | 25860 | Hickory-Lenoir-Morganton, NC
CHATHAM | NC | 34180 | 6640 | RALEIGH-DURHAM-CHAPEL HILL, NC | 20500 | Durham, NC
CHEROKEE | NC | 34190 | 34 | NORTH CAROLINA | *
CHOWAN | NC | 34200 | 34 | NORTH CAROLINA | *
CLAY | NC | 34210 | 34 | NORTH CAROLINA | *
CLEVELAND | NC | 34220 | 34 | NORTH CAROLINA | *
COLUMBUS | NC | 34230 | 34 | NORTH CAROLINA | *
CRAVEN | NC | 34240 | 34 | NORTH CAROLINA | *
CUMBERLAND | NC | 34250 | 2560 | FAYETTEVILLE, NC | 22180 | Fayetteville, NC
CURRITUCK | NC | 34251 | 5720 | NORFOLK-VIRGINIA BEACH-NEWPORT NEWS, VA-NC | 47260 | Virginia Beach-Norfolk-Newport News, VA
DARE | NC | 34270 | 34 | NORTH CAROLINA | *
DAVIDSON | NC | 34280 | 3120 | GREENSBORO—WINSTON-SALEM—HIGH POINT, NC | *
DAVIE | NC | 34290 | 3120 | GREENSBORO—WINSTON-SALEM—HIGH POINT, NC | 49180 | Winston-Salem, NC
DUPLIN | NC | 34300 | 34 | NORTH CAROLINA | *
DURHAM | NC | 34310 | 6640 | RALEIGH-DURHAM-CHAPEL HILL, NC | 20500 | Durham, NC
EDGECOMBE | NC | 34320 | 6895 | ROCKY MOUNT, NC | 40580 | Rocky Mount, NC
FORSYTH | NC | 34330 | 3120 | GREENSBORO—WINSTON-SALEM—HIGH POINT, NC | 49180 | Winston-Salem, NC
FRANKLIN | NC | 34340 | 6640 | RALEIGH-DURHAM-CHAPEL HILL, NC | 39580 | Raleigh-Cary, NC
GASTON | NC | 34350 | 1520 | CHARLOTTE-GASTONIA-ROCK HILL, NC-SC | 16740 | Charlotte-Gastonia-Concord, NC-SC
GATES | NC | 34360 | 34 | NORTH CAROLINA | *
GRAHAM | NC | 34370 | 34 | NORTH CAROLINA | *
GRANVILLE | NC | 34380 | 34 | NORTH CAROLINA | *
GREENE | NC | 34390 | 34 | NORTH CAROLINA | 24780 | Greenville, NC
GUILFORD | NC | 34400 | 3120 | GREENSBORO—WINSTON-SALEM—HIGH POINT, NC | 24660 | Greensboro-High Point, NC
HALIFAX | NC | 34410 | 34 | NORTH CAROLINA | *
HARNETT | NC | 34420 | 34 | NORTH CAROLINA | *
HAYWOOD | NC | 34430 | 34 | NORTH CAROLINA | 11700 | Asheville, NC
HENDERSON | NC | 34440 | 34 | NORTH CAROLINA | 11700 | Asheville, NC
HERTFORD | NC | 34450 | 34 | NORTH CAROLINA | *
HOKE | NC | 34460 | 34 | NORTH CAROLINA | 22180 | Fayetteville, NC
HYDE | NC | 34470 | 34 | NORTH CAROLINA | *
IREDELL | NC | 34480 | 34 | NORTH CAROLINA | *
JACKSON | NC | 34490 | 34 | NORTH CAROLINA | *
JOHNSTON | NC | 34500 | 6640 | RALEIGH-DURHAM-CHAPEL HILL, NC | 39580 | Raleigh-Cary, NC
JONES | NC | 34510 | 34 | NORTH CAROLINA
LEE | NC | 34520 | 34 | NORTH CAROLINA
LENOIR | NC | 34530 | 34 | NORTH CAROLINA
LINCOLN | NC | 34540 | 1520 | CHARLOTTE-GASTONIA-ROCK HILL, NC-SC
MC DOWELL | NC | 34550 | 34 | NORTH CAROLINA
MACON | NC | 34560 | 34 | NORTH CAROLINA
MADISON | NC | 34570 | 0480 | ASHEVILLE, NC | 11700 | Asheville, NC
MARTIN | NC | 34580 | 34 | NORTH CAROLINA | *
MECKLENBURG | NC | 34590 | 1520 | CHARLOTTE-GASTONIA-ROCK HILL, NC-SC | 16740 | Charlotte-Gastonia-Concord, NC-SC
MITCHELL | NC | 34600 | 34 | NORTH CAROLINA | *
MONTGOMERY | NC | 34610 | 34 | NORTH CAROLINA | *
MOORE | NC | 34620 | 34 | NORTH CAROLINA | *
NASH | NC | 34630 | 6895 | ROCKY MOUNT, NC | 40580 | Rocky Mount, NC
NEW HANOVER | NC | 34640 | 9200 | WILMINGTON, NC | 48900 | Wilmington, NC
NORTHAMPTON | NC | 34650 | 34 | NORTH CAROLINA | *
ONSLOW | NC | 34660 | 3605 | JACKSONVILLE, NC | 27340 | Jacksonville, NC
ORANGE | NC | 34670 | 6640 | RALEIGH-DURHAM-CHAPEL HILL, NC | 20500 | Durham, NC
PAMLICO | NC | 34680 | 34 | NORTH CAROLINA | *
PASQUOTANK | NC | 34690 | 34 | NORTH CAROLINA | *
PENDER | NC | 34700 | 34 | NORTH CAROLINA | 48900 | Wilmington, NC
PERQUIMANS | NC | 34710 | 34 | NORTH CAROLINA | *
PERSON | NC | 34720 | 34 | NORTH CAROLINA | 20500 | Durham, NC
PITT | NC | 34730 | 3150 | GREENVILLE, NC | 24780 | Greenville, NC
POLK | NC | 34740 | 34 | NORTH CAROLINA | *
RANDOLPH | NC | 34750 | 3120 | GREENSBORO—WINSTON-SALEM—HIGH POINT, NC | 24660 | Greensboro-High Point, NC
RICHMOND | NC | 34760 | 34 | NORTH CAROLINA | *
ROBESON | NC | 34770 | 34 | NORTH CAROLINA | *
ROCKINGHAM | NC | 34780 | 34 | NORTH CAROLINA | 24660 | Greensboro-High Point, NC
ROWAN | NC | 34790 | 1520 | CHARLOTTE-GASTONIA-ROCK HILL, NC-SC | *
RUTHERFORD | NC | 34800 | 34 | NORTH CAROLINA | *
SAMPSON | NC | 34810 | 34 | NORTH CAROLINA | *
SCOTLAND | NC | 34820 | 34 | NORTH CAROLINA | *
STANLY | NC | 34830 | 1520 | CHARLOTTE-GASTONIA-ROCK HILL, NC-SC | *
STOKES | NC | 34840 | 3120 | GREENSBORO—WINSTON-SALEM—HIGH POINT, NC | 49180 | Winston-Salem, NC
SURRY | NC | 34850 | 34 | NORTH CAROLINA | *
SWAIN | NC | 34860 | 34 | NORTH CAROLINA | *
TRANSYLVANIA | NC | 34870 | 34 | NORTH CAROLINA | *
TYRRELL | NC | 34880 | 34 | NORTH CAROLINA | *
UNION | NC | 34890 | 1520 | CHARLOTTE-GASTONIA-ROCK HILL, NC-SC | 16740 | Charlotte-Gastonia-Concord, NC-SC
VANCE | NC | 34900 | 34 | NORTH CAROLINA | *
WAKE | NC | 34910 | 6640 | RALEIGH-DURHAM-CHAPEL HILL, NC | 39580 | Raleigh-Cary, NC
WARREN | NC | 34920 | 34 | NORTH CAROLINA | *
WASHINGTON | NC | 34930 | 34 | NORTH CAROLINA | *
WATAUGA | NC | 34940 | 34 | NORTH CAROLINA | *
WAYNE | NC | 34950 | 2980 | GOLDSBORO, NC | 24140 | Goldsboro, NC
WILKES | NC | 34960 | 34 | NORTH CAROLINA | *
WILSON | NC | 34970 | 34 | NORTH CAROLINA | *
YADKIN | NC | 34980 | 3120 | GREENSBORO—WINSTON-SALEM—HIGH POINT, NC | 49180 | Winston-Salem, NC
YANCEY | NC | 34981 | 34 | NORTH CAROLINA | *
STATEWIDE | NC | 34999 | 34 | NORTH CAROLINA | *
ADAMS | ND | 35000 | 35 | NORTH DAKOTA | *
BARNES | ND | 35010 | 35 | NORTH DAKOTA | *
BENSON | ND | 35020 | 35 | NORTH DAKOTA | *
BILLINGS | ND | 35030 | 35 | NORTH DAKOTA | *
BOTTINEAU | ND | 35040 | 35 | NORTH DAKOTA | *
BOWMAN | ND | 35050 | 35 | NORTH DAKOTA | *
BURKE | ND | 35060 | 35 | NORTH DAKOTA | *
BURLEIGH | ND | 35070 | 1010 | BISMARCK, ND | 13900 | Bismarck, ND
CASS | ND | 35080 | 2520 | FARGO-MOORHEAD, ND-MN | 22020 | Fargo, ND-MN
CAVALIER | ND | 35090 | 35 | NORTH DAKOTA | *
DICKEY | ND | 35100 | 35 | NORTH DAKOTA | *
DIVIDE | ND | 35110 | 35 | NORTH DAKOTA | *
DUNN | ND | 35120 | 35 | NORTH DAKOTA | *
EDDY | ND | 35130 | 35 | NORTH DAKOTA | *
EMMONS | ND | 35140 | 35 | NORTH DAKOTA | *
FOSTER | ND | 35150 | 35 | NORTH DAKOTA | *
GOLDEN VALLEY | ND | 35160 | 35 | NORTH DAKOTA | *
GRAND FORKS | ND | 35170 | 2985 | GRAND FORKS, ND-MN | 24220 | Grand Forks, ND-MN
GRANT | ND | 35180 | 35 | NORTH DAKOTA | *
GRIGGS | ND | 35190 | 35 | NORTH DAKOTA | *
HETTINGER | ND | 35200 | 35 | NORTH DAKOTA | *
KIDDER | ND | 35210 | 35 | NORTH DAKOTA | *
LA MOURE | ND | 35220 | 35 | NORTH DAKOTA | *
LOGAN | ND | 35230 | 35 | NORTH DAKOTA | *
MCHENRY | ND | 35240 | 35 | NORTH DAKOTA | *
MCINTOSH | ND | 35250 | 35 | NORTH DAKOTA | *
MCKENZIE | ND | 35260 | 35 | NORTH DAKOTA | *
MCLEAN | ND | 35270 | 35 | NORTH DAKOTA | *
MERCER | ND | 35280 | 35 | NORTH DAKOTA | *
MORTON | ND | 35290 | 1010 | BISMARCK, ND | 13900 | Bismarck, ND
DMOUNTRAIL | ND | 35300 | 35 | NORTH DAKOTA | *
NELSON | ND | 35310 | 35 | NORTH DAKOTA | *
OLIVER | ND | 35320 | 35 | NORTH DAKOTA | *
PEMBINA | ND | 35330 | 35 | NORTH DAKOTA | *
PIERCE | ND | 35340 | 35 | NORTH DAKOTA | *
RAMSEY | ND | 35350 | 35 | NORTH DAKOTA | *
RANSOM | ND | 35360 | 35 | NORTH DAKOTA | *
RENVILLE | ND | 35370 | 35 | NORTH DAKOTA | *
RICHLAND | ND | 35380 | 35 | NORTH DAKOTA | *
ROLETTE | ND | 35390 | 35 | NORTH DAKOTA | *
SARGENT | ND | 35400 | 35 | NORTH DAKOTA | *
SHERIDAN | ND | 35410 | 35 | NORTH DAKOTA | *
SIOUX | ND | 35420 | 35 | NORTH DAKOTA | *
SLOPE | ND | 35430 | 35 | NORTH DAKOTA | *
STARK | ND | 35440 | 35 | NORTH DAKOTA | *
STEELE | ND | 35450 | 35 | NORTH DAKOTA | *
STUTSMAN | ND | 35460 | 35 | NORTH DAKOTA | *
TOWNER | ND | 35470 | 35 | NORTH DAKOTA | *
TRAILL | ND | 35480 | 35 | NORTH DAKOTA | *
WALSH | ND | 35490 | 35 | NORTH DAKOTA | *
WARD | ND | 35500 | 35 | NORTH DAKOTA | *
WELLS | ND | 35510 | 35 | NORTH DAKOTA | *
WILLIAMS | ND | 35520 | 35 | NORTH DAKOTA | *
STATEWIDE | ND | 35999 | 35 | NORTH DAKOTA | *
ADAMS | OH | 36000 | 36 | OHIO | *
ALLEN | OH | 36010 | 4320 | LIMA, OH | 30620 | Lima, OH
ASHLAND | OH | 36020 | 36 | OHIO | *
ASHTABULA | OH | 36030 | 1680 | CLEVELAND-LORAIN-ELYRIA, OH | *
ATHENS | OH | 36040 | 36 | OHIO | *
AUGLAIZE | OH | 36050 | 4320 | LIMA, OH | *
BELMONT | OH | 36060 | 9000 | WHEELING, WV-OH | 48540 | Wheeling, WV-OH
BROWN | OH | 36070 | 1640 | CINCINNATI, OH-KY-IN | 17140 | Cincinnati-Middletown, OH-KY-IN
BUTLER | OH | 36080 | 3200 | HAMILTON-MIDDLETOWN, OH | 17140 | Cincinnati-Middletown, OH-KY-IN
CARROLL | OH | 36090 | 1320 | CANTON-MASSILLON, OH | 15940 | Canton-Massillon, OH
CHAMPAIGN | OH | 36100 | 36 | OHIO | *
CLARK | OH | 36110 | 2000 | DAYTON-SPRINGFIELD, OH | 44220 | Springfield, OH
CLERMONT | OH | 36120 | 1640 | CINCINNATI, OH-KY-IN | 17140 | Cincinnati-Middletown, OH-KY-IN
CLINTON | OH | 36130 | 36 | OHIO | *
COLUMBIANA | OH | 36140 | 9320 | YOUNGSTOWN-WARREN, OH | *
COSHOCTON | OH | 36150 | 36 | OHIO | *
CRAWFORD | OH | 36160 | 4800 | MANSFIELD, OH | *
CUYAHOGA | OH | 36170 | 1680 | CLEVELAND-LORAIN-ELYRIA, OH | 17460 | Cleveland-Elyria-Mentor, OH
DARKE | OH | 36190 | 36 | OHIO | *
DEFIANCE | OH | 36200 | 36 | OHIO | *
DELAWARE | OH | 36210 | 1840 | COLUMBUS, OH | 18140 | Columbus, OH
ERIE | OH | 36220 | 36 | OHIO | 41780 | Sandusky, OH
FAIRFIELD | OH | 36230 | 1840 | COLUMBUS, OH | 18140 | Columbus, OH
FAYETTE | OH | 36240 | 36 | OHIO | *
FRANKLIN | OH | 36250 | 1840 | COLUMBUS, OH | 18140 | Columbus, OH
FULTON | OH | 36260 | 8400 | TOLEDO, OH | 45780 | Toledo, OH
GALLIA | OH | 36270 | 36 | OHIO | *
GEAUGA | OH | 36280 | 1680 | CLEVELAND-LORAIN-ELYRIA, OH | 17460 | Cleveland-Elyria-Mentor, OH
GREENE | OH | 36290 | 2000 | DAYTON-SPRINGFIELD, OH | 19380 | Dayton, OH
GUERNSEY | OH | 36300 | 36 | OHIO | *
HAMILTON | OH | 36310 | 1640 | CINCINNATI, OH-KY-IN | 17140 | Cincinnati-Middletown, OH-KY-IN
HANCOCK | OH | 36330 | 36 | OHIO | *
HARDIN | OH | 36340 | 36 | OHIO | *
HARRISON | OH | 36350 | 36 | OHIO | *
HENRY | OH | 36360 | 36 | OHIO | *
HIGHLAND | OH | 36370 | 36 | OHIO | *
HOCKING | OH | 36380 | 36 | OHIO | *
HOLMES | OH | 36390 | 36 | OHIO | *
HURON | OH | 36400 | 36 | OHIO | *
JACKSON | OH | 36410 | 36 | OHIO | *
JEFFERSON | OH | 36420 | 8080 | STEUBENVILLE-WEIRTON, OH-WV | 48260 | Weirton-Steubenville, WV-OH
KNOX | OH | 36430 | 36 | OHIO | *
LAKE | OH | 36440 | 1680 | CLEVELAND-LORAIN-ELYRIA, OH | 17460 | Cleveland-Elyria-Mentor, OH
LAWRENCE | OH | 36450 | 3400 | HUNTINGTON-ASHLAND, WV-KY-OH | 26580 | Huntington-Ashland, WV-KY-OH
LICKING | OH | 36460 | 1840 | COLUMBUS, OH | 18140 | Columbus, OH
LOGAN | OH | 36470 | 36 | OHIO | *
LORAIN | OH | 36480 | 1680 | CLEVELAND-LORAIN-ELYRIA, OH | 17460 | Cleveland-Elyria-Mentor, OH
LUCAS | OH | 36490 | 8400 | TOLEDO, OH | 45780 | Toledo, OH
MADISON | OH | 36500 | 1840 | COLUMBUS, OH | 18140 | Columbus, OH
MAHONING | OH | 36510 | 9320 | YOUNGSTOWN-WARREN, OH | 49660 | Youngstown-Warren-Boardman, OH-PA
MARION | OH | 36520 | 36 | OHIO | *
MEDINA | OH | 36530 | 1680 | CLEVELAND-LORAIN-ELYRIA, OH | 17460 | Cleveland-Elyria-Mentor, OH
MEIGS | OH | 36540 | 36 | OHIO | *
MERCER | OH | 36550 | 36 | OHIO | *
MIAMI | OH | 36560 | 2000 | DAYTON-SPRINGFIELD, OH | 19380 | Dayton, OH
MONROE | OH | 36570 | 36 | OHIO | *
MONTGOMERY | OH | 36580 | 2000 | DAYTON-SPRINGFIELD, OH | 19380 | Dayton, OH
MORGAN | OH | 36590 | 36 | OHIO | *
MORROW | OH | 36600 | 36 | OHIO | 18140 | Columbus, OH
MUSKINGUM | OH | 36610 | 36 | OHIO | *
NOBLE | OH | 36620 | 36 | OHIO | *
OTTAWA | OH | 36630 | 36 | OHIO | 45780 | Toledo, OH
PAULDING | OH | 36640 | 36 | OHIO | *
PERRY | OH | 36650 | 36 | OHIO | *
PICKAWAY | OH | 36660 | 1840 | COLUMBUS, OH | 18140 | Columbus, OH
PIKE | OH | 36670 | 36 | OHIO | *
PORTAGE | OH | 36680 | 0080 | AKRON, OH | 10420 | Akron, OH
PREBLE | OH | 36690 | 36 | OHIO | 19380 | Dayton, OH
PUTNAM | OH | 36700 | 36 | OHIO | *
RICHLAND | OH | 36710 | 4800 | MANSFIELD, OH | 31900 | Mansfield, OH
ROSS | OH | 36720 | 36 | OHIO | *
SANDUSKY | OH | 36730 | 36 | OHIO | *
SCIOTO | OH | 36740 | 36 | OHIO | *
SENECA | OH | 36750 | 36 | OHIO | *
SHELBY | OH | 36760 | 36 | OHIO | *
STARK | OH | 36770 | 1320 | CANTON-MASSILLON, OH | 15940 | Canton-Massillon, OH
SUMMIT | OH | 36780 | 0080 | AKRON, OH | 10420 | Akron, OH
TRUMBULL | OH | 36790 | 9320 | YOUNGSTOWN-WARREN, OH | 49660 | Youngstown-Warren-Boardman, OH-PA
TUSCARAWAS | OH | 36800 | 36 | OHIO | *
UNION | OH | 36810 | 36 | OHIO | 18140 | Columbus, OH
VAN WERT | OH | 36820 | 36 | OHIO | *
VINTON | OH | 36830 | 36 | OHIO | *
WARREN | OH | 36840 | 1640 | CINCINNATI, OH-KY-IN | 17140 | Cincinnati-Middletown, OH-KY-IN
WASHINGTON | OH | 36850 | 6020 | PARKERSBURG-MARIETTA, WV-OH | 37620 | Parkersburg-Marietta, WV-OH
WAYNE | OH | 36860 | 36 | OHIO | *
WILLIAMS | OH | 36870 | 36 | OHIO | *
WOOD | OH | 36880 | 8400 | TOLEDO, OH | 45780 | Toledo, OH
WYANDOT | OH | 36890 | 36 | OHIO | *
STATEWIDE | OH | 36999 | 36 | OHIO | *
ADAIR | OK | 37000 | 37 | OKLAHOMA | *
ALFALFA | OK | 37010 | 37 | OKLAHOMA | *
ATOKA | OK | 37020 | 37 | OKLAHOMA | *
BEAVER | OK | 37030 | 37 | OKLAHOMA | *
BECKHAM | OK | 37040 | 37 | OKLAHOMA | *
BLAINE | OK | 37050 | 37 | OKLAHOMA | *
BRYAN | OK | 37060 | 37 | OKLAHOMA | *
CADDO | OK | 37070 | 37 | OKLAHOMA | *
CANADIAN | OK | 37080 | 5880 | OKLAHOMA CITY, OK | 36420 | Oklahoma City, OK
CARTER | OK | 37090 | 37 | OKLAHOMA | *
CHEROKEE | OK | 37100 | 37 | OKLAHOMA | *
CHOCTAW | OK | 37110 | 37 | OKLAHOMA | *
CIMARRON | OK | 37120 | 37 | OKLAHOMA | *
CLEVELAND | OK | 37130 | 5880 | OKLAHOMA CITY, OK | 36420 | Oklahoma City, OK
COAL | OK | 37140 | 37 | OKLAHOMA | *
COMANCHE | OK | 37150 | 4200 | LAWTON, OK | 30020 | Lawton, OK
COTTON | OK | 37160 | 37 | OKLAHOMA | *
CRAIG | OK | 37170 | 37 | OKLAHOMA | *
CREEK | OK | 37180 | 8560 | TULSA, OK | 46140 | Tulsa, OK
CUSTER | OK | 37190 | 37 | OKLAHOMA | *
DELAWARE | OK | 37200 | 37 | OKLAHOMA | *
DEWEY | OK | 37210 | 37 | OKLAHOMA | *
ELLIS | OK | 37220 | 37 | OKLAHOMA | *
GARFIELD | OK | 37230 | 2340 | ENID, OK | *
GARVIN | OK | 37240 | 37 | OKLAHOMA | *
GRADY | OK | 37250 | 37 | OKLAHOMA | 36420 | Oklahoma City, OK
GRANT | OK | 37260 | 37 | OKLAHOMA | *
GREER | OK | 37270 | 37 | OKLAHOMA | *
HARMON | OK | 37280 | 37 | OKLAHOMA | *
HARPER | OK | 37290 | 37 | OKLAHOMA | *
HASKELL | OK | 37300 | 37 | OKLAHOMA | *
HUGHES | OK | 37310 | 37 | OKLAHOMA | *
JACKSON | OK | 37320 | 37 | OKLAHOMA | *
JEFFERSON | OK | 37330 | 37 | OKLAHOMA | *
JOHNSTON | OK | 37340 | 37 | OKLAHOMA | *
KAY | OK | 37350 | 37 | OKLAHOMA | *
KINGFISHER | OK | 37360 | 37 | OKLAHOMA | *
KIOWA | OK | 37370 | 37 | OKLAHOMA | *
LATIMER | OK | 37380 | 37 | OKLAHOMA | *
LE FLORE | OK | 37390 | 37 | OKLAHOMA | 22900 | Fort Smith, AR-OK
LINCOLN | OK | 37400 | 37 | OKLAHOMA | 36420 | Oklahoma City, OK
LOGAN | OK | 37410 | 5880 | OKLAHOMA CITY, OK | 36420 | Oklahoma City, OK
LOVE | OK | 37420 | 37 | OKLAHOMA | *
MCCLAIN | OK | 37430 | 5880 | OKLAHOMA CITY, OK | 36420 | Oklahoma City, OK
MCCURTAIN | OK | 37440 | 37 | OKLAHOMA | *
MCINTOSH | OK | 37450 | 37 | OKLAHOMA | *
MAJOR | OK | 37460 | 37 | OKLAHOMA | *
MARSHALL | OK | 37470 | 37 | OKLAHOMA | *
MAYES | OK | 37480 | 37 | OKLAHOMA | *
MURRAY | OK | 37490 | 37 | OKLAHOMA | *
MUSKOGEE | OK | 37500 | 37 | OKLAHOMA | *
NOBLE | OK | 37510 | 37 | OKLAHOMA | *
NOWATA | OK | 37520 | 37 | OKLAHOMA | *
OKFUSKEE | OK | 37530 | 37 | OKLAHOMA | *
OKLAHOMA | OK | 37540 | 5880 | OKLAHOMA CITY, OK | 36420 | Oklahoma City, OK
OKMULGEE | OK | 37550 | 37 | OKLAHOMA | 46140 | Tulsa, OK
OSAGE | OK | 37560 | 8560 | TULSA, OK | 46140 | Tulsa, OK
OTTAWA | OK | 37570 | 37 | OKLAHOMA | *
PAWNEE | OK | 37580 | 37 | OKLAHOMA | 46140 | Tulsa, OK
PAYNE | OK | 37590 | 37 | OKLAHOMA | *
PITTSBURG | OK | 37600 | 37 | OKLAHOMA | *
PONTOTOC | OK | 37610 | 37 | OKLAHOMA | *
POTTAWATOMIE | OK | 37620 | 5880 | OKLAHOMA CITY, OK | *
PUSHMATAHA | OK | 37630 | 37 | OKLAHOMA | *
ROGER MILLS | OK | 37640 | 37 | OKLAHOMA | *
ROGERS | OK | 37650 | 8560 | TULSA, OK | 46140 | Tulsa, OK
SEMINOLE | OK | 37660 | 37 | OKLAHOMA | *
SEQUOYAH | OK | 37670 | 2720 | FORT SMITH, AR-OK | 22900 | Fort Smith, AR-OK
STEPHENS | OK | 37680 | 37 | OKLAHOMA | *
TEXAS | OK | 37690 | 37 | OKLAHOMA | *
TILLMAN | OK | 37700 | 37 | OKLAHOMA | *
TULSA | OK | 37710 | 8560 | TULSA, OK | 46140 | Tulsa, OK
WAGONER | OK | 37720 | 8560 | TULSA, OK | 46140 | Tulsa, OK
WASHINGTON | OK | 37730 | 37 | OKLAHOMA | *
WASHITA | OK | 37740 | 37 | OKLAHOMA | *
WOODS | OK | 37750 | 37 | OKLAHOMA | *
WOODWARD | OK | 37760 | 37 | OKLAHOMA | *
STATEWIDE | OK | 37999 | 37 | OKLAHOMA | *
BAKER | OR | 38000 | 38 | OREGON | *
BENTON | OR | 38010 | 1890 | CORVALLIS, OR | 18700 | Corvallis, OR
CLACKAMAS | OR | 38020 | 6440 | PORTLAND-VANCOUVER, OR-WA | 38900 | Portland-Vancouver-Beaverton, OR-WA
CLATSOP | OR | 38030 | 38 | OREGON | *
COLUMBIA | OR | 38040 | 6440 | PORTLAND-VANCOUVER, OR-WA | 38900 | Portland-Vancouver-Beaverton, OR-WA
COOS | OR | 38050 | 38 | OREGON | *
CROOK | OR | 38060 | 38 | OREGON | *
CURRY | OR | 38070 | 38 | OREGON | *
DESCHUTES | OR | 38080 | 38 | OREGON | 13460 | Bend, OR
DOUGLAS | OR | 38090 | 38 | OREGON | *
GILLIAM | OR | 38100 | 38 | OREGON | *
GRANT | OR | 38110 | 38 | OREGON | *
HARNEY | OR | 38120 | 38 | OREGON | *
HOOD RIVER | OR | 38130 | 38 | OREGON | *
JACKSON | OR | 38140 | 4890 | MEDFORD-ASHLAND, OR | 32780 | Medford, OR
JEFFERSON | OR | 38150 | 38 | OREGON | *
JOSEPHINE | OR | 38160 | 38 | OREGON | *
KLAMATH | OR | 38170 | 38 | OREGON | *
LAKE | OR | 38180 | 38 | OREGON | *
LANE | OR | 38190 | 2400 | EUGENE-SPRINGFIELD, OR | 21660 | Eugene-Springfield, OR
LINCOLN | OR | 38200 | 38 | OREGON | *
LINN | OR | 38210 | 38 | OREGON | *
MALHEUR | OR | 38220 | 38 | OREGON | *
MARION | OR | 38230 | 7080 | SALEM, OR | 41420 | Salem, OR
MORROW | OR | 38240 | 38 | OREGON | *
MULTNOMAH | OR | 38250 | 6440 | PORTLAND-VANCOUVER, OR-WA | 38900 | Portland-Vancouver-Beaverton, OR-WA
POLK | OR | 38260 | 7080 | SALEM, OR | 41420 | Salem, OR
SHERMAN | OR | 38270 | 38 | OREGON | *
TILLAMOOK | OR | 38280 | 38 | OREGON | *
UMATILLA | OR | 38290 | 38 | OREGON | *
UNION | OR | 38300 | 38 | OREGON | *
WALLOWA | OR | 38310 | 38 | OREGON | *
WASCO | OR | 38320 | 38 | OREGON | *
WASHINGTON | OR | 38330 | 6440 | PORTLAND-VANCOUVER, OR-WA | 38900 | Portland-Vancouver-Beaverton, OR-WA
WHEELER | OR | 38340 | 38 | OREGON | *
YAMHILL | OR | 38350 | 6440 | PORTLAND-VANCOUVER, OR-WA | 38900 | Portland-Vancouver-Beaverton, OR-WA
STATEWIDE | OR | 38999 | 38 | OREGON | *
ADAMS | PA | 39000 | 39 | PENNSYLVANIA | *
ALLEGHENY | PA | 39010 | 6280 | PITTSBURGH, PA | 38300 | Pittsburgh, PA
ARMSTRONG | PA | 39070 | 39 | PENNSYLVANIA | 38300 | Pittsburgh, PA
BEAVER | PA | 39080 | 6280 | PITTSBURGH, PA | 38300 | Pittsburgh, PA
BEDFORD | PA | 39100 | 39 | PENNSYLVANIA | *
BERKS | PA | 39110 | 6680 | READING, PA | 39740 | Reading, PA
BLAIR | PA | 39120 | 0280 | ALTOONA, PA | 11020 | Altoona, PA
BRADFORD | PA | 39130 | 39 | PENNSYLVANIA | *
BUCKS | PA | 39140 | 6160 | PHILADELPHIA, PA-NJ | 37964 | Philadelphia, PA
BUTLER | PA | 39150 | 6280 | PITTSBURGH, PA | 38300 | Pittsburgh, PA
CAMBRIA | PA | 39160 | 3680 | JOHNSTOWN, PA | 27780 | Johnstown, PA
CAMERON | PA | 39180 | 39 | PENNSYLVANIA | *
CARBON | PA | 39190 | 0240 | ALLENTOWN-BETHLEHEM-EASTON, PA | 10900 | Allentown-Bethlehem-Easton, PA-NJ
CENTRE | PA | 39200 | 8050 | STATE COLLEGE, PA | 44300 | State College, PA
CHESTER | PA | 39210 | 6160 | PHILADELPHIA, PA-NJ | 37964 | Philadelphia, PA
CLARION | PA | 39220 | 39 | PENNSYLVANIA | *
CLEARFIELD | PA | 39230 | 39 | PENNSYLVANIA | *
CLINTON | PA | 39240 | 39 | PENNSYLVANIA | *
COLUMBIA | PA | 39250 | 7560 | SCRANTON-WILKES-BARRE-HAZLETON, PA | *
CRAWFORD | PA | 39260 | 39 | PENNSYLVANIA | *
CUMBERLAND | PA | 39270 | 3240 | HARRISBURG-LEBANON-CARLISLE, PA | 25420 | Harrisburg-Carlisle, PA
DAUPHIN | PA | 39280 | 3240 | HARRISBURG-LEBANON-CARLISLE, PA | 25420 | Harrisburg-Carlisle, PA
DELAWARE | PA | 39290 | 6160 | PHILADELPHIA, PA-NJ | 37964 | Philadelphia, PA
ELK | PA | 39310 | 39 | PENNSYLVANIA
ERIE | PA | 39320 | 2360 | ERIE, PA | 21500 | Erie, PA
FAYETTE | PA | 39330 | 6280 | PITTSBURGH, PA | 38300 | Pittsburgh, PA
FOREST | PA | 39340 | 39 | PENNSYLVANIA | *
FRANKLIN | PA | 39350 | 39 | PENNSYLVANIA | *
FULTON | PA | 39360 | 39 | PENNSYLVANIA | *
GREENE | PA | 39370 | 39 | PENNSYLVANIA | *
HUNTINGDON | PA | 39380 | 39 | PENNSYLVANIA | *
INDIANA | PA | 39390 | 39 | PENNSYLVANIA | *
JEFFERSON | PA | 39400 | 39 | PENNSYLVANIA | *
JUNIATA | PA | 39410 | 39 | PENNSYLVANIA | *
LACKAWANNA | PA | 39420 | 7560 | SCRANTON-WILKES-BARRE-HAZLETON, PA | 42540 | Scranton—Wilkes-Barre, PA
LANCASTER | PA | 39440 | 4000 | LANCASTER, PA | 29540 | Lancaster, PA
LAWRENCE | PA | 39450 | 39 | PENNSYLVANIA | *
LEBANON | PA | 39460 | 3240 | HARRISBURG-LEBANON-CARLISLE, PA | 30140 | Lebanon, PA
LEHIGH | PA | 39470 | 0240 | ALLENTOWN-BETHLEHEM-EASTON, PA | 10900 | Allentown-Bethlehem-Easton, PA-NJ
LUZERNE | PA | 39480 | 7560 | SCRANTON-WILKES-BARRE-HAZLETON, PA | 42540 | Scranton—Wilkes-Barre, PA
LYCOMING | PA | 39510 | 9140 | WILLIAMSPORT, PA | 48700 | Williamsport, PA
MC KEAN | PA | 39520 | 39 | PENNSYLVANIA | *
MERCER | PA | 39530 | 7610 | SHARON, PA | 49660 | Youngstown-Warren-Boardman, OH-PA
MIFFLIN | PA | 39540 | 39 | PENNSYLVANIA | *
MONROE | PA | 39550 | 39 | PENNSYLVANIA | *
MONTGOMERY | PA | 39560 | 6160 | PHILADELPHIA, PA-NJ | 37964 | Philadelphia, PA
MONTOUR | PA | 39580 | 39 | PENNSYLVANIA | *
NORTHAMPTON | PA | 39590 | 0240 | ALLENTOWN-BETHLEHEM-EASTON, PA | 10900 | Allentown-Bethlehem-Easton, PA-NJ
NORTHUMBERLAND | PA | 39600 | 39 | PENNSYLVANIA | *
PERRY | PA | 39610 | 3240 | HARRISBURG-LEBANON-CARLISLE, PA | 25420 | Harrisburg-Carlisle, PA
PHILADELPHIA | PA | 39620 | 6160 | PHILADELPHIA, PA-NJ | 37964 | Philadelphia, PA
PIKE | PA | 39630 | 5660 | NEWBURGH, NY-PA | 35084 | Newark-Union, NJ-PA
POTTER | PA | 39640 | 39 | PENNSYLVANIA | *
SCHUYLKILL | PA | 39650 | 39 | PENNSYLVANIA | *
SNYDER | PA | 39670 | 39 | PENNSYLVANIA | *
SOMERSET | PA | 39680 | 3680 | JOHNSTOWN, PA | *
SULLIVAN | PA | 39690 | 39 | PENNSYLVANIA | *
SUSQUEHANNA | PA | 39700 | 39 | PENNSYLVANIA | *
TIOGA | PA | 39710 | 39 | PENNSYLVANIA | *
UNION | PA | 39720 | 39 | PENNSYLVANIA | *
VENANGO | PA | 39730 | 39 | PENNSYLVANIA | *
WARREN | PA | 39740 | 39 | PENNSYLVANIA | *
WASHINGTON | PA | 39750 | 6280 | PITTSBURGH, PA | 38300 | Pittsburgh, PA
WAYNE | PA | 39760 | 39 | PENNSYLVANIA | *
WESTMORELAND | PA | 39770 | 6280 | PITTSBURGH, PA | 38300 | Pittsburgh, PA
WYOMING | PA | 39790 | 7560 | SCRANTON-WILKES-BARRE-HAZLETON, PA | 42540 | Scranton—Wilkes-Barre, PA
YORK | PA | 39800 | 9280 | YORK, PA | 49620 | York-Hanover, PA
STATEWIDE | PA | 39999 | 39 | PENNSYLVANIA | *
ADJUNTAS | PR | 40010 | 40 | PUERTO RICO | *
AGUADA | PR | 40020 | 0060 | AGUADILLA, PR | 10380 | Aguadilla-Isabela-San Sebastian, PR
AGUADILLA | PR | 40030 | 0060 | AGUADILLA, PR | 10380 | Aguadilla-Isabela-San Sebastian, PR
AGUAS BUENAS | PR | 40040 | 7440 | SAN JUAN-BAYAMON, PR | 41980 | San Juan-Caguas-Guaynabo, PR
AIBONITO | PR | 40050 | 40 | PUERTO RICO | 41980 | San Juan-Caguas-Guaynabo, PR
ANASCO | PR | 40060 | 4840 | MAYAGUEZ, PR | 10380 | Aguadilla-Isabela-San Sebastian, PR
ARECIBO | PR | 40070 | 0470 | ARECIBO, PR | 41980 | San Juan-Caguas-Guaynabo, PR
ARROYO | PR | 40080 | 40 | PUERTO RICO | 25020 | Guayama, PR
BARCELONETA | PR | 40090 | 7440 | SAN JUAN-BAYAMON, PR | 41980 | San Juan-Caguas-Guaynabo, PR
BARRANQUITAS | PR | 40100 | 40 | PUERTO RICO | 41980 | San Juan-Caguas-Guaynabo, PR
BAYAMON | PR | 40110 | 7440 | SAN JUAN-BAYAMON, PR | 41980 | San Juan-Caguas-Guaynabo, PR
CABO ROJO | PR | 40120 | 4840 | MAYAGUEZ, PR | 41900 | San German-Cabo Rojo, PR
CAGUAS | PR | 40130 | 1310 | CAGUAS, PR | 41980 | San Juan-Caguas-Guaynabo, PR
CAMUY | PR | 40140 | 0470 | ARECIBO, PR | 41980 | San Juan-Caguas-Guaynabo, PR
CANOVANAS | PR | 40145 | 7440 | SAN JUAN-BAYAMON, PR | 41980 | San Juan-Caguas-Guaynabo, PR
CAROLINA | PR | 40150 | 7440 | SAN JUAN-BAYAMON, PR | 41980 | San Juan-Caguas-Guaynabo, PR
CATANO | PR | 40160 | 7440 | SAN JUAN-BAYAMON, PR | 41980 | San Juan-Caguas-Guaynabo, PR
CAYEY | PR | 40170 | 1310 | CAGUAS, PR | 41980 | San Juan-Caguas-Guaynabo, PR
CEIBA | PR | 40180 | 7440 | SAN JUAN-BAYAMON, PR | 21940 | Fajardo, PR
CIALES | PR | 40190 | 40 | PUERTO RICO | 41980 | San Juan-Caguas-Guaynabo, PR
CIDRA | PR | 40200 | 1310 | CAGUAS, PR | 41980 | San Juan-Caguas-Guaynabo, PR
COAMO | PR | 40210 | 40 | PUERTO RICO | *
COMERIO | PR | 40220 | 7440 | SAN JUAN-BAYAMON, PR | 41980 | San Juan-Caguas-Guaynabo, PR
COROZAL | PR | 40230 | 7440 | SAN JUAN-BAYAMON, PR | 41980 | San Juan-Caguas-Guaynabo, PR
CULEBRA | PR | 40240 | 40 | PUERTO RICO | *
DORADO | PR | 40250 | 7440 | SAN JUAN-BAYAMON, PR | 41980 | San Juan-Caguas-Guaynabo, PR
FAJARDO | PR | 40260 | 7440 | SAN JUAN-BAYAMON, PR | 21940 | Fajardo, PR
FLORIDA | PR | 40265 | 7440 | SAN JUAN-BAYAMON, PR | 41980 | San Juan-Caguas-Guaynabo, PR
GUANICA | PR | 40270 | 40 | PUERTO RICO | 49500 | Yauco, PR
GUAYAMA | PR | 40280 | 40 | PUERTO RICO | 25020 | Guayama, PR
GUAYANILLA | PR | 40290 | 6360 | PONCE, PR | 49500 | Yauco, PR
GUAYNABO | PR | 40300 | 7440 | SAN JUAN-BAYAMON, PR | 41980 | San Juan-Caguas-Guaynabo, PR
GURABO | PR | 40310 | 1310 | CAGUAS, PR | 41980 | San Juan-Caguas-Guaynabo, PR
HATILLO | PR | 40320 | 0470 | ARECIBO, PR | 41980 | San Juan-Caguas-Guaynabo, PR
HORMIGUEROS | PR | 40330 | 4840 | MAYAGUEZ, PR | 32420 | Mayaguez, PR
HUMACAO | PR | 40340 | 7440 | SAN JUAN-BAYAMON, PR | 41980 | San Juan-Caguas-Guaynabo, PR
ISABELA | PR | 40350 | 40 | PUERTO RICO | 10380 | Aguadilla-Isabela-San Sebastian, PR
JAYUYA | PR | 40360 | 40 | PUERTO RICO | *
JUANA DIAZ | PR | 40370 | 6360 | PONCE, PR | 38660 | Ponce, PR
JUNCOS | PR | 40380 | 7440 | SAN JUAN-BAYAMON, PR | 41980 | San Juan-Caguas-Guaynabo, PR
LAJAS | PR | 40390 | 40 | PUERTO RICO | 41900 | San German-Cabo Rojo, PR
LARES | PR | 40400 | 40 | PUERTO RICO | 10380 | Aguadilla-Isabela-San Sebastian, PR
AS MARIAS | PR | 40410 | 40 | PUERTO RICO | *
LAS PIEDRAS | PR | 40420 | 7440 | SAN JUAN-BAYAMON, PR | 41980 | San Juan-Caguas-Guaynabo, PR
LOIZA | PR | 40430 | 7440 | SAN JUAN-BAYAMON, PR | 41980 | San Juan-Caguas-Guaynabo, PR
LUQUILLO | PR | 40440 | 7440 | SAN JUAN-BAYAMON, PR | 21940 | Fajardo, PR
MANATI | PR | 40450 | 7440 | SAN JUAN-BAYAMON, PR | 41980 | San Juan-Caguas-Guaynabo, PR
MARICAO | PR | 40460 | 40 | PUERTO RICO | *
MAUNABO | PR | 40470 | 40 | PUERTO RICO | 41980 | San Juan-Caguas-Guaynabo, PR
MAYAGUEZ | PR | 40480 | 4840 | MAYAGUEZ, PR | 32420 | Mayaguez, PR
MOCA | PR | 40490 | 0060 | AGUADILLA, PR | 10380 | Aguadilla-Isabela-San Sebastian, PR
MOROVIS | PR | 40500 | 7440 | SAN JUAN-BAYAMON, PR | 41980 | San Juan-Caguas-Guaynabo, PR
MAGUABO | PR | 40510 | 7440 | SAN JUAN-BAYAMON, PR | 41980 | San Juan-Caguas-Guaynabo, PR
NARANJITO | PR | 40520 | 7440 | SAN JUAN-BAYAMON, PR | 41980 | San Juan-Caguas-Guaynabo, PR
OROCOVIS | PR | 40530 | 40 | PUERTO RICO | 41980 | San Juan-Caguas-Guaynabo, PR
PATILLAS | PR | 40540 | 40 | PUERTO RICO | 25020 | Guayama, PR
PENUELAS | PR | 40550 | 6360 | PONCE, PR | 49500 | Yauco, PR
PONCE | PR | 40560 | 6360 | PONCE, PR | 38660 | Ponce, PR
QUEBRADILLAS | PR | 40570 | 40 | PUERTO RICO | 41980 | San Juan-Caguas-Guaynabo, PR
RINCON | PR | 40580 | 40 | PUERTO RICO | 10380 | Aguadilla-Isabela-San Sebastian, PR
RIO GRANDE | PR | 40590 | 7440 | SAN JUAN-BAYAMON, PR | 41980 | San Juan-Caguas-Guaynabo, PR
SABANA GRANDE | PR | 40610 | 4840 | MAYAGUEZ, PR | 41900 | San German-Cabo Rojo, PR
SALINAS | PR | 40620 | 40 | PUERTO RICO | *
SAN GERMAN | PR | 40630 | 4840 | MAYAGUEZ, PR | 41900 | San German-Cabo Rojo, PR
SAN JUAN | PR | 40640 | 7440 | SAN JUAN-BAYAMON, PR | 41980 | San Juan-Caguas-Guaynabo, PR
SAN LORENZO | PR | 40650 | 1310 | CAGUAS, PR | 41980 | San Juan-Caguas-Guaynabo, PR
SAN SEBASTIAN | PR | 40660 | 40 | PUERTO RICO | 10380 | Aguadilla-Isabela-San Sebastian, PR
SANTA ISABEL | PR | 40670 | 40 | PUERTO RICO | *
TOA ALTA | PR | 40680 | 7440 | SAN JUAN-BAYAMON, PR | 41980 | San Juan-Caguas-Guaynabo, PR
TOA BAJA | PR | 40690 | 7440 | SAN JUAN-BAYAMON, PR | 41980 | San Juan-Caguas-Guaynabo, PR
TRUJILLO ALTO | PR | 40700 | 7440 | SAN JUAN-BAYAMON, PR | 41980 | San Juan-Caguas-Guaynabo, PR
UTUADO | PR | 40710 | 40 | PUERTO RICO
VEGA ALTA | PR | 40720 | 7440 | SAN JUAN-BAYAMON, PR | 41980 | San Juan-Caguas-Guaynabo, PR
VEGA BAJA | PR | 40730 | 7440 | SAN JUAN-BAYAMON, PR | 41980 | San Juan-Caguas-Guaynabo, PR
VIEQUES | PR | 40740 | 40 | PUERTO RICO
VILLALBA | PR | 40750 | 6360 | PONCE, PR | 38660 | Ponce, PR
YABUCOA | PR | 40760 | 7440 | SAN JUAN-BAYAMON, PR | 41980 | San Juan-Caguas-Guaynabo, PR
YAUCO | PR | 40770 | 6360 | PONCE, PR | 49500 | Yauco, PR
PUERTO RICO, NFD | PR | 40999 | 40 | PUERTO RICO | *
BRISTOL | RI | 41000 | 6483 | PROVIDENCE-WARWICK-PAWTUCKET, RI | 39300 | Providence-New Bedford-Fall River, RI-M
KENT | RI | 41010 | 6483 | PROVIDENCE-WARWICK-PAWTUCKET, RI | 39300 | Providence-New Bedford-Fall River, RI-M
NEWPORT | RI | 41020 | 6483 | PROVIDENCE-WARWICK-PAWTUCKET, RI | 39300 | Providence-New Bedford-Fall River, RI-M
PROVIDENCE | RI | 41030 | 6483 | PROVIDENCE-WARWICK-PAWTUCKET, RI | 39300 | Providence-New Bedford-Fall River, RI-M
WASHINGTON | RI | 41050 | 6483 | PROVIDENCE-WARWICK-PAWTUCKET, RI | 39300 | Providence-New Bedford-Fall River, RI-M
STATEWIDE | RI | 41999 | 6483 | PROVIDENCE-WARWICK-PAWTUCKET, RI | *
ABBEVILLE | SC | 42000 | 42 | SOUTH CAROLINA | *
AIKEN | SC | 42010 | 0600 | AUGUSTA-AIKEN, GA-SC | 12260 | Augusta-Richmond County, GA-SC
ALLENDALE | SC | 42020 | 42 | SOUTH CAROLINA | *
ANDERSON | SC | 42030 | 3160 | GREENVILLE-SPARTANBURG-ANDERSON, SC | 11340 | Anderson, SC
BAMBERG | SC | 42040 | 42 | SOUTH CAROLINA | *
BARNWELL | SC | 42050 | 42 | SOUTH CAROLINA | *
BEAUFORT | SC | 42060 | 42 | SOUTH CAROLINA | *
BERKELEY | SC | 42070 | 1440 | CHARLESTON-NORTH CHARLESTON, SC | 16700 | Charleston-North Charleston, SC
CALHOUN | SC | 42080 | 42 | SOUTH CAROLINA | 17900 | Columbia, SC
CHARLESTON | SC | 42090 | 1440 | CHARLESTON-NORTH CHARLESTON, SC | 16700 | Charleston-North Charleston, SC
CHEROKEE | SC | 42100 | 3160 | GREENVILLE-SPARTANBURG-ANDERSON, SC | *
CHESTER | SC | 42110 | 42 | SOUTH CAROLINA | *
CHESTERFIELD | SC | 42120 | 42 | SOUTH CAROLINA | *
CLARENDON | SC | 42130 | 42 | SOUTH CAROLINA | *
COLLETON | SC | 42140 | 42 | SOUTH CAROLINA | *
DARLINGTON | SC | 42150 | 42 | SOUTH CAROLINA | 22500 | Florence, SC
DILLON | SC | 42160 | 42 | SOUTH CAROLINA | *
DORCHESTER | SC | 42170 | 1440 | CHARLESTON-NORTH CHARLESTON, SC | 16700 | Charleston-North Charleston, SC
EDGEFIELD | SC | 42180 | 0600 | AUGUSTA-AIKEN, GA-SC | 12260 | Augusta-Richmond County, GA-SC
FAIRFIELD | SC | 42190 | 42 | SOUTH CAROLINA | 17900 | Columbia, SC
FLORENCE | SC | 42200 | 2655 | FLORENCE, SC | 22500 | Florence, SC
GEORGETOWN | SC | 42210 | 42 | SOUTH CAROLINA | *
GREENVILLE | SC | 42220 | 3160 | GREENVILLE-SPARTANBURG-ANDERSON, SC | 24860 | Greenville, SC
GREENWOOD | SC | 42230 | 42 | SOUTH CAROLINA | *
HAMPTON | SC | 42240 | 42 | SOUTH CAROLINA | *
HORRY | SC | 42250 | 5330 | MYRTLE BEACH, SC | 34820 | Myrtle Beach-Conway-North Myrtle Beach,
JASPER | SC | 42260 | 42 | SOUTH CAROLINA | *
KERSHAW | SC | 42270 | 42 | SOUTH CAROLINA | 17900 | Columbia, SC
LANCASTER | SC | 42280 | 42 | SOUTH CAROLINA | *
LAURENS | SC | 42290 | 42 | SOUTH CAROLINA | 24860 | Greenville, SC
LEE | SC | 42300 | 42 | SOUTH CAROLINA | *
LEXINGTON | SC | 42310 | 1760 | COLUMBIA, SC | 17900 | Columbia, SC
MCCORMICK | SC | 42320 | 42 | SOUTH CAROLINA | *
MARION | SC | 42330 | 42 | SOUTH CAROLINA | *
MARLBORO | SC | 42340 | 42 | SOUTH CAROLINA | *
NEWBERRY | SC | 42350 | 42 | SOUTH CAROLINA | *
OCONEE | SC | 42360 | 42 | SOUTH CAROLINA | *
ORANGEBURG | SC | 42370 | 42 | SOUTH CAROLINA | *
PICKENS | SC | 42380 | 3160 | GREENVILLE-SPARTANBURG ANDERSON, SC | 24860 | Greenville, SC
RICHLAND | SC | 42390 | 1760 | COLUMBIA, SC | 17900 | Columbia, SC
SALUDA | SC | 42400 | 42 | SOUTH CAROLINA | 17900 | Columbia, SC
SPARTANBURG | SC | 42410 | 3160 | GREENVILLE-SPARTANBURG-ANDERSON, SC | 43900 | Spartanburg, SC
SUMTER | SC | 42420 | 8140 | SUMTER, SC | 44940 | Sumter, SC
UNION | SC | 42430 | 42 | SOUTH CAROLINA | *
WILLIAMSBURG | SC | 42440 | 42 | SOUTH CAROLINA | *
YORK | SC | 42450 | 1520 | CHARLOTTE-GASTONIA-ROCK HILL, NC-SC | 16740 | Charlotte-Gastonia-Concord, NC-SC
STATEWIDE | SC | 42999 | 42 | SOUTH CAROLINA | *
AURORA | SD | 43010 | 43 | SOUTH DAKOTA | *
BEADLE | SD | 43020 | 43 | SOUTH DAKOTA | *
BENNETT | SD | 43030 | 43 | SOUTH DAKOTA | *
BON HOMME | SD | 43040 | 43 | SOUTH DAKOTA | *
BROOKINGS | SD | 43050 | 43 | SOUTH DAKOTA | *
BROWN | SD | 43060 | 43 | SOUTH DAKOTA | *
BRULE | SD | 43070 | 43 | SOUTH DAKOTA | *
BUFFALO | SD | 43080 | 43 | SOUTH DAKOTA | *
BUTTE | SD | 43090 | 43 | SOUTH DAKOTA | *
CAMPBELL | SD | 43100 | 43 | SOUTH DAKOTA | *
CHARLES MIX | SD | 43110 | 43 | SOUTH DAKOTA | *
CLARK | SD | 43120 | 43 | SOUTH DAKOTA | *
CLAY | SD | 43130 | 43 | SOUTH DAKOTA | *
CODINGTON | SD | 43140 | 43 | SOUTH DAKOTA | *
CORSON | SD | 43150 | 43 | SOUTH DAKOTA | *
CUSTER | SD | 43160 | 43 | SOUTH DAKOTA | *
DAVISON | SD | 43170 | 43 | SOUTH DAKOTA | *
DAY | SD | 43180 | 43 | SOUTH DAKOTA | *
DEUEL | SD | 43190 | 43 | SOUTH DAKOTA | *
DEWEY | SD | 43200 | 43 | SOUTH DAKOTA | *
DOUGLAS | SD | 43210 | 43 | SOUTH DAKOTA | *
EDMUNDS | SD | 43220 | 43 | SOUTH DAKOTA | *
FALL RIVER | SD | 43230 | 43 | SOUTH DAKOTA | *
FAULK | SD | 43240 | 43 | SOUTH DAKOTA | *
GRANT | SD | 43250 | 43 | SOUTH DAKOTA | *
GREGORY | SD | 43260 | 43 | SOUTH DAKOTA | *
HAAKON | SD | 43270 | 43 | SOUTH DAKOTA | *
HAMLIN | SD | 43280 | 43 | SOUTH DAKOTA | *
HAND | SD | 43290 | 43 | SOUTH DAKOTA | *
HANSON | SD | 43300 | 43 | SOUTH DAKOTA | *
HARDING | SD | 43310 | 43 | SOUTH DAKOTA | *
HUGHES | SD | 43320 | 43 | SOUTH DAKOTA | *
HUTCHINSON | SD | 43330 | 43 | SOUTH DAKOTA | *
HYDE | SD | 43340 | 43 | SOUTH DAKOTA | *
JACKSON | SD | 43350 | 43 | SOUTH DAKOTA | *
JERAULD | SD | 43360 | 43 | SOUTH DAKOTA | *
JONES | SD | 43370 | 43 | SOUTH DAKOTA | *
KINGSBURY | SD | 43380 | 43 | SOUTH DAKOTA | *
LAKE | SD | 43390 | 43 | SOUTH DAKOTA | *
LAWRENCE | SD | 43400 | 43 | SOUTH DAKOTA | *
LINCOLN | SD | 43410 | 7760 | SIOUX FALLS, SD | 43620 | Sioux Falls, SD
LYMAN | SD | 43420 | 43 | SOUTH DAKOTA | *
MC COOK | SD | 43430 | 43 | SOUTH DAKOTA | 43620 | Sioux Falls, SD
MC PHERSON | SD | 43440 | 43 | SOUTH DAKOTA | *
MARSHALL | SD | 43450 | 43 | SOUTH DAKOTA | *
MEADE | SD | 43460 | 43 | SOUTH DAKOTA | 39660 | Rapid City, SD
MELLETTE | SD | 43470 | 43 | SOUTH DAKOTA | *
MINER | SD | 43480 | 43 | SOUTH DAKOTA | *
MINNEHAHA | SD | 43490 | 7760 | SIOUX FALLS, SD | 43620 | Sioux Falls, SD
MOODY | SD | 43500 | 43 | SOUTH DAKOTA | *
PENNINGTON | SD | 43510 | 6660 | RAPID CITY, SD | 39660 | Rapid City, SD
PERKINS | SD | 43520 | 43 | SOUTH DAKOTA | *
POTTER | SD | 43530 | 43 | SOUTH DAKOTA | *
ROBERTS | SD | 43540 | 43 | SOUTH DAKOTA | *
SANBORN | SD | 43550 | 43 | SOUTH DAKOTA | *
SHANNON | SD | 43560 | 43 | SOUTH DAKOTA | *
SPINK | SD | 43570 | 43 | SOUTH DAKOTA | *
STANLEY | SD | 43580 | 43 | SOUTH DAKOTA | *
SULLY | SD | 43590 | 43 | SOUTH DAKOTA | *
TODD | SD | 43600 | 43 | SOUTH DAKOTA | *
TRIPP | SD | 43610 | 43 | SOUTH DAKOTA | *
TURNER | SD | 43620 | 43 | SOUTH DAKOTA | 43620 | Sioux Falls, SD
UNION | SD | 43630 | 43 | SOUTH DAKOTA | 43580 | Sioux City, IA-NE-SD
WALWORTH | SD | 43640 | 43 | SOUTH DAKOTA | *
WASHABAUGH | SD | 43650 | 43 | SOUTH DAKOTA | *
YANKTON | SD | 43670 | 43 | SOUTH DAKOTA | *
ZIEBACH | SD | 43680 | 43 | SOUTH DAKOTA | *
STATEWIDE | SD | 43999 | 43 | SOUTH DAKOTA | *
ANDERSON | TN | 44000 | 3840 | KNOXVILLE, TN | 28940 | Knoxville, TN
BEDFORD | TN | 44010 | 44 | TENNESSEE | *
BENTON | TN | 44020 | 44 | TENNESSEE | *
BLEDSOE | TN | 44030 | 44 | TENNESSEE | *
BLOUNT | TN | 44040 | 3840 | KNOXVILLE, TN | 28940 | Knoxville, TN
BRADLEY | TN | 44050 | 44 | TENNESSEE | 17420 | Cleveland, TN
CAMPBELL | TN | 44060 | 44 | TENNESSEE
CANNON | TN | 44070 | 44 | TENNESSEE | 34980 | Nashville-Davidson—Murfreesboro, TN
CARROLL | TN | 44080 | 44 | TENNESSEE | *
CARTER | TN | 44090 | 3660 | JOHNSON CITY-KINGSPORT-BRISTOL, TN-VA | 27740 | Johnson City, TN
CHEATHAM | TN | 44100 | 5360 | NASHVILLE, TN | 34980 | Nashville-Davidson—Murfreesboro, TN
CHESTER | TN | 44110 | 3580 | JACKSON, TN | 27180 | Jackson, TN
CLAIBORNE | TN | 44120 | 44 | TENNESSEE | *
CLAY | TN | 44130 | 44 | TENNESSEE | *
COCKE | TN | 44140 | 44 | TENNESSEE | *
COFFEE | TN | 44150 | 44 | TENNESSEE | *
CROCKETT | TN | 44160 | 44 | TENNESSEE | *
CUMBERLAND | TN | 44170 | 44 | TENNESSEE | *
DAVIDSON | TN | 44180 | 5360 | NASHVILLE, TN | 34980 | Nashville-Davidson—Murfreesboro, TN
DECATUR | TN | 44190 | 44 | TENNESSEE | *
DE KALB | TN | 44200 | 44 | TENNESSEE | *
DICKSON | TN | 44210 | 5360 | NASHVILLE, TN | 34980 | Nashville-Davidson—Murfreesboro, TN
DYER | TN | 44220 | 44 | TENNESSEE | *
FAYETTE | TN | 44230 | 4920 | MEMPHIS, TN-AR-MS | 32820 | Memphis, TN-MS-AR
FENTRESS | TN | 44240 | 44 | TENNESSEE | *
FRANKLIN | TN | 44250 | 44 | TENNESSEE | *
GIBSON | TN | 44260 | 44 | TENNESSEE | *
GILES | TN | 44270 | 44 | TENNESSEE | *
GRAINGER | TN | 44280 | 44 | TENNESSEE | 34100 | Morristown, TN
GREENE | TN | 44290 | 44 | TENNESSEE | *
GRUNDY | TN | 44300 | 44 | TENNESSEE | *
HAMBLEN | TN | 44310 | 44 | TENNESSEE | 34100 | Morristown, TN
HAMILTON | TN | 44320 | 1560 | CHATTANOOGA, TN-GA | 16860 | Chattanooga, TN-GA
HANCOCK | TN | 44330 | 44 | TENNESSEE | *
HARDEMAN | TN | 44340 | 44 | TENNESSEE | *
HARDIN | TN | 44350 | 44 | TENNESSEE | *
HAWKINS | TN | 44360 | 3660 | JOHNSON CITY-KINGSPORT-BRISTOL, TN-VA | 28700 | Kingsport-Bristol-,TN-VA
HAYWOOD | TN | 44370 | 44 | TENNESSEE | *
HENDERSON | TN | 44380 | 44 | TENNESSEE | *
HENRY | TN | 44390 | 44 | TENNESSEE | *
HICKMAN | TN | 44400 | 44 | TENNESSEE | 34980 | Nashville-Davidson—Murfreesboro, TN
HOUSTON | TN | 44410 | 44 | TENNESSEE | *
HUMPHREYS | TN | 44420 | 44 | TENNESSEE | *
JACKSON | TN | 44430 | 44 | TENNESSEE | *
JEFFERSON | TN | 44440 | 44 | TENNESSEE | 34100 | Morristown, TN
JOHNSON | TN | 44450 | 44 | TENNESSEE | *
KNOX | TN | 44460 | 3840 | KNOXVILLE, TN | 28940 | Knoxville, TN
LAKE | TN | 44470 | 44 | TENNESSEE | *
LAUDERDALE | TN | 44480 | 44 | TENNESSEE | *
LAWRENCE | TN | 44490 | 44 | TENNESSEE | *
LEWIS | TN | 44500 | 44 | TENNESSEE | *
LINCOLN | TN | 44510 | 44 | TENNESSEE | *
LOUDON | TN | 44520 | 3840 | KNOXVILLE, TN | 28940 | Knoxville, TN
MC MINN | TN | 44530 | 44 | TENNESSEE | *
MC NAIRY | TN | 44540 | 44 | TENNESSEE | *
MACON | TN | 44550 | 44 | TENNESSEE | 34980 | Nashville-Davidson—Murfreesboro, TN
MADISON | TN | 44560 | 3580 | JACKSON, TN | 27180 | Jackson, TN
MARION | TN | 44570 | 1560 | CHATTANOOGA, TN-GA | 16860 | Chattanooga, TN-GA
MARSHALL | TN | 44580 | 44 | TENNESSEE | *
MAURY | TN | 44590 | 44 | TENNESSEE | *
MEIGS | TN | 44600 | 44 | TENNESSEE | *
MONROE | TN | 44610 | 44 | TENNESSEE | *
MONTGOMERY | TN | 44620 | 1660 | CLARKSVILLE-HOPKINSVILLE, TN-KY | 17300 | Clarksville, TN-KY
MOORE | TN | 44630 | 44 | TENNESSEE | *
MORGAN | TN | 44640 | 44 | TENNESSEE | *
OBION | TN | 44650 | 44 | TENNESSEE | *
OVERTON | TN | 44660 | 44 | TENNESSEE | *
PERRY | TN | 44670 | 44 | TENNESSEE | *
PICKETT | TN | 44680 | 44 | TENNESSEE | *
POLK | TN | 44690 | 44 | TENNESSEE | 17420 | Cleveland, TN
PUTNAM | TN | 44700 | 44 | TENNESSEE | *
RHEA | TN | 44710 | 44 | TENNESSEE | *
ROANE | TN | 44720 | 44 | TENNESSEE | *
ROBERTSON | TN | 44730 | 5360 | NASHVILLE, TN | 34980 | Nashville-Davidson—Murfreesboro, TN
RUTHERFORD | TN | 44740 | 5360 | NASHVILLE, TN | 34980 | Nashville-Davidson—Murfreesboro, TN
SCOTT | TN | 44750 | 44 | TENNESSEE | *
SEQUATCHIE | TN | 44760 | 44 | TENNESSEE | 16860 | Chattanooga, TN-GA
SEVIER | TN | 44770 | 3840 | KNOXVILLE, TN | *
SHELBY | TN | 44780 | 4920 | MEMPHIS, TN-AR-MS | 32820 | Memphis, TN-MS-AR
SMITH | TN | 44790 | 44 | TENNESSEE | 34980 | Nashville-Davidson—Murfreesboro, TN
STEWART | TN | 44800 | 44 | TENNESSEE | 17300 | Clarksville, TN-KY
SULLIVAN | TN | 44810 | 3660 | JOHNSON CITY-KINGSPORT-BRISTOL, TN-VA | 28700 | Kingsport-Bristol, TN-VA
SUMNER | TN | 44820 | 5360 | NASHVILLE, TN | 34980 | Nashville-Davidson—Murfreesboro, TN
TIPTON | TN | 44830 | 4920 | MEMPHIS, TN-AR-MS | 32820 | Memphis, TN-MS-AR
TROUSDALE | TN | 44840 | 44 | TENNESSEE | 34980 | Nashville-Davidson—Murfreesboro, TN
UNICOI | TN | 44850 | 3660 | JOHNSON CITY-KINGSPORT-BRISTOL, TN-VA | 27740 | Johnson City, TN
UNION | TN | 44860 | 3840 | KNOXVILLE, TN | 28940 | Knoxville, TN
VAN BUREN | TN | 44870 | 44 | TENNESSEE | *
WARREN | TN | 44880 | 44 | TENNESSEE | *
WASHINGTON | TN | 44890 | 3660 | JOHNSON CITY-KINGSPORT-BRISTOL, TN-VA | 27740 | Johnson City, TN
WAYNE | TN | 44900 | 44 | TENNESSEE | *
WEAKLEY | TN | 44910 | 44 | TENNESSEE | *
WHITE | TN | 44920 | 44 | TENNESSEE | *
WILLIAMSON | TN | 44930 | 5360 | NASHVILLE, TN | 34980 | Nashville-Davidson—Murfreesboro, TN
WILSON | TN | 44940 | 5360 | NASHVILLE, TN | 34980 | Nashville-Davidson—Murfreesboro, TN
STATEWIDE | TN | 44999 | 44 | TENNESSEE | *
ANDERSON | TX | 45000 | 45 | TEXAS | *
ANDREWS | TX | 45010 | 45 | TEXAS | *
ANGELINA | TX | 45020 | 45 | TEXAS | *
ARANSAS | TX | 45030 | 45 | TEXAS | 18580 | Corpus Christi, TX
ARCHER | TX | 45040 | 9080 | WICHITA FALLS, TX | 48660 | Wichita Falls, TX
ARMSTRONG | TX | 45050 | 45 | TEXAS | 11100 | Amarillo, TX
ATASCOSA | TX | 45060 | 45 | TEXAS | 41700 | San Antonio, TX
AUSTIN | TX | 45070 | 45 | TEXAS | 26420 | Houston-Baytown-Sugar Land, TX
BAILEY | TX | 45080 | 45 | TEXAS | *
BANDERA | TX | 45090 | 45 | TEXAS | 41700 | San Antonio, TX
BASTROP | TX | 45100 | 0640 | AUSTIN-SAN MARCOS, TX | 12420 | Austin-Round Rock, TX
BAYLOR | TX | 45110 | 45 | TEXAS | *
BEE | TX | 45113 | 45 | TEXAS | *
BELL | TX | 45120 | 3810 | KILLEEN-TEMPLE, TX | 28660 | Killeen-Temple-Fort Hood, TX
BEXAR | TX | 45130 | 7240 | SAN ANTONIO, TX | 41700 | San Antonio, TX
BLANCO | TX | 45140 | 45 | TEXAS | *
BORDEN | TX | 45150 | 45 | TEXAS | *
BOSQUE | TX | 45160 | 45 | TEXAS | *
BOWIE | TX | 45170 | 8360 | TEXARKANA, TX-TEXARKANA, AR | 45500 | Texarkana, TX-Texarkana, AR
BRAZORIA | TX | 45180 | 1145 | BRAZORIA, TX | 26420 | Houston-Baytown-Sugar Land, TX
BRAZOS | TX | 45190 | 1260 | BRYAN-COLLEGE STATION, TX | 17780 | College Station-Bryan, TX
BREWSTER | TX | 45200 | 45 | TEXAS | *
BRISCOE | TX | 45201 | 45 | TEXAS | *
BROOKS | TX | 45210 | 45 | TEXAS | *
BROWN | TX | 45220 | 45 | TEXAS | *
BURLESON | TX | 45221 | 45 | TEXAS | 17780 | College Station-Bryan, TX
BURNET | TX | 45222 | 45 | TEXAS | *
CALDWELL | TX | 45223 | 0640 | AUSTIN-SAN MARCOS, TX | 12420 | Austin-Round Rock, TX
CALHOUN | TX | 45224 | 45 | TEXAS | 47020 | Victoria, TX
CALLAHAN | TX | 45230 | 45 | TEXAS | 10180 | Abilene, TX
CAMERON | TX | 45240 | 1240 | BROWNSVILLE-HARLINGEN-SAN BENITO, TX | 15180 | Brownsville-Harlingen, TX
CAMP | TX | 45250 | 45 | TEXAS | *
CARSON | TX | 45251 | 45 | TEXAS | 11100 | Amarillo, TX
CASS | TX | 45260 | 45 | TEXAS | *
CASTRO | TX | 45270 | 45 | TEXAS | *
CHAMBERS | TX | 45280 | 3360 | HOUSTON, TX | 26420 | Houston-Baytown-Sugar Land, TX
CHEROKEE | TX | 45281 | 45 | TEXAS | *
CHILDRESS | TX | 45290 | 45 | TEXAS | *
CLAY | TX | 45291 | 45 | TEXAS | 48660 | Wichita Falls, TX
COCHRAN | TX | 45292 | 45 | TEXAS | *
COKE | TX | 45300 | 45 | TEXAS | *
COLEMAN | TX | 45301 | 45 | TEXAS | *
COLLIN | TX | 45310 | 1920 | DALLAS, TX | 19124 | Dallas-Plano-Irving, TX
COLLINGSWORTH | TX | 45311 | 45 | TEXAS | *
COLORADO | TX | 45312 | 45 | TEXAS | *
COMAL | TX | 45320 | 7240 | SAN ANTONIO, TX | 41700 | San Antonio, TX
COMANCHE | TX | 45321 | 45 | TEXAS | *
CONCHO | TX | 45330 | 45 | TEXAS | *
COOKE | TX | 45340 | 45 | TEXAS | *
CORYELL | TX | 45341 | 3810 | KILLEEN-TEMPLE, TX | 28660 | Killeen-Temple-Fort Hood, TX
COTTLE | TX | 45350 | 45 | TEXAS | *
CRANE | TX | 45360 | 45 | TEXAS | *
CROCKETT | TX | 45361 | 45 | TEXAS | *
CROSBY | TX | 45362 | 45 | TEXAS | 31180 | Lubbock, TX
CULBERSON | TX | 45370 | 45 | TEXAS | *
DALLAM | TX | 45380 | 45 | TEXAS | *
DALLAS | TX | 45390 | 1920 | DALLAS, TX | 19124 | Dallas-Plano-Irving, TX
DAWSON | TX | 45391 | 45 | TEXAS | *
DEAF SMITH | TX | 45392 | 45 | TEXAS | *
DELTA | TX | 45400 | 45 | TEXAS | 19124 | Dallas-Plano-Irving, TX
DENTON | TX | 45410 | 1920 | DALLAS, TX | 19124 | Dallas-Plano-Irving, TX
DE WITT | TX | 45420 | 45 | TEXAS | *
DICKENS | TX | 45421 | 45 | TEXAS | *
DIMMIT | TX | 45430 | 45 | TEXAS | *
DONLEY | TX | 45431 | 45 | TEXAS | *
DUVAL | TX | 45440 | 45 | TEXAS | *
EASTLAND | TX | 45450 | 45 | TEXAS | *
ECTOR | TX | 45451 | 5800 | ODESSA-MIDLAND, TX | 36220 | Odessa, TX
EDWARDS | TX | 45460 | 45 | TEXAS | *
ELLIS | TX | 45470 | 1920 | DALLAS, TX | 19124 | Dallas-Plano-Irving, TX
EL PASO | TX | 45480 | 2320 | EL PASO, TX | 21340 | El Paso, TX
ERATH | TX | 45490 | 45 | TEXAS | *
FALLS | TX | 45500 | 45 | TEXAS | *
FANNIN | TX | 45510 | 45 | TEXAS | *
FAYETTE | TX | 45511 | 45 | TEXAS | *
FISHER | TX | 45520 | 45 | TEXAS | *
FLOYD | TX | 45521 | 45 | TEXAS | *
FOARD | TX | 45522 | 45 | TEXAS | *
FORT BEND | TX | 45530 | 3360 | HOUSTON, TX | 26420 | Houston-Baytown-Sugar Land, TX
FRANKLIN | TX | 45531 | 45 | TEXAS | *
FREESTONE | TX | 45540 | 45 | TEXAS | *
FRIO | TX | 45541 | 45 | TEXAS | *
GAINES | TX | 45542 | 45 | TEXAS | *
GALVESTON | TX | 45550 | 2920 | GALVESTON-TEXAS CITY, TX | 26420 | Houston-Baytown-Sugar Land, TX
GARZA | TX | 45551 | 45 | TEXAS | *
GILLESPIE | TX | 45552 | 45 | TEXAS | *
GLASSCOCK | TX | 45560 | 45 | TEXAS | *
GOLIAD | TX | 45561 | 45 | TEXAS | 47020 | Victoria, TX
GONZALES | TX | 45562 | 45 | TEXAS | *
GRAY | TX | 45563 | 45 | TEXAS | *
GRAYSON | TX | 45564 | 7640 | SHERMAN-DENISON, TX | 43300 | Sherman-Denison, TX
GREGG | TX | 45570 | 4420 | LONGVIEW-MARSHALL, TX | 30980 | Longview, TX
GRIMES | TX | 45580 | 45 | TEXAS | *
GUADALUPE | TX | 45581 | 7240 | SAN ANTONIO, TX | 41700 | San Antonio, TX
HALE | TX | 45582 | 45 | TEXAS | *
HALL | TX | 45583 | 45 | TEXAS | *
HAMILTON | TX | 45590 | 45 | TEXAS | *
HANSFORD | TX | 45591 | 45 | TEXAS | *
HARDEMAN | TX | 45592 | 45 | TEXAS | *
HARDIN | TX | 45600 | 0840 | BEAUMONT-PORT ARTHUR, TX | 13140 | Beaumont-Port Arthur, TX
HARRIS | TX | 45610 | 3360 | HOUSTON, TX | 26420 | Houston-Baytown-Sugar Land, TX
HARRISON | TX | 45620 | 4420 | LONGVIEW-MARSHALL, TX | *
HARTLEY | TX | 45621 | 45 | TEXAS | *
HASKELL | TX | 45630 | 45 | TEXAS | *
HAYS | TX | 45631 | 0640 | AUSTIN-SAN MARCOS, TX | 12420 | Austin-Round Rock, TX
HEMPHILL | TX | 45632 | 45 | TEXAS | *
HENDERSON | TX | 45640 | 1920 | DALLAS, TX | *
HIDALGO | TX | 45650 | 4880 | MCALLEN-EDINBURG-MISSION, TX | 32580 | McAllen-Edinburg-Pharr, TX
HILL | TX | 45651 | 45 | TEXAS | *
HOCKLEY | TX | 45652 | 45 | TEXAS | *
HOOD | TX | 45653 | 2800 | FORT WORTH-ARLINGTON, TX | *
HOPKINS | TX | 45654 | 45 | TEXAS | *
HOUSTON | TX | 45660 | 45 | TEXAS | *
HOWARD | TX | 45661 | 45 | TEXAS | *
HUDSPETH | TX | 45662 | 45 | TEXAS | *
HUNT | TX | 45670 | 1920 | DALLAS, TX | 19124 | Dallas-Plano-Irving, TX
HUTCHINSON | TX | 45671 | 45 | TEXAS | *
IRION | TX | 45672 | 45 | TEXAS | 41660 | San Angelo, TX
JACK | TX | 45680 | 45 | TEXAS | *
JACKSON | TX | 45681 | 45 | TEXAS | *
JASPER | TX | 45690 | 45 | TEXAS | *
JEFF DAVIS | TX | 45691 | 45 | TEXAS | *
JEFFERSON | TX | 45700 | 0840 | BEAUMONT-PORT ARTHUR, TX | 13140 | Beaumont-Port Arthur, TX
JIM HOGG | TX | 45710 | 45 | TEXAS | *
JIM WELLS | TX | 45711 | 45 | TEXAS | *
JOHNSON | TX | 45720 | 2800 | FORT WORTH-ARLINGTON, TX | 23104 | Fort Worth-Arlington, TX
JONES | TX | 45721 | 45 | TEXAS | 10180 | Abilene, TX
KARNES | TX | 45722 | 45 | TEXAS | *
KAUFMAN | TX | 45730 | 1920 | DALLAS, TX | 19124 | Dallas-Plano-Irving, TX
KENDALL | TX | 45731 | 45 | TEXAS | 41700 | San Antonio, TX
KENEDY | TX | 45732 | 45 | TEXAS | *
KENT | TX | 45733 | 45 | TEXAS | *
KERR | TX | 45734 | 45 | TEXAS | *
KIMBLE | TX | 45740 | 45 | TEXAS | *
KING | TX | 45741 | 45 | TEXAS | *
KINNEY | TX | 45742 | 45 | TEXAS | *
KLEBERG | TX | 45743 | 45 | TEXAS | *
KNOX | TX | 45744 | 45 | TEXAS | *
LAMAR | TX | 45750 | 45 | TEXAS | *
LAMB | TX | 45751 | 45 | TEXAS | *
LAMPASAS | TX | 45752 | 45 | TEXAS | 28660 | Killeen-Temple-Fort Hood, TX
LA SALLE | TX | 45753 | 45 | TEXAS | *
LAVACA | TX | 45754 | 45 | TEXAS | *
LEE | TX | 45755 | 45 | TEXAS | *
LEON | TX | 45756 | 45 | TEXAS | *
LIBERTY | TX | 45757 | 3360 | HOUSTON, TX | 26420 | Houston-Baytown-Sugar Land, TX
LIMESTONE | TX | 45758 | 45 | TEXAS | *
LIPSCOMB | TX | 45759 | 45 | TEXAS | *
LIVE OAK | TX | 45760 | 45 | TEXAS | *
LLANO | TX | 45761 | 45 | TEXAS | *
LOVING | TX | 45762 | 45 | TEXAS | *
LUBBOCK | TX | 45770 | 4600 | LUBBOCK, TX | 31180 | Lubbock, TX
LYNN | TX | 45771 | 45 | TEXAS | *
MC CULLOCH | TX | 45772 | 45 | TEXAS | *
MC LENNAN | TX | 45780 | 8800 | WACO, TX | 47380 | Waco, TX
MC MULLEN | TX | 45781 | 45 | TEXAS | *
MADISON | TX | 45782 | 45 | TEXAS | *
MARION | TX | 45783 | 45 | TEXAS | *
MARTIN | TX | 45784 | 45 | TEXAS | *
MASON | TX | 45785 | 45 | TEXAS | *
MATAGORDA | TX | 45790 | 45 | TEXAS | *
MAVERICK | TX | 45791 | 45 | TEXAS | *
MEDINA | TX | 45792 | 45 | TEXAS | 41700 | San Antonio, TX
MENARD | TX | 45793 | 45 | TEXAS | *
MIDLAND | TX | 45794 | 5800 | ODESSA-MIDLAND, TX | 33260 | Midland, TX
MILAM | TX | 45795 | 45 | TEXAS | *
MILLS | TX | 45796 | 45 | TEXAS | *
MITCHELL | TX | 45797 | 45 | TEXAS | *
MONTAGUE | TX | 45800 | 45 | TEXAS | *
MONTGOMERY | TX | 45801 | 3360 | HOUSTON, TX | 26420 | Houston-Baytown-Sugar Land, TX
MOORE | TX | 45802 | 45 | TEXAS | *
MORRIS | TX | 45803 | 45 | TEXAS | *
MOTLEY | TX | 45804 | 45 | TEXAS | *
NACOGDOCHES | TX | 45810 | 45 | TEXAS | *
NAVARRO | TX | 45820 | 45 | TEXAS | *
NEWTON | TX | 45821 | 45 | TEXAS | *
NOLAN | TX | 45822 | 45 | TEXAS | *
NUECES | TX | 45830 | 1880 | CORPUS CHRISTI, TX | 18580 | Corpus Christi, TX
OCHILTREE | TX | 45831 | 45 | TEXAS | *
OLDHAM | TX | 45832 | 45 | TEXAS | *
ORANGE | TX | 45840 | 0840 | BEAUMONT-PORT ARTHUR, TX | 13140 | Beaumont-Port Arthur, TX
PALO PINTO | TX | 45841 | 45 | TEXAS | *
PANOLA | TX | 45842 | 45 | TEXAS | *
PARKER | TX | 45843 | 2800 | FORT WORTH-ARLINGTON, TX | 23104 | Fort Worth-Arlington, TX
PARMER | TX | 45844 | 45 | TEXAS | *
PECOS | TX | 45845 | 45 | TEXAS | *
POLK | TX | 45850 | 45 | TEXAS | *
POTTER | TX | 45860 | 0320 | AMARILLO, TX | 11100 | Amarillo, TX
PRESIDIO | TX | 45861 | 45 | TEXAS | *
RAINS | TX | 45870 | 45 | TEXAS | *
RANDALL | TX | 45871 | 0320 | AMARILLO, TX | 11100 | Amarillo, TX
REAGAN | TX | 45872 | 45 | TEXAS | *
REAL | TX | 45873 | 45 | TEXAS | *
RED RIVER | TX | 45874 | 45 | TEXAS | *
REEVES | TX | 45875 | 45 | TEXAS | *
REFUGIO | TX | 45876 | 45 | TEXAS | *
ROBERTS | TX | 45877 | 45 | TEXAS | *
ROBERTSON | TX | 45878 | 45 | TEXAS | 17780 | College Station-Bryan, TX
ROCKWALL | TX | 45879 | 1920 | DALLAS, TX | 19124 | Dallas-Plano-Irving, TX
RUNNELS | TX | 45880 | 45 | TEXAS | *
RUSK | TX | 45881 | 45 | TEXAS | 30980 | Longview, TX
SABINE | TX | 45882 | 45 | TEXAS | *
SAN AUGUSTINE | TX | 45883 | 45 | TEXAS | *
SAN JACINTO | TX | 45884 | 45 | TEXAS | 26420 | Houston-Baytown-Sugar Land, TX
SAN PATRICIO | TX | 45885 | 1880 | CORPUS CHRISTI, TX | 18580 | Corpus Christi, TX
SAN SABA | TX | 45886 | 45 | TEXAS | *
SCHLEICHER | TX | 45887 | 45 | TEXAS | *
SCURRY | TX | 45888 | 45 | TEXAS | *
SHACKELFORD | TX | 45889 | 45 | TEXAS | *
SHELBY | TX | 45890 | 45 | TEXAS | *
SHERMAN | TX | 45891 | 45 | TEXAS | *
SMITH | TX | 45892 | 8640 | TYLER, TX | 46340 | Tyler, TX
SOMERVELL | TX | 45893 | 45 | TEXAS | *
STARR | TX | 45900 | 45 | TEXAS | *
STEPHENS | TX | 45901 | 45 | TEXAS | *
STERLING | TX | 45902 | 45 | TEXAS | *
STONEWALL | TX | 45903 | 45 | TEXAS | *
SUTTON | TX | 45904 | 45 | TEXAS | *
SWISHER | TX | 45905 | 45 | TEXAS | *
TARRANT | TX | 45910 | 2800 | FORT WORTH-ARLINGTON, TX | 23104 | Fort Worth-Arlington, TX
TAYLOR | TX | 45911 | 0040 | ABILENE, TX | 10180 | Abilene, TX
TERRELL | TX | 45912 | 45 | TEXAS | *
TERRY | TX | 45913 | 45 | TEXAS | *
THROCKMORTON | TX | 45920 | 45 | TEXAS | *
TITUS | TX | 45921 | 45 | TEXAS | *
TOM GREEN | TX | 45930 | 7200 | SAN ANGELO, TX | 41660 | San Angelo, TX
TRAVIS | TX | 45940 | 0640 | AUSTIN-SAN MARCOS, TX | 12420 | Austin-Round Rock, TX
TRINITY | TX | 45941 | 45 | TEXAS | *
TYLER | TX | 45942 | 45 | TEXAS | *
UPSHUR | TX | 45943 | 4420 | LONGVIEW-MARSHALL, TX | 30980 | Longview, TX
UPTON | TX | 45944 | 45 | TEXAS | *
UVALDE | TX | 45945 | 45 | TEXAS | *
VAL VERDE | TX | 45946 | 45 | TEXAS | *
VAN ZANDT | TX | 45947 | 45 | TEXAS | *
VICTORIA | TX | 45948 | 8750 | VICTORIA, TX | 47020 | Victoria, TX
WALKER | TX | 45949 | 45 | TEXAS | *
WALLER | TX | 45950 | 3360 | HOUSTON, TX | 26420 | Houston-Baytown-Sugar Land, TX
WARD | TX | 45951 | 45 | TEXAS | *
WASHINGTON | TX | 45952 | 45 | TEXAS | *
WEBB | TX | 45953 | 4080 | LAREDO, TX | 29700 | Laredo, TX
WHARTON | TX | 45954 | 45 | TEXAS | *
WHEELER | TX | 45955 | 45 | TEXAS | *
WICHITA | TX | 45960 | 9080 | WICHITA FALLS, TX | 48660 | Wichita Falls, TX
WILBARGER | TX | 45961 | 45 | TEXAS | *
WILLACY | TX | 45962 | 45 | TEXAS | *
WILLIAMSON | TX | 45970 | 0640 | AUSTIN-SAN MARCOS, TX | 12420 | Austin-Round Rock, TX
WILSON | TX | 45971 | 7240 | SAN ANTONIO, TX | 41700 | San Antonio, TX
WINKLER | TX | 45972 | 45 | TEXAS | *
WISE | TX | 45973 | 45 | TEXAS | 23104 | Fort Worth-Arlington, TX
WOOD | TX | 45974 | 45 | TEXAS | *
YOAKUM | TX | 45980 | 45 | TEXAS | *
YOUNG | TX | 45981 | 45 | TEXAS | *
ZAPATA | TX | 45982 | 45 | TEXAS | *
ZAVALA | TX | 45983 | 45 | TEXAS | *
STATEWIDE | TX | 45999 | 45 | TEXAS | *
BEAVER | UT | 46000 | 46 | UTAH | *
BOX ELDER | UT | 46010 | 46 | UTAH | *
CACHE | UT | 46020 | 46 | UTAH | 30860 | Logan, UT-ID
CARBON | UT | 46030 | 46 | UTAH | *
DAGGETT | UT | 46040 | 46 | UTAH | *
DAVIS | UT | 46050 | 7160 | SALT LAKE CITY-OGDEN, UT | 36260 | Ogden-Clearfield, UT
DUCHESNE | UT | 46060 | 46 | UTAH | *
EMERY | UT | 46070 | 46 | UTAH | *
GARFIELD | UT | 46080 | 46 | UTAH | *
GRAND | UT | 46090 | 46 | UTAH | *
IRON | UT | 46100 | 46 | UTAH | *
JUAB | UT | 46110 | 46 | UTAH | 39340 | Provo-Orem, UT
KANE | UT | 46120 | 2620 | FLAGSTAFF, ARIZONA-UTAH | *
MILLARD | UT | 46130 | 46 | UTAH | *
MORGAN | UT | 46140 | 46 | UTAH | 36260 | Ogden-Clearfield, UT
PIUTE | UT | 46150 | 46 | UTAH | *
RICH | UT | 46160 | 46 | UTAH | *
SALT LAKE | UT | 46170 | 7160 | SALT LAKE CITY-OGDEN, UT | 41620 | Salt Lake City, UT
SAN JUAN | UT | 46180 | 46 | UTAH | *
SANPETE | UT | 46190 | 46 | UTAH | *
SEVIER | UT | 46200 | 46 | UTAH | *
SUMMIT | UT | 46210 | 46 | UTAH | 41620 | Salt Lake City, UT
TOOELE | UT | 46220 | 46 | UTAH | 41620 | Salt Lake City, UT
UINTAH | UT | 46230 | 46 | UTAH | *
UTAH | UT | 46240 | 6520 | PROVO-OREM, UT | 39340 | Provo-Orem, UT
WASATCH | UT | 46250 | 46 | UTAH | *
WASHINGTON | UT | 46260 | 46 | UTAH | 41100 | St. George, UT
WAYNE | UT | 46270 | 46 | UTAH | *
WEBER | UT | 46280 | 7160 | SALT LAKE CITY-OGDEN, UT | 36260 | Ogden-Clearfield, UT
STATEWIDE | UT | 46999 | 46 | UTAH | *
ADDISON | VT | 47000 | 47 | VERMONT | *
BENNINGTON | VT | 47010 | 47 | VERMONT | *
CALEDONIA | VT | 47020 | 47 | VERMONT | *
CHITTENDEN | VT | 47030 | 1303 | BURLINGTON, VT | 15540
ESSEX | VT | 47040 | 47 | VERMONT | *
FRANKLIN | VT | 47050 | 1303 | BURLINGTON, VT | 15540
GRAND ISLE | VT | 47060 | 1303 | BURLINGTON, VT | 15540
LAMOILLE | VT | 47070 | 47 | VERMONT | *
ORANGE | VT | 47080 | 47 | VERMONT | *
ORLEANS | VT | 47090 | 47 | VERMONT | *
RUTLAND | VT | 47100 | 47 | VERMONT | *
WASHINGTON | VT | 47110 | 47 | VERMONT | *
WINDHAM | VT | 47120 | 47 | VERMONT | *
WINDSOR | VT | 47130 | 47 | VERMONT | *
STATEWIDE | VT | 47999 | 47 | VERMONT | *
ACCOMACK | VA | 49000 | 49 | VIRGINIA | *
ALBEMARLE | VA | 49010 | 1540 | CHARLOTTESVILLE, VA | 16820 | Charlottesville, VA
ALEXANDRIA CITY | VA | 49011 | 8840 | WASHINGTON, DC-MD-VA-WV | 47894 | Washington-Arlington-Alexandria DC-VA
ALLEGHANY | VA | 49020 | 49 | VIRGINIA | *
AMELIA | VA | 49030 | 49 | VIRGINIA | 40060 | Richmond, VA
AMHERST | VA | 49040 | 4640 | LYNCHBURG, VA | 31340 | Lynchburg, VA
APPOMATTOX | VA | 49050 | 49 | VIRGINIA | 31340 | Lynchburg, VA
ARLINGTON | VA | 49060 | 8840 | WASHINGTON, DC-MD-VA-WV | 47894 | Washington-Arlington-Alexandria DC-VA
AUGUSTA | VA | 49070 | 49 | VIRGINIA | *
BATH | VA | 49080 | 49 | VIRGINIA | **
BEDFORD CITY | VA | 49088 | 4640 | LYNCHBURG, VA | 31340 | Lynchburg, VA
BEDFORD | VA | 49090 | 4640 | LYNCHBURG, VA | 31340 | Lynchburg, VA
BLAND | VA | 49100 | 49 | VIRGINIA | *
BOTETOURT | VA | 49110 | 6800 | ROANOKE, VA | 40220 | Roanoke, VA
BRISTOL CITY | VA | 49111 | 3660 | JOHNSON CITY-KINGSPORT-BRISTOL, TN-VA | 28700 | Kingsport-Bristol, TN-VA
BRUNSWICK | VA | 49120 | 49 | VIRGINIA | *
BUCHANAN | VA | 49130 | 49 | VIRGINIA | *
BUCKINGHAM | VA | 49140 | 49 | VIRGINIA | *
BUENA VISTA CITY | VA | 49141 | 49 | VIRGINIA | *
CAMPBELL | VA | 49150 | 4640 | LYNCHBURG, VA | 31340 | Lynchburg, VA
CAROLINE | VA | 49160 | 49 | VIRGINIA | 40060 | Richmond, VA
CARROLL | VA | 49170 | 49 | VIRGINIA | *
CHARLES CITY | VA | 49180 | 6760 | RICHMOND-PETERSBURG, VA | 40060 | Richmond, VA
CHARLOTTE | VA | 49190 | 49 | VIRGINIA | *
CHARLOTTESVILLE CITY | VA | 49191 | 1540 | CHARLOTTESVILLE, VA | 16820 | Charlottesville, VA
CHESAPEAKE CITY | VA | 49194 | 5720 | NORFOLK-VIRGINIA BEACH-NEWPORT NEWS, VA-NC | 47260 | Virginia Beach-Norfolk-Newport News, VA
CHESTERFIELD | VA | 49200 | 6760 | RICHMOND-PETERSBURG, VA | 40060 | Richmond, VA
CLARKE | VA | 49210 | 8840 | WASHINGTON, DC-MD-VA-WV | 47894 | Washington-Arlington-Alexandria DC-VA
CLIFTON FORGE CITY | VA | 49211 | 49 | VIRGINIA | *
COLONIAL HEIGHTS CITY | VA | 49212 | 6760 | RICHMOND-PETERSBURG, VA | 40060 | Richmond, VA
COVINGTON CITY | VA | 49213 | 49 | VIRGINIA | *
CRAIG | VA | 49220 | 49 | VIRGINIA | 40220 | Roanoke, VA
CULPEPPER | VA | 49230 | 8840 | WASHINGTON, DC-MD-VA-WV | *
CUMBERLAND | VA | 49240 | 49 | VIRGINIA | 40060 | Richmond, VA
DANVILLE CITY | VA | 49241 | 1950 | DANVILLE, VA | 19260 | Danville, VA
DICKENSON | VA | 49250 | 49 | VIRGINIA | *
DINWIDDIE | VA | 49260 | 6760 | RICHMOND-PETERSBURG, VA | 40060 | Richmond, VA
EMPORIA CITY | VA | 49270 | 49 | VIRGINIA | *
ESSEX | VA | 49280 | 49 | VIRGINIA | *
FAIRFAX CITY | VA | 49288 | 8840 | WASHINGTON, DC-MD-VA-WV | 47894 | Washington-Arlington-Alexandria DC-VA
FAIRFAX | VA | 49290 | 8840 | WASHINGTON, DC-MD-VA-WV | 47894 | Washington-Arlington-Alexandria DC-VA
FALLS CHURCH CITY | VA | 49291 | 8840 | WASHINGTON, DC-MD-VA-WV | 47894 | Washington-Arlington-Alexandria DC-VA
FAUQUIER | VA | 49300 | 8840 | WASHINGTON, DC-MD-VA-WV | 47894 | Washington-Arlington-Alexandria DC-VA
FLOYD | VA | 49310 | 49 | VIRGINIA | *
FLUVANNA | VA | 49320 | 1540 | CHARLOTTESVILLE, VA | 16820 | Charlottesville, VA
FRANKLIN CITY | VA | 49328 | 49 | VIRGINIA | *
FRANKLIN | VA | 49330 | 49 | VIRGINIA | 40220 | Roanoke, VA
FREDERICK | VA | 49340 | 49 | VIRGINIA | 49020 | Winchester, VA-WV
FREDERICKSBURG CITY | VA | 49342 | 8840 | WASHINGTON, DC-MD-VA-WV | 47894 | Washington-Arlington-Alexandria DC-VA
GALAX CITY | VA | 49343 | 49 | VIRGINIA | *
GILES | VA | 49350 | 49 | VIRGINIA | 13980 | Blacksburg-Christiansburg-Radford, VA
GLOUCESTER | VA | 49360 | 5720 | NORFOLK-VIRGINIA BEACH-NEWPORT NEWS, VA-NC | 47260 | Virginia Beach-Norfolk-Newport News, VA
GOOCHLAND | VA | 49370 | 6760 | RICHMOND-PETERSBURG, VA | 40060 | Richmond, VA
GRAYSON | VA | 49380 | 49 | VIRGINIA
GREENE | VA | 49390 | 1540 | CHARLOTTESVILLE, VA | 16820 | Charlottesville, VA
GREENSVILLE | VA | 49400 | 49 | VIRGINIA | *
HALIFAX | VA | 49410 | 49 | VIRGINIA | *
HAMPTON CITY | VA | 49411 | 5720 | NORFOLK-VIRGINIA BEACH-NEWPORT NEWS, VA-NC | 47260 | Virginia Beach-Norfolk-Newport News, VA
HANOVER | VA | 49420 | 6760 | RICHMOND-PETERSBURG, VA | 40060 | Richmond, VA
HARRISONBURG CITY | VA | 49421 | 49 | VIRGINIA | 25500 | Harrisonburg, VA
HENRICO | VA | 49430 | 6760 | RICHMOND-PETERSBURG, VA | 40060 | Richmond, VA
HENRY | VA | 49440 | 49 | VIRGINIA | *
HIGHLAND | VA | 49450 | 49 | VIRGINIA | *
HOPEWELL CITY | VA | 49451 | 6760 | RICHMOND-PETERSBURG, VA | 40060 | Richmond, VA
ISLE OF WIGHT | VA | 49460 | 5720 | NORFOLK-VIRGINIA BEACH-NEWPORT NEWS, VA-NC | 47260 | Virginia Beach-Norfolk-Newport News, VA
JAMES CITY | VA | 49470 | 5720 | NORFOLK-VIRGINIA BEACH-NEWPORT NEWS, VA-NC | 47260 | Virginia Beach-Norfolk-Newport News, VA
KING AND QUEEN | VA | 49480 | 49 | VIRGINIA | 40060 | Richmond, VA
KING GEORGE | VA | 49490 | 8840 | WASHINGTON, DC-MD-VA-WV | *
KING WILLIAM | VA | 49500 | 49 | VIRGINIA | 40060 | Richmond, VA
LANCASTER | VA | 49510 | 49 | VIRGINIA | *
LEE | VA | 49520 | 49 | VIRGINIA | *
LEXINGTON CITY | VA | 49522 | 49 | VIRGINIA | *
LOUDOUN | VA | 49530 | 8840 | WASHINGTON, DC-MD-VA-WV | 47894 | Washington-Arlington-Alexandria DC-VA
LOUISA | VA | 49540 | 49 | VIRGINIA | 40060 | Richmond, VA
LUNENBURG | VA | 49550 | 49 | VIRGINIA
LYNCHBURG CITY | VA | 49551 | 4640 | LYNCHBURG, VA | 31340 | Lynchburg, VA
MADISON | VA | 49560 | 49 | VIRGINIA | *
MARTINSVILLE CITY | VA | 49561 | 49 | VIRGINIA | *
MANASSAS CITY | VA | 49563 | 8840 | WASHINGTON, DC-MD-VA-WV | 47894 | Washington-Arlington-Alexandria DC-VA
MANASSAS PARK CITY | VA | 49565 | 8840 | WASHINGTON, DC-MD-VA-WV | 47894 | Washington-Arlington-Alexandria DC-VA
MATHEWS | VA | 49570 | 5720 | NORFOLK-VIRGINIA BEACH-NEWPORT NEWS, VA-NC | 47260 | Virginia Beach-Norfolk-Newport News, VA
MECKLENBURG | VA | 49580 | 49 | VIRGINIA | *
MIDDLESEX | VA | 49590 | 49 | VIRGINIA | *
MONTGOMERY | VA | 49600 | 49 | VIRGINIA | 13980 | Blacksburg-Christiansburg-Radford, VA
NANSEMOND CITY | VA | 49610 | 49 | VIRGINIA
NELSON | VA | 49620 | 49 | VIRGINIA | 16820 | Charlottesville, VA
NEW KENT | VA | 49621 | 6760 | RICHMOND-PETERSBURG, VA | 40060 | Richmond, VA
NEWPORT NEWS CITY | VA | 49622 | 5720 | NORFOLK-VIRGINIA BEACH-NEWPORT NEWS, VA-NC | 47260 | Virginia Beach-Norfolk-Newport News, VA
NORFOLK CITY | VA | 49641 | 5720 | NORFOLK-VIRGINIA BEACH-NEWPORT NEWS, VA-NC | 47260 | Virginia Beach-Norfolk-Newport News, VA
NORTHAMPTON | VA | 49650 | 49 | VIRGINIA | *
NORTHUMBERLAND | VA | 49660 | 49 | VIRGINIA | *
NORTON CITY | VA | 49661 | 49 | VIRGINIA | *
NOTTOWAY | VA | 49670 | 49 | VIRGINIA | *
ORANGE | VA | 49680 | 49 | VIRGINIA | *
PAGE | VA | 49690 | 49 | VIRGINIA | *
PATRICK | VA | 49700 | 49 | VIRGINIA | *
PETERSBURG CITY | VA | 49701 | 6760 | RICHMOND-PETERSBURG, VA | 40060 | Richmond, VA
PITTSYLVANIA | VA | 49710 | 1950 | DANVILLE, VA | 19260 | Danville, VA
PORTSMOUTH CITY | VA | 49711 | 5720 | NORFOLK-VIRGINIA BEACH-NEWPORT NEWS, VA-NC | 47260 | Virginia Beach-Norfolk-Newport News, VA
POQUOSON | VA | 49712 | 5720 | NORFOLK-VIRGINIA BEACH-NEWPORT NEWS, VA-NC | 47260 | Virginia Beach-Norfolk-Newport News, VA
POWHATAN | VA | 49720 | 6760 | RICHMOND-PETERSBURG, VA | 40060 | Richmond, VA
PRINCE EDWARD | VA | 49730 | 49 | VIRGINIA | *
PRINCE GEORGE | VA | 49740 | 6760 | RICHMOND-PETERSBURG, VA | 40060 | Richmond, VA
PRINCE WILLIAM | VA | 49750 | 8840 | WASHINGTON, DC-MD-VA-WV | 47894 | Washington-Arlington-Alexandria DC-VA
PULASKI | VA | 49770 | 49 | VIRGINIA | 13980 | Blacksburg-Christiansburg-Radford, VA
RADFORD CITY | VA | 49771 | 49 | VIRGINIA | 13980 | Blacksburg-Christiansburg-Radford, VA
RAPPAHANNOCK | VA | 49780 | 49 | VIRGINIA | *
RICHMOND | VA | 49790 | 49 | VIRGINIA | *
RICHMOND CITY | VA | 49791 | 6760 | RICHMOND-PETERSBURG, VA | 40060 | Richmond, VA
ROANOKE | VA | 49800 | 6800 | ROANOKE, VA | 40220 | Roanoke, VA
ROANOKE CITY | VA | 49801 | 6800 | ROANOKE, VA | 40220 | Roanoke, VA
ROCKBRIDGE | VA | 49810 | 49 | VIRGINIA | *
ROCKINGHAM | VA | 49820 | 49 | VIRGINIA | 25500 | Harrisonburg, VA
RUSSELL | VA | 49830 | 49 | VIRGINIA | *
SALEM CITY | VA | 49838 | 6800 | ROANOKE, VA | 40220 | Roanoke, VA
SCOTT | VA | 49840 | 3660 | JOHNSON CITY-KINGSPORT-BRISTOL, TN-VA | 28700 | Kingsport-Bristol-Bristol, TN-VA
SHENANDOAH | VA | 49850 | 49 | VIRGINIA | *
SMYTH | VA | 49860 | 49 | VIRGINIA | *
SOUTH BOSTON CITY | VA | 49867 | 49 | VIRGINIA | *
SOUTHAMPTON | VA | 49870 | 49 | VIRGINIA | *
SPOTSYLVANIA | VA | 49880 | 8840 | WASHINGTON, DC-MD-VA-WV | 47894 | Washington-Arlington-Alexandria DC-VA
STAFFORD | VA | 49890 | 8840 | WASHINGTON, DC-MD-VA-WV | 47894 | Washington-Arlington-Alexandria DC-VA
STAUNTON CITY | VA | 49891 | 49 | VIRGINIA | *
SUFFOLK CITY | VA | 49892 | 5720 | NORFOLK-VIRGINIA BEACH-NEWPORT NEWS, VA-NC | 47260 | Virginia Beach-Norfolk-Newport News, VA
SURRY | VA | 49900 | 49 | VIRGINIA | 47260 | Virginia Beach-Norfolk-Newport News, VA
SUSSEX | VA | 49910 | 49 | VIRGINIA | 40060 | Richmond, VA
TAZEWELL | VA | 49920 | 49 | VIRGINIA | *
VIRGINIA BEACH CITY | VA | 49921 | 5720 | NORFOLK-VIRGINIA BEACH-NEWPORT NEWS, VA-NC | 47260 | Virginia Beach-Norfolk-Newport News, VA
WARREN | VA | 49930 | 8840 | WASHINGTON, DC-MD-VA-WV | 47894 | Washington-Arlington-Alexandria DC-VA
WASHINGTON | VA | 49950 | 3660 | JOHNSON CITY-KINGSPORT-BRISTOL, TN-VA | 28700 | Kingsport-Bristol-Bristol, TN-VA
WAYNESBORO CITY | VA | 49951 | 49 | VIRGINIA | *
WESTMORELAND | VA | 49960 | 49 | VIRGINIA | *
WILLIAMSBURG CITY | VA | 49961 | 5720 | NORFOLK-VIRGINIA BEACH-NEWPORT NEWS, VA-NC | 47260 | Virginia Beach-Norfolk-Newport News, VA
WINCHESTER CITY | VA | 49962 | 49 | VIRGINIA | 49020 | Winchester, VA-WV
WISE | VA | 49970 | 49 | VIRGINIA | *
WYTHE | VA | 49980 | 49 | VIRGINIA | *
YORK | VA | 49981 | 5720 | NORFOLK-VIRGINIA BEACH-NEWPORT NEWS, VA-NC | 47260 | Virginia Beach-Norfolk-Newport News, VA
STATEWIDE | VA | 49999 | 49 | VIRGINIA | *
ADAMS | WA | 50000 | 50 | WASHINGTON | *
ASOTIN | WA | 50010 | 50 | WASHINGTON | 30300 | Lewiston, ID-WA
BENTON | WA | 50020 | 6740 | RICHLAND-KENNEWICK-PASCO, WA | 28420 | Kennewick-Richland-Pasco, WA
CHELAN | WA | 50030 | 50 | WASHINGTON | 48300 | Wenatchee, WA
CLALLAM | WA | 50040 | 50 | WASHINGTON | *
CLARK | WA | 50050 | 6440 | PORTLAND-VANCOUVER, OR-WA | 38900 | Portland-Vancouver-Beaverton, OR-WA
COLUMBIA | WA | 50060 | 50 | WASHINGTON | *
COWLITZ | WA | 50070 | 50 | WASHINGTON | 31020 | Longview, WA
DOUGLAS | WA | 50080 | 50 | WASHINGTON | 48300 | Wenatchee, WA
FERRY | WA | 50090 | 50 | WASHINGTON | *
FRANKLIN | WA | 50100 | 6740 | RICHLAND-KENNEWICK-PASCO, WA | 28420 | Kennewick-Richland-Pasco, WA
GARFIELD | WA | 50110 | 50 | WASHINGTON | *
GRANT | WA | 50120 | 50 | WASHINGTON | *
GRAYS HARBOR | WA | 50130 | 50 | WASHINGTON | *
ISLAND | WA | 50140 | 7600 | SEATTLE-BELLEVUE-EVERETT, WA | *
JEFFERSON | WA | 50150 | 50 | WASHINGTON | *
KING | WA | 50160 | 7600 | SEATTLE-BELLEVUE-EVERETT, WA | 42644 | Seattle-Bellevue-Everett, WA
KITSAP | WA | 50170 | 1150 | BREMERTON, WA | 14740 | Bremerton-Silverdale, WA
KITTITAS | WA | 50180 | 50 | WASHINGTON | *
KLICKITAT | WA | 50190 | 50 | WASHINGTON | *
LEWIS | WA | 50200 | 50 | WASHINGTON | *
LINCOLN | WA | 50210 | 50 | WASHINGTON | *
MASON | WA | 50220 | 50 | WASHINGTON | *
OKANOGAN | WA | 50230 | 50 | WASHINGTON | *
PACIFIC | WA | 50240 | 50 | WASHINGTON | *
PEND OREILLE | WA | 50250 | 50 | WASHINGTON | *
PIERCE | WA | 50260 | 8200 | TACOMA, WA | 45104 | Tacoma, WA
SAN JUAN | WA | 50270 | 50 | WASHINGTON | *
SKAGIT | WA | 50280 | 50 | WASHINGTON | 34580 | Mount Vernon-Anacortes, WA
SKAMANIA | WA | 50290 | 50 | WASHINGTON | 38900 | Portland-Vancouver-Beaverton, OR-WA
SNOHOMISH | WA | 50300 | 7600 | SEATTLE-BELLEVUE-EVERETT, WA | 42644 | Seattle-Bellevue-Everett, WA
SPOKANE | WA | 50310 | 7840 | SPOKANE, WA | 44060 | Spokane, WA
STEVENS | WA | 50320 | 50 | WASHINGTON | *
THURSTON | WA | 50330 | 5910 | OLYMPIA, WA | 36500 | Olympia, WA
WAHKIAKUM | WA | 50340 | 50 | WASHINGTON | *
WALLA WALLA | WA | 50350 | 50 | WASHINGTON | *
WHATCOM | WA | 50360 | 0860 | BELLINGHAM, WA | 13380 | Bellingham, WA
WHITMAN | WA | 50370 | 50 | WASHINGTON | *
YAKIMA | WA | 50380 | 9260 | YAKIMA, WA | 49420 | Yakima, WA
STATEWIDE | WA | 50999 | 50 | WASHINGTON | *
BARBOUR | WV | 51000 | 51 | WEST VIRGINIA | *
BERKELEY | WV | 51010 | 8840 | WASHINGTON, DC-MD-VA-WV | 25180 | Hagerstown-Martinsburg, MD-WV
BOONE | WV | 51020 | 51 | WEST VIRGINIA | 16620 | Charleston, WV
BRAXTON | WV | 51030 | 51 | WEST VIRGINIA | *
BROOKE | WV | 51040 | 8080 | STEUBENVILLE-WEIRTON, OH-WV | 48260 | Weirton-Steubenville, WV-OH
CABELL | WV | 51050 | 3400 | HUNTINGTON-ASHLAND, WV-KY-OH | 26580 | Huntington-Ashland, WV-KY-OH
CALHOUN | WV | 51060 | 51 | WEST VIRGINIA | *
CLAY | WV | 51070 | 51 | WEST VIRGINIA | 16620 | Charleston, WV
DODDRIDGE | WV | 51080 | 51 | WEST VIRGINIA | *
FAYETTE | WV | 51090 | 51 | WEST VIRGINIA | *
GILMER | WV | 51100 | 51 | WEST VIRGINIA | *
GRANT | WV | 51110 | 51 | WEST VIRGINIA | *
GREENBRIER | WV | 51120 | 51 | WEST VIRGINIA | *
HAMPSHIRE | WV | 51130 | 51 | WEST VIRGINIA | 49020 | Winchester, VA-WV
HANCOCK | WV | 51140 | 8080 | STEUBENVILLE-WEIRTON, OH-WV | 48260 | Weirton-Steubenville, WV-OH
HARDY | WV | 51150 | 51 | WEST VIRGINIA | *
HARRISON | WV | 51160 | 51 | WEST VIRGINIA | *
JACKSON | WV | 51170 | 51 | WEST VIRGINIA | *
JEFFERSON | WV | 51180 | 8840 | WASHINGTON, DC-MD-VA-WV | 47894 | Washington-Arlington-Alexandria DC-VA
KANAWHA | WV | 51190 | 1480 | CHARLESTON, WV | 16620 | Charleston, WV
LEWIS | WV | 51200 | 51 | WEST VIRGINIA | *
LINCOLN | WV | 51210 | 51 | WEST VIRGINIA | 16620 | Charleston, WV
LOGAN | WV | 51220 | 51 | WEST VIRGINIA | *
MC DOWELL | WV | 51230 | 51 | WEST VIRGINIA | *
MARION | WV | 51240 | 51 | WEST VIRGINIA | *
MARSHALL | WV | 51250 | 9000 | WHEELING, WV-OH | 48540 | Wheeling, WV-OH
MASON | WV | 51260 | 51 | WEST VIRGINIA | *
MERCER | WV | 51270 | 51 | WEST VIRGINIA | *
MINERAL | WV | 51280 | 1900 | CUMBERLAND, MD-WV | 19060 | Cumberland, MD-WV
MINGO | WV | 51290 | 51 | WEST VIRGINIA | *
MONONGALIA | WV | 51300 | 51 | WEST VIRGINIA | 34060 | Morgantown, WV
MONROE | WV | 51310 | 51 | WEST VIRGINIA | *
MORGAN | WV | 51320 | 51 | WEST VIRGINIA | 25180 | Hagerstown-Martinsburg, MD-WV
NICHOLAS | WV | 51330 | 51 | WEST VIRGINIA | *
OHIO | WV | 51340 | 9000 | WHEELING, WV-OH | 48540 | Wheeling, WV-OH
PENDLETON | WV | 51350 | 51 | WEST VIRGINIA | *
PLEASANTS | WV | 51360 | 51 | WEST VIRGINIA | 37620 | Parkersburg-Marietta, WV-OH
POCAHONTAS | WV | 51370 | 51 | WEST VIRGINIA | *
PRESTON | WV | 51380 | 51 | WEST VIRGINIA | 34060 | Morgantown, WV
PUTNAM | WV | 51390 | 1480 | CHARLESTON, WV | 16620 | Charleston, WV
RALEIGH | WV | 51400 | 51 | WEST VIRGINIA | *
RANDOLPH | WV | 51410 | 51 | WEST VIRGINIA | *
RITCHIE | WV | 51420 | 51 | WEST VIRGINIA | *
ROANE | WV | 51430 | 51 | WEST VIRGINIA | *
SUMMERS | WV | 51440 | 51 | WEST VIRGINIA | *
TAYLOR | WV | 51450 | 51 | WEST VIRGINIA | *
TUCKER | WV | 51460 | 51 | WEST VIRGINIA | *
TYLER | WV | 51470 | 51 | WEST VIRGINIA | *
UPSHUR | WV | 51480 | 51 | WEST VIRGINIA | *
WAYNE | WV | 51490 | 3400 | HUNTINGTON-ASHLAND, WV-KY-OH | 26580 | Huntington-Ashland, WV-KY-OH
WEBSTER | WV | 51500 | 51 | WEST VIRGINIA | *
WETZEL | WV | 51510 | 51 | WEST VIRGINIA | *
WIRT | WV | 51520 | 51 | WEST VIRGINIA | 37620 | Parkersburg-Marietta, WV-OH
WOOD | WV | 51530 | 6020 | PARKERSBURG-MARIETTA, WV-OH | 37620 | Parkersburg-Marietta, WV-OH
WYOMING | WV | 51540 | 51 | WEST VIRGINIA | *
STATEWIDE | WV | 51999 | 51 | WEST VIRGINIA | *
ADAMS | WI | 52000 | 52 | WISCONSIN | *
ASHLAND | WI | 52010 | 52 | WISCONSIN | *
BARRON | WI | 52020 | 52 | WISCONSIN | *
BAYFIELD | WI | 52030 | 52 | WISCONSIN | *
BROWN | WI | 52040 | 3080 | GREEN BAY, WI | 24580 | Green Bay, WI
BUFFALO | WI | 52050 | 52 | WISCONSIN | *
BURNETT | WI | 52060 | 52 | WISCONSIN | *
CALUMET | WI | 52070 | 0460 | APPLETON-OSHKOSH-NEENAH, WI | 11540 | Appleton, WI
CHIPPEWA | WI | 52080 | 2290 | EAU CLAIRE, WI | 20740 | Eau Claire, WI
CLARK | WI | 52090 | 52 | WISCONSIN | *
COLUMBIA | WI | 52100 | 52 | WISCONSIN | 31540 | Madison, WI
CRAWFORD | WI | 52110 | 52 | WISCONSIN | *
DANE | WI | 52120 | 4720 | MADISON, WI | 31540 | Madison, WI
DODGE | WI | 52130 | 52 | WISCONSIN | *
DOOR | WI | 52140 | 52 | WISCONSIN | *
DOUGLAS | WI | 52150 | 2240 | DULUTH-SUPERIOR, MN-WI | 20260 | Duluth, MN-WI
DUNN | WI | 52160 | 52 | WISCONSIN | *
EAU CLAIRE | WI | 52170 | 2290 | EAU CLAIRE, WI | 20740 | Eau Claire, WI
FLORENCE | WI | 52180 | 52 | WISCONSIN | *
FOND DU LAC | WI | 52190 | 52 | WISCONSIN | 22540 | Fond Du Lac, WI
FOREST | WI | 52200 | 52 | WISCONSIN | *
GRANT | WI | 52210 | 52 | WISCONSIN | *
GREEN | WI | 52220 | 52 | WISCONSIN | *
GREEN LAKE | WI | 52230 | 52 | WISCONSIN | *
IOWA | WI | 52240 | 52 | WISCONSIN | 31540 | Madison, WI
IRON | WI | 52250 | 52 | WISCONSIN | *
JACKSON | WI | 52260 | 52 | WISCONSIN | *
JEFFERSON | WI | 52270 | 52 | WISCONSIN | *
JUNEAU | WI | 52280 | 52 | WISCONSIN | *
KENOSHA | WI | 52290 | 3800 | KENOSHA, WI | 29404 | Lake County-Kenosha County, IL-WI
KEWAUNEE | WI | 52300 | 52 | WISCONSIN | 24580 | Green Bay, WI
LA CROSSE | WI | 52310 | 3870 | LA CROSSE, WI-MN | 29100 | La Crosse, WI-MN
LAFAYETTE | WI | 52320 | 52 | WISCONSIN | *
LANGLADE | WI | 52330 | 52 | WISCONSIN | *
LINCOLN | WI | 52340 | 52 | WISCONSIN | *
MANITOWOC | WI | 52350 | 52 | WISCONSIN | *
MARATHON | WI | 52360 | 8940 | WAUSAU, WI | 48140 | Wausau, WI
MARINETTE | WI | 52370 | 52 | WISCONSIN | *
MARQUETTE | WI | 52380 | 52 | WISCONSIN | *
MENOMONEE | WI | 52381 | 52 | WISCONSIN | *
MILWAUKEE | WI | 52390 | 5080 | MILWAUKEE-WAUKESHA, WI | 33340 | Milwaukee-Waukesha-West Allis, WI
MONROE | WI | 52400 | 52 | WISCONSIN | *
OCONTO | WI | 52410 | 52 | WISCONSIN | 24580 | Green Bay, WI
ONEIDA | WI | 52420 | 52 | WISCONSIN | *
OUTAGAMIE | WI | 52430 | 0460 | APPLETON-OSHKOSH-NEENAH, WI | 11540 | Appleton, WI
OZAUKEE | WI | 52440 | 5080 | MILWAUKEE-WAUKESHA, WI | 33340 | Milwaukee-Waukesha-West Allis, WI
PEPIN | WI | 52450 | 52 | WISCONSIN | *
PIERCE | WI | 52460 | 5120 | MINNEAPOLIS-ST. PAUL, MN-WI | 33460 | Minneapolis-St. Paul-Bloomington, MN-WI
POLK | WI | 52470 | 52 | WISCONSIN | *
PORTAGE | WI | 52480 | 52 | WISCONSIN | *
PRICE | WI | 52490 | 52 | WISCONSIN | *
RACINE | WI | 52500 | 6600 | RACINE, WI | 39540 | Racine, WI
RICHLAND | WI | 52510 | 52 | WISCONSIN | *
ROCK | WI | 52520 | 3620 | JANESVILLE-BELOIT, WI | 27500 | Janesville, WI
RUSK | WI | 52530 | 52 | WISCONSIN | *
ST. CROIX | WI | 52540 | 5120 | MINNEAPOLIS-ST. PAUL, MN-WI | 33460 | Minneapolis-St. Paul-Bloomington, MN-WI
SAUK | WI | 52550 | 52 | WISCONSIN | *
SAWYER | WI | 52560 | 52 | WISCONSIN | *
SHAWANO | WI | 52570 | 52 | WISCONSIN | *
SHEBOYGAN | WI | 52580 | 7620 | SHEBOYGAN, WI | 43100 | Sheboygan, WI
TAYLOR | WI | 52590 | 52 | WISCONSIN | *
TREMPEALEAU | WI | 52600 | 52 | WISCONSIN | *
VERNON | WI | 52610 | 52 | WISCONSIN | *
VILAS | WI | 52620 | 52 | WISCONSIN | *
WALWORTH | WI | 52630 | 52 | WISCONSIN | *
WASHBURN | WI | 52640 | 52 | WISCONSIN | *
WASHINGTON | WI | 52650 | 5080 | MILWAUKEE-WAUKESHA, WI | 33340 | Milwaukee-Waukesha-West Allis, WI
WAUKESHA | WI | 52660 | 5080 | MILWAUKEE-WAUKESHA, WI | 33340 | Milwaukee-Waukesha-West Allis, WI
WAUPACA | WI | 52670 | 52 | WISCONSIN | *
WAUSHARA | WI | 52680 | 52 | WISCONSIN | *
WINNEBAGO | WI | 52690 | 0460 | APPLETON-OSHKOSH-NEENAH, WI | 36780 | Oshkosh-Neenah, WI
WOOD | WI | 52700 | 52 | WISCONSIN | *
STATEWIDE | WI | 52999 | 52 | WISCONSIN | *
ALBANY | WY | 53000 | 53 | WYOMING | *
BIG HORN | WY | 53010 | 53 | WYOMING | *
CAMPBELL | WY | 53020 | 53 | WYOMING | *
CARBON | WY | 53030 | 53 | WYOMING | *
CONVERSE | WY | 53040 | 53 | WYOMING | *
CROOK | WY | 53050 | 53 | WYOMING | *
FREMONT | WY | 53060 | 53 | WYOMING | *
GOSHEN | WY | 53070 | 53 | WYOMING | *
HOT SPRINGS | WY | 53080 | 53 | WYOMING | *
JOHNSON | WY | 53090 | 53 | WYOMING | *
LARAMIE | WY | 53100 | 1580 | CHEYENNE, WY | 16940 | Cheyenne, WY
LINCOLN | WY | 53110 | 53 | WYOMING | *
NATRONA | WY | 53120 | 1350 | CASPER, WY | 16220 | Casper, WY
NIOBRARA | WY | 53130 | 53 | WYOMING | *
PARK | WY | 53140 | 53 | WYOMING | *
PLATTE | WY | 53150 | 53 | WYOMING | *
SHERIDAN | WY | 53160 | 53 | WYOMING | *
SUBLETTE | WY | 53170 | 53 | WYOMING | *
SWEETWATER | WY | 53180 | 53 | WYOMING | *
TETON | WY | 53190 | 53 | WYOMING | *
UINTA | WY | 53200 | 53 | WYOMING | *
WASHAKIE | WY | 53210 | 53 | WYOMING | *
WESTON | WY | 53220 | 53 | WYOMING | *
STATEWIDE | WY | 53999 | 53 | WYOMING | *
*Rural designation.

[FR Doc. 05-8387 Filed 4-22-05; 2:58 pm]

BILLING CODE 4120-03-P